OFFICE OF PERSONNEL MANAGEMENT

SES Positions That Were Career Reserved During CY 2016

AGENCY: U.S. Office of Personnel Management (OPM).

ACTION: Notice.

SUMMARY: As required by section 3132(b) (4) of title 5, United States Code, this gives notice of all positions in the Senior Executive Service (SES) that were career reserved during calendar year 2016.

FOR FURTHER INFORMATION CONTACT: Phyllis Proctor, Senior Executive Resources Services, Senior Executive Services and Performance Management, Employee Services, 202-606-2246.

SUPPLEMENTARY INFORMATION: Below is a list of titles of SES positions that were career reserved at any time during calendar year 2016, regardless of whether those positions were still career reserved as of December 31, 2016. Section 3132(b) (4) of title 5, United States Code, requires that the head of each agency publish such lists by March 1 of the following year. The Office of Personnel Management is publishing a consolidated list for all agencies.

Positions That Were Career Reserved During Calendar Year 2016
Agency | Organization | Title
ADMINISTRATIVE CONFERENCE OF THE UNITED STATES |  | GENERAL COUNSEL. RESEARCH DIRECTOR.
ADVISORY COUNCIL ON HISTORIC PRESERVATION | OFFICE OF THE EXECUTIVE DIRECTOR | EXECUTIVE DIRECTOR.
DEPARTMENT OF AGRICULTURE | AGRICULTURAL MARKETING SERVICE | DEPUTY ADMINISTRATOR, FRUIT AND VEGETABLE PROGRAMS. DEPUTY ADMINISTRATOR, DAIRY PROGRAMS. DEPUTY ADMINISTRATOR, LIVESTOCK AND SEED PROGRAMS.
|  | DEPUTY ADMINISTRATOR, COMPLIANCE AND ANALYSIS.
|  | DEPUTY ADMINISTRATOR FOR NATIONAL ORGANIC PROGRAMS.
|  | DEPUTY ADMINISTRATOR, COTTON AND TOBACCO PROGRAMS.
|  | DEPUTY ADMINISTRATOR, SCIENCE AND TECHNOLOGY PROGRAMS.
|  | DEPUTY ADMINISTRATOR, TRANSPORTATION AND MARKETING PROGRAMS.
|  | DEPUTY ADMINISTRATOR, POULTRY PROGRAMS.
|  | DEPUTY ADMINISTRATOR, INFORMATION TECHNOLOGY SERVICES.
|  | ASSOCIATE ADMINISTRATOR.
|  | ASSISTANT ADMINISTRATOR FOR TECHNOLOGY TRANSFER.
|  | DEPUTY ADMINISTRATOR FOR ADMINISTRATIVE AND FINANCIAL MANAGEMENT.
|  | DIRECTOR, OFFICE OF PEST MANAGEMENT POLICY.
|  | CHIEF FINANCIAL OFFICER.
|  | CHIEF INFORMATION OFFICER.
|  | ASSOCIATE ADMINISTRATOR, RESEARCH OPERATIONS AND MANAGEMENT.
|  | ASSOCIATE DEPUTY ADMINISTRATOR FOR ADMINISTRATIVE AND FINANCIAL MANAGEMENT.
| ANIMAL AND PLANT HEALTH INSPECTION SERVICE | DEPUTY ADMINISTRATOR FOR MARKETING AND REGULATORY PROGRAMS—BUSINESS SERVICES. ASSOCIATE DEPUTY ADMINISTRATOR FOR MARKETING AND REGULATORY PROGRAMS—BUSINESS SERVICES.
|  | DEPUTY ADMINISTRATOR, WILDLIFE SERVICES.
|  | ASSISTANT DEPUTY ADMINISTRATOR, NATIONAL IMPORT EXPORT SERVICES.
|  | DEPUTY ADMINISTRATOR, ANIMAL CARE.
|  | EXECUTIVE DIRECTOR, CENTER FOR PLANT HEALTH SCIENCE AND TECHNOLOGY.
|  | ASSISTANT DEPUTY ADMINISTRATOR, EMERGENCY AND DOMESTIC PROGRAMS.
|  | ASSOCIATE DEPUTY ADMINISTRATOR, WILDLIFE SERVICES.
|  | DEPUTY ADMINISTRATOR, BIOTECHNOLOGY REGULATORY PROGRAMS.
|  | DIRECTOR, EASTERN REGION, WILDLIFE SERVICES.
|  | EXECUTIVE DIRECTOR, WESTERN REGION, WILDLIFE SERVICES.
|  | ASSOCIATE DEPUTY ADMINISTRATOR, VETERINARY SERVICES.
|  | DEPUTY ADMINISTRATOR FOR INTERNATIONAL SERVICES.
|  | DEPUTY ADMINISTRATOR, LEGISLATIVE AND PUBLIC AFFAIRS.
|  | DIRECTOR, CENTER FOR VETERINARY BIOLOGICS.
|  | ASSOCIATE DEPUTY ADMINISTRATOR, EMERGING AND INTERNATIONAL PROGRAMS.
|  | DIRECTOR, INFORMATION TECHNOLOGY DIVISION.
|  | DIRECTOR, INVESTIGATIVE AND ENFORCEMENT SERVICES.
|  | DIRECTOR, NATIONAL WILDLIFE RESEARCH CENTER.
|  | HUMAN RESOURCES OFFICER.
|  | ASSOCIATE DEPUTY ADMINISTRATOR FOR ANIMAL CARE.
|  | CHIEF ADVISOR (GOVERNMENT, ACADEMIA AND INDUSTRY PARTNERSHIP).
|  | CHIEF FINANCIAL OFFICER.
| ECONOMIC RESEARCH SERVICE | ADMINISTRATOR, ECONOMIC RESEARCH SERVICE. ASSOCIATE ADMINISTRATOR, ECONOMIC RESEARCH SERVICE.
|  | DIRECTOR, RESOURCE AND RURAL ECONOMICS DIVISION.
|  | DIRECTOR, INFORMATION SERVICES DIVISION.
|  | DIRECTOR, FOOD ECONOMICS DIVISION.
|  | DIRECTOR, MARKET AND TRADE ECONOMICS DIVISION.
| FARM SERVICE AGENCY | DEPUTY ADMINISTRATOR FOR FARM LOAN PROGRAMS. DIRECTOR, OFFICE OF BUDGET AND FINANCE.
|  | DIRECTOR, BUSINESS AND PROGRAM INTEGRATION.
|  | ASSISTANT DEPUTY ADMINISTRATOR FARM PROGRAMS.
|  | DIRECTOR, HUMAN RESOURCES DIVISION.
|  | DEPUTY DIRECTOR, OFFICE OF BUDGET AND FINANCE.
| FIELD UNITS | NORTHEAST AREA DIRECTOR, STATE AND PRIVATE FORESTRY. DIRECTOR, NORTHERN RESEARCH STATION.
|  | DIRECTOR, PACIFIC NORTHWEST RESEARCH STATION.
|  | DIRECTOR, PACIFIC SOUTHWEST FOREST AND RANGE EXPERIMENT STATION (VALLEJO).
|  | DIRECTOR, ROCKY MOUNTAIN FOREST AND RANGE EXPERIMENT STATION (FORT COLLINS).
|  | DIRECTOR, SOUTHERN RESEARCH STATION (ASHEVILLE).
|  | DIRECTOR, FOREST PRODUCTS LABORATORY (MADISON).
| FOOD AND NUTRITION SERVICE | FINANCIAL MANAGER. PROGRAM MANAGER (DEPUTY ADMINISTRATOR FOR MANAGEMENT).
|  | PROGRAM MANAGER (ASSOCIATE ADMINISTRATOR FOR REGIONAL OPERATIONS AND SUPPORT).
|  | ASSOCIATE ADMINISTRATOR FOR MANAGEMENT AND FINANCE.
| FOOD SAFETY AND INSPECTION SERVICE | ASSISTANT ADMINISTRATOR, OFFICE OF INVESTIGATION, ENFORCEMENT AND AUDITING. UNITED STATES MANAGER FOR CODEX.
|  | DEPUTY ASSISTANT ADMINISTRATOR, OFFICE OF MANAGEMENT.
|  | EXECUTIVE ASSOCIATE FOR REGULATORY OPERATIONS, OFFICE OF FIELD OPERATIONS.
|  | EXECUTIVE ASSOCIATE FOR PUBLIC HEALTH.
|  | EXECUTIVE ASSOCIATE FOR REGULATORY OPERATIONS, OFFICE OF FIELD OPERATIONS.
|  | EXECUTIVE ASSOCIATE FOR LABORATORY SERVICES, OFFICE OF PUBLIC HEALTH SCIENCE.
|  | ASSISTANT ADMINISTRATOR.
|  | DEPUTY ASSISTANT ADMINISTRATOR, OFFICE OF FIELD OPERATIONS.
|  | DEPUTY ASSISTANT ADMINISTRATOR, OFFICE OF PUBLIC HEALTH SCIENCE.
|  | ASSISTANT ADMINISTRATOR, OFFICE OF POLICY AND PROGRAM DEVELOPMENT.
|  | CHIEF OPERATING OFFICER.
|  | DEPUTY ASSISTANT ADMINISTRATOR, OFFICE OF POLICY AND PROGRAM DEVELOPMENT.
|  | EXECUTIVE ASSOCIATE FOR REGULATORY OPERATIONS, OFFICE OF FIELD OPERATIONS.
|  | DEPUTY ASSISTANT ADMINISTRATOR, OFFICE OF INVESTIGATION, ENFORCEMENT AND AUDIT.
|  | ASSISTANT ADMINISTRATOR, OFFICE OF PUBLIC AFFAIRS, EDUCATION AND OUTREACH.
|  | ASSISTANT ADMINISTRATOR, OFFICE OF MANAGEMENT.
|  | DEPUTY ASSISTANT ADMINISTRATOR, OFFICE OF DATA INTEGRATION AND FOOD PROGRAM.
|  | DEPUTY ADMINISTRATOR.
|  | ASSISTANT ADMINISTRATOR, OFFICE OF FIELD OPERATIONS.
|  | CHIEF INFORMATION OFFICER.
|  | ASSISTANT ADMINISTRATOR, OFFICE OF DATA INTEGRATION AND FOOD PROTECTION.
|  | CHIEF FINANCIAL OFFICER.
|  | INTERNATIONAL AFFAIRS LIAISON OFFICER.
| FOREIGN AGRICULTURAL SERVICE | DEPUTY ADMINISTRATOR, OFFICE OF GLOBAL ANALYSIS. ASSOCIATE ADMINISTRATOR (CHIEF OPERATING OFFICER).
| FOREST SERVICE | ASSOCIATE DEPUTY CHIEF FOR BUSINESS OPERATIONS. DIRECTOR, FIRE AND AVIATION MANAGEMENT.
|  | CHIEF FINANCIAL OFFICER.
|  | DEPUTY CHIEF, BUSINESS OPERATIONS.
|  | DIRECTOR, ACQUISITION MANAGEMENT.
|  | ASSOCIATE DEPUTY CHIEF, RESEARCH AND DEVELOPMENT.
|  | DIRECTOR, LAW ENFORCEMENT AND INVESTIGATIONS.
| INTERNATIONAL FOREST SYSTEM | DIRECTOR INTERNATIONAL INSTITUTE OF TROPICAL FOREST (RIO PIEDRAS).
| MIDWEST AREA OFFICE | DIRECTOR, MIDWEST AREA. ASSOCIATE DIRECTOR MIDWEST AREA (2).
|  | DIRECTOR, NATIONAL CENTER FOR AGRICULTURE UTILIZATION.
| NATIONAL AGRICULTURAL STATISTICS SERVICE | ADMINISTRATOR, NATIONAL AGRICULTURAL STATISTICS SERVICE. DIRECTOR, WESTERN FIELD OPERATIONS.
|  | ASSOCIATE ADMINISTRATOR.
|  | DIRECTOR, STATISTICS DIVISION.
|  | DIRECTOR, CENSUS AND SURVEY DIVISION.
|  | DIRECTOR, INFORMATION TECHNOLOGY DIVISION.
|  | DIRECTOR EASTERN FIELD OPERATIONS.
|  | DIRECTOR, METHODOLOGY DIVISION.
|  | DIRECTOR, NATIONAL OPERATIONS CENTER.
| NATIONAL FINANCE CENTER | DIRECTOR, INFORMATION TECHNOLOGY MANAGEMENT DIVISION. DIRECTOR, FINANCIAL SERVICES DIVISION.
|  | DEPUTY DIRECTOR, NATIONAL FINANCE CENTER.
| NATIONAL FOREST SYSTEM | DIRECTOR, RANGELAND MANAGEMENT. DIRECTOR, FOREST MANAGEMENT STAFF.
|  | DIRECTOR, ENGINEERING.
|  | DIRECTOR, LANDS MANAGEMENT STAFF.
|  | DIRECTOR, ECOSYSTEM MANAGEMENT COORDINATION.
|  | DIRECTOR, WATER, FISH, WASTELAND, AIR AND RARE PLANTS.
|  | DIRECTOR, MINERALS AND GEOLOGY MANAGEMENT STAFF.
| NATIONAL INSTITUTE OF FOOD AND AGRICULTURE | DEPUTY DIRECTOR, INSTITUTE OF BIOENERGY, CLIMATE, AND ENVIRONMENT. DEPUTY DIRECTOR, OFFICE OF GRANTS AND FINANCIAL MANAGEMENT.
|  | DEPUTY DIRECTOR, OFFICE OF INFORMATION TECHNOLOGY.
|  | DEPUTY DIRECTOR, INSTITUTE OF FOOD SAFETY AND NUTRITION.
| NATURAL RESOURCES CONSERVATION SERVICE | DIRECTOR, CONSERVATION ENGINEERING DIVISION. DIRECTOR ECOLOGICAL SCIENCES DIVISION.
|  | DIRECTOR, SOIL SCIENCE DIVISION.
|  | DIRECTOR, EASEMENT PROGRAMS DIVISION.
|  | ASSOCIATE CHIEF FOR OPERATIONS/CHIEF OPERATING OFFICER.
|  | DEPUTY CHIEF FOR STRATEGIC PLANNING AND ACCOUNTABILITY.
|  | CHIEF PROCUREMENT AND PROPERTY OFFICER.
|  | DEPUTY CHIEF FOR PROGRAMS.
|  | CHIEF FINANCIAL OFFICER.
|  | DIRECTOR, FINANCIAL ASSISTANCE PROGRAMS DIVISION.
|  | SPECIAL ASSISTANT TO CHIEF.
|  | HUMAN RESOURCES OFFICER.
|  | REGIONAL CONSERVATIONIST (NORTHEAST).
|  | DIRECTOR, RESOURCE ECONOMICS, ANALYSIS AND POLICY DIVISION.
| NORTHEAST AREA OFFICE | DIRECTOR, EASTERN REGIONAL RESEARCH CENTER. DIRECTOR NORTHEAST AREA OFFICE.
|  | ASSOCIATE DIRECTOR, NORTHEAST AREA.
|  | ASSOCIATE DIRECTOR, NORTHEAST AREA.
|  | DIRECTOR, BELTSVILLE AGRICULTURAL RESEARCH CENTER.
| OFFICE OF ADVOCACY AND OUTREACH | DIRECTOR, OFFICE OF ADVOCACY AND OUTREACH.
| OFFICE OF COMMUNICATIONS | DEPUTY DIRECTOR, CREATIVE DEVELOPMENT.
| OFFICE OF HUMAN RESOURCES MANAGEMENT | EXECUTIVE DIRECTOR, EXECUTIVE RESOURCES MANAGEMENT DIVISION. PROVOST, USDA VIRTUAL UNIVERSITY.
| OFFICE OF NATIONAL PROGRAMS | ASSOCIATE ADMINISTRATOR, NATIONAL PROGRAMS. DEPUTY ADMINISTRATOR FOR NATURAL RESOURCES AND SUSTAINABLE AGRICULTURE SYSTEMS.
|  | DEPUTY ADMINISTRATOR, CROP PRODUCTION AND PROTECTION.
|  | DEPUTY ADMINISTRATOR, ANIMAL PRODUCTION AND PROTECTION.
|  | DEPUTY ADMINISTRATOR, NUTRITION, FOOD SAFETY AND QUALITY.
| OFFICE OF OPERATIONS | DIRECTOR OFFICE OF OPERATIONS. DEPUTY DIRECTOR OF OPERATIONS.
| OFFICE OF THE CHIEF ECONOMIST | DIRECTOR, OFFICE OF RISK ASSESSMENT AND COST-BENEFIT ANALYSIS. CHAIRPERSON. DIRECTOR GLOBAL CHANGE PROGRAM OFFICE.
|  | DIRECTOR, OFFICE OF ENERGY POLICY AND NEW USES.
| OFFICE OF THE CHIEF FINANCIAL OFFICER | DEPUTY CHIEF FINANCIAL OFFICER. ASSOCIATE CHIEF FINANCIAL OFFICER, FINANCIAL SYSTEMS PLANNING AND MANAGEMENT.
|  | ASSOCIATE CHIEF FINANCIAL OFFICER FOR FINANCIAL POLICY AND PLANNING.
| OFFICE OF THE CHIEF INFORMATION OFFICER | DEPUTY CHIEF INFORMATION OFFICER FOR OPERATIONS AND INFRASTRUCTURE. ASSOCIATE CHIEF INFORMATION OFFICER, INTERNATIONAL TECHNOLOGY SERVICES.
| OFFICE OF THE GENERAL COUNSEL | ASSOCIATE GENERAL COUNSEL, GENERAL LAW AND RESEARCH DIVISION. ASSISTANT GENERAL COUNSEL, NATURAL RESOURCES AND ENVIRONMENT DIVISION.
| OFFICE OF THE UNDER SECRETARY FOR FOOD SAFETY | DEPUTY UNDER SECRETARY FOR FOOD SAFETY.
| OFFICE OF THE UNDER SECRETARY FOR RESEARCH, EDUCATION, AND ECONOMICS | DIRECTOR OFFICE OF THE USDA CHIEF SCIENTIST.
| PACIFIC WEST AREA OFFICE | DIRECTOR, WESTERN REGIONAL RESEARCH CENTER. DIRECTOR, WESTERN HUMAN NUTRITION RESEARCH CENTER.
|  | DIRECTOR, PACIFIC WEST AREA OFFICE.
|  | ASSOCIATE DIRECTOR, PACIFIC WEST AREA OFFICE.
|  | ASSOCIATE DIRECTOR, PACIFIC WEST AREA.
| PLAINS AREA OFFICE | DIRECTOR, PLAINS AREA. ASSOCIATE DIRECTOR, PLAINS AREA OFFICE.
|  | ASSOCIATE DIRECTOR, PLAINS AREA.
|  | DIRECTOR, UNITED STATES MEAT ANIMAL RESEARCH CENTER.
| PLANT PROTECTION AND QUARANTINE SERVICE | EXECUTIVE DIRECTOR, WESTERN REGION, PLANT PROTECTION AND QUARANTINE. EXECUTIVE DIRECTOR, POLICY MANAGEMENT.
|  | EXECUTIVE DIRECTOR, EASTERN REGION, PLANT PROTECTION AND QUARANTINE.
| PROCUREMENT AND PROPERTY MANAGEMENT | DIRECTOR, PROCUREMENT AND PROPERTY MANAGEMENT.
| RESEARCH | DIRECTOR, SUSTAINABLE FOREST MANAGEMENT. DIRECTOR, RESOURCE USE SCIENCES.
|  | DIRECTOR, ENVIRONMENTAL SCIENCES.
|  | DIRECTOR, SCIENCE POLICY, PLANNING, AND INFORMATION STAFF.
| RISK MANAGEMENT AGENCY | DEPUTY ADMINISTRATOR FOR PRODUCT MANAGEMENT. DEPUTY ADMINISTRATOR FOR INSURANCE SERVICES DIVISION.
| RURAL BUSINESS SERVICE | DEPUTY ADMINISTRATOR, BUSINESS PROGRAMS (2).
| RURAL HOUSING SERVICE | DEPUTY ADMINISTRATOR FOR OPERATIONS AND MANAGEMENT. DEPUTY ADMINISTRATOR, CENTRALIZED SERVICING CENTER.
|  | DEPUTY ADMINISTRATOR, MULTI-FAMILY HOUSING.
|  | CHIEF FINANCIAL OFFICER.
|  | DIRECTOR, RURAL HOUSING SERVICE.
|  | DIRECTOR, HUMAN RESOURCES.
|  | DIRECTOR, BUDGET DIVISION.
| SOUTHEAST AREA OFFICE | DIRECTOR, SOUTHERN REGIONAL RESEARCH CENTER.
|  | ASSOCIATE DIRECTOR, SOUTHEAST AREA (2). DIRECTOR, SOUTH EAST AREA.
| STATE AND PRIVATE FORESTRY | DIRECTOR COOPERATIVE FORESTRY. DIRECTOR, FOREST HEALTH PROTECTION.
|  | SENIOR ADVISOR TO THE DEPUTY CHIEF, STATE AND PRIVATE FORESTRY.
| VETERINARY SERVICES | EXECUTIVE DIRECTOR, SURVEILLANCE, PREPAREDNESS AND RESPONSE SERVICES, VETERINARY SERVICES. DIRECTOR, WESTERN REGION, VETERINARY SERVICES.
|  | ASSOCIATE DEPUTY ADMINISTRATOR, NATIONAL ANIMAL HEALTH POLICY PROGRAMS.
|  | EXECUTIVE DIRECTOR, SCIENCE, TECHNOLOGY AND ANALYSIS SERVICE.
DEPARTMENT OF AGRICULTURE OFFICE OF THE INSPECTOR GENERAL | ASSISTANT INSPECTOR GENERAL FOR AUDIT | DEPUTY ASSISTANT INSPECTOR GENERAL FOR AUDIT. ASSISTANT INSPECTOR GENERAL FOR AUDIT. ASSISTANT INSPECTOR GENERAL FOR OFFICE OF DATA SCIENCES.
|  | DEPUTY ASSISTANT INSPECTOR GENERAL FOR AUDIT.
| ASSISTANT INSPECTOR GENERAL FOR INVESTIGATIONS | ASSISTANT INSPECTOR GENERAL FOR INVESTIGATIONS. DEPUTY ASSISTANT INSPECTOR GENERAL FOR INVESTIGATIONS.
| ASSISTANT INSPECTOR GENERAL FOR MANAGEMENT | ASSISTANT INSPECTOR GENERAL FOR MANAGEMENT. COUNSEL TO THE INSPECTOR GENERAL.
|  | DEPUTY INSPECTOR GENERAL.
AMERICAN BATTLE MONUMENTS COMMISSION | DIRECTOR, EUROPEAN REGION EXECUTIVE DIRECTOR | DIRECTOR, EUROPEAN REGION. DEPUTY SECRETARY.
ARCHITECTURAL AND TRANSPORTATION BARRIERS COMPLIANCE BOARD (UNITED STATES ACCESS BOARD) |  | EXECUTIVE DIRECTOR. DIRECTOR OFFICE OF TECHNICAL AND INFORMATION SERVICES.
BROADCASTING BOARD OF GOVERNORS | INTERNATIONAL BROADCASTING BUREAU | DEPUTY FOR ENGINEERING RESOURCE CONTROL. DEPUTY FOR NETWORK OPERATIONS. ASSOCIATE DIRECTOR FOR MANAGEMENT.
|  | CHIEF EXECUTIVE OFFICER.
CHEMICAL SAFETY AND HAZARD INVESTIGATION BOARD |  | CHIEF OPERATING OFFICER.
DEPARTMENT OF COMMERCE | ALASKA REGION | DIRECTOR, ALASKA REGION, ANCHORAGE.
| ASSOCIATE DIRECTOR FOR ADMINISTRATION AND CHIEF FINANCIAL OFFICER | CHIEF, BUDGET DIVISION. CHIEF, ACQUISITION DIVISION. ASSOCIATE DIRECTOR FOR ADMINISTRATION AND CHIEF FINANCIAL OFFICER.
|  | CHIEF, FINANCE DIVISION.
|  | CHIEF ADMINISTRATIVE OFFICER.
|  | CHIEF, HUMAN RESOURCES DIVISION.
| ASSOCIATE DIRECTOR FOR DECENNIAL CENSUS | CHIEF, GEOGRAPHY DIVISION. CHIEF, AMERICAN COMMUNITY SURVEY OFFICE. ASSOCIATE DIRECTOR FOR DECENNIAL CENSUS.
|  | CHIEF DECENNIAL MANAGEMENT DIVISION.
|  | ASSISTANT DIRECTOR FOR DECENNIAL CENSUS PROGRAMS.
|  | CHIEF, DECENNIAL INFORMATION TECHNOLOGY DIVISION.
|  | CHIEF, DECENNIAL STATISTICAL STUDIES DIVISION.
| ASSOCIATE DIRECTOR FOR DEMOGRAPHIC PROGRAMS | ASSOCIATE DIRECTOR FOR DEMOGRAPHIC PROGRAMS. CHIEF, POPULATION DIVISION.
|  | CHIEF DEMOGRAPHIC SURVEYS DIVISION.
|  | ASSISTANT DIRECTOR FOR DEMOGRAPHIC PROGRAMS.
|  | CHIEF, SOCIAL, ECONOMIC, AND HOUSING STATISTICS DIVISION.
|  | CHIEF, DEMOGRAPHIC STATISTICAL METHODS DIVISION.
| ASSOCIATE DIRECTOR FOR ECONOMIC PROGRAMS | ASSOCIATE DIRECTOR FOR ECONOMIC PROGRAMS. ASSISTANT DIRECTOR FOR ECONOMIC PROGRAMS.
|  | CHIEF, ECONOMY-WIDE STATISTICS DIVISION.
|  | CHIEF, ECONOMIC MANAGEMENT DIVISION.
|  | CHIEF, INTERNATIONAL TRADE MANAGEMENT DIVISION.
|  | CHIEF, ECONOMIC REIMBURSABLE SURVEYS DIVISION.
|  | CHIEF, ECONOMIC APPLICATIONS DIVISION.
|  | CHIEF, ECONOMIC INDICATORS DIVISION.
| ASSOCIATE DIRECTOR FOR FIELD OPERATIONS | ASSOCIATE DIRECTOR FOR FIELD OPERATIONS. CHIEF, OFFICE OF SURVEY AND CENSUS ANALYTICS.
|  | ASSISTANT DIRECTOR FOR FIELD OPERATIONS.
|  | CHIEF, FIELD DIVISION.
|  | CHIEF NATIONAL PROCESSING CENTER.
| ASSOCIATE DIRECTOR FOR INDUSTRY ACCOUNTS | ASSOCIATE DIRECTOR FOR INDUSTRY ACCOUNTS.
| ASSOCIATE DIRECTOR FOR INFORMATION TECHNOLOGY AND CHIEF INFORMATION OFFICER | ASSOCIATE DIRECTOR FOR INFORMATION TECHNOLOGY AND CHIEF INFORMATION OFFICER. ASSISTANT DIRECTOR FOR INFORMATION TECHNOLOGY AND DEPUTY CHIEF INFORMATION OFFICER.
|  | CHIEF, APPLICATION SERVICES DIVISION.
|  | CHIEF, OFFICE OF INFORMATION SECURITY.
|  | CHIEF, COMPUTER SERVICES DIVISION.
|  | CHIEF TECHNOLOGY OFFICER.
| ASSOCIATE DIRECTOR FOR INTERNATIONAL ECONOMICS | ASSOCIATE DIRECTOR FOR INTERNATIONAL ECONOMICS. CHIEF DIRECT INVESTMENT DIVISION.
|  | CHIEF, BALANCE OF PAYMENTS DIVISION.
| ASSOCIATE DIRECTOR FOR NATIONAL INCOME, EXPENDITURE AND WEALTH ACCOUNTS | ASSOCIATE DIRECTOR FOR NATIONAL INCOME, EXPENDITURE AND WEALTH ACCOUNTS. CHIEF NATIONAL INCOME AND WEALTH DIVISION.
| ASSOCIATE DIRECTOR FOR REGIONAL ECONOMICS | ASSOCIATE DIRECTOR FOR REGIONAL ECONOMICS.
| ASSOCIATE DIRECTOR FOR RESEARCH AND METHODOLOGY | CHIEF, CENTER FOR ECONOMIC STUDIES AND CHIEF ECONOMIST. CHIEF, CENTER FOR SURVEY MEASUREMENT.
|  | CHIEF, CENTER FOR ADAPTIVE DESIGN.
|  | CHIEF STATISTICAL RESEARCH DIVISION.
|  | ASSOCIATE DIRECTOR FOR RESEARCH AND METHODOLOGY.
|  | ASSISTANT DIRECTOR FOR RESEARCH AND METHODOLOGY.
|  | CHIEF, CENTER FOR ADMINISTRATIVE RECORDS RESEARCH AND APPLICATIONS.
| ATLANTIC OCEAN AND METEOROLOGY LABORATORY | DIRECTOR, ATLANTIC OCEANOGRAPHIC AND METEOROLOGICAL.
| BALDRIGE PERFORMANCE EXCELLENCE PROGRAM | DIRECTOR, BALDRIGE PERFORMANCE EXCELLENCE PROGRAM.
| BOULDER SITE MANAGEMENT OFFICE | BOULDER LABORATORIES SITE MANAGER.
| BUREAU OF INDUSTRY AND SECURITY | CHIEF FINANCIAL OFFICER AND DIRECTOR OF ADMINISTRATION. CHIEF INFORMATION OFFICER.
| CENTER FOR NANOSCALE SCIENCE AND TECHNOLOGY | DIRECTOR, CENTER FOR NANOSCALE SCIENCE AND TECHNOLOGY. DEPUTY DIRECTOR, CENTER FOR NANOSCALE SCIENCE AND TECHNOLOGY.
| CENTER FOR OPERATIONAL OCEANOGRAPHIC PRODUCTS AND SERVICES | DIRECTOR, CENTER FOR OPERATIONAL OCEANOGRAPHIC PRODUCTS AND SERVICES.
| CLIMATE PREDICTION CENTER | DIRECTOR, CLIMATE PREDICTION CENTER.
| CLIMATE PROGRAM OFFICE | DIRECTOR, CLIMATE PROGRAM OFFICE.
| DEPARTMENT OF COMMERCE | DEPUTY ASSISTANT INSPECTOR GENERAL FOR AUDITING.
| DEPUTY ASSISTANT SECRETARY FOR ANTIDUMPING AND COUNTERVAILING DUTY OPERATIONS | SENIOR DIRECTOR, AD/CVD ENFORCEMENT OFFICE VII. ASSOCIATE DEPUTY ASSISTANT SECRETARY FOR ANTIDUMPING AND COUNTERVAILING DUTY OPERATIONS.
| DEPUTY ASSISTANT SECRETARY FOR CHINA | EXECUTIVE DIRECTOR FOR CHINA.
| DEPUTY ASSISTANT SECRETARY FOR TRADE, POLICY AND ANALYSIS | DIRECTOR, OFFICE OF STANDARDS AND INVESTMENT POLICY.
| EARTH SYSTEM RESEARCH LABORATORY | DIRECTOR, PHYSICAL SCIENCE DIVISION. DIRECTOR, CHEMICAL SCIENCE DIVISION.
|  | DIRECTOR, GLOBAL MONITORING DIVISION.
|  | DIRECTOR, GLOBAL SYSTEMS DIVISION.
| EASTERN REGION | DIRECTOR EASTERN REGION NATIONAL WEATHER SERVICE.
| ECONOMICS AND STATISTICS ADMINISTRATION | CHIEF FINANCIAL OFFICER AND DIRECTOR FOR ADMINISTRATION. DIRECTOR FOR POLICY AND PLANNING.
| ENGINEERING LABORATORY | DIRECTOR, ENGINEERING LABORATORY. DIRECTOR, SMART GRID AND CYBER-PHYSICAL SYSTEMS PROGRAM OFFICE.
|  | DEPUTY DIRECTOR ENGINEERING LABORATORY.
| FIRST RESPONDER NETWORK AUTHORITY | CHIEF ADMINISTRATIVE OFFICER, FIRST RESPONDER NETWORK AUTHORITY. CHIEF FINANCIAL OFFICER, FIRST RESPONDER NETWORK AUTHORITY.
|  | CHIEF TECHNOLOGY OFFICER, FIRST RESPONDER NETWORK AUTHORITY.
|  | CHIEF INFORMATION OFFICER, FIRST RESPONDER NETWORK AUTHORITY.
| GEOPHYSICAL FLUID DYNAMICS LABORATORY | DIRECTOR, OFFICE OF GEOPHYSICAL FLUID DYNAMICS LABORATORY.
| GROUP DIRECTORS | GROUP DIRECTOR (5). GROUP DIRECTOR—2100 (4).
|  | GROUP DIRECTOR—2600 (3).
|  | GROUP DIRECTOR—3700 (5).
|  | GROUP DIRECTOR—2400 (2).
|  | GROUP DIRECTOR—2800 (4).
|  | GROUP DIRECTOR—3700 (3).
|  | GROUP DIRECTOR—1700 (3).
|  | GROUP DIRECTOR—2900.
|  | GROUP DIRECTOR—1600 (3).
|  | GROUP DIRECTOR—3600 (5).
| HOLLINGS MANUFACTURING EXTENSION PARTNERSHIP PROGRAM | DIRECTOR, MANUFACTURING EXTENSION PARTNERSHIP PROGRAMS. DEPUTY DIRECTOR, MANUFACTURING EXTENSION PARTNERSHIP PROGRAM.
| INFORMATION TECHNOLOGY LABORATORY | DIRECTOR, INFORMATION TECHNOLOGY LABORATORY. DEPUTY DIRECTOR, INFORMATION TECHNOLOGY LABORATORY.
| INSTITUTE FOR TELECOMMUNICATION SCIENCES | DEPUTY DIRECTOR FOR SYSTEMS AND NETWORKS.
| MANUFACTURING ENGINEERING LABORATORY | DEPUTY DIRECTOR FOR MANUFACTURING.
| MATERIAL MEASUREMENT LABORATORY | DIRECTOR, MATERIAL MEASUREMENT LABORATORY.
| METEOROLOGICAL DEVELOPMENT LABORATORY | DIRECTOR, METEOROLOGICAL DEVELOPMENT LABORATORY.
| MINORITY BUSINESS DEVELOPMENT AGENCY | ASSOCIATE DIRECTOR FOR MANAGEMENT
| NATIONAL CENTERS FOR ENVIRONMENTAL PREDICTION | DIRECTOR, NATIONAL CENTERS FOR ENVIRONMENTAL PREDICTION. DIRECTOR, WEATHER PREDICTION CENTER.
|  | DIRECTOR, ENVIRONMENTAL MODELING CENTER.
|  | DIRECTOR, SPACE WEATHER PREDICTION CENTER.
|  | DIRECTOR, AVIATION WEATHER CENTER.
|  | DIRECTOR, OCEAN PREDICTION CENTER.
| NATIONAL CENTERS FOR ENVIRONMENTAL PREDICTION CENTRAL OPERATIONS | DIRECTOR, CENTRAL OPERATIONS.
| NATIONAL DATA BUOY CENTER | DIRECTOR, NATIONAL DATA BUOY CENTER.
| NATIONAL INSTITUTE OF STANDARDS AND TECHNOLOGY | CHIEF CYBERSECURITY ADVISOR.
| NATIONAL MARINE FISHERIES SERVICE | SCIENCE AND RESEARCH DIRECTOR SOUTHWEST REGION. DIRECTOR, SCIENTIFIC PROGRAMS AND CHIEF SCIENCE ADVISOR.
|  | DIRECTOR OFFICE OF SUSTAINABLE FISHERIES.
|  | DIRECTOR, OFFICE OF ENFORCEMENT.
|  | CHIEF FINANCIAL OFFICER/CHIEF ADMINISTRATIVE OFFICER.
|  | SCIENCE AND RESEARCH DIRECTOR, PACIFIC ISLAND REGION.
| NATIONAL OCEAN SERVICE | ASSOCIATE ASSISTANT ADMINISTRATOR FOR MANAGEMENT AND CHIEF FINANCIAL OFFICER/CHIEF ADMINISTRATIVE OFFICER. DIRECTOR, INTEGRATED OCEAN OBSERVING SYSTEM.
| NATIONAL OCEANIC AND ATMOSPHERIC ADMINISTRATION COASTAL SERVICES CENTER | DIRECTOR, NATIONAL CENTERS FOR COASTAL OCEAN SCIENCE.
| NATIONAL SEA GRANT COLLEGE PROGRAM | DIRECTOR, NATIONAL SEA GRANT COLLEGE PROGRAM.
| NATIONAL TECHNICAL INFORMATION SERVICE | DEPUTY DIRECTOR, NATIONAL TECHNICAL INFORMATION SERVICE.
| NATIONAL INSTITUTE OF STANDARDS AND TECHNOLOGY CENTER FOR NEUTRON RESEARCH | DIRECTOR, NATIONAL INSTITUTE OF STANDARDS AND TECHNOLOGY CENTER FOR NEUTRON RESEARCH. DEPUTY DIRECTOR, NATIONAL INSTITUTE OF STANDARDS AND TECHNOLOGY CENTER FOR NEUTRON RESEARCH.
| NORTHEAST FISHERIES SCIENCE CENTER | SCIENCE AND RESEARCH DIRECTOR NORTHEAST REGION. SCIENCE AND RESEARCH DIRECTOR, NORTHWEST REGION.
| OFFICE—FEDERAL COORDINATOR—METEOROLOGY | DIRECTOR, OFFICE OF THE FEDERAL COORDINATOR FOR METEOROLOGY.
| OFFICE OF ACQUISITION AND AGREEMENTS MANAGEMENT | DIRECTOR, OFFICE OF ACQUISITIONS AND AGREEMENTS MANAGEMENT.
| OFFICE OF ACQUISITION MANAGEMENT | DIRECTOR, OFFICE OF ACQUISITION MANAGEMENT. DEPUTY FOR PROCUREMENT MANAGEMENT, POLICY AND PERFORMANCE EXCELLENCE.
|  | DEPUTY FOR ACQUISITION PROGRAM MANAGEMENT.
| OFFICE OF ASSISTANT ADMINISTRATOR SATELLITE, DATA, AND INFORMATION SERVICE | ASSISTANT CHIEF INFORMATION OFFICER FOR NATIONAL ENVIRONMENTAL SATELLITE, DATA, AND INFORMATION SERVICE. CHIEF FINANCIAL OFFICER/CHIEF ADMINISTRATIVE OFFICER.
|  | DIRECTOR, OFFICE OF SYSTEMS ARCHITECTURE AND ADVANCED PLANNING.
|  | DIRECTOR SATELLITE GROUND SERVICES.
|  | SYSTEM PROGRAM DIRECTOR FOR GOES-R PROGRAM.
|  | DEPUTY ASSISTANT ADMINISTRATOR FOR SYSTEMS.
|  | DIRECTOR, NATIONAL CENTER FOR ENVIRONMENTAL INFORMATION.
|  | DIRECTOR, OFFICE OF PROJECTS, PARTNERSHIPS AND ANALYSIS.
|  | DEPUTY DIRECTOR, NATIONAL CENTER FOR ENVIRONMENTAL INFORMATION.
|  | DIRECTOR, JOINT POLAR SATELLITE SYSTEMS.
| OFFICE OF ASSISTANT ADMINISTRATOR, OCEAN AND ATMOSPHERIC RESEARCH | CHIEF FINANCIAL OFFICER/CHIEF ADMINISTRATIVE OFFICER. DIRECTOR EARTH SYSTEM RESEARCH LABORATORY AND PRINCIPAL SCIENCE ADVISOR.
|  | DEPUTY ASSISTANT ADMINISTRATOR FOR SCIENCE.
| OFFICE OF BUDGET | DIRECTOR OF THE OFFICE OF BUDGET.
| OFFICE OF COUNSEL TO THE INSPECTOR GENERAL | COUNSEL TO THE INSPECTOR GENERAL.
| OFFICE OF EDUCATION AND SUSTAINABLE DEVELOPMENT | DIRECTOR, OFFICE OF EDUCATION.
| OFFICE OF FACILITIES AND ENVIRONMENTAL QUALITY | DEPUTY DIRECTOR FOR FACILITIES AND ENVIRONMENTAL QUALITY. DIRECTOR FOR FACILITIES AND ENVIRONMENTAL QUALITY.
| OFFICE OF FACILITIES AND PROPERTY MANAGEMENT | CHIEF FACILITIES MANAGEMENT OFFICER.
| OFFICE OF FINANCE AND ADMINISTRATION | DEPUTY CHIEF ADMINISTRATIVE OFFICER.
| OFFICE OF FINANCIAL RESOURCE MANAGEMENT | CHIEF FINANCIAL OFFICER FOR NATIONAL INSTITUTE OF STANDARDS AND TECHNOLOGY.
| OFFICE OF HIGH PERFORMANCE COMPUTING AND COMMUNICATIONS | CHIEF INFORMATION OFFICER AND DIRECTOR FOR HIGH PERFORMANCE COMPUTING AND COMMUNICATIONS. DEPUTY CHIEF INFORMATION OFFICER.
| OFFICE OF HUMAN RESOURCES MANAGEMENT | DIRECTOR, HUMAN RESOURCES OPERATIONS CENTER. DIRECTOR FOR HUMAN RESOURCES MANAGEMENT AND CHIEF HUMAN CAPITAL OFFICER.
|  | DEPUTY DIRECTOR FOR HUMAN RESOURCES MANAGEMENT AND DEPUTY CHIEF HUMAN CAPITAL OFFICER.
|  | DIRECTOR, HUMAN CAPITAL STRATEGY AND DIVERSITY.
| OFFICE OF INFORMATION SYSTEMS MANAGEMENT | CHIEF INFORMATION OFFICER FOR NATIONAL INSTITUTE OF STANDARDS AND TECHNOLOGY.
| OFFICE OF INSPECTIONS AND PROGRAM EVALUATION | ASSISTANT INSPECTOR GENERAL FOR INSPECTIONS AND PROGRAM EVALUATION.
| OFFICE OF INSPECTOR GENERAL | ASSISTANT INSPECTOR GENERAL FOR ADMINISTRATION. ASSISTANT INSPECTOR GENERAL FOR SYSTEMS EVALUATION.
| OFFICE OF INTERNATIONAL AFFAIRS | ASSOCIATE ADMINISTRATOR, OFFICE OF INTERNATIONAL AFFAIRS.
| OFFICE OF INVESTIGATIONS | ASSISTANT INSPECTOR GENERAL FOR INVESTIGATIONS.
| OFFICE OF MARINE AND AVIATION OPERATIONS | DEPUTY ASSISTANT ADMINISTRATOR FOR PROGRAMS AND ADMINISTRATION.
| OFFICE OF NATIONAL GEODETIC SURVEY | DIRECTOR, OFFICE OF NATIONAL GEODETIC SURVEY.
| OFFICE OF NATIONAL SEVERE STORMS LABORATORY | DIRECTOR NATIONAL SEVERE STORMS LABORATORY.
| OFFICE OF OCEANIC EXPLORATION AND RESEARCH | DIRECTOR, OFFICE OF OCEAN EXPLORATION AND RESEARCH.
| OFFICE OF POLICY AND INTERNATIONAL AFFAIRS | DEPUTY CHIEF POLICY OFFICER FOR OPERATIONS. DEPUTY CHIEF POLICY OFFICER.
|  | DIRECTOR, GOVERNMENTAL AFFAIRS.
| OFFICE OF RESPONSE AND RESTORATION | DIRECTOR, OFFICE OF RESPONSE AND RESTORATION.
| OFFICE OF SAFETY, HEALTH AND ENVIRONMENT | CHIEF SAFETY OFFICER.
| OFFICE OF SATELLITE AND PRODUCT OPERATIONS | DEPUTY DIRECTOR, OFFICE OF SATELLITE AND PRODUCT OPERATIONS.
| OFFICE OF SCIENCE AND TECHNOLOGY | DIRECTOR OFFICE OF SCIENCE AND TECHNOLOGY.
| OFFICE OF SECURITY | DEPUTY DIRECTOR, OFFICE OF SECURITY. DIRECTOR, OFFICE OF SECURITY.
| OFFICE OF THE ASSISTANT ADMINISTRATOR FOR WEATHER SERVICES | CHIEF FINANCIAL OFFICER/CHIEF ADMINISTRATOR OFFICER. DIRECTOR, OFFICE OF PLANNING AND PROGRAMMING FOR SERVICE DELIVERY.
|  | CHIEF OPERATING OFFICER.
|  | DIRECTOR, OFFICE OF SCIENCE AND TECHNOLOGY INTEGRATION.
|  | DIRECTOR, OFFICE OF FACILITIES.
|  | DIRECTOR, OFFICE OF OBSERVATIONS.
|  | DIRECTOR, ANALYZE, FORECAST AND SUPPORT OFFICE.
|  | DIRECTOR, OFFICE OF CENTRAL PROCESSING.
|  | CHIEF ENGINEER.
|  | DIRECTOR, OFFICE OF DISSEMINATION.
|  | OFFICE OF ORGANIZATIONAL EXCELLENCE.
|  | DIRECTOR, OFFICE OF WATER PREDICTION.
|  | DEPUTY DIRECTOR, OFFICE OF WATER PREDICTION.
| OFFICE OF THE ASSISTANT SECRETARY FOR COMMUNICATIONS AND INFORMATION | CHIEF INFORMATION OFFICER AND DEPUTY DIRECTOR OF ADMINISTRATION. CHIEF DIGITAL OFFICER.
|  | CHIEF FINANCIAL OFFICER AND DIRECTOR OF ADMINISTRATION.
| OFFICE OF THE ASSISTANT SECRETARY FOR EXPORT ENFORCEMENT | DEPUTY ASSISTANT SECRETARY FOR EXPORT ENFORCEMENT. DIRECTOR, OFFICE OF ENFORCEMENT ANALYSIS.
|  | DIRECTOR OFFICE OF EXPORT ENFORCEMENT.
|  | DEPUTY DIRECTOR, OFFICE OF EXPORT ENFORCEMENT.
| OFFICE OF THE CHIEF FINANCIAL OFFICER | DIRECTOR, OFFICE OF FINANCE.
| OFFICE OF THE CHIEF FINANCIAL OFFICER AND ASSISTANT SECRETARY FOR ADMINISTRATION | CHIEF FINANCIAL OFFICER AND DIRECTOR OF ADMINISTRATION.
| OFFICE OF THE CHIEF INFORMATION OFFICER | DEPUTY CHIEF INFORMATION OFFICER FOR MANAGEMENT AND BUSINESS OPERATIONS. ASSISTANT CHIEF INFORMATION OFFICER FOR WEATHER SERVICE.
|  | DIRECTOR OF CYBER SECURITY AND CHIEF INFORMATION SECURITY OFFICER.
|  | DIRECTOR OF ORGANIZATIONAL POLICY AND GOVERNANCE.
|  | DEPUTY CHIEF INFORMATION OFFICER AND CHIEF TECHNOLOGY OFFICER.
| OFFICE OF THE COMMISSIONER FOR PATENTS | PROGRAM DIRECTOR, INTERNATIONAL PATENT COOPERATION. DEPUTY COMMISSIONER FOR PATENT QUALITY.
|  | DIRECTOR, OFFICE OF PATENT QUALITY ASSURANCE.
|  | DEPUTY COMMISSIONER FOR PATENT EXAMINATION POLICY.
|  | ASSOCIATE COMMISSIONER FOR PATENT EXAMINATION POLICY.
|  | ASSOCIATE COMMISSIONER FOR INNOVATION AND DEVELOPMENT.
|  | ASSOCIATE COMMISSIONER FOR PATENT RESOURCES AND PLANNING.
|  | DEPUTY COMMISSIONER FOR PATENT OPERATIONS.
|  | DIRECTOR, OFFICE OF PATENT TRAINING.
|  | DEPUTY DIRECTOR, PATENT TRAINING ACADEMY.
|  | DIRECTOR, OFFICE OF CENTRAL REEXAMINATION UNIT.
|  | ASSOCIATE COMMISSIONER FOR PATENT INFORMATION MANAGEMENT.
|  | DEPUTY COMMISSIONER FOR INTERNATIONAL PATENT COOPERATION.
|  | DEPUTY COMMISSIONER FOR PATENT ADMINISTRATION.
|  | DIRECTOR, OFFICE OF PATENT LEGAL ADMINISTRATION.
|  | ASSISTANT DEPUTY COMMISSIONER FOR PATENTS OPERATIONS (4).
|  | ASSISTANT DEPUTY COMMISSIONER FOR PATENTS.
|  | DEPUTY ASSOCIATE COMMISSIONER FOR PATENT INFORMATION MANAGEMENT.
| OFFICE OF THE COMMISSIONER FOR TRADEMARKS | DEPUTY COMMISSIONER FOR TRADEMARK OPERATIONS. DEPUTY COMMISSIONER FOR TRADEMARK EXAMINATION POLICY.
|  | GROUP DIRECTOR, TRADEMARK LAW OFFICES (3).
|  | DEPUTY COMMISSIONER FOR TRADEMARK ADMINISTRATION.
| OFFICE OF THE DEPUTY ASSISTANT SECRETARY | CHIEF FINANCIAL OFFICER AND CHIEF ADMINISTRATIVE OFFICER.
| OFFICE OF THE DEPUTY ASSISTANT SECRETARY FOR RESOURCE MANAGEMENT | DEPUTY ASSISTANT SECRETARY FOR RESOURCE MANAGEMENT.
| OFFICE OF THE DEPUTY CHIEF FINANCIAL OFFICER FOR FINANCIAL MANAGEMENT | DIRECTOR, FINANCIAL REPORTING AND INTERNAL CONTROLS. DIRECTOR, OS FINANCIAL MANAGEMENT. DEPUTY DIRECTOR, OFFICE OF FINANCIAL MANAGEMENT SYSTEMS.
|  | DIRECTOR FOR FINANCIAL MANAGEMENT AND DEPUTY CHIEF FINANCIAL OFFICER.
| OFFICE OF THE DEPUTY SECRETARY | INTERIM EXECUTIVE DIRECTOR.
| OFFICE OF THE DEPUTY UNDER SECRETARY | CHIEF FINANCIAL AND ADMINISTRATIVE OFFICER. DEPUTY CHIEF FINANCIAL AND ADMINISTRATIVE OFFICER.
| OFFICE OF THE DIRECTOR | DIRECTOR, BUREAU OF ECONOMIC ANALYSIS. DEPUTY DIRECTOR, BUREAU OF ECONOMIC ANALYSIS.
|  | CHIEF ECONOMIST.
|  | CHIEF STATISTICIAN.
|  | CHIEF ADMINISTRATIVE OFFICER.
|  | ASSOCIATE DIRECTOR FOR PERFORMANCE IMPROVEMENT.
|  | SENIOR ADVISOR FOR BUSINESS TRANSFORMATION.
|  | CHIEF INNOVATION OFFICER.
|  | CHIEF INFORMATION OFFICER.
|  | SENIOR ADVISOR FOR PROJECT MANAGEMENT.
| OFFICE OF THE GENERAL COUNSEL | CHIEF, ETHICS DIVISION. DEPUTY GENERAL COUNSEL FOR ENROLLMENT AND DISCIPLINE.
|  | DEPUTY GENERAL COUNSEL FOR INTELLECTUAL PROPERTY LAW AND SOLICITOR.
|  | DEPUTY GENERAL COUNSEL FOR GENERAL LAW.
|  | DEPUTY SOLICITOR AND ASSISTANT GENERAL COUNSEL FOR INTELLECTUAL PROPERTY LAW.
| OFFICE OF THE INSPECTOR GENERAL | DEPUTY ASSISTANT INSPECTOR GENERAL FOR ECONOMIC AND STATISTICAL PROGRAM ASSESSMENT.
| OFFICE OF THE UNDER SECRETARY | PATENT TRIAL AND APPEAL BOARD EXECUTIVE. CHIEF, TRADEMARK TRIAL AND APPEAL BOARD.
|  | VICE CHIEF ADMINISTRATIVE PATENT JUDGE FOR ENGAGEMENT.
|  | VICE CHIEF ADMINISTRATIVE PATENT JUDGE.
|  | CHIEF ADMINISTRATIVE PATENT JUDGE.
|  | DEPUTY CHIEF ADMINISTRATIVE PATENT JUDGE.
|  | VICE CHIEF ADMINISTRATIVE PATENT JUDGE.
|  | DIRECTOR, OFFICE OF EQUAL EMPLOYMENT OPPORTUNITY AND DIVERSITY.
|  | DEPUTY CHIEF ADMINISTRATIVE TRADEMARK JUDGE.
|  | REGIONAL DIRECTOR—DENVER.
|  | REGIONAL DIRECTOR—SAN JOSE.
|  | REGIONAL DIRECTOR—DETROIT.
|  | VICE CHIEF ADMINISTRATIVE PATENT JUDGE (2).
|  | REGIONAL DIRECTOR—DALLAS.
| OFFICE OF THE UNDER SECRETARY OF COMMERCE FOR STANDARDS AND TECHNOLOGY | CHIEF OF STAFF FOR NATIONAL INSTITUTE FOR STANDARDS AND TECHNOLOGY. DIRECTOR, COMMUNICATIONS TECHNOLOGY LABORATORY.
|  | SENIOR ADVISOR FOR LABORATORY PROGRAMS.
|  | DIRECTOR, ADVANCED MANUFACTURING PROGRAM OFFICE.
|  | CHIEF SCIENTIST.
|  | SENIOR ADVISOR TO THE UNDER SECRETARY OF COMMERCE FOR STANDARDS AND TECHNOLOGY.
|  | SENIOR SCIENCE ADVISOR TO THE UNDER SECRETARY OF COMMERCE FOR STANDARDS AND TECHNOLOGY.
|  | ASSOCIATE DIRECTOR FOR MANAGEMENT RESOURCES.
|  | ASSOCIATE DIRECTOR FOR INNOVATION AND INDUSTRY SERVICES.
|  | ASSOCIATE DIRECTOR FOR LABORATORY PROGRAMS.
| OFFICE OF UNDER SECRETARY | DIRECTOR, ACQUISITION AND GRANTS OFFICE. CHIEF FINANCIAL OFFICER.
|  | DIRECTOR, BUDGET OFFICE.
|  | DEPUTY DIRECTOR, ACQUISITION AND GRANTS OFFICE.
|  | CHIEF ADMINISTRATIVE OFFICER.
|  | DIRECTOR, PROGRAM EVALUATION, PLANNING AND RISK MANAGEMENT OFFICE.
|  | DIRECTOR FOR WORKFORCE MANAGEMENT.
|  | DIRECTOR, FINANCE OFFICE/COMPTROLLER.
|  | DEPUTY DIRECTOR FOR WORKFORCE MANAGEMENT.
| PACIFIC MARINE ENVIRONMENTAL RESEARCH LABORATORY | DIRECTOR, OFFICE OF PACIFIC MARINE ENVIRONMENTAL LABORATORY.
| PHYSICAL MEASUREMENT LABORATORY | DEPUTY DIRECTOR, PHYSICAL MEASUREMENT LABORATORY. SENIOR ADVISOR TO THE DIRECTOR, PHYSICAL MEASUREMENT LABORATORY.
|  | DIRECTOR, PHYSICAL MEASUREMENT LABORATORY.
| RADAR OPERATIONS CENTER | DIRECTOR, RADAR OPERATIONS CENTER.
| SOUTHEAST FISHERIES SCIENCE CENTER | SCIENCE AND RESEARCH DIRECTOR, SOUTHEAST REGION.
| SPECIAL PROGRAMS OFFICE | DIRECTOR, SPECIAL PROGRAMS OFFICE. DEPUTY DIRECTOR, SPECIAL PROGRAMS OFFICE.
| STANDARDS COORDINATION OFFICE | DIRECTOR, STANDARDS COORDINATION OFFICE.
| STORM PREDICTION CENTER | DIRECTOR, STORM PREDICTION CENTER.
| TROPICAL PREDICTION CENTER | DIRECTOR, NATIONAL HURRICANE CENTER.
| WESTERN REGION | DIRECTOR, WESTERN REGION.
DEPARTMENT OF COMMERCE OFFICE OF THE INSPECTOR GENERAL | OFFICE OF AUDIT AND EVALUATION | PRINCIPAL ASSISTANT INSPECTOR GENERAL FOR AUDIT AND EVALUATION.
| OFFICE OF AUDIT AND EVALUATION | ASSISTANT INSPECTOR GENERAL FOR AUDITS.
|  | ASSISTANT INSPECTOR GENERAL FOR INTELLECTUAL PROPERTY AND SPECIAL PROGRAM AUDITS.
|  | ASSISTANT INSPECTOR GENERAL FOR ACQUISITION AND SPECIAL PROGRAM AUDITS.
| OFFICE OF COUNSEL | COUNSEL TO THE INSPECTOR GENERAL.
| OFFICE OF ECONOMIC AND STATISTICAL PROGRAM ASSESSMENT | DEPUTY ASSISTANT INSPECTOR GENERAL FOR ECONOMICS, STATISTICAL, AND PROGRAM ASSESSMENT.
| OFFICE OF INSPECTOR GENERAL | DEPUTY INSPECTOR GENERAL.
| OFFICE OF INVESTIGATIONS | ASSISTANT INSPECTOR GENERAL FOR INVESTIGATIONS.
| OFFICE OF PROGRAM ASSESSMENT | ASSISTANT INSPECTOR GENERAL FOR ADMINISTRATION.
| OFFICE OF SYSTEMS ACQUISITIONS AND IT SECURITY | DEPUTY ASSISTANT INSPECTOR GENERAL FOR SYSTEMS ACQUISITIONS, INFORMATION TECHNOLOGY SECURITY, AND PROCUREMENT.
COMMITTEE FOR PURCHASE FROM PEOPLE WHO ARE BLIND OR SEVERELY DISABLED |  | EXECUTIVE DIRECTOR.
CONSUMER PRODUCT SAFETY COMMISSION. | OFFICE OF EXECUTIVE DIRECTOR | ASSISTANT EXECUTIVE DIRECTOR FOR COMPLIANCE AND FIELD OPERATIONS. ASSISTANT EXECUTIVE DIRECTOR FOR INFORMATION AND TECH SERVICES.
|  | DIRECTOR, OFFICE OF INTERNATIONAL PROGRAMS AND INTERGOVERNMENTAL AFFAIRS.
|  | DEPUTY EXECUTIVE DIRECTOR FOR OPERATIONS SUPPORT.
| OFFICE OF HAZARD IDENTIFICATION AND REDUCTION | ASSOCIATE EXECUTIVE DIRECTOR FOR ENGINEERING SCIENCES. ASSOCIATE EXECUTIVE DIRECTOR FOR ECONOMIC ANALYSIS.
|  | ASSISTANT EXECUTIVE DIRECTOR FOR HAZARD IDENTIFICATION AND REDUCTION.
|  | DEPUTY ASSISTANT EXECUTIVE DIRECTOR FOR HAZARD IDENTIFICATION AND REDUCTION.
|  | ASSOCIATE EXECUTIVE DIRECTOR FOR EPIDEMIOLOGY.
| OFFICE OF IMPORT SURVEILLANCE | DIRECTOR, OFFICE OF IMPORT SURVEILLANCE (2).
COURT SERVICES AND OFFENDER SUPERVISION AGENCY FOR THE DISTRICT OF COLUMBIA |  | MANAGEMENT AND PROGRAM ANALYSIS OFFICER CHIEF OF STAFF. DEPUTY DIRECTOR. ASSOCIATE DIRECTOR, LEGISLATIVE, INTERGOVERNMENTAL AND PUBLIC AFFAIRS.
|  | ASSOCIATE DIRECTOR FOR RESEARCH AND EVALUATION.
|  | ASSOCIATE DIRECTOR FOR COMMUNITY JUSTICE PROGRAMS.
|  | ASSOCIATE DIRECTOR FOR ADMINISTRATION.
|  | CHIEF FINANCIAL OFFICER.
|  | ASSOCIATE DIRECTOR FOR HUMAN RESOURCES.
|  | CHIEF INFORMATION OFFICER.
|  | ASSOCIATE DIRECTOR FOR COMMUNITY SUPERVISION.
| PRETRIAL SERVICES AGENCY | DIRECTOR. DEPUTY DIRECTOR. ASSOCIATE DIRECTOR FOR MANAGEMENT AND ADMINISTRATION.
|  | ASSOCIATE DIRECTOR FOR OPERATIONS.
OFFICE OF THE SECRETARY OF DEFENSE | ASSISTANT SECRETARY OF DEFENSE (ACQUISITION) | SPECIAL ASSISTANT CONCEPTS AND PLANS. DEPUTY DIRECTOR, CONTRACT POLICY AND INTERNATIONAL CONTRACTING.
|  | DEPUTY DIRECTOR, LAND WARFARE AND MUNITIONS.
|  | DEPUTY DIRECTOR, ASSESSMENTS AND SUPPORT.
|  | DEPUTY DIRECTOR, PROGRAM ACQUISITION AND STRATEGIC SOURCING.
|  | TECHNICAL DIRECTOR, FORCE DEVELOPMENT.
|  | DEPUTY DIRECTOR, DEFENSE ACQUISITION REGULATIONS SYSTEM.
|  | DEPUTY DIRECTOR, NAVAL WARFARE.
|  | PRINCIPAL DEPUTY ASSISTANT SECRETARY OF DEFENSE (ACQUISITION).
| ASSISTANT TO THE SECRETARY OF DEFENSE FOR NUCLEAR AND CHEMICAL AND BIOLOGICAL DEFENSE PROGRAMS | DEPUTY ASSISTANT SECRETARY OF DEFENSE (NUCLEAR MATTERS).
| DEFENSE ADVANCED RESEARCH PROJECTS AGENCY | DIRECTOR, CONTRACTS MANAGEMENT OFFICE. DIRECTOR, SUPPORT SERVICES OFFICE.
|  | DIRECTOR, TACTICAL TECHNOLOGY OFFICE.
|  | DEPUTY DIRECTOR, DEFENSE ADVANCED RESEARCH PROJECTS AGENCY.
|  | SPECIAL ASSISTANT FOR PROCUREMENT POLICY STRATEGY.
|  | DIRECTOR, STRATEGIC RESOURCES.
| DEFENSE COMMISSARY AGENCY | DIRECTOR.
| DEFENSE CONTRACT AUDIT AGENCY | DEPUTY DIRECTOR, DEFENSE CONTRACT AUDIT AGENCY. ASSISTANT DIRECTOR, OPERATIONS.
|  | ASSISTANT DIRECTOR, POLICY AND PLANS.
|  | REGIONAL DIRECTOR, EASTERN.
|  | REGIONAL DIRECTOR, CENTRAL.
|  | REGIONAL DIRECTOR, WESTERN.
|  | REGIONAL DIRECTOR, MID-ATLANTIC.
|  | DIRECTOR, FIELD DETACHMENT.
|  | DIRECTOR, DEFENSE CONTRACT AUDIT AGENCY.
|  | DEPUTY REGIONAL DIRECTOR EASTERN REGION.
|  | DEPUTY REGIONAL DIRECTOR NORTHEASTERN REGION.
|  | DEPUTY REGIONAL DIRECTOR CENTRAL REGION.
|  | DEPUTY REGIONAL DIRECTOR, WESTERN REGION.
|  | DEPUTY REGIONAL DIRECTOR MID ATLANTIC REGION.
|  | ASSISTANT DIRECTOR, HUMAN CAPITAL AND RESOURCE MANAGEMENT.
|  | CORPORATE AUDIT DIRECTOR (C).
|  | CORPORATE AUDIT DIRECTOR (D).
| DEFENSE CONTRACT MANAGEMENT AGENCY | CHIEF OPERATIONS OFFICER. EXECUTIVE DIRECTOR, PORTFOLIO MANAGEMENT AND INTEGRATION.
|  | EXECUTIVE DIRECTOR, QUALITY ASSURANCE.
|  | DEPUTY DIRECTOR, DEFENSE CONTRACT MANAGEMENT AGENCY.
|  | EXECUTIVE DIRECTOR, FINANCIAL AND BUSINESS OPERATIONS AND COMPTROLLER.
|  | GENERAL COUNSEL.
|  | EXECUTIVE DIRECTOR, CONTRACTS.
|  | DEPUTY EXECUTIVE DIRECTOR, PORTFOLIO MANAGEMENT AND INTEGRATION.
|  | DEPUTY CHIEF OPERATIONS OFFICER.
| DEFENSE HUMAN RESOURCES ACTIVITY | CHIEF ACTUARY. DIRECTOR, DEFENSE MANPOWER DATA CENTER.
|  | DEPUTY DIRECTOR, DEFENSE MANPOWER DATA CENTER.
|  | DIRECTOR, HUMAN RESOURCES OPERATIONAL PROGRAMS AND ADVISORY SERVICES.
| DEFENSE INFORMATION SYSTEMS AGENCY | DIRECTOR, DEPARTMENT OF DEFENSE INFORMATION NETWORK READINESS AND SECURITY INSPECTIONS. SERVICES EXECUTIVE.
|  | NATIONAL LEADERSHIP COMMAND CAPABILITIES EXECUTIVE.
|  | EXECUTIVE DEPUTY DIRECTOR.
|  | RISK MANAGEMENT EXECUTIVE.
|  | CYBER DEVELOPMENT EXECUTIVE.
|  | DIRECTOR, PERSONNEL SECURITY PROGRAM.
|  | VICE DIRECTOR, CENTER FOR OPERATIONS.
|  | DIRECTOR, DEVELOPMENT AND BUSINESS CENTER.
|  | DIRECTOR, CENTER FOR OPERATIONS.
|  | VICE DIRECTOR, DEVELOPMENT AND BUSINESS CENTER.
|  | VICE DIRECTOR, RMC/DEPUTY COMPTROLLER.
|  | CHIEF FINANCIAL EXECUTIVE/COMPTROLLER.
|  | INSPECTOR GENERAL.
|  | PRINCIPAL DIRECTOR FOR COMPUTING SERVICES.
|  | DEPUTY CHIEF FINANCIAL EXECUTIVE/COMPTROLLER.
|  | PRINCIPAL DIRECTOR, OPERATIONS DIRECTOR.
|  | PROCUREMENT SERVICES EXECUTIVE AND HEAD OF CONTRACTING ACTIVITY.
|  | COMPONENT ACQUISITION EXECUTIVE.
|  | DIRECTOR FOR NETWORK SERVICES.
|  | VICE PRINCIPAL DIRECTOR, OPERATIONS.
|  | VICE DIRECTOR FOR NETWORK SERVICES.
|  | CHIEF TECHNOLOGY OFFICER.
|  | CONGRESSIONAL LIAISON OFFICER.
|  | DIRECTOR, ENTERPRISE INFORMATION SERVICES.
|  | DIRECTOR FOR STRATEGIC PLANNING AND INFORMATION.
|  | CHIEF CORPORATE PLANNING AND MISSION INTEGRATION.
|  | VICE PROCUREMENT SERVICES EXECUTIVE/DEPUTY CHIEF, DEFENSE INFORMATION TECHNOLOGY CONTRACTING ORGANIZATION.
|  | DIRECTOR, ENTERPRISE ENGINEERING.
|  | PROGRAM EXECUTIVE OFFICER, COMMUNICATION.
|  | CHIEF INFORMATION ASSURANCE EXECUTIVE AND PROGRAM EXECUTIVE OFFICER FOR MISSION ASSURANCE AND NETWORK OPERATIONS.
|  | TEST AND EVALUATION EXECUTIVE.
|  | DEPUTY CHIEF TECHNOLOGY OFFICER FOR MISSION ASSURANCE.
|  | DEPUTY CHIEF TECHNOLOGY OFFICER FOR ENTERPRISE SERVICES.
|  | CYBER SECURITY, RISK MANAGEMENT AND AUTHORIZING OFFICIAL EXECUTIVE.
|  | WORKFORCE MANAGEMENT EXECUTIVE.
|  | DIRECTOR, CENTER FOR OPERATIONS.
|  | SERVICES DEVELOPMENT EXECUTIVE.
|  | CYBER SECURITY RISK MANAGEMENT AND AUTHORIZING OFFICIAL EXECUTIVE.
| DEFENSE LOGISTICS AGENCY | GENERAL COUNSEL. DEPUTY COMMANDER, DLA LAND AND MARITIME.
|  | DEPUTY COMMANDER, DLA AVIATION.
|  | DEPUTY COMMANDER, DLA TROOP SUPPORT.
|  | DEPUTY GENERAL COUNSEL, DLA.
|  | DEPUTY COMMANDER, DLA DISTRIBUTION.
|  | PRINCIPAL DEPUTY COMPTROLLER.
|  | EXECUTIVE DIRECTOR, AVIATION CONTRACTING AND ACQUISITION MANAGEMENT.
|  | DIRECTOR, DLA INFORMATION OPERATION.
|  | DIRECTOR, DLA HUMAN RESOURCES.
|  | EXECUTIVE DIRECTOR, OPERATIONS AND SUSTAINMENT.
|  | EXECUTIVE DIRECTOR, SUPPORT—POLICY AND STRATEGIC PROGRAMS.
|  | CHIEF FINANCIAL OFFICER, DIRECTOR, DLA.
|  | DEPUTY DIRECTOR, INFORMATION OPERATIONS/CHIEF TECHNICAL OFFICER.
|  | DIRECTOR, DLA DISPOSITION SERVICES.
|  | EXECUTIVE DIRECTOR, TROOP SUPPORT CONTRACTING AND ACQUISITION MANAGEMENT.
|  | DIRECTOR, DLA ACQUISITION (J-7).
|  | EXECUTIVE DIRECTOR, CONTRACTING AND ACQUISITION MANAGEMENT.
|  | DEPUTY COMMANDER, DLA ENERGY.
|  | DEPUTY DIRECTOR, DLA ACQUISITION.
|  | VICE DIRECTOR, DEFENSE LOGISTICS AGENCY.
|  | CHIEF OF STAFF.
|  | PROGRAM EXECUTIVE OFFICER, DEFENSE LOGISTICS AGENCY INFORMATION OPERATIONS.
|  | EXECUTIVE DIRECTOR, JOINT CONTINGENCY ACQUISITION SUPPORT OFFICE.
| DEFENSE SECURITY SERVICE | DEPUTY PROGRAM MANAGER FOR ASSESSMENT AND INTEGRATIONS, BMDS.
| DEFENSE THREAT REDUCTION AGENCY | DIRECTOR, NUCLEAR TECHNOLOGIES DEPARTMENT. DIRECTOR, COOPERATIVE THREAT REDUCTION DEPARTMENT.
|  | DIRECTOR, COUNTER WEAPONS OF MASS DESTRUCTION TECHNOLOGIES DEPARTMENT.
|  | DIRECTOR, BASIC AND APPLIED SCIENCES DEPARTMENT.
|  | DIRECTOR, OPERATIONS, READINESS AND EXERCISES DIRECTORATE.
|  | DIRECTOR, RESEARCH AND DEVELOPMENT DIRECTORATE.
|  | DIRECTOR, INTELLIGENCE, PLANS AND RESOURCE INTEGRATION DIRECTORATE.
|  | CHIEF SCIENTIST.
|  | EXECUTIVE DIRECTOR.
|  | DIRECTOR, ACQUISITION, FINANCE AND LOGISTICS DIRECTORATE.
|  | GENERAL COUNSEL.
|  | DIRECTOR INFORMATION OPERATIONS DIRECTORATE.
|  | DIRECTOR TREATIES AND PARTNERSHIPS DEPARTMENT.
|  | DIRECTOR, CHIEF SCIENTIST AND INNOVATION DEPARTMENT.
| DIRECTOR, OPERATIONAL TEST AND EVALUATION | DEPUTY DIRECTOR FOR LIVE FIRE TEST AND EVALUATION.
| MISSILE DEFENSE AGENCY | DIRECTOR, CONTRACTING. DEPUTY DIRECTOR, JOINT NATIONAL INTEGRATION CENTER.
|  | DIRECTOR FOR SYSTEMS ENGINEERING AND INTEGRATION.
|  | DIRECTOR FOR ADVANCED TECHNOLOGY.
|  | CHIEF ENGINEER, GROUND-BASED MIDCOURSE DEFENSE.
|  | DEPUTY FOR ENGINEERING.
|  | DIRECTOR FOR OPERATIONS.
|  | PROGRAM DIRECTOR FOR BATTLE MANAGEMENT, COMMAND AND CONTROL.
|  | PROGRAM DIRECTOR, TARGETS AND COUNTERMEASURES.
|  | DIRECTOR FOR ACQUISITION.
|  | PROGRAM DIRECTOR, GROUND-BASED MIDCOURSE DEFENSE.
|  | DEPUTY PROGRAM DIRECTOR, BC.
|  | DEPUTY PROGRAM MANAGER FOR ASSESSMENT AND INTEGRATION, BALLISTIC MISSILE DEFENSE SYSTEM.
| OFFICE ASSISTANT, SECRETARY OF DEFENSE (HEALTH AFFAIRS) | GENERAL COUNSEL. DIRECTOR FINANCIAL AND RESOURCE MANAGEMENT.
|  | REGIONAL DIRECTOR, TRICARE REGIONAL OFFICE—SOUTH.
|  | MILITARY HEALTH SYSTEM CHIEF INFORMATION OFFICER.
| OFFICE OF PRINCIPAL DEPUTY UNDER SECRETARY FOR POLICY | FOREIGN RELATIONS AND DEFENSE POLICY MANAGER (SENIOR ADVISOR TO THE PRINCIPAL DEPUTY UNDER SECRETARY OF DEFENSE FOR POLICY).
| OFFICE OF THE DEPUTY CHIEF MANAGEMENT OFFICER | DIRECTOR OF ADMINISTRATION. DIRECTOR, OVERSIGHT AND COMPLIANCE.
|  | DOD SENIOR INTELLIGENCE OVERSIGHT OFFICIAL AND DEPUTY DIRECTOR OVERSIGHT AND COMPLIANCE.
|  | DIRECTOR POLICY AND DECISION SUPPORT DIVISION.
|  | DIRECTOR, ENTERPRISE PERFORMANCE DIVISION.
|  | DIRECTOR MANAGEMENT AND REQUIREMENTS ANALYSIS DIVISION.
|  | DIRECTOR, PLANNING, PERFORMANCE AND ASSESSMENT DIRECTORATE.
|  | DIRECTOR, MANAGEMENT POLICY AND ANALYSIS DIRECTORATE.
| OFFICE OF THE DIRECTOR OF DEFENSE RESEARCH AND ENGINEERING | DIRECTOR, SPACE AND SENSOR TECHNOLOGY. DIRECTOR FOR WEAPONS SYSTEMS. DIRECTOR, HUMAN PERFORMANCE, TRAINING AND BIO SYSTEMS.
|  | DEPUTY DIRECTOR, INFORMATION SYSTEMS AND CYBER TECHNOLOGIES.
|  | PRINCIPAL DEPUTY ASSISTANT SECRETARY OF DEFENSE (RESEARCH AND ENGINEERING)/DIRECTOR, PLANS AND PROGRAMS.
| OFFICE OF THE GENERAL COUNSEL | DIRECTOR DEFENSE OFFICE OF HEARINGS AND APPEALS. DIRECTOR, OFFICE OF LITIGATION.
| OFFICE OF THE JOINT CHIEFS OF STAFF | ASSISTANT DEPUTY DIRECTOR, SYNCHRONIZATION AND INTEGRATION.
|  | EXECUTIVE DIRECTOR, FORCE GENERATION.
|  | ASSISTANT DEPUTY DIRECTOR FOR COMMAND AND CONTROL.
|  | VICE DIRECTOR C4 CYBER.
|  | VICE DIRECTOR, JOINT FORCE DEVELOPMENT.
|  | EXECUTIVE DIRECTOR.
|  | VICE DEPUTY DIRECTOR REGIONAL OPERATIONS AND FORCE MANAGEMENT.
| OFFICE OF THE SECRETARY OF DEFENSE | SENIOR ADVISOR TO THE DIRECTOR, DEFENSE HUMAN RESOURCES ACTIVITY.
| OFFICE OF THE UNDER SECRETARY OF DEFENSE (ACQUISITION, TECHNOLOGY, AND LOGISTICS) | DIRECTOR, ACQUISITION RESOURCES AND ANALYSIS. PRINCIPAL DEPUTY, ACQUISITION RESOURCES AND ANALYSIS.
|  | DIRECTOR FOR ADMINISTRATION.
|  | DIRECTOR, DEFENSE PROCUREMENT AND ACQUISITION POLICY.
|  | DEPUTY DIRECTOR, TREATY COMPLIANCE AND HOMELAND DEFENSE.
|  | DEPUTY DIRECTOR, ACQUISITION TECHNOLOGY.
|  | DEPUTY DIRECTOR, ENTERPRISE INFORMATION.
|  | DEPUTY DIRECTOR, OSD STUDIES AND FEDERALLY FUNDED RESEARCH AND DEVELOPMENT CENTER MANAGEMENT.
|  | PRINCIPAL DEPUTY DIRECTOR, ADMINISTRATION.
|  | DEPUTY DIRECTOR FOR PROGRAM DEVELOPMENT AND IMPLEMENTATION.
| OFFICE OF THE UNDER SECRETARY OF DEFENSE (COMPTROLLER) | DEPUTY CHIEF FINANCIAL OFFICER.
| OFFICE OF THE UNDER SECRETARY OF DEFENSE (PERSONNEL AND READINESS) | CHIEF OF STAFF.
| OFFICE OF THE UNDER SECRETARY OF DEFENSE (POLICY) | SPECIAL ASSISTANT (CAREER BROADENING).
|  | SPECIAL ASSISTANT (CAREER BROADENING).
| PENTAGON FORCE PROTECTION AGENCY | PRINCIPAL DEPUTY DIRECTOR, PENTAGON FORCE PROTECTION AGENCY. DIRECTOR, PENTAGON FORCE PROTECTION AGENCY.
|  | ASSISTANT DIRECTOR, LAW ENFORCEMENT.
| REGIONAL MANAGERS | ASSISTANT DIRECTOR, INTEGRITY AND QUALITY ASSURANCE.
| WASHINGTON HEADQUARTERS SERVICES | DEPUTY DIRECTOR, DEFENSE FACILITIES DIRECTORATE. DEPUTY DIRECTOR, HUMAN RESOURCES DIRECTORATE.
|  | DIRECTOR, FACILITIES SERVICES DIRECTORATE.
|  | DIRECTOR, HUMAN RESOURCES DIRECTORATE.
|  | DIRECTOR, DEPARTMENT OF DEFENSE CONSOLIDATED ADJUDICATIONS FACILITY.
|  | DIRECTOR, ACQUISITION DIRECTORATE.
|  | DIRECTOR, POLICY, PLANS AND REQUIREMENTS.
|  | PRINCIPAL ASSISTANT RESPONSIBLE FOR CONTRACTING.
DEPARTMENT OF THE AIR FORCE | AERONAUTICAL SYSTEMS CENTER | PROGRAM EXECUTIVE OFFICER FOR AGILE COMBAT SUPPORT. PROGRAM EXECUTIVE OFFICER, MOBILITY AIRCRAFT.
|  | EXECUTIVE DIRECTOR, AIR FORCE LIFE CYCLE MANAGEMENT CENTER.
| AIR ARMAMENT CENTER | DIRECTOR, ENGINEERING AND TECHNICAL MANAGEMENT.
| AIR COMBAT COMMAND | DIRECTOR, ACQUISITION MANAGEMENT AND INTEGRATION CENTER.
|  | DEPUTY DIRECTOR OF LOGISTICS, ENGINEERING, AND FORCE PROTECTION.
| AIR EDUCATION AND TRAINING COMMAND | DIRECTOR, INTERNATIONAL TRAINING AND EDUCATION. DIRECTOR, LOGISTICS, INSTALLATIONS AND MISSION SUPPORT.
| AIR FORCE AUDIT AGENCY (FIELD OPERATING AGENCY) | ASSISTANT AUDITOR GENERAL, ACQUISITION, LOGISTICS AND FINANCIAL AUDITS. ASSISTANT AUDITOR GENERAL, OPERATIONS AND SUPPORT AUDITS.
| AIR FORCE MATERIEL COMMAND | DIRECTOR, NATIONAL MUSEUM OF THE UNITED STATES AIR FORCE. DIRECTOR OF PROPULSION.
|  | DIRECTOR INSTALLATIONS.
|  | DIRECTOR OF ENGINEERING AND TECHNICAL MANAGEMENT, F-35 LIGHTNING II JOINT PROGRAM OFFICE.
|  | EXECUTIVE DIRECTOR, AIR FORCE MATERIEL COMMAND.
|  | EXECUTIVE DIRECTOR, AIR FORCE NUCLEAR WEAPONS CENTER.
|  | DIRECTOR, MANPOWER, PERSONNEL AND SERVICES.
|  | PROGRAM EXECUTIVE OFFICER FOR BUSINESS ENTERPRISE SYSTEMS.
|  | DIRECTOR OF RESOURCES.
|  | DIRECTOR, FINANCIAL MANAGEMENT.
|  | DIRECTOR OF CONTRACTING (2).
| AIR FORCE MATERIEL COMMAND LAW OFFICE | DIRECTOR, AIR FORCE MATERIEL COMMAND LAW OFFICE. COMMAND COUNSEL.
| AIR FORCE OFFICE OF SAFETY AND AIR FORCE SAFETY CENTER (FIELD OPERATING AGENCY) | DEPUTY CHIEF OF SAFETY.
| AIR FORCE OFFICE OF SCIENTIFIC RESEARCH | DIRECTOR AIR FORCE OFFICE OF SCIENTIFIC RESEARCH. DIRECTOR, MATHEMATICS, INFO & LIFE SCIENCES.
| AIR FORCE OFFICE OF SPECIAL INVESTIGATIONS (FIELD OPERATING AGENCY) | EXECUTIVE DIRECTOR, DEFENSE CYBER CRIME CENTER.
| AIR FORCE OPERATIONAL TEST AND EVALUATION CENTER (DIRECT REPORTING UNIT) | EXECUTIVE DIRECTOR, AIR FORCE OPERATIONAL TEST AND EVALUATION CENTER.
| AIR FORCE PERSONNEL CENTER (FIELD OPERATING AGENCY) | EXECUTIVE DIRECTOR, AIR FORCE PERSONNEL CENTER. DIRECTOR OF PERSONNEL OPERATIONS.
| AIR FORCE RESEARCH LABORATORY | DIRECTOR, MATERIALS AND MANUFACTURING. DIRECTOR, PLANS AND PROGRAMS.
|  | EXECUTIVE DIRECTOR, AIR FORCE RESEARCH LABORATORY.
| AIR FORCE RESERVE COMMAND | DIRECTOR OF STAFF.
| AIR FORCE REVIEW BOARDS AGENCY (AIR FORCE REVIEW BOARDS AGENCY)—FIELD OPERATING AGENCY | DEPUTY FOR AIR FORCE REVIEW BOARDS.
| AIR FORCE SPACE COMMAND | EXECUTIVE DIRECTOR, AIR FORCE SPACE COMMAND.
| AIR FORCE SPECIAL OPERATIONS COMMAND | EXECUTIVE DIRECTOR AIR FORCE SPECIAL OPERATIONS COMMAND.
| AIR FORCE STUDIES AND ANALYSES AGENCY (DIRECT REPORTING UNIT (DRU)) | PRINCIPAL DEPUTY DIRECTOR, STUDIES AND ANALYSES, ASSESSMENTS AND LESSONS LEARNED. DIRECTOR, AIR FORCE STUDIES AND ANALYSES, ASSESSMENTS AND LESSONS LEARNED.
| AIR LOGISTICS CENTER, OGDEN | DIRECTOR, ENGINEERING AND TECHNICAL MANAGEMENT. DIRECTOR OF CONTRACTING.
| AIR LOGISTICS CENTER, OKLAHOMA CITY | DIRECTOR OF LOGISTICS, AIR FORCE SUSTAINMENT CENTER. DIRECTOR OF ENGINEERING AND TECHNICAL MANAGEMENT.
|  | DIRECTOR, 448TH SUPPLY CHAIN MANAGEMENT WING.
|  | DIRECTOR OF CONTRACTING.
| AIR LOGISTICS CENTER, WARNER ROBINS | DIRECTOR OF CONTRACTING.
| AUDITOR GENERAL | ASSISTANT AUDITOR GENERAL, FIELD OFFICES DIRECTORATE. AUDITOR GENERAL OF THE AIR FORCE.
| CIVIL ENGINEER | DEPUTY DIRECTOR OF CIVIL ENGINEERS.
| CONTRACTING | DIRECTOR, CONTRACTING, AIR FORCE MATERIEL COMMAND.
| DEPARTMENT OF THE AIR FORCE | DEPUTY DIRECTOR, LEGISLATIVE LIAISON. DIRECTOR, INSTALLATION SUPPORT.
|  | DIRECTOR, INSTALLATION, LOGISTICS AND MISSION SUPPORT.
|  | EXECUTIVE DIRECTOR, AIR NATIONAL GUARD.
|  | DEPUTY DIRECTOR OF OPERATIONS.
|  | DIRECTOR, CIVILIAN FORCE MANAGEMENT.
|  | DEPUTY DIRECTOR, SECURITY, SPECIAL PROGRAM OVERSIGHT, AND INFORMATION PROTECTION.
|  | CHIEF INFORMATION OFFICER AND DEPUTY DIRECTOR, PLANS AND INTEGRATION.
|  | EXECUTIVE DIRECTOR, AIR FORCE INSTALLATION AND MISSION SUPPORT CENTER.
|  | CHIEF, SCIENCE AND TECHNOLOGY.
|  | EXECUTIVE DIRECTOR.
|  | ASSOCIATE DEPUTY ASSISTANT SECRETARY FOR PROGRAMS.
|  | DEPUTY DIRECTOR OF LOGISTICS.
|  | DEPUTY ASSISTANT SECRETARY (LOGISTICS).
|  | DEPUTY DIRECTOR, SECURITY FORCES.
|  | DIRECTOR OF COMMUNICATIONS.
|  | DEPUTY DIRECTOR, STRATEGY, CONCEPTS AND ASSESSMENTS.
|  | DIRECTOR, SPACE SECURITY AND DEFENSE PROGRAM.
|  | DIRECTOR, FINANCIAL MANAGEMENT AND COMPTROLLER.
|  | DEPUTY DIRECTOR, REQUIREMENTS.
|  | DIRECTOR OF POLICY, PROGRAMS AND STRATEGY, INTERNATIONAL AFFAIRS.
|  | AIR FORCE PROGRAM EXECUTIVE OFFICER FOR COMBAT AND MISSION SUPPORT.
|  | DIRECTOR, CYBER CAPABILITIES AND COMPLIANCE.
|  | DIRECTOR, HEADQUARTERS AIR FORCE INFORMATION MANAGEMENT.
|  | DEPUTY DIRECTOR OF POLICY, PROGRAMS AND STRATEGY, INTERNATIONAL AFFAIRS.
|  | DIRECTOR, ENGINEERING AND TECHNICAL MANAGEMENT (2).
|  | DIRECTOR OF CONTRACTING.
|  | DIRECTOR, AIR FORCE CIVIL ENGINEER CENTER.
|  | DEPUTY DIRECTOR, AIR, SPACE AND INFORMATION OPERATIONS.
|  | DEPUTY DIRECTOR, STRATEGIC PLANS, PROGRAMS, REQUIREMENTS AND ANALYSES.
|  | DIRECTOR OF LOGISTICS AND LOGISTICS SERVICES.
|  | DIRECTOR, LOGISTICS, ENGINEERING AND FORCE PROTECTION.
|  | DEPUTY DIRECTOR OF LOGISTICS.
|  | DEPUTY DIRECTOR, INFORMATION DOMINANCE.
|  | DEPUTY DIRECTOR, STRATEGIC PLANNING.
|  | DEPUTY CHIEF FINANCIAL OFFICER.
|  | DIRECTOR, DIVERSITY AND INCLUSION.
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE.
| DEPUTY CHIEF OF STAFF, AIR AND SPACE OPERATIONS | DEPUTY DIRECTOR OF OPERATIONAL REQUIREMENTS. DIRECTOR OF WEATHER.
|  | ASSOCIATE DEPUTY CHIEF OF STAFF OPERATIONS, PLANS AND REQUIREMENTS.
|  | DEPUTY DIRECTOR, OPERATIONS AND READINESS.
| DEPUTY CHIEF OF STAFF, PERSONNEL | DEPUTY DIRECTOR OF SERVICES. DEPUTY DIRECTOR, MILITARY FORCE MANAGEMENT.
|  | ASSISTANT DEPUTY CHIEF OF STAFF MANPOWER AND PERSONNEL.
|  | DIRECTOR, PLANS AND INTEGRATION.
|  | DIRECTOR, FORCE DEVELOPMENT.
|  | DEPUTY DIRECTOR, MANPOWER, ORGANIZATION AND RESOURCES.
| DEPUTY CHIEF OF STAFF, PLANS AND PROGRAMS | DEPUTY DIRECTOR OF STRATEGIC PLANNING. ASSISTANT DEPUTY CHIEF OF STAFF, STRATEGIC PLANS AND REQUIREMENTS.
| DEPUTY UNDER SECRETARY (INTERNATIONAL AFFAIRS) | DEPUTY UNDER SECRETARY (INTERNATIONAL AFFAIRS).
| DIRECTED ENERGY DIRECTORATE | DIRECTOR, DIRECTED ENERGY.
| DIRECTORATE OF SPACE AND NUCLEAR DETERRENCE | DEPUTY ASSISTANT CHIEF OF STAFF, STRATEGIC DETERRENCE AND NUCLEAR INTEGRATION. ASSOCIATE ASSISTANT CHIEF OF STAFF STRATEGIC DETERRENCE AND NUCLEAR INTEGRATION.
| ELECTRONIC SYSTEMS CENTER | PROGRAM EXECUTIVE OFFICER, BATTLE MANAGEMENT. DIRECTOR, ENGINEERING AND TECHNICAL MANAGEMENT.
| ENGINEERING AND TECHNICAL MANAGEMENT | DIRECTOR, ENGINEERING AND TECHNICAL MANAGEMENT.
| FINANCIAL MANAGEMENT AND COMPTROLLER | DEPUTY DIRECTOR, FINANCIAL MANAGEMENT.
| HUMAN EFFECTIVENESS DIRECTORATE | DIRECTOR, HUMAN EFFECTIVENESS DIRECTORATE.
| INFORMATION DIRECTORATE | DIRECTOR INFORMATION.
| JOINT STAFF | DIRECTOR, JOINT INFORMATION OPERATIONS WARFARE CENTER.
| JUDGE ADVOCATE GENERAL | DIRECTOR, ADMINISTRATIVE LAW.
| LOGISTICS | DEPUTY DIRECTOR, LOGISTICS, INSTALLATIONS AND MISSION SUPPORT.
| OFFICE DEPUTY ASSISTANT SECRETARY BUDGET | ASSOCIATE DEPUTY ASSISTANT SECRETARY FOR BUDGET. DIRECTOR, BUDGET INVESTMENT.
| OFFICE DEPUTY ASSISTANT SECRETARY CONTRACTING | ASSOCIATE DEPUTY ASSISTANT SECRETARY (CONTRACTING).
| OFFICE DEPUTY ASSISTANT SECRETARY COST AND ECONOMICS | DEPUTY ASSISTANT SECRETARY (COST AND ECONOMICS). ASSOCIATE DEPUTY ASSISTANT SECRETARY (COST AND ECONOMICS).
| OFFICE DEPUTY ASSISTANT SECRETARY FINANCIAL OPERATIONS | ASSOCIATE DEPUTY ASSISTANT SECRETARY (FINANCIAL OPERATIONS).
| OFFICE DEPUTY ASSISTANT SECRETARY FINANCIAL OPERATIONS | DEPUTY ASSISTANT SECRETARY (PLANS, SYSTEMS AND ANALYSIS).
| OFFICE DEPUTY ASSISTANT SECRETARY INSTALLATIONS | DEPUTY ASSISTANT SECRETARY (INSTALLATIONS).
| OFFICE DEPUTY ASSISTANT SECRETARY SCIENCE, TECHNOLOGY AND ENGINEERING | SPECIAL ASSISTANT TO THE DEPUTY ASSISTANT SECRETARY SCIENCE, TECHNOLOGY AND ENGINEERING.
| OFFICE OF ADMINISTRATIVE ASSISTANT TO THE SECRETARY | EXECUTIVE DIRECTOR, OFFICE OF SPECIAL INVESTIGATIONS. ADMINISTRATIVE ASSISTANT.
|  | DIRECTOR SECURITY, SPECIAL PROGRAM OVERSIGHT AND INFORMATION PROTECTION.
|  | DEPUTY ADMINISTRATIVE ASSISTANT.
| OFFICE OF ASSISTANT SECRETARY AIR FORCE FOR ACQUISITION | DIRECTOR OF CONTRACTING (SPECIAL ACCESS PROGRAMS). ASSOCIATE DEPUTY ASSISTANT SECRETARY OF THE AIR FORCE FOR SCIENCE, TECHNOLOGY AND ENGINEERING.
|  | DIRECTOR, INFORMATION DOMINANCE PROGRAMS.
|  | DEPUTY ASSISTANT SECRETARY (SCIENCE, TECHNOLOGY AND ENGINEERING).
|  | DEPUTY ASSISTANT SECRETARY (ACQUISITION INTEGRATION).
|  | DIRECTOR OF CONTRACTING, AIR FORCE RAPID CAPABILITIES OFFICE.
|  | ASSOCIATE DEPUTY ASSISTANT SECRETARY (ACQUISITION INTEGRATION).
| OFFICE OF ASSISTANT SECRETARY AIR FORCE FOR FINANCIAL MANAGEMENT AND COMPTROLLER | CHIEF INFORMATION OFFICER.
| OFFICE OF ASSISTANT SECRETARY AIR FORCE, INSTALLATIONS, ENVIRONMENT, AND ENERGY | DEPUTY ASSISTANT SECRETARY (ENERGY).
| OFFICE OF ASSISTANT SECRETARY OF THE AIR FORCE FOR MANPOWER AND RESERVE AFFAIRS | DEPUTY ASSISTANT SECRETARY FOR RESERVE AFFAIRS.
| OFFICE OF PUBLIC AFFAIRS | DEPUTY DIRECTOR, PUBLIC AFFAIRS.
| OFFICE OF THE CHIEF OF STAFF | DEPUTY DIRECTOR OF STAFF, HEADQUARTERS UNITED STATES AIR FORCE.
| OFFICE OF THE GENERAL COUNSEL | DEPUTY GENERAL COUNSEL (INTELLIGENCE, INTERNATIONAL AND MILITARY AFFAIRS). PRINCIPAL DEPUTY GENERAL COUNSEL.
|  | DEPUTY GENERAL COUNSEL (INSTALLATIONS, ENERGY AND ENVIRONMENT).
| OFFICE OF THE SECRETARY | DEPUTY DIRECTOR, AIR FORCE REVIEW BOARDS AGENCY. DIRECTOR, AIR FORCE RAPID CAPABILITIES OFFICE.
|  | DEPUTY DIRECTOR, AIR FORCE RAPID CAPABILITIES OFFICE.
| OFFICE OF THE UNDER SECRETARY | ASSOCIATE DEPUTY UNDER SECRETARY OF THE AIR FORCE (SPACE) AND DEPUTY DIRECTOR PRINCIPAL DEPARTMENT OF DEFENSE SPACE ADVISOR STAFF.
| RESOURCES | DIRECTOR OF RESOURCE INTEGRATION.
| SENSORS DIRECTORATE | DIRECTOR SENSORS.
| SPACE AND MISSILE SYSTEMS CENTER | DIRECTOR, MILITARY SATELLITE COMMUNICATIONS DIRECTORATE. DIRECTOR, LAUNCH ENTERPRISE.
| TEST AND EVALUATION | DIRECTOR, TEST AND EVALUATION. DEPUTY DIRECTOR, TEST AND EVALUATION.
| UNITED STATES CENTRAL COMMAND | DIRECTOR OF RESOURCES, REQUIREMENTS, BUDGET AND ASSESSMENT. DEPUTY DIRECTOR OF LOGISTICS AND ENGINEERING.
|  | DEPUTY DIRECTOR OF OPERATIONS INTERAGENCY ACTION GROUP.
| UNITED STATES NORTHERN COMMAND | DIRECTOR, JOINT EXERCISES AND TRAINING. DEPUTY COMMANDER, JOINT FORCES HEADQUARTERS—NATIONAL CAPITAL REGION.
|  | DIRECTOR, PROGRAMS AND RESOURCES.
|  | DIRECTOR OF INTERAGENCY.
| UNITED STATES SPECIAL OPERATIONS COMMAND | DIRECTOR AND CHIEF INFORMATION OFFICER FOR SPECIAL OPERATIONS NETWORKS AND COMMUNICATIONS CENTER. DIRECTOR, PLANS, POLICY AND STRATEGY.
|  | DEPUTY DIRECTOR, CENTER FOR SPECIAL OPERATIONS ACQUISITION AND LOGISTICS.
|  | CHIEF FINANCIAL OFFICER.
|  | DIRECTOR FOR ACQUISITION.
|  | PRESIDENT, JOINT SPECIAL OPERATIONS UNIVERSITY.
| UNITED STATES STRATEGIC COMMAND | DIRECTOR, GLOBAL INNOVATION STRATEGY CENTER. ASSOCIATE DIRECTOR CAPABILITY AND RESOURCE.
|  | DIRECTOR, JOINT EXERCISES AND TRAINING.
|  | DIRECTOR, COMMAND, CONTROL, COMMUNICATIONS AND COMPUTER SYSTEMS.
|  | DEPUTY DIRECTOR, CAPABILITY AND RESOURCE INTEGRATION.
|  | DEPUTY DIRECTOR, PLANS AND POLICY, USSTRATCOM.
|  | DIRECTOR, CAPABILITY AND RESOURCE INTEGRATION, USSTRATCOM C2 FAC MGMT PMO.
|  | TECHNICAL DIRECTOR, JOINT WARFARE ANALYSIS CENTER.
| UNITED STATES TRANSPORTATION COMMAND | DIRECTOR, ACQUISITION. EXECUTIVE DIRECTOR.
|  | DIRECTOR, PROGRAM ANALYSIS AND FINANCIAL MANAGEMENT.
|  | EXECUTIVE DIRECTOR AND DEPUTY CHIEF INFORMATION OFFICER.
|  | DEPUTY DIRECTOR, STRATEGY, POLICY AND LOGISTICS.
DEPARTMENT OF THE ARMY | ARMY ACQUISITION EXECUTIVE | DEPUTY PROGRAM EXECUTIVE OFFICER, COMMAND CONTROL AND COMMUNICATIONS TACTICAL. PROGRAM EXECUTIVE OFFICER ENTERPRISE INFORMATION SYSTEMS.
|  | DEPUTY PROGRAM EXECUTIVE OFFICER FOR AVIATION.
|  | DEPUTY PROGRAM EXECUTIVE OFFICER FOR SOLDIER.
|  | PROGRAM EXECUTIVE OFFICER SIMULATION, TRAINING AND INSTRUMENTATION.
|  | DEPUTY PROGRAM EXECUTIVE OFFICER, INTELLIGENCE, ELECTRONIC WARFARE AND SENSORS.
|  | DEPUTY PROGRAM EXECUTIVE OFFICER, COMBAT SUPPORT AND COMBAT SERVICE SUPPORT.
|  | DEPUTY PROGRAM EXECUTIVE OFFICER GROUND COMBAT SYSTEMS.
|  | DEPUTY PROGRAM EXECUTIVE OFFICER, ENTERPRISE INFORMATION SYSTEMS.
|  | DEPUTY PROGRAM EXECUTIVE OFFICER (SIMULATION, TRAINING AND INSTRUMENTATION).
|  | PROGRAM EXECUTIVE OFFICER COMBAT SUPPORT AND COMBAT SERVICE SUPPORT.
|  | DEPUTY JOINT PROGRAM EXECUTIVE OFFICER FOR CHEMICAL AND BIOLOGICAL DEFENSE.
|  | DEPUTY PROGRAM EXECUTIVE OFFICER, MISSILES AND SPACE (FIRES).
|  | PROGRAM EXECUTIVE OFFICER ASSEMBLED CHEMICAL WEAPONS ALTERNATIVE.
|  | JOINT PEO FOR CHEMICAL AND BIOLOGICAL DEFENSE.
|  | PROGRAM EXECUTIVE OFFICER, INTELLIGENCE, ELECTRONIC WARFARE AND SENSORS.
|  | CHIEF SCIENCE AND TECHNOLOGY ADVISOR.
|  | PROGRAM EXECUTIVE OFFICER—AMMUNITION.
|  | PROGRAM EXECUTIVE OFFICER—COMMAND CONTROL AND COMMUNICATIONS (TACTICAL).
|  | PROGRAM EXECUTIVE OFFICER MISSILES AND SPACE.
| ARMY AUDIT AGENCY | THE AUDITOR GENERAL, U.S. ARMY. PRINCIPAL DEPUTY AUDITOR GENERAL.
|  | DEPUTY AUDITOR GENERAL, ACQUISITION AND LOGISTICS AUDITS.
|  | DEPUTY AUDITOR GENERAL, MANPOWER AND TRAINING AUDITS.
|  | DEPUTY AUDITOR GENERAL, INSTALLATION, ENERGY AND ENVIRONMENT AUDITS.
|  | DEPUTY AUDITOR GENERAL, FINANCIAL MANAGEMENT AUDITS.
| ARMY CENTER OF MILITARY HISTORY (HQDA FIELD OPERATING AGENCY AND STAFF SUPPORT AGENCY) | DIRECTOR, U.S. ARMY CENTER OF MILITARY HISTORY/CHIEF OF MILITARY HISTORY.
| ARMY RESEARCH INSTITUTE (DEPUTY CHIEF OF STAFF FOR PERSONNEL, FIELD OPERATING AGENCY) | DIRECTOR, UNITED STATES ARMY RESEARCH INSTITUTE AND CHIEF PSYCHOLOGIST.
| ARMY RESEARCH OFFICE | DIRECTOR, ARMY RESEARCH OFFICE.
| AVIATION AND MISSILE RESEARCH DEVELOPMENT AND ENGINEERING CENTER (RESEARCH DEVELOPMENT AND ENGINEERING CENTER) | DIRECTOR FOR SYSTEMS SIMULATION, SOFTWARE, AND INTEGRATION. DIRECTOR FOR AVIATION AND MISSILE RESEARCH, DEVELOPMENT AND ENGINEERING CENTER.
|  | DIRECTOR FOR ENGINEERING.
|  | DIRECTOR FOR AVIATION DEVELOPMENT.
| AVIATION ENGINEERING DIRECTORATE | DIRECTOR OF AVIATION ENGINEERING. DIRECTOR FOR WEAPONS DEVELOPMENT AND INTEGRATION.
| CHIEF INFORMATION OFFICER/G-6 | DEPUTY CHIEF INFORMATION OFFICER/G-6. DIRECTOR FOR ARMY ARCHITECTURE INTEGRATION CELL.
|  | DIRECTOR, GOVERNANCE, ACQUISITION/CHIEF KNOWLEDGE OFFICER.
|  | DIRECTOR, CYBERSECURITY.
| COLD REGIONS RESEARCH AND ENGINEERING LABORATORY HANOVER, NEW HAMPSHIRE | DIRECTOR, COLD REGIONS RESEARCH AND ENGINEERING LABORATORY.
| COMMUNICATIONS ELECTRONICS COMMAND RESEARCH, DEVELOPMENT AND ENGINEERING CENTER | DIRECTOR—NIGHT VISION/ELECTROMAGNETICS SENSORS DIRECTORATE. DIRECTOR, SPACE AND TERRESTRIAL COMMITTEE DIRECTORATE.
|  | DIRECTOR, INTELLIGENCE AND INFORMATION WARFARE DIRECTORATE.
|  | DIRECTOR, COMMAND POWER AND INTEGRATION DIRECTORATE.
|  | DIRECTOR, COMMUNICATIONS-ELECTRONICS RESEARCH, DEVELOPMENT AND ENGINEERING CENTER.
| CONSTRUCTION ENGINEERING RESEARCH LABORATORY CHAMPAIGN, ILLINOIS | DIRECTOR, CONSTRUCTION ENGINEERING RESEARCH LABORATORIES.
| DIRECTORATE OF CIVIL WORKS | CHIEF, PROGRAMS MANAGEMENT DIVISION. DIRECTOR OF CIVIL WORKS.
|  | CHIEF, ENGINEERING AND CONSTRUCTION DIVISION.
|  | CHIEF, OPERATIONS DIVISION AND REGULATORY COMMUNITY OF PRACTICE.
|  | CHIEF, PLANNING AND POLICY DIVISION/COMMUNITY OF PRACTICE.
| DIRECTORATE OF MILITARY PROGRAMS | DIRECTOR OF MILITARY PROGRAMS. CHIEF, ENVIRONMENTAL COMMUNITY OF PRACTICE.
|  | CHIEF, INTERAGENCY AND INTERNATIONAL SERVICES DIVISION.
|  | CHIEF, INSTALLATION SUPPORT COMMUNITY OF PRACTICE.
| DIRECTORATE OF RESEARCH AND DEVELOPMENT | DEPUTY DIRECTOR OF RESEARCH AND DEVELOPMENT.
| DIRECTORS OF ENGINEERING AND TECHNICAL SERVICES | REGIONAL BUSINESS DIRECTOR (NORTHWESTERN DIVISION). REGIONAL BUSINESS DIRECTOR (SOUTH ATLANTIC DIVISION).
|  | REGIONAL BUSINESS DIRECTOR (GREAT LAKES, OHIO RIVER DIVISION).
|  | REGIONAL BUSINESS DIRECTOR (NORTH ATLANTIC DIVISION).
|  | REGIONAL BUSINESS DIRECTOR (PACIFIC OCEAN DIVISION).
|  | REGIONAL BUSINESS DIRECTOR (SOUTHWESTERN DIVISION).
|  | REGIONAL BUSINESS DIRECTOR (SOUTH PACIFIC DIVISION).
|  | REGIONAL BUSINESS DIRECTOR, (MISSISSIPPI VALLEY DIVISION).
| DIRECTORS OF PROGRAMS MANAGEMENT | DIVISION PROGRAMS DIRECTOR (SOUTH ATLANTIC DIVISION). DIVISION PROGRAMS DIRECTOR (GREAT LAKE AND OHIO RIVER DIVISION).
|  | DIVISION PROGRAMS DIRECTOR (SOUTHWESTERN DIVISION).
|  | DIVISION PROGRAMS DIRECTOR (PACIFIC OCEAN DIVISION).
|  | DIVISION PROGRAMS DIRECTOR (NORTH ATLANTIC DIVISION).
|  | DIVISION PROGRAMS DIRECTOR (NORTHWESTERN DIVISION).
|  | DIVISION PROGRAMS DIRECTOR.
|  | DIVISION PROGRAMS DIRECTOR (SOUTH PACIFIC DIVISION).
|  | DIVISION PROGRAMS DIRECTOR, TRANSATLANTIC DIVISION.
| ENGINEER RESEARCH AND DEVELOPMENT CENTER | DIRECTOR, ENVIRONMENTAL LABORATORY. DIRECTOR, COASTAL AND HYDRAULICS LABORATORY.
|  | DEPUTY DIRECTOR ENGINEER RESEARCH AND DEVELOPMENT CENTER.
|  | DIRECTOR GEOTECHNICAL AND STRUCTURES LABORATORY.
| ENGINEER TOPOGRAPHIC LABORATORIES, CENTER OF ENGINEERS | DIRECTOR, ARMY GEOSPATIAL CENTER.
| HEADQUARTERS, UNITED STATES ARMY, EUROPE | DEPUTY CHIEF OF STAFF, G1. DEPUTY CHIEF OF STAFF G-8.
|  | DIRECTOR EUROPEAN SECURITY AND DEFENSE POLICY DEFENSE ADVISOR TO US MISSION EU.
| HEADQUARTERS, UNITED STATES ARMY, PACIFIC | STRATEGIC EFFECTS DIRECTOR TO COMMANDER, US ARMY PACIFIC. ASSISTANT CHIEF OF STAFF, G8.
| HUMAN RESEARCH AND ENGINEERING DIRECTORATE (ARMY RESEARCH LABORATORY) | DIRECTOR, COMPUTATIONAL AND INFORMATION SCIENCES DIRECTORATE.
| HUMAN RESEARCH AND ENGINEERING DIRECTORATE (ARMY RESEARCH LABORATORY) | DIRECTOR HUMAN DIMENSION SIMULATIONS AND TRAINING DIRECTORATE.
| JOINT IMPROVISED EXPLOSIVE DEVICE DEFEAT ORGANIZATION | VICE DIRECTOR, JOINT IMPROVISED EXPLOSIVE DEVICE DEFEAT ORGANIZATION. DEPUTY DIRECTOR RAPID CAPABILITY DELIVERY.
|  | CHIEF INFORMATION OFFICER.
| JOINT SPECIAL OPERATIONS COMMAND | EXECUTIVE DIRECTOR FOR RESOURCES, SUPPORT, AND INTEGRATION.
| MILITARY SURFACE DEPLOYMENT DISTRIBUTION COMMAND | DIRECTOR, TRANSPORTATION ENGINEERING AGENCY/DIRECTOR JOINT DISTRIBUTION PROCESS ANALYSIS CENTER. DEPUTY TO THE COMMANDER, SURFACE DEPLOYMENT AND DISTRIBUTION COMMAND.
| NATICK SOLDIER CENTER | DIRECTOR, NATICK SOLDIER RESEARCH AND DEVELOPMENT ENGINEERING CENTER.
| NATIONAL GUARD BUREAU | CHIEF FINANCIAL OFFICER.
| OFFICE ADMINISTRATIVE ASSISTANT TO THE SECRETARY OF ARMY | ADMINISTRATIVE ASSISTANT TO THE SECRETARY OF THE ARMY. DEPUTY ADMINISTRATIVE ASSISTANT TO THE SECRETARY OF THE ARMY/DIRECTOR FOR SHARED SERVICES.
|  | EXECUTIVE DIRECTOR UNITED STATES ARMY INFORMATION TECHNOLOGY AGENCY.
|  | EXECUTIVE DIRECTOR, UNITED STATES ARMY HEADQUARTERS SERVICES.
|  | EXECUTIVE ADVISOR TO THE ADMINISTRATIVE ASSISTANT TO THE SECRETARY OF THE ARMY.
| OFFICE ASSISTANT SECRETARY ARMY (ACQUISITION, LOGISTICS AND TECHNOLOGY) | DEPUTY ASSISTANT SECRETARY FOR RESEARCH AND TECHNOLOGY/CHIEF SCIENTIST. DEPUTY ASSISTANT SECRETARY OF THE ARMY (POLICY AND PROCUREMENT).
|  | DEPUTY ASSISTANT SECRETARY OF THE ARMY FOR PLANS, PROGRAMS AND RESOURCES.
|  | DEPUTY ASSISTANT SECRETARY OF THE ARMY FOR DEFENSE EXPORTS AND COOPERATION.
|  | DEPUTY ASSISTANT SECRETARY OF THE ARMY (ACQUISITION POLICY AND LOGISTICS), ASSISTANT SECRETARY OF THE ARMY (ACQUISITION, LOGISTICS AND TECHNOLOGY).
|  | EXECUTIVE DIRECTOR FOR ACQUISITION SERVICES, ASSISTANT SECRETARY ARMY (ACQUISITION, LOGISTICS AND TECHNOLOGY).
|  | DIRECTOR, SYSTEM OF SYSTEM ENGINEERING INTEGRATION.
|  | DIRECTOR FOR RESEARCH AND TECHNOLOGY.
|  | EXECUTIVE DIRECTOR, RAPID CAPABILITIES OFFICE.
| OFFICE ASSISTANT SECRETARY ARMY (CIVIL WORKS) | DEPUTY ASSISTANT SECRETARY OF THE ARMY (MANAGEMENT AND BUDGET).
| OFFICE ASSISTANT SECRETARY ARMY (FINANCIAL MANAGEMENT AND COMPTROLLER) | DEPUTY ASSISTANT SECRETARY OF THE ARMY (COST AND ECONOMICS). DIRECTOR OF INVESTMENT.
|  | DEPUTY ASSISTANT SECRETARY OF THE ARMY (FINANCIAL OPERATIONS).
|  | DIRECTOR OF MANAGEMENT AND CONTROL.
|  | DIRECTOR, PROGRAMS AND STRATEGY.
|  | DEPUTY DIRECTOR AND SENIOR ADVISOR FOR ARMY BUDGET (DDSA (BUDGET)).
|  | DIRECTOR, FINANCIAL INFORMATION MANAGEMENT.
|  | DIRECTOR FOR ACCOUNTABILITY AND AUDIT READINESS.
|  | DIRECTOR, MILITARY PERSONNEL AND FACILITIES.
|  | DEPUTY TO THE COMMANDER FOR FINANCIAL MANAGEMENT OPERATIONS.
| OFFICE ASSISTANT SECRETARY ARMY (INSTALLATIONS, ENERGY AND ENVIRONMENT) | DEPUTY ASSISTANT SECRETARY OF THE ARMY (ENVIRONMENT, SAFETY AND OCCUPATIONAL HEALTH). DEPUTY ASSISTANT SECRETARY OF THE ARMY (STRATEGIC INTEGRATION).
|  | DEPUTY ASSISTANT SECRETARY OF ARMY (STRATEGIC INTEGRATION).
| OFFICE ASSISTANT SECRETARY ARMY (MANPOWER AND RESERVE AFFAIRS) | DEPUTY ASSISTANT SECRETARY OF THE ARMY (ARMY REVIEW BOARDS AGENCY). DEPUTY ASSISTANT SECRETARY OF THE ARMY (DIVERSITY AND LEADERSHIP).
|  | DEPUTY ASSISTANT SECRETARY OF ARMY FOR MARKETING/DIRECTOR, ARMY MARKETING RESEARCH GROUP.
|  | DEPUTY ASSISTANT SECRETARY OF THE ARMY (PLANS AND RESOURCES).
|  | DEPUTY ASSISTANT SECRETARY OF THE ARMY (MILITARY PERSONNEL/QUALITY OF LIFE).
|  | DEPUTY ASSISTANT SECRETARY OF THE ARMY (CIVILIAN PERSONNEL)/DIRECTOR CIVILIAN SENIOR LEADER MANAGEMENT OFFICE).
| OFFICE DEPUTY COMMANDING GENERAL | EXECUTIVE DEPUTY TO THE COMMANDING GENERAL.
| OFFICE DEPUTY UNDER SECRETARY OF ARMY | ASSISTANT TO THE DUSA/DIRECTOR OF TEST AND EVALUATION.
| OFFICE OF BUSINESS TRANSFORMATION | DEPUTY CHIEF MANAGEMENT OFFICER. DIRECTOR, BUSINESS TRANSFORMATION DIRECTORATE.
|  | DEPUTY DIRECTOR, OFFICE OF BUSINESS TRANSFORMATION, OFFICE OF THE UNDER SECRETARY OF THE ARMY.
| OFFICE OF DEPUTY CHIEF OF STAFF FOR PERSONNEL | DEPUTY CHIEF OF STAFF FOR PERSONNEL.
| OFFICE OF THE DEPUTY CHIEF OF STAFF FOR RESOURCE MANAGEMENT | ASSISTANT DEPUTY CHIEF OF STAFF FOR RESOURCE MANAGEMENT, G-8/EXECUTIVE DIRECTOR FOR BUSINESS. DEPUTY CHIEF OF STAFF FOR RESOURCE MANAGEMENT.
| OFFICE OF THE INSPECTOR GENERAL | PRINCIPAL DIRECTOR TO THE INSPECTOR GENERAL (INSPECTIONS).
| OFFICE OF THE SURGEON GENERAL | DEPUTY CHIEF OF STAFF/ASSISTANT SURGEON GENERAL, FORCE MANAGEMENT. CHIEF OF STAFF.
| OFFICE, ASSISTANT CHIEF OF STAFF FOR INSTALLATION MANAGEMENT | DEPUTY ASSISTANT CHIEF OF STAFF FOR INSTALLATION MANAGEMENT. DIRECTOR OF RESOURCE INTEGRATION.
|  | DIRECTOR INSTALLATION SERVICES.
|  | CHIEF INFORMATION TECHNOLOGY OFFICER (OACSIM).
|  | DIRECTOR OF RESOURCE INTEGRATION.
| OFFICE, CHIEF ARMY RESERVE | CHIEF EXECUTIVE OFFICER. DIRECTOR OF RESOURCE MANAGEMENT AND MATERIAL.
|  | ASSISTANT CHIEF OF THE ARMY RESERVE.
|  | DIRECTOR HUMAN CAPITAL (OFFICE, CHIEF ARMY RESERVE).
| OFFICE, CHIEF OF PUBLIC AFFAIRS | PRINCIPAL DEPUTY CHIEF OF PUBLIC AFFAIRS.
| OFFICE, DEPUTY CHIEF OF STAFF, G-4 | DIRECTOR, LOGISTICS INNOVATION AGENCY. DIRECTOR FOR SUPPLY POLICY.
|  | ASSISTANT DEPUTY CHIEF OF STAFF, G-4.
|  | DIRECTOR FOR MAINTENANCE POLICY, PROGRAMS AND PROCESSES.
|  | DIRECTOR OF RESOURCE MANAGEMENT.
|  | DIRECTOR, LOGISTICS INFORMATION MANAGEMENT (2).
| OFFICE, DEPUTY CHIEF OF STAFF, G-1 | DIRECTOR FOR MANPRINT DIRECTORATE. DIRECTOR, PLANS AND RESOURCES.
|  | ASSISTANT DEPUTY CHIEF OF STAFF, G-1.
|  | DIRECTOR, CIVILIAN TALENT MANAGEMENT/DEPUTY DIRECTOR ARMY TALENT MANAGEMENT TASK FORCE.
|  | DIRECTOR, MILITARY HUMAN RESOURCES INTEGRATION.
|  | DIRECTOR, ARMY RESILIENCY DIRECTORATE, ODCS, G-1.
|  | DIRECTOR, SEXUAL HARASSMENT/ASSAULT RESPONSE AND PREVENTION.
| OFFICE, DEPUTY CHIEF OF STAFF, G-3 | ASSISTANT DEPUTY CHIEF OF STAFF FOR OPERATIONS (G-3/5/7). DEPUTY DIRECTOR FOR FORCE MANAGEMENT.
|  | DIRECTOR, CAPABILITIES INTEGRATION DIRECTORATE.
|  | DEPUTY DIRECTOR OF TRAINING AND LEADER DEVELOPMENT.
|  | DEPUTY DIRECTOR FOR PLANS AND POLICY.
|  | DEPUTY DIRECTOR OF TRAINING AND TTPEG CO-CHAIR.
| OFFICE, DEPUTY CHIEF OF STAFF, G-8 | ASSISTANT DEPUTY CHIEF OF STAFF, G-8. DIRECTOR, RESOURCES/DEPUTY DIRECTOR, FORCE DEVELOPMENT.
| RESEARCH, DEVELOPMENT AND ENGINEERING COMMAND | DEPUTY DIRECTOR, RDECOM.
| SENSORS AND ELECTRON DEVICES DIRECTORATE (ARMY RESEARCH LABORATORY) | DIRECTOR, SENSORS AND ELECTRON DEVICES DIRECTORATE.
| SURVIVABILITY/LETHALITY ANALYSIS DIRECTORATE (ARMY RESEARCH LABORATORY) | DIRECTOR, SURVIVABILITY/LETHALITY ANALYSIS DIRECTORATE.
| TANK-AUTOMOTIVE AND ARMAMENTS COMMAND | DIRECTOR INTEGRATED LOGISTICS SUPPORT CENTER. DEPUTY TO THE COMMANDER.
| TANK-AUTOMOTIVE RESEARCH, DEVELOPMENT AND ENGINEERING CENTER | DIRECTOR, RESEARCH, TECHNOLOGY DEVELOPMENT AND INTEGRATION. DIRECTOR, TANK-AUTOMOTIVE RESEARCH, DEVELOPMENT AND ENGINEERING CENTER.
|  | DIRECTOR FOR SYSTEMS INTEGRATION AND ENGINEERING.
| TRAINING AND DOCTRINE COMMAND ANALYSIS CENTER | DIRECTOR OF OPERATIONS. DIRECTOR OF OPERATIONS.
|  | DIRECTOR, TRAINING AND DOCTRINE COMMAND ANALYSIS CENTER.
| U.S. ARMY ARMAMENT RESEARCH, DEVELOPMENT AND ENGINEERING CENTER | DIRECTOR FOR ARMAMENT RESEARCH, DEVELOPMENT AND ENGINEERING. EXECUTIVE DIRECTOR, WEAPONS AND SOFTWARE ENGINEER CENTER.
|  | EXECUTIVE DIRECTOR, MUNITIONS ENGINEERING TECHNOLOGY CENTER, ARDEC.
|  | EXECUTIVE DIRECTOR, ENTERPRISE AND SYSTEMS INTEGRATION CENTER.
| U.S. ARMY COMMUNICATIONS ELECTRONICS COMMAND | DIRECTOR, SOFTWARE ENGINEERING DIRECTORATE. DEPUTY TO THE COMMANDING GENERAL/DIRECTOR LOGISTICS AND READINESS CENTER.
|  | DIRECTOR, COMMUNICATIONS-ELECTRONICS LIFE CYCLE MANAGEMENT COMMAND LOGISTICS & READINESS CENTER.
| U.S. ARMY JOINT MUNITIONS COMMAND | EXECUTIVE DIRECTOR FOR AMMUNITION. DEPUTY TO THE COMMANDER, JOINT MUNITIONS COMMAND.
| U.S. ARMY MATERIEL SYSTEMS ANALYSIS ACTIVITY | DIRECTOR, ARMY MATERIEL SYSTEMS ANALYSIS ACTIVITY. TECHNICAL DIRECTOR.
| U.S. ARMY SPECIAL OPERATIONS COMMAND. | DEPUTY TO THE COMMANDING GENERAL
| U.S. ARMY TEST AND EVALUATION COMMAND. | EXECUTIVE DIRECTOR—WHITE SANDS EXECUTIVE DIRECTOR, OPERATIONAL TEST COMMAND.
|  | DIRECTOR, ARMY EVALUATION CENTER.
|  | DIRECTOR, BALLISTIC MISSILE EVALUATION DIRECTORATE, ARMY EVALUATION CENTER.
| U.S. ARMY TRAINING AND DOCTRINE COMMAND TANK-AUTOMOTIVE RESEARCH, DEVELOPMENT AND ENGINEERING CENTER | DEPUTY CHIEF OF STAFF, G-3/5/7, TANK-AUTOMOTIVE RESEARCH, DEVELOPMENT AND ENGINEERING CENTER. DEPUTY TO THE COMMANDING GENERAL, COMBINED ARMS SUPPORT COMMAND.
|  | DEPUTY CHIEF OF STAFF G-1/4 (PERSONNEL AND LOGISTICS).
|  | DEPUTY CHIEF OF STAFF G8, TANK-AUTOMOTIVE RESEARCH, DEVELOPMENT AND ENGINEERING CENTER.
|  | DEPUTY TO THE COMMANDING GENERAL FIRES/DIRECTOR, CAPABILITIES, DEVELOPMENT AND INTEGRATION.
|  | DEPUTY TO THE COMMANDING GENERAL, SIGNAL CENTER OF EXCELLENCE.
|  | DEPUTY TO THE COMMANDING GENERAL MANEUVER SUPPORT/DIRECTOR, CAPABILITIES DEVELOPMENT AND INTEGRATION.
|  | DEPUTY TO THE COMMANDING GENERAL, COMBINED ARMS CENTER.
|  | ASSISTANT DEPUTY CHIEF OF STAFF, G-3/5/7 AND THE DEPUTY G-3/5 FOR OPERATIONS AND PLANS, US ARMY TRAINING AND DOCTRINE COMMAND.
|  | DIRECTOR, CAPABILITY DEVELOPMENT INTEGRATION DIRECTORATE (CDID).
|  | PRESIDENT, ARMY LOGISTICS UNIVERSITY.
|  | DEPUTY TO THE COMMANDING GENERAL, MANEUVER CENTER OF EXCELLENCE AND DIRECTOR, CAPABILITIES DEVELOPMENT AND INTEGRATION.
|  | DEPUTY TO THE COMMANDING GENERAL, ARMY AVIATION CENTER OF EXCELLENCE/DIRECTOR, CAPABILITIES DEVELOPMENT AND INTEGRATION.
|  | DEPUTY CHIEF OF STAFF, G6 TANK-AUTOMOTIVE RESEARCH, DEVELOPMENT AND ENGINEERING CENTER.
|  | DIRECTOR OF TRANSFORMATION, CYBER CENTER OF EXCELLENCE.
| UNITED STATES AFRICA COMMAND | DEPUTY DIRECTOR OF PROGRAM, (J5). DEPUTY DIRECTOR OF RESOURCES (J1/J8).
|  | DIRECTOR OF RESOURCES (J1/J8), UNITED STATES AFRICA COMMAND.
| UNITED STATES ARMY AVIATION AND MISSILE COMMAND (ARMY MATERIEL COMMAND) | DIRECTOR FOR TEST MEASUREMENT DIAGNOSTIC EQUIPMENT ACTIVITY. ARMY AVIATION AND MISSILE COMMAND DIRECTOR, SPECIAL PROGRAMS (AVIATION).
|  | DEPUTY TO THE COMMANDER.
|  | EXECUTIVE DIRECTOR, AVIATION AND MISSILE COMMAND LOGISTICS CENTER.
| UNITED STATES ARMY CONTRACTING COMMAND | EXECUTIVE DIRECTOR, ARMY CONTRACTING COMMAND—ABERDEEN. EXECUTIVE DIRECTOR ARMY CONTRACTING COMMAND—ROCK ISLAND.
|  | DEPUTY TO THE COMMANDING GENERAL, ARMY CONTRACTING COMMAND.
|  | DEPUTY TO THE COMMANDER, UNITED STATES ARMY EXPEDITIONARY CONTRACTING COMMAND.
|  | DEPUTY TO THE COMMANDER, MISSION INSTALLATION CONTRACTING COMMAND.
|  | EXECUTIVE DIRECTOR ARMY CONTRACTING COMMAND—REDSTONE, AL.
|  | EXECUTIVE DIRECTOR, ARMY CONTRACTING COMMAND—WARREN.
| UNITED STATES ARMY CORPS OF ENGINEERS | DIRECTOR, REAL ESTATE. DIRECTOR OF HUMAN RESOURCES.
|  | DIRECTOR OF RESOURCE MANAGEMENT.
|  | DIRECTOR FOR CORPORATE INFORMATION.
|  | DIRECTOR CONTINGENCY OPERATIONS/CHIEF, HOMELAND SECURITY OFFICE.
|  | DIRECTOR OF CONTRACTING.
|  | DIRECTOR, RESEARCH AND DEVELOPMENT AND DIRECTOR, ENGINEERING RESEARCH AND DEVELOPMENT CENTER.
|  | CHIEF MILITARY PROGRAMS INTEGRATION DIVISION.
|  | DIRECTOR, INFORMATION TECHNOLOGY LABORATORY.
| UNITED STATES ARMY CYBER COMMAND/SECOND ARMY | DEPUTY TO COMMANDER, ARMY CYBER COMMAND/2ND ARMY. DIRECTOR, ADVANCED CONCEPTS, TECHNOLOGY AND CAPABILITIES.
| UNITED STATES ARMY FORCES COMMAND | ASSISTANT DEPUTY CHIEF OF STAFF FOR LOGISTICS. DEPUTY CHIEF OF STAFF FOR RESOURCE MANAGEMENT.
|  | ASSISTANT DEPUTY CHIEF OF STAFF, G1.
|  | ASSISTANT DEPUTY CHIEF OF STAFF G-3/5/7.
|  | ASSISTANT DEPUTY CHIEF OF STAFF, G-6.
|  | DEPUTY CHIEF OF STAFF, G-1.
|  | ASSISTANT DEPUTY CHIEF OF STAFF FOR OPERATIONS, G-3/5/7.
| UNITED STATES ARMY MATERIEL COMMAND | DEPUTY CHIEF OF STAFF FOR CORPORATE INFORMATION/CHIEF INFORMATION OFFICER. ASSISTANT DEPUTY CHIEF OF STAFF, G-3/4 FOR LOGISTICS INTEGRATION.
|  | DEPUTY G-3/4 FOR CURRENT OPERATIONS.
|  | DEPUTY CHIEF OF STAFF FOR LOGISTICS, G-4.
|  | CHIEF TECHNOLOGY OFFICER.
| UNITED STATES ARMY MEDICAL RESEARCH AND MATERIEL COMMAND | PRINCIPAL ASSISTANT FOR ACQUISITION.
| UNITED STATES ARMY NETWORK ENTERPRISE TECHNOLOGY COMMAND/9TH ARMY SIGNAL COMMAND | DEPUTY TO COMMANDER/SENIOR TECHNICAL DIRECTOR/CHIEF ENGINEER.
|  | DEPUTY FOR CYBER OPERATIONS/DIRECTOR OF OPERATIONS.
| UNITED STATES ARMY NORTH | DEPUTY TO THE COMMANDING GENERAL, ARNORTH.
| UNITED STATES ARMY RESEARCH LABORATORY | DIRECTOR UNITED STATES ARMY RESEARCH LABORATORY.
| UNITED STATES ARMY SECURITY ASSISTANCE COMMAND | DEPUTY TO THE COMMANDING GENERAL.
| UNITED STATES ARMY SPACE AND MISSILE DEFENSE COMMAND | DIRECTOR, SPACE AND MISSILE DEFENSE TECHNICAL CENTER. DIRECTOR, SPACE AND CYBERSPACE TECHNOLOGY DIRECTORATE.
|  | DEPUTY TO THE COMMANDER, US ARMY SPACE AND MISSILE DEFENSE COMMAND/ARMY FORCES STRATCOM.
|  | DIRECTOR, FUTURE WARFARE CENTER.
|  | DIRECTOR, PROGRAMS AND TECHNOLOGY.
|  | DIRECTOR CAPABILITY DEV INTEGRATION DIRECTORATE, SPACE AND MISSILE DEFENSE COMMAND.
| UNITED STATES ARMY SUSTAINMENT COMMAND. | DEPUTY TO THE COMMANDER. EXECUTIVE DIRECTOR FOR LOGCAP.
|  | EXECUTIVE DIRECTOR FOR FIELD SUPPORT.
| UNITED STATES EUROPEAN COMMAND | DIRECTOR, INTERAGENCY PARTNERING, (J9). DIRECTOR, RUSSIA STRATEGIC INITIATIVE (RSI).
| UNITED STATES FORCES KOREA | DIRECTOR FOR FORCES, RESOURCES AND ASSESSMENTS (J8). DEPUTY DIRECTOR FOR TRANSFORMATION AND RESTATIONING.
| UNITED STATES SOUTHERN COMMAND | DEPUTY DIRECTOR STRATEGY AND POLICY. DIRECTOR FOR PARTNERING.
|  | DEPUTY DIRECTOR OF OPERATIONS, J3.
|  | DIRECTOR, J8 (RESOURCES AND ASSESSMENTS DIRECTORATE).
| US ARMY EDGEWOOD CHEMICAL BIOLOGICAL CENTER | DIRECTOR, ENGINEERING DIRECTORATE. DIRECTOR, RESEARCH AND TECHNOLOGY DIRECTORATE.
|  | DIRECTOR, EDGEWOOD CHEMICAL BIOLOGICAL CENTER.
|  | DIRECTOR FOR PROGRAMS INTEGRATION.
| US ARMY INSTALLATION MANAGEMENT COMMAND | REGIONAL DIRECTOR (EUROPE). REGIONAL DIRECTOR (PACIFIC).
|  | EXECUTIVE DIRECTOR/DIRECTOR OF SERVICES.
|  | DIRECTOR, HUMAN RESOURCES (IMCOM).
|  | DIRECTOR, FAMILY, MORALE, WELFARE AND RECREATION DIRECTORATE, G-9, IMCOM.
|  | REGIONAL DIRECTOR (ATLANTIC).
|  | REGIONAL DIRECTOR (CENTRAL).
|  | DIRECTOR OF FACILITIES AND LOGISTICS.
|  | DIRECTOR INSTALLATION MANAGEMENT COMMAND SUPPORT (READINESS).
|  | DIRECTOR IMCOM SUPPORT (TRAINING).
|  | DIRECTOR, SUSTAINMENT (IMCOM).
| US ARMY MEDICAL DEPARTMENT CENTER AND SCHOOL | DEPUTY TO THE COMMANDING GENERAL.
| US ARMY NATIONAL MILITARY CEMETERIES | EXECUTIVE DIRECTOR OF THE ARMY NATIONAL CEMETERIES PROGRAM. SUPERINTENDENT, ARLINGTON NATIONAL CEMETERY.
| WEAPONS AND MATERIAL RESEARCH DIRECTORATE (ARMY RESEARCH LABORATORY) | DIRECTOR WEAPONS AND MATERIALS RESEARCH DIRECTORATE.
DEPARTMENT OF THE NAVY | BUREAU OF MEDICINE AND SURGERY | EXECUTIVE DIRECTOR, BUREAU OF MEDICINE AND SURGERY. DEPUTY CHIEF, TOTAL FORCE.
|  | DIRECTOR, BUSINESS OPERATIONS/COMPTROLLER.
| CHIEF OF NAVAL OPERATIONS | ASSISTANT DEPUTY CHIEF OF NAVAL OPERATIONS, WARFARE SYSTEMS. DEPUTY DIRECTOR, AIR WARFARE.
|  | DEPUTY DIRECTOR, FLEET READINESS DIVISION.
|  | DEPUTY DIRECTOR, UNMANNED WARFARE.
|  | DEPUTY CHIEF OF NAVY RESERVE.
|  | VICE DIRECTOR NAVY STAFF.
|  | ASSISTANT DEPUTY CHIEF OF NAVAL OPERATIONS (LOGISTICS).
|  | ASSISTANT DEPUTY CHIEF OF NAVAL OPERATIONS (RESOURCES, WARFARE REQUIREMENTS AND ASSESSMENTS) N8B.
|  | ASSISTANT DEPUTY CHIEF OF NAVAL OPERATIONS FOR INFORMATION DOMINANCE (N2/N6).
|  | DIRECTOR, ASSESSMENT AND COMPLIANCE (N2/N6BC).
|  | HEAD, CAMPAIGN ANALYSIS BRANCH.
|  | FINANCIAL MANAGER AND CHIEF RESOURCES OFFICER FOR MANPOWER, PERSONNEL, TRAINING AND EDUCATION.
|  | DEPUTY DIRECTOR FOR STRATEGY AND POLICY.
|  | DIRECTOR, FLEET READINESS.
|  | DEPUTY DIRECTOR, UNDERSEA WARFARE DIVISION.
|  | DEPUTY DIRECTOR SURFACE WARFARE DIVISION.
|  | DEPUTY DIRECTOR, EXPEDITIONARY WARFARE DIVISION.
|  | ASSISTANT DEPUTY CHIEF OF NAVAL OPERATIONS, FLEET READINESS AND LOGISTICS.
|  | ASSISTANT DEPUTY CHIEF OF NAVAL OPERATIONS (MANPOWER, PERSONNEL, TRAINING AND EDUCATION).
|  | DIRECTOR NAVAL HISTORY AND HERITAGE COMMAND.
|  | DIRECTOR, SPECIAL PROGRAMS.
|  | DIRECTOR, SPECIAL PROGRAMS DIVISION (N89).
|  | DEPUTY DIRECTOR, PROGRAM DIVISION (N80B).
|  | DEPUTY DIRECTOR ENERGY AND ENVIRONMENTAL READINESS (N45B).
|  | DIRECTOR, STRATEGIC MOBILITY AND COMBAT LOGISTICS DIVISION.
|  | DEPUTY DIRECTOR, AFLOAT READINESS AND MAINTENANCE DIVISION (N43).
| COMMANDER, NAVY INSTALLATIONS COMMAND | COUNSEL, COMMANDER NAVY INSTALLATIONS COMMAND.
|  | DIRECTOR, TOTAL FORCE MANPOWER.
|  | DIRECTOR OF OPERATIONS.
|  | DIRECTOR STRATEGY AND FUTURE REQUIREMENTS.
|  | COMPTROLLER.
|  | DEPUTY COMMANDER.
| COMMANDER, SUBMARINE FORCES | EXECUTIVE DIRECTOR, SUBMARINE FORCES.
| DEPARTMENT OF THE NAVY | DEPUTY ASSISTANT FOR ADMINISTRATION.
| FLEET AND INDUSTRIAL SUPPLY CENTERS | VICE COMMANDER, GLOBAL LOGISTICS SUPPORT.
| MARINE CORPS COMBAT DEVELOPMENT COMMAND; QUANTICO, VIRGINIA | EXECUTIVE DEPUTY TRAINING AND EDUCATION COMMAND.
| MARINE CORPS LOGISTICS COMMAND ALBANY, GEORGIA | EXECUTIVE DEPUTY, MARINE CORPS LOGISTICS COMMAND.
| MARINE CORPS SYSTEMS COMMAND | EXECUTIVE DIRECTOR. CHIEF ENGINEER, MARINE CORPS SYSTEMS COMMAND.
|  | DEPUTY TO THE COMMANDER FOR RESOURCE MANAGEMENT.
| MILITARY SEALIFT COMMAND | DIRECTOR, CONTRACTOR OPERATED SHIPS. DIRECTOR, GOVERNMENT OPERATIONS NFAF AND SPECIAL MISSION SHIPS.
|  | COUNSEL, MILITARY SEALIFT COMMAND.
|  | COMPTROLLER.
|  | DIRECTOR, MILITARY SEALIFT COMMAND MANPOWER AND PERSONNEL.
|  | EXECUTIVE DIRECTOR.
| NAVAL AIR SYSTEMS COMMAND HEADQUARTERS | F-35 JOINT STRIKE FIGHTER, DIRECTOR OF LOGISTICS AND SUSTAINMENT. DIRECTOR OF CONTRACTS, F-35 JSF.
|  | ASSISTANT COMMANDER FOR CONTRACTS.
|  | COMPTROLLER.
|  | DIRECTOR, SYSTEMS ENGINEERING DEPARTMENT.
|  | DIRECTOR INDUSTRIAL OPERATIONS.
|  | DIRECTOR, AVIONICS DEPARTMENT.
|  | DIRECTOR, AIR PLATFORM SYSTEMS.
|  | DIRECTOR, AIR VEHICLES AND UNMANNED AIR VEHICLES.
|  | DIRECTOR, AVIATION READINESS AND RESOURCE ANALYSIS.
|  | DIRECTOR, LOGISTICS MANAGEMENT INTEGRATION.
|  | DIRECTOR, TACTICAL AIRCRAFT AND MISSILES CONTRACTS DEPARTMENT.
|  | DIRECTOR, STRIKE WEAPONS, UNMANNED AVIATION, NAVAL AIR PROGRAMS CONTRACTS DEPARTMENT.
|  | ASSISTANT COMMANDER FOR ACQUISITION PROCESSES AND EXECUTION.
|  | DIRECTOR, COST ESTIMATING AND ANALYSIS.
|  | DEPUTY ASSISTANT COMMANDER FOR RESEARCH AND ENGINEERING.
|  | COUNSEL, NAVAL AIR SYSTEMS COMMAND
|  | DEPUTY COUNSEL, OFFICE OF COUNSEL.
|  | DIRECTOR, PROPULSION AND POWER.
|  | DIRECTOR, AVIATION READINESS AND RESOURCE ANALYSIS.
|  | DIRECTOR, DESIGN INTERFACE AND MAINTENANCE PLANNING.
|  | DEPUTY COMMANDER, NAVAL AIR SYSTEMS COMMAND.
|  | DIRECTOR, AIR ANTI-SUBMARINE WARFARE, ASSAULT AND SPECIAL MISSION PROGRAMS CONTRACTS DEPARTMENT.
|  | ASSISTANT COMMANDER, CORPORATE OPERATIONS AND TOTAL FORCE.
|  | F-35 PRODUCT SUPPORT MANAGER.
|  | DEPUTY ASSISTANT COMMANDER FOR LOGISTICS AND INDUSTRIAL OPERATIONS.
| NAVAL AIR WARFARE CENTER AIRCRAFT DIVISION | DEPUTY ASSISTANT COMMANDER FOR TEST AND EVALUATION/EXECUTIVE DIRECTOR NAVAL AIR WARFARE CENTER AIRCRAFT DIVISION/DIRECTOR, TEST AND EVALUATION NAVAL AIR WARFARE CENTER AIRCRAFT DIVISION. DIRECTOR, AIRCRAFT LAUNCH AND RECOVERY EQUIPMENT/SUPPORT EQUIPMENT.
|  | DIRECTOR, FLIGHT TEST ENGINEERING.
|  | DIRECTOR, INTEGRATED SYSTEMS EVALUATION EXPERIMENTATION AND TEST DEPARTMENT.
|  | DIRECTOR, BATTLESPACE SIMULATION.
| NAVAL AIR WARFARE CENTER TRAINING SYSTEMS DIVISION | DIRECTOR, HUMAN SYSTEMS DEPARTMENT.
| NAVAL AIR WARFARE CENTER WEAPONS DIVISION, CHINA LAKE, CALIFORNIA | DIRECTOR, RANGE DEPARTMENT. DIRECTOR, ELECTRONIC WARFARE/COMBAT SYSTEMS.
|  | DIRECTOR, SOFTWARE ENGINEERING.
|  | DIRECTOR, WEAPONS AND ENERGETICS DEPARTMENT.
|  | EXECUTIVE DIRECTOR, NAVAL AIR WARFARE CENTER WEAPONS DIVISION/DIRECTOR, RESEARCH ENGINEERING.
| NAVAL CRIMINAL INVESTIGATIVE SERVICE | CRIMINAL INVESTIGATOR, EXECUTIVE ASSISTANT DIRECTOR FOR GLOBAL OPERATIONS. CRIMINAL INVESTIGATOR, DEPUTY DIRECTOR, NAVAL CRIMINAL INVESTIGATIVE SERVICE.
|  | CRIMINAL INVESTIGATOR, EXECUTIVE ASSISTANT DIRECTOR FOR CRIMINAL OPERATIONS.
|  | DIRECTOR, NAVAL CRIMINAL INVESTIGATIVE SERVICE.
|  | CRIMINAL INVESTIGATOR, EXECUTIVE ASSISTANT DIRECTOR FOR ATLANTIC OPERATIONS.
|  | CRIMINAL INVESTIGATOR, EXECUTIVE ASSISTANT DIRECTOR FOR PACIFIC OPERATIONS.
|  | CRIMINAL INVESTIGATOR, EXECUTIVE ASSISTANT DIRECTOR FOR MANAGEMENT AND ADMINISTRATION.
| NAVAL FACILITIES ENGINEERING COMMAND | COMPTROLLER. ASSISTANT COMMANDER/CHIEF MANAGEMENT OFFICER.
|  | COMPTROLLER.
|  | CHIEF ENGINEER.
|  | DIRECTOR OF PUBLIC WORKS.
|  | COUNSEL, NAVAL FACILITIES ENGINEERING COMMAND.
|  | DEPUTY COMMANDER, ACQUISITION.
|  | DIRECTOR OF ASSET MANAGEMENT.
|  | DIRECTOR OF ENVIRONMENT.
|  | EXECUTIVE DIRECTOR.
| NAVAL METEOROLOGY AND OCEANOGRAPHY COMMUNICATIONS, STENNIS SPACE CENTER, MISSISSIPPI | TECHNICAL/DEPUTY DIRECTOR.
| NAVAL RESEARCH LABORATORY. | SUPERINTENDENT, SPACE SCIENCES DIVISION SUPERINTENDENT, RADAR DIVISION.
|  | SUPERINTENDENT, PLASMA PHYSICS DIVISION.
|  | SUPERINTENDENT, ELECTRONICS SCIENCE AND TECHNOLOGY DIVISION.
|  | SUPERINTENDENT, REMOTE SENSING DIVISION.
|  | DIRECTOR OF RESEARCH.
|  | ASSOCIATE DIRECTOR OF RESEARCH FOR MATERIAL SCIENCE AND COMPONENT TECHNOLOGY.
|  | SUPERINTENDENT, INFORMATION TECHNOLOGY DIVISION.
|  | SUPERINTENDENT, TACTICAL ELECTRONIC WARFARE DIVISION.
|  | SUPERINTENDENT, OCEANOGRAPHY DIVISION.
|  | SUPERINTENDENT, SPACECRAFT ENGINEERING DEPARTMENT.
|  | ASSOCIATE DIRECTOR OF RESEARCH FOR BUSINESS OPERATIONS.
|  | SUPERINTENDENT, MARINE METEOROLOGY DIVISION.
|  | ASSOCIATE DIRECTOR OF RESEARCH FOR OCEAN AND ATMOSPHERIC SCIENCE AND TECHNOLOGY.
|  | SUPERINTENDENT, OPTICAL SCIENCES DIVISION.
|  | SUPERINTENDENT, MATERIAL SCIENCE AND TECHNOLOGY DIVISION.
|  | ASSOCIATE DIRECTOR OF RESEARCH FOR SYSTEMS.
|  | SUPERINTENDENT, ACOUSTICS DIVISION.
|  | SUPERINTENDENT, SPACE SYSTEMS DEVELOPMENT DEPARTMENT.
|  | SUPERINTENDENT, MARINE GEOSCIENCES DIVISION.
|  | DIRECTOR, NAVAL CENTER FOR SPACE TECHNOLOGY.
|  | DIRECTOR, NAVAL CENTER FOR SPACE TECHNOLOGY.
| NAVAL SEA SYSTEMS COMMAND | HEAD, ADVANCED REACTOR BRANCH. DIRECTOR, UNDERSEA SYSTEMS CONTRACTS DIVISION.
|  | DIRECTOR FOR ADVANCED UNDERSEA INTEGRATION.
|  | DEPUTY DIRECTOR, ADVANCED AIRCRAFT CARRIER SYSTEM DIVISION.
|  | DIRECTOR OF RADIOLOGICAL CONTROLS.
|  | EXECUTIVE DIRECTOR, ACQUISITION AND COMMONALITY.
|  | DIVISION TECHNICAL DIRECTOR, NAVAL SURFACE WARFARE CENTER, PHILADELPHIA DIVISION.
|  | EXECUTIVE DIRECTOR FOR COMMANDER, NAVY REGIONAL MAINTENANCE CENTERS.
|  | EXECUTIVE DIRECTOR.
|  | COUNSEL, NAVAL SEA SYSTEMS COMMAND.
|  | DIRECTOR FOR CONTRACTS.
|  | DEPUTY COMMANDER/COMPTROLLER.
|  | DIRECTOR FOR AIRCRAFT CARRIER DESIGN AND SYSTEMS ENGINEERING.
|  | DEPUTY DIRECTOR FOR ADVANCED SUBMARINE REACTOR SERVICING AND SPENT FUEL MANAGEMENT.
|  | DIRECTOR, REACTOR MATERIALS DIVISION.
|  | DIRECTOR, NUCLEAR COMPONENTS DIVISION.
|  | DIRECTOR FOR SURFACE SHIP DESIGN AND SYSTEMS ENGINEERING.
|  | DIRECTOR, COST ENGINEERING AND INDUSTRIAL ANALYSIS.
|  | DIRECTOR, SHIPBUILDING CONTRACTS DIVISION.
|  | ASSISTANT DEPUTY COMMANDER FOR INDUSTRIAL OPERATIONS.
|  | DIVISION TECHNICAL DIRECTOR, NSWC CORONA DIVISION.
|  | DEPUTY FOR WEAPONS SAFETY.
|  | DIVISION TECHNICAL DIRECTOR, NAVAL SURFACE WARFARE CENTER PORT HUENEME DIVISION.
|  | NUCLEAR ENGINEERING AND PLANNING MANAGER.
|  | DEPUTY COMMANDER, CORPORATE OPERATIONS DIRECTORATE.
|  | EXECUTIVE DIRECTOR FOR LOGISTICS MAINTENANCE AND INDUSTRIAL OPERATIONS DIRECTORATE.
|  | DIRECTOR, SURFACE SYSTEMS CONTRACTS DIVISION.
|  | EXECUTIVE DIRECTOR, UNDERSEA WARFARE DIRECTORATE.
|  | DEPUTY COUNSEL, NAVAL SEA SYSTEMS COMMAND.
|  | DIRECTOR, REACTOR PLANT COMPONENTS AND AUXILIARY EQUIPMENT DIVISION.
|  | DIRECTOR, SURFACE SHIP SYSTEMS DIVISION.
|  | DIRECTOR, REACTOR SAFETY AND ANALYSIS DIVISION.
|  | DIRECTOR FOR SHIP INTEGRITY AND PERFORMANCE ENGINEERING.
|  | DIRECTOR FOR MARINE ENGINEERING.
|  | DIRECTOR FOR SUBMARINE/SUBMERSIBLE DESIGN AND SYSTEMS ENGINEERING.
|  | EXECUTIVE DIRECTOR, SHIP DESIGN, AND ENGINEERING DIRECTORATE.
|  | PROGRAM MANAGER FOR COMMISSIONED SUBMARINES.
|  | EXECUTIVE DIRECTOR NAVAL SURFACE AND UNDERSEA WARFARE CENTERS.
|  | DIRECTOR, FLEET READINESS DIVISION.
|  | DIRECTOR, OFFICE OF RESOURCE MANAGEMENT.
|  | EXECUTIVE DIRECTOR, SURFACE WARFARE DIRECTORATE.
|  | DIRECTOR, REACTOR REFUELING DIVISION.
|  | ASSISTANT DEPUTY COMMANDER, MAINTENANCE, MODERNIZATION, ENVIRONMENT AND SAFETY.
|  | DIRECTOR, INTEGRATED WARFARE SYSTEMS ENGINEERING GROUP.
|  | SPECIAL ASSISTANT (KNOWLEDGE TRANSFER).
| NAVAL SHIPYARDS | NUCLEAR ENGINEERING AND PLANNING MANAGER; PEARL HARBOR NAVAL SHIPYARD. NUCLEAR ENGINEERING AND PLANNING MANAGER; PORTSMOUTH NAVAL SHIPYARD.
|  | NAVAL SHIPYARD NUCLEAR ENGINEERING AND PLANNING MANAGER, NORFOLK NAVAL SHIPYARD.
|  | NUCLEAR ENGINEERING AND PLANNING MANAGER, PUGET SOUND NAVAL SHIPYARD.
| NAVAL SUPPLY SYSTEMS COMMAND HEADQUARTERS | DEPUTY COMMANDER, ACQUISITION, NAVAL SUPPLY SYSTEMS COMMAND. DEPUTY COMMANDER FOR FINANCIAL MANAGEMENT/COMPTROLLER.
|  | COUNSEL, NAVAL SUPPLY SYSTEMS COMMAND.
|  | ASSISTANT COMMANDER FOR CONTRACTING MANAGEMENT.
|  | DEPUTY COMMANDER, CORPORATE OPERATIONS.
|  | EXECUTIVE DIRECTOR, OFFICE OF SPECIAL PROJECTS.
|  | SENIOR ACQUISITION LOGISTICIAN/ENTERPRISE RESOURCE PLANNING PROGRAM MANAGER.
|  | VICE COMMANDER.
|  | LEAD LOGISTICIAN/ENTERPRISE RESOURCE PLANNING PROGRAM MANAGER.
| NAVAL SURFACE WARFARE CENTER | DIVISION TECHNICAL DIRECTOR, NAVAL SURFACE WARFARE CENTER DAHLGREN DIVISION.
| NAVAL SURFACE WARFARE CENTER, CARDEROCK DIVISION | DIVISION TECHNICAL DIRECTOR, NAVAL SURFACE WARFARE CENTER, CARDEROCK DIVISION.
| NAVAL SURFACE WARFARE CENTER, CORONA DIVISION | DIVISION TECHNICAL DIRECTOR, NAVAL SURFACE WARFARE CENTER, CORONA DIVISION.
| NAVAL SURFACE WARFARE CENTER, CRANE DIVISION | DIVISION TECHNICAL DIRECTOR, NAVAL SURFACE WARFARE CENTER, CRANE INDIANA. DIVISION TECHNICAL DIRECTOR, NSWC CRANE DIVISION.
| NAVAL SURFACE WARFARE CENTER, DAHLGREN DIVISION | DIVISION TECHNICAL DIRECTOR NAVAL SURFACE WARFARE CENTER PANAMA CITY DIVISION.
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION.
| NAVAL UNDERSEA WARFARE CENTER | TECHNICAL DIRECTOR.
| NAVAL UNDERSEA WARFARE CENTER DIVISION, KEYPORT, WASHINGTON | DIVISION TECHNICAL DIRECTOR, NAVAL UNDERSEA WARFARE CENTER, KEYPORT DIVISION. DIVISION TECHNICAL DIRECTOR, NAVAL UNDERSEA WARFARE CENTER DIVISION KEYPORT.
| NAVAL UNDERSEA WARFARE CENTER DIVISION, NEWPORT, RHODE ISLAND | DIVISION TECHNICAL DIRECTOR, NAVAL UNDERSEA WARFARE CENTER DIVISION NEWPORT.
| NAVY CYBER FORCES | DEPUTY COMMANDER.
| OFFICE OF CIVILIAN HUMAN RESOURCES | DIRECTOR, HUMAN RESOURCES OPERATIONS. DIRECTOR, OFFICE OF CIVILIAN HUMAN RESOURCES.
|  | DIRECTOR, HUMAN RESOURCES SYSTEMS AND ANALYTICS.
| OFFICE OF COMMANDER, UNITED STATES FLEET FORCES COMMAND | EXECUTIVE DIRECTOR, NAVY WARFARE DEVELOPMENT COMMAND. DIRECTOR, COMMAND, CONTROL, COMMUNICATIONS, COMPUTER, COMBAT SYSTEMS, INTELLIGENCE AND STRATEGIC/COMMAND INFORMATION OFFICER.
|  | DEPUTY DIRECTOR, FORCE CERTIFICATION.
|  | EXECUTIVE DIRECTOR, FLEET RESOURCES AND READINESS INTEGRATION.
|  | DEPUTY DIRECTOR, MARITIME OPERATIONS.
|  | DEPUTY CHIEF OF STAFF, PERSONNEL DEVELOPMENT AND ALLOCATION.
|  | DEPUTY CHIEF OF STAFF, FLEET INSTALLATION AND ENVIRONMENT.
| OFFICE OF NAVAL RESEARCH | DIRECTOR, UNDERSEA WEAPONS AND NAVAL MATERIALS SCIENCE AND TECHNOLOGY DIVISION. DIRECTOR, SHIP SYSTEMS AND ENGINEERING DIVISION.
|  | HEAD, EXPEDITIONARY WARFARE AND COMBATING TERRORISM SCIENCE AND TECHNOLOGY DEPARTMENT.
|  | DIRECTOR FOR AEROSPACE SCIENCE RESEARCH DIVISION.
|  | DIRECTOR, OCEAN, ATMOSPHERE AND SPACE SCIENCE AND TECHNOLOGY PROCESSES AND PREDICTION DIVISION.
|  | PATENT COUNSEL OF THE NAVY.
|  | COUNSEL, OFFICE OF NAVAL RESEARCH.
|  | DIRECTOR, LIFE SCIENCES RESEARCH DIVISION.
|  | DIRECTOR, ELECTRONICS, SENSORS, AND NETWORKS RESEARCH DIVISION.
|  | HEAD, SEA WARFARE AND WEAPONS SCIENCE AND TECHNOLOGY DEPARTMENT.
|  | DIRECTOR, MATHEMATICS COMPUTER AND INFORMATION SCIENCES (MCIS) DIVISION.
|  | EXECUTIVE DIRECTOR.
|  | HEAD, AIR WARFARE AND WEAPONS SCIENCE AND TECHNOLOGY DEPARTMENT.
|  | COMPTROLLER.
|  | HEAD, WARFIGHTER PERFORMANCE SCIENCE AND TECHNOLOGY DEPARTMENT.
|  | HEAD, COMMAND, CONTROL, COMMUNICATIONS, INTELLIGENCE, SURVEILLANCE, AND RECONNAISSANCE (C4ISR) SCIENCE AND TECHNOLOGY DEPARTMENT.
|  | HEAD, OCEAN, BATTLESPACE SENSING SCIENCE AND TECHNOLOGY DEPARTMENT.
|  | DIRECTOR, CONTRACTS, GRANTS AND ACQUISITIONS.
|  | DIRECTOR OF TRANSITION.
|  | HEAD, COMMAND, CONTROL, COMMUNICATIONS, INTELLIGENCE, SURVEILLANCE, AND RECONNAISSANCE (C4ISR) SCIENCE AND TECHNOLOGY DEPARTMENT.
|  | DIRECTOR OF INNOVATION.
|  | DIRECTOR, HYBRID COMPLEX WARFARE SCIENCE AND TECHNOLOGY DIVISION.
| OFFICE OF THE ASSISTANT SECRETARY OF NAVY (ENERGY, INSTALLATIONS AND ENVIRONMENT) | DIRECTOR, JOINT GUAM PROGRAM OFFICE. DEPUTY ASSISTANT SECRETARY OF THE NAVY.
|  | ASSISTANT GENERAL COUNSEL (ENERGY, INSTALLATIONS AND ENVIRONMENT).
| OFFICE OF THE ASSISTANT SECRETARY OF NAVY (FINANCIAL MANAGEMENT AND COMPTROLLER) | DEPUTY DIRECTOR, FINANCIAL OPERATIONS. SPECIAL ASSISTANT.
|  | DEPUTY ASSISTANT SECRETARY OF THE NAVY (FINANCIAL POLICY AND SYSTEMS).
|  | SPECIAL ASSISTANT.
|  | DIRECTOR, POLICY AND PROCEDURES.
|  | PRINCIPAL DEPUTY ASSISTANT SECRETARY OF THE NAVY FINANCIAL MANAGEMENT AND COMPTROLLER.
|  | ASSOCIATE DIRECTOR, OFFICE OF BUDGET/FISCAL MANAGEMENT DIVISION.
|  | ASSISTANT GENERAL COUNSEL (FINANCIAL MANAGEMENT AND COMPTROLLER).
|  | DIRECTOR, INVESTMENT AND DEVELOPMENT DIVISION.
|  | DIRECTOR, BUDGET AND POLICY AND PROCEDURES DIVISION.
|  | DIRECTOR, CIVILIAN RESOURCES AND BUSINESS AFFAIRS DIVISION.
|  | DEPUTY ASSISTANT SECRETARY OF THE NAVY FOR FINANCIAL OPERATIONS.
|  | DEPUTY ASSISTANT SECRETARY OF THE NAVY FOR COST AND ECONOMICS.
| OFFICE OF THE ASSISTANT SECRETARY OF NAVY (MANPOWER AND RESERVE AFFAIRS) | DEPUTY ASSISTANT SECRETARY OF THE NAVY (RESERVE AFFAIRS AND TOTAL FORCE INTEGRATION). PRINCIPAL DEPUTY MANPOWER AND RESERVE AFFAIRS.
|  | ASSISTANT GENERAL COUNSEL (MANPOWER AND RESERVE AFFAIRS).
|  | DEPUTY ASSISTANT SECRETARY OF THE NAVY (CIVILIAN HUMAN RESOURCES).
|  | DIRECTOR, HUMAN RESOURCES POLICY AND PROGRAMS DEPARTMENT.
| OFFICE OF THE ASSISTANT SECRETARY OF THE NAVY (RESEARCH, DEVELOPMENT AND ACQUISITION) | PRINCIPAL CIVILIAN DEPUTY ASSISTANT SECRETARY OF THE NAVY (ACQUISITION WORKFORCE). PROGRAM EXECUTIVE OFFICER FOR DEFENSE HEALTHCARE MANAGEMENT SYSTEMS.
|  | DIRECTOR, OHIO REPLACEMENT PROGRAM OFFICE.
|  | SPECIAL ASSISTANT TO ASSISTANT SECRETARY OF THE NAVY (RESEARCH, DEVELOPMENT AND ACQUISITION).
|  | EXECUTIVE DIRECTOR, DEPUTY ASSISTANT SECRETARY OF THE NAVY (ACQUISITION AND PROCUREMENT).
|  | DEPUTY FOR TEST AND EVALUATION.
|  | PROGRAM EXECUTIVE OFFICER, LAND SYSTEMS MARINE CORPS.
|  | ASSISTANT GENERAL COUNSEL (RESEARCH, DEVELOPMENT AND ACQUISITION).
|  | DEPUTY ASSISTANT SECRETARY OF THE NAVY (COMMAND, CONTROL, COMMUNICATIONS, COMPUTERS AND INTELLIGENCE SPACE).
|  | CHIEF OF STAFF/POLICY.
|  | DEPUTY ASSISTANT SECRETARY OF THE NAVY (MANAGEMENT AND BUDGET).
|  | ASSISTANT AUDITOR GENERAL OF THE NAVY FOR RESEARCH DEVELOPMENT AND ACQUISITION.
|  | DEPUTY ASSISTANT SECRETARY OF THE NAVY (SHIPS).
|  | EXECUTIVE DIRECTOR, NAVY INTERNATIONAL PROGRAMS OFFICE.
|  | EXECUTIVE DIRECTOR, F-35, JOINT PROGRAM OFFICE.
| OFFICE OF THE AUDITOR GENERAL | ASSISTANT AUDITOR GENERAL FOR MANPOWER AND RESERVE AFFAIRS AUDITS. ASSISTANT AUDITOR GENERAL FOR FINANCIAL MANAGEMENT AND COMPTROLLER AUDITS.
|  | ASSISTANT AUDITOR GENERAL FOR INSTALLATION AND ENVIRONMENT AUDITS.
|  | ASSISTANT AUDITOR GENERAL FOR RESEARCH, DEVELOPMENT, ACQUISITION AND LOGISTICS AUDITS.
|  | DEPUTY AUDITOR GENERAL OF THE NAVY.
|  | AUDITOR GENERAL OF THE NAVY.
| OFFICE OF THE COMMANDER, UNITED STATES PACIFIC COMMAND | DIRECTOR FOR FORCES RESOURCES AND ASSESSMENT. DIRECTOR, PACIFIC OUTREACH DIRECTORATE.
|  | CHIEF INFORMATION OFFICER.
| OFFICE OF THE COMMANDER, UNITED STATES PACIFIC FLEET | EXECUTIVE DIRECTOR, NAVAL SURFACE FORCES. EXECUTIVE DIRECTOR, NAVAL AIR FORCES.
|  | CHIEF OF STAFF.
|  | DEPUTY CHIEF OF STAFF FOR C4/CIO.
|  | EXECUTIVE DIRECTOR, PACIFIC FLEET PLANS AND POLICY.
|  | EXECUTIVE DIRECTOR, NAVAL AIR FORCES.
|  | EXECUTIVE DIRECTOR FOR COMMUNICATIONS AND INFORMATION SYSTEMS AND CIO.
|  | EXECUTIVE DIRECTOR, TOTAL FORCE MANAGEMENT.
|  | DEPUTY FOR NAVAL MINE AND ANTI-SUBMARINE WARFARE COMMAND.
| OFFICE OF THE GENERAL COUNSEL | SPECIAL COUNSEL FOR LITIGATION. ASSISTANT GENERAL COUNSEL (ACQUISITION INTEGRITY).
|  | ASSISTANT GENERAL COUNSEL (INTELLIGENCE LAW).
|  | COUNSEL, MILITARY SEALIFT COMMAND.
| OFFICE OF THE NAVAL INSPECTOR GENERAL | DEPUTY INSPECTOR GENERAL OF THE MARINE CORPS. DEPUTY NAVAL INSPECTOR GENERAL.
| OFFICE OF THE SECRETARY | DIRECTOR, SEXUAL ASSAULT PREVENTION AND RESPONSE. SPECIAL ASSISTANT.
|  | ASSISTANT FOR ADMINISTRATION.
| OFFICE OF THE UNDER SECRETARY OF THE NAVY | SENIOR DIRECTOR FOR POLICY. PRINCIPAL DIRECTOR TO THE UNDER SECRETARY OF THE NAVY FOR PLANS, POLICY, OVERSIGHT AND INTEGRATION.
|  | PRINCIPAL DEPUTY UNDER SECRETARY OF THE NAVY BUSINESS OPERATIONS AND TRANSFORMATION).
|  | SENIOR DIRECTOR FOR SECURITY.
|  | DEPUTY OF BUSINESS OPERATIONS/OFFICE OF BUSINESS TRANSFORMATION.
|  | SENIOR DIRECTOR (CAPABILITIES AND CONCEPTS).
|  | DEPUTY DIRECTOR, ISD.
|  | SENIOR DIRECTOR (POLICY AND STRATEGY).
|  | PRINCIPAL DIRECTOR DEPUTY UNDER SECRETARY OF THE NAVY (POLICY).
|  | SENIOR DIRECTOR FOR SECURITY.
|  | CHIEF INFORMATION OFFICER.
|  | SENIOR DIRECTOR (POLICY AND STRATEGY).
|  | SENIOR DIRECTOR, INTEGRATION SUPPORT DIRECTORATE.
| PROGRAM EXECUTIVE OFFICERS | DEPUTY PROGRAM EXECUTIVE OFFICERS AIR ASSAULT AND SPECIAL MISSION. DIRECTOR FOR ABOVE WATER SENSORS DIRECTORATE.
|  | PROGRAM EXECUTIVE OFFICER, LAND SYSTEMS.
|  | PROGRAM EXECUTIVE OFFICER (ENTERPRISE INFORMATION SYSTEMS).
|  | EXECUTIVE DIRECTOR, PROGRAM EXECUTIVE OFFICE, LITTORAL COMBAT SHIPS.
|  | EXECUTIVE DIRECTOR, COMBATANTS, PROGRAM EXECUTIVE OFFICERS SHIPS.
|  | EXECUTIVE DIRECTOR, PROGRAM EXECUTIVE OFFICERS FOR AIRCRAFT CARRIERS.
|  | DIRECTOR, DEVELOPMENT AND INTEGRATION.
|  | DEPUTY PROGRAM EXECUTIVE OFFICER FOR UNMANNED AVIATION PROGRAMS.
|  | DIRECTOR, PRODUCTION DEPLOYMENT AND FLEET READINESS.
|  | DEPUTY PROGRAM EXECUTIVE OFFICERS FOR STRIKE WEAPONS.
|  | EXECUTIVE DIRECTOR, PROGRAM EXECUTIVE OFFICE SUBMARINES.
|  | DEPUTY PROGRAM EXECUTIVE OFFICERS FOR TACTICAL AIR PROGRAMS.
|  | EXECUTIVE DIRECTOR, AMPHIBIOUS, AUXILIARY AND SEALIFT SHIPS, PROGRAM EXECUTIVE OFFICERS SHIPS.
|  | EXECUTIVE DIRECTOR, PROGRAM EXECUTIVE OFFICE FOR SPACE SYSTEMS.
|  | EXECUTIVE DIRECTOR, PROGRAM EXECUTIVE OFFICERS FOR INTEGRATED WARFARE SYSTEMS.
|  | EXECUTIVE DIRECTOR FOR COMMAND, CONTROL, COMMUNICATIONS, COMPUTERS AND INTELLIGENCE (C4I).
| SPACE AND NAVAL WARFARE SYSTEMS CENTER | EXECUTIVE DIRECTOR. DIRECTOR, SCIENCE AND TECHNOLOGY.
|  | COUNSEL, SPACE AND NAVAL WARFARE SYSTEMS COMMAND.
|  | COMPTROLLER/BUSINESS RESOURCE MANAGER.
|  | EXECUTIVE DIRECTOR.
| SPACE AND NAVAL WARFARE SYSTEMS CENTER, CHARLESTON | EXECUTIVE DIRECTOR.
| SPACE AND NAVAL WARFARE SYSTEMS COMMAND | EXECUTIVE DIRECTOR, FLEET READINESS DIRECTORATE. ASSISTANT CHIEF ENGINEER FOR CERTIFICATION AND MISSION ASSURANCE.
|  | ASSISTANT CHIEF ENGINEER FOR MISSION ENGINEERING.
|  | ASSISTANT CHIEF ENGINEER FOR MISSION ARCHITECTURE AND SYSTEMS ENGINEERING.
|  | CHIEF MANAGEMENT OFFICER.
|  | COUNSEL, SPACE AND NAVAL WARFARE SYSTEMS COMMAND.
|  | ASSISTANT COMMANDER FOR NAVY CYBER IMPLEMENTATION.
|  | DIRECTOR, CONTRACTS.
|  | COMPTROLLER, BUSINESS RESOURCES MANAGER.
|  | DIRECTOR, READINESS/LOGISTICS DIRECTORATE.
|  | DEPUTY CHIEF ENGINEER.
|  | DIRECTOR CORPORATE OPERATIONS/COMMAND INFORMATION OFFICER.
|  | EXECUTIVE DIRECTOR.
| STRATEGIC SYSTEMS PROGRAMS | ASSISTANT FOR SHIPBOARD SYSTEMS. ASSISTANT FOR MISSILE PRODUCTION, ASSEMBLY AND OPERATIONS.
|  | COUNSEL, STRATEGIC SYSTEMS PROGRAMS.
|  | DIRECTOR INTEGRATED NUCLEAR WEAPONS SAFETY AND SECURITY, DIRECTOR STRATEGIC SYSTEMS PROGRAMS.
|  | DIRECTOR, PLANS AND PROGRAMS DIVISION.
|  | TECHNICAL PLANS AND PAYLOADS INTEGRATION OFFICER.
|  | HEAD, RESOURCES BRANCH (COMPTROLLER) AND DEPUTY DIRECTOR, PLANS AND PROGRAM DIVISION.
|  | ASSISTANT FOR MISSILE ENGINEERING SYSTEMS.
|  | CHIEF ENGINEER.
|  | BRANCH HEAD REENTRY SYSTEMS BRANCH.
| UNITED STATES MARINE CORPS HEADQUARTERS OFFICE | ASSISTANT DEPUTY COMMANDANT FOR AVIATION (SUSTAINMENT). DIRECTOR OFFICE OF MARINE CORPS COMMUNICATION.
|  | ASSISTANT DEPUTY COMMANDANT, RESOURCES.
|  | DEPUTY DIRECTOR, MANPOWER PLANS AND POLICY DIVISION.
|  | SPECIAL ASSISTANT.
|  | DIRECTOR PROGRAM ANALYSIS AND EVALUATION DIVISION.
|  | DIRECTOR, MANPOWER PLANS AND POLICY DIVISION.
|  | ASSISTANT DEPUTY COMMANDANT FOR AVIATION (SUSTAINMENT).
|  | ASSISTANT DEPUTY COMMANDANT, INSTALLATIONS AND LOGISTICS (E-BUSINESS AND CONTRACTS).
|  | COUNSEL FOR THE COMMANDANT.
|  | EXECUTIVE DIRECTOR, MARINE CORPS INSTALLATIONS COMMAND.
| UNITED STATES MARINE CORPS HEADQUARTERS OFFICE | ASSISTANT DEPUTY COMMANDANT, RESOURCES AND FISCAL DIRECTOR, MARINE CORPS. ASSISTANT DEPUTY COMMANDANT, INSTALLATIONS AND LOGISTICS.
|  | ASSISTANT DEPUTY COMMANDANT FOR MANPOWER AND RESERVE AFFAIRS.
|  | DEPUTY COUNSEL FOR THE COMMANDANT OF THE MARINE CORPS.
|  | ASSISTANT DEPUTY COMMANDANT FOR PLANS POLICIES AND OPERATIONS (SECURITY).
|  | ASSISTANT DEPUTY COMMANDANT, RESOURCES (PERSONNEL & READINESS).
|  | ASSISTANT DEPUTY COMMANDANT FOR MANPOWER AND RESERVE AFFAIRS.
|  | ASSISTANT DEPUTY COMMANDANT FOR PROGRAMS AND RESOURCES/FISCAL DIRECTOR OF THE MARINE CORPS.
| WEAPON SYSTEMS SUPPORT | VICE COMMANDER, NAVSUP WEAPON SYSTEMS SUPPORT.
OFFICE OF THE SECRETARY OF DEFENSE OFFICE OF THE INSPECTOR GENERAL | ACQUISITION AND CONTRACT MANAGEMENT | ASSISTANT INSPECTOR GENERAL FOR ACQUISITION AND CONTRACT MANAGEMENT.
| AUDIT POLICY AND OVERSIGHT | ASSISTANT INSPECTOR GENERAL FOR AUDIT POLICY AND OVERSIGHT.
| DEFENSE CRIMINAL INVESTIGATIVE SERVICE | ASSISTANT INSPECTOR GENERAL FOR INVESTIGATIONS. ASSISTANT INSPECTOR GENERAL FOR INVESTIGATIVE OPERATIONS.
|  | ASSISTANT INSPECTOR GENERAL FOR INTERNATIONAL OPERATIONS.
|  | ASSISTANT INSPECTOR GENERAL FOR INVESTIGATIONS/DEPUTY DIRECTOR, DCIS.
| DEPUTY INSPECTOR GENERAL FOR ADMINISTRATIVE INVESTIGATIONS | DEPUTY INSPECTOR GENERAL ADMINISTRATIVE INVESTIGATIONS.
| DEPUTY INSPECTOR GENERAL FOR AUDITING | DEPUTY INSPECTOR GENERAL FOR AUDITING. DEPUTY INSPECTOR GENERAL FOR AUDITING.
| DEPUTY INSPECTOR GENERAL FOR INTELLIGENCE AND SPECIAL PROGRAM ASSESSMENTS | DEPUTY INSPECTOR GENERAL FOR INTELLIGENCE AND SPECIAL PROGRAM ASSESSMENTS.
| DEPUTY INSPECTOR GENERAL FOR INVESTIGATIONS | DEPUTY DIRECTOR DEFENSE CRIMINAL INVESTIGATIVE SERVICE. DEPUTY INSPECTOR GENERAL FOR INVESTIGATIONS.
| DEPUTY INSPECTOR GENERAL FOR POLICY AND OVERSIGHT | DEPUTY INSPECTOR GENERAL FOR POLICY AND OVERSIGHT.
| DEPUTY INSPECTOR GENERAL FOR SPECIAL PLANS AND OPERATIONS | DEPUTY INSPECTOR GENERAL FOR SPECIAL PLANS AND OPERATIONS.
| DOD PAYMENTS AND ACCOUNTING OPERATIONS | ASSISTANT INSPECTOR GENERAL FOR CONTRACT MANAGEMENT AND PAYMENTS.
| FINANCIAL MANAGEMENT AND REPORTING | ASSISTANT INSPECTOR GENERAL FOR FINANCIAL MANAGEMENT AND REPORTING.
| INVESTIGATIVE POLICY AND OVERSIGHT | ASSISTANT INSPECTOR GENERAL FOR INVESTIGATIVE POLICY AND OVERSIGHT.
| OFFICE OF ADMINISTRATION AND MANAGEMENT | ASSISTANT INSPECTOR GENERAL FOR ADMINISTRATION AND MANAGEMENT.
| OFFICE OF COMMUNICATIONS AND CONGRESSIONAL LIAISON | ASSISTANT INSPECTOR GENERAL, OFFICE OF COMMUNICATIONS AND CONGRESSIONAL LIAISON.
| OFFICE OF THE GENERAL COUNSEL | GENERAL COUNSEL.
| OFFICE OF THE INSPECTOR GENERAL | PRINCIPAL DEPUTY INSPECTOR GENERAL. DEPUTY INSPECTOR GENERAL FOR OVERSEAS CONTINGENCY OPERATIONS.
|  | DEPUTY CHIEF OF STAFF.
|  | ASSISTANT INSPECTOR GENERAL FOR INVESTIGATIONS/DEPUTY DIRECTOR DCIS.
| OFFICE OF THE PRINCIPAL DEPUTY INSPECTOR GENERAL FOR AUDITING | PRINCIPAL ASSISTANT INSPECTOR GENERAL FOR AUDITING.
| READINESS, OPERATIONS AND SUPPORT | ASSISTANT INSPECTOR GENERAL FOR READINESS AND CYBER OPERATIONS.
DEFENSE NUCLEAR FACILITIES SAFETY BOARD | DEFENSE NUCLEAR FACILITIES SAFETY BOARD | TECHNICAL DIRECTOR. DEPUTY TECHNICAL DIRECTOR.
|  | DEPUTY GENERAL COUNSEL.
|  | DEPUTY GENERAL MANAGER.
|  | GROUP LEAD FOR PERFORMANCE ASSURANCE.
|  | GROUP LEAD FOR NUCLEAR PROGRAMS AND ANALYSIS.
|  | GROUP LEAD FOR NUCLEAR WEAPON PROGRAMS.
|  | GROUP LEAD FOR NUCLEAR MATERIALS PROCESSING AND STABILIZATION.
|  | GROUP LEAD FOR NUCLEAR FACILITY DESIGN AND INFRASTRUCTURE.
DEPARTMENT OF EDUCATION | FEDERAL STUDENT AID | CHIEF FINANCIAL OFFICER.
| INSTITUTE OF EDUCATION SCIENCES | ASSOCIATE COMMISSIONER, ASSESSMENTS DIVISION.
| OFFICE FOR CIVIL RIGHTS | ENFORCEMENT DIRECTOR. DEPUTY ASSISTANT SECRETARY FOR ENFORCEMENT.
|  | ENFORCEMENT DIRECTOR.
| OFFICE OF MANAGEMENT | CHAIRPERSON, EDUCATION APPEAL BOARD. DIRECTOR OF HUMAN RESOURCES.
|  | DEPUTY DIRECTOR OF HUMAN RESOURCES.
|  | DIRECTOR OF SECURITY, FACILITIES AND LOGISTICAL SERVICES.
| OFFICE OF THE CHIEF FINANCIAL OFFICER | DEPUTY CHIEF FINANCIAL OFFICER, FINANCIAL MANAGEMENT. DIRECTOR, FINANCIAL IMPROVEMENT AND POST AUDIT OPERATIONS.
|  | DEPUTY CHIEF FINANCIAL OFFICER, MANAGEMENT AND OPERATIONS.
|  | DIRECTOR, CONTRACTS AND ACQUISITIONS MANAGEMENT.
| OFFICE OF THE CHIEF INFORMATION OFFICER | CHIEF INFORMATION OFFICER. DIRECTOR, INFORMATION ASSURANCE AND CHIEF INFORMATION SECURITY OFFICER.
|  | CHIEF INFORMATION OFFICER.
| OFFICE OF THE GENERAL COUNSEL | ASSISTANT GENERAL COUNSEL FOR BUSINESS AND ADMINISTRATION LAW. ASSISTANT GENERAL COUNSEL FOR EDUCATIONAL EQUITY.
|  | ASSISTANT GENERAL COUNSEL FOR POSTSECONDARY EDUCATION AND EDUCATION RESEARCH DIVISION.
DEPARTMENT OF EDUCATION OFFICE OF THE INSPECTOR GENERAL | OFFICE OF THE INSPECTOR GENERAL | DEPUTY INSPECTOR GENERAL. ASSISTANT INSPECTOR GENERAL FOR AUDIT SERVICES.
|  | ASSISTANT INSPECTOR GENERAL FOR INVESTIGATION SERVICES.
|  | ASSISTANT INSPECTOR GENERAL FOR INFORMATION TECHNOLOGY AUDITS AND COMPUTER CRIME INVESTIGATIONS.
|  | ASSISTANT INSPECTOR GENERAL FOR MANAGEMENT SERVICES.
|  | COUNSEL TO THE INSPECTOR GENERAL.
|  | DEPUTY ASSISTANT INSPECTOR GENERAL FOR AUDIT SERVICES.
|  | DEPUTY ASSISTANT INSPECTOR GENERAL FOR INVESTIGATION SERVICES.
|  | INTERIM ASSISTANT INSPECTOR GENERAL FOR MANAGEMENT SERVICES.
DEPARTMENT OF ENERGY | ADVANCED RESEARCH PROJECTS AGENCY—ENERGY | CHIEF COUNSEL.
| ASSISTANT SECRETARY FOR CONGRESSIONAL AND INTERGOVERNMENTAL AFFAIRS | CHIEF OPERATIONS OFFICER.
| ASSISTANT SECRETARY FOR ELECTRICITY DELIVERY AND ENERGY RELIABILITY | DEPUTY ASSISTANT SECRETARY FOR CYBERSECURITY EMERGING THREATS RESEARCH.
| ASSISTANT SECRETARY FOR ENERGY EFFICIENCY AND RENEWABLE ENERGY | DIRECTOR FOR PROCUREMENT SERVICES DIVISION.
| ASSISTANT SECRETARY FOR ENVIRONMENTAL MANAGEMENT | ASSOCIATE DEPUTY ASSISTANT SECRETARY, WASTE MANAGEMENT. SENIOR LABORATORY ADVISOR.
|  | ASSOCIATE DEPUTY ASSISTANT SECRETARY FOR PROGRAM PLANNING AND BUDGET.
|  | DIRECTOR FOR REGULATORY, INTERGOVERNMENTAL AND STAKEHOLDER ENGAGEMENT.
|  | SENIOR PROJECT MANAGEMENT ADVISOR.
|  | SENIOR MANAGEMENT ANALYST ADVISOR.
|  | SENIOR LIAISON ADVISOR FOR FIELD OPERATIONS.
|  | SENIOR ADVISOR FOR IMDP.
| ASSISTANT SECRETARY FOR FOSSIL ENERGY | PROJECT MANAGER, STRATEGIC PETROLEUM RESERVE. DEPUTY DIRECTOR, SCIENCE AND TECHNOLOGY STRATEGIC PLANS AND PROGRAMS.
|  | CHIEF COUNSEL.
|  | DIRECTOR OFFICE OF STRATEGIC PLANNING AND GLOBAL ENGAGEMENT.
|  | DIRECTOR, OFFICE OF RESEARCH.
|  | EXECUTIVE DIRECTOR, OFFICE OF FINANCE, ACQUISITION AND CHIEF FINANCIAL OFFICER.
|  | DEPUTY EXECUTIVE DIRECTOR, TECHNOLOGY DEVELOPMENT AND INTEGRATION.
|  | DEPUTY DIRECTOR, LABORATORY OPERATIONS AND CHIEF OPERATING OFFICER.
|  | EXECUTIVE DIRECTOR, TECHNOLOGY DEVELOPMENT AND INTEGRATION.
|  | EXECUTIVE DIRECTOR, RESEARCH AND INNOVATIONS.
| ASSISTANT SECRETARY FOR INTERNATIONAL AFFAIRS | DEPUTY ASSISTANT SECRETARY FOR MIDDLE EAST, AFRICA AND EURASIA. DIRECTOR, OFFICE OF AFRICAN AND MIDDLE EASTERN AFFAIRS.
|  | DIRECTOR OFFICE OF RUSSIAN AND EURASIAN AFFAIRS.
|  | DIRECTOR, OFFICE OF EAST ASIAN AFFAIRS.
|  | DEPUTY ASSISTANT SECRETARY FOR ASIA AND THE AMERICAS.
| ASSISTANT SECRETARY FOR NUCLEAR ENERGY | DEPUTY DIRECTOR, OFFICE OF ADVANCED REACTOR CONCEPTS. DIRECTOR OFF OF USED NUCLEAR FUEL DISPOSITION RESEARCH AND DEVELOPMENT.
|  | DIRECTOR, OFFICE OF LIGHT WATER REACTOR DEPLOYMENT.
|  | ASSOCIATE DEPUTY ASSISTANT SECRETARY FOR NUCLEAR REACTOR TECHNOLOGY.
|  | DIRECTOR, OFFICE OF ADVANCED REACTOR TECHNOLOGIES.
|  | DEPUTY MANAGER FOR OPERATIONS SUPPORT.
|  | CHIEF OPERATING OFFICER.
|  | DIRECTOR, OFFICE OF INNOVATIVE NUCLEAR RESEARCH.
|  | ASSOCIATE PRINCIPAL DEPUTY ASSISTANT SECRETARY, OFFICE OF NUCLEAR ENERGY.
| ASSOCIATE ADMINISTRATOR FOR ACQUISITION AND PROJECT MANAGEMENT | DIRECTOR, ACQUISITION MANAGEMENT. DEPUTY DIRECTOR, ACQUISITION MANAGEMENT.
|  | DEPUTY ASSOCIATE ADMINISTRATOR FOR ACQUISITION AND PROJECT MANAGEMENT.
|  | ASSOCIATE ADMINISTRATOR FOR ACQUISITION AND PROJECT MANAGEMENT.
|  | DIRECTOR, OFFICE OF ENTERPRISE PROJECT MANAGEMENT.
|  | FEDERAL PROJECT DIRECTOR (URANIUM PROCESSING FACILITY).
| ASSOCIATE ADMINISTRATOR FOR DEFENSE NUCLEAR SECURITY | DIRECTOR OFFICE OF SECURITY OPERATIONS AND PROGRAMMATIC PLANNING.
| ASSOCIATE ADMINISTRATOR FOR SAFETY, INFRASTRUCTURE AND OPERATIONS | DEPUTY ASSOCIATE ADMINISTRATOR FOR SAFETY.
| ASSOCIATE UNDER SECRETARY FOR ENVIRONMENT, HEALTH, SAFETY AND SECURITY | DIRECTOR, OFFICE OF ENVIRONMENTAL PROTECTION SUSTAINABILITY. DIRECTOR, OFFICE OF NUCLEAR SAFETY.
|  | SENIOR ADVISOR.
|  | DEPUTY ASSOCIATE UNDER SECRETARY FOR SECURITY.
| BONNEVILLE POWER ADMINISTRATION | EVP INFORMATION TECHNOLOGY AND CHIEF INFORMATION OFFICER. GENERAL COUNSEL/EXECUTIVE VICE PRESIDENT.
|  | DEPUTY ADMINISTRATOR.
|  | EXECUTIVE VICE PRESIDENT, BUSINESS TRANSFORMATION.
|  | VICE PRESIDENT TRANSMISSION SYSTEM OPERATIONS.
|  | SENIOR VICE PRESIDENT TRANSMISSION SERVICES.
|  | CHIEF OPERATING OFFICER.
|  | VICE PRESIDENT, ENVIRONMENT, FISH AND WILDLIFE.
|  | VICE PRESIDENT, NORTHWEST REQUIREMENTS MARKETING.
|  | VICE PRESIDENT FOR TRANSMISSION FIELD SERVICES.
|  | VICE PRESIDENT, PLANNING AND ASSET MANAGEMENT.
|  | VICE PRESIDENT FOR ENGINEERING AND TECHNICAL SERVICES.
|  | SENIOR VICE PRESIDENT FOR POWER SERVICES.
|  | VICE PRESIDENT, ENERGY EFFICIENCY.
|  | VICE PRESIDENT, TRANSMISSION MARKETING AND SALES.
|  | EXECUTIVE VICE PRESIDENT AND CHIEF FINANCIAL OFFICER.
|  | VICE PRESIDENT FOR GENERATION ASSET MANAGEMENT.
|  | VICE PRESIDENT, BULK MARKETING.
| CHICAGO OFFICE | MANAGER, CHICAGO OFFICE. ASSISTANT MANAGER, ACQUISITION AND ASSISTANCE.
|  | DEPUTY MANAGER, CHICAGO OFFICE.
|  | CHIEF FINANCIAL OFFICER.
| DEPUTY ADMINISTRATOR FOR DEFENSE NUCLEAR NONPROLIFERATION | CHIEF OF STAFF AND OPERATIONS. ARMY AIR DEFENSE ARTILLERY ADMINISTRATOR FOR DEFENSE NUCLEAR NONPROLIFERATION RESEARCH AND DEVELOPMENT.
|  | CHIEF SCIENCE AND TECHNOLOGY OFFICER.
|  | SENIOR PROGRAM ADVISOR.
|  | ASSOCIATE ASSISTANT DEPUTY ADMINISTRATOR, OFFICE OF NONPROLIFERATION AND ARMS CONTROL.
|  | ASSISTANT DEPUTY ADMINISTRATOR FOR NONPROLIFERATION RESEARCH AND DEVELOPMENT.
| DEPUTY ADMINISTRATOR FOR DEFENSE PROGRAMS | MANAGER OFFICE OF RIVER PROTECTION. MANAGER, SAVANNAH RIVER SITE OFFICE.
|  | DEPUTY MANAGER, NEVADA SITE OFFICE.
|  | MANAGER, KANSAS CITY SITE OFFICE.
|  | MANAGER, NEVADA FIELD OFFICE.
|  | DEPUTY MANAGER, LOS ALAMOS SITE OFFICE.
|  | PRINCIPAL ASSISTANT DEPUTY ADMINISTRATOR FOR DEFENSE PROGRAM.
|  | ASSISTANT DEPUTY ADMINISTRATOR FOR STOCKPILE MANAGEMENT.
|  | ASSISTANT DEPUTY ADMINISTRATOR FOR RESEARCH DEVELOPMENT, TEST AND EVALUATION.
|  | MANAGER, NATIONAL NUCLEAR SECURITY ADMINISTRATION PRODUCTION OFFICE.
|  | ASSISTANT DEPUTY ADMINISTRATOR FOR MAJOR MODERNIZATION PROGRAMS.
|  | ASSISTANT DEPUTY ADMINISTRATOR FOR SYSTEMS ENGINEERING INTEGRATION.
|  | URANIUM PROGRAM MANAGER.
|  | DIRECTOR, OFFICE OF INERTIAL CONFINEMENT FUSION.
|  | PROGRAM EXECUTIVE OFFICER FOR LIFE EXTENSION PROGRAMS.
| DEPUTY ADMINISTRATOR FOR NAVAL REACTORS | DIRECTOR ADVANCED SUBMARINE SYSTEMS DIVISION. DEPUTY DIRECTOR FOR NAVAL REACTORS.
|  | DIRECTOR NUCLEAR TECHNOLOGY DIVISION.
|  | DIRECTOR REGULATORY AFFAIRS.
|  | DIRECTOR, INSTRUMENTATION AND CONTROL DIVISION.
|  | DEPUTY DIRECTOR, ADVANCED SUBMARINE SYSTEMS DIVISION.
|  | SENIOR NAVAL REACTORS REPRESENTATIVE (NEWPORT NEWS, VA).
|  | DEPUTY DIRECTOR, NUCLEAR TECHNOLOGY DIVISION.
|  | DIRECTOR, INFORMATION TECHNOLOGY MANAGEMENT.
|  | PROGRAM MANAGER FOR SURFACE SHIP NUCLEAR PROPULSION.
|  | DIRECTOR, REACTOR ENGINEERING DIVISION.
|  | SENIOR NAVAL REACTORS REPRESENTATIVE.
|  | ASSISTANT MANAGER FOR OPERATIONS.
|  | MANAGER, NAVAL REACTORS LABORATORY FIELD OFFICE.
|  | PROGRAM MANAGER, PROTOTYPE AND MOORED TRAINING SHIP OPERATIONS AND INACTIVATION PROGRAM.
|  | PROGRAM MANAGER, NEW SHIP DESIGN.
|  | PROGRAM MANAGER, VA CLASS SUBS AND US/UK TECHNOLOGY EXCHANGE.
|  | SENIOR NAVAL REACTORS REPRESENTATIVE (PUGET SOUND NAVAL SHIP).
|  | DIRECTOR, ACQUISITION DIVISION.
|  | DIRECTOR, GOVERNMENTAL AFFAIRS.
|  | PROGRAM MANAGER, ADVANCED TECHNOLOGY DEVELOPMENT.
|  | SENIOR NAVAL REACTORS REPRESENTATIVE (GROTON, CT).
|  | DIRECTOR, COMMISSIONED SUBMARINE SYSTEMS DIVISION.
|  | DIRECTOR REGULATORY AFFAIRS.
| ENVIRONMENTAL MANAGEMENT CONSOLIDATED BUSINESS CENTER | CHIEF COUNSEL.
| IDAHO OPERATIONS OFFICE | CHIEF COUNSEL. MANAGER, IDAHO OPERATIONS OFFICE.
|  | DEPUTY MANAGER FOR IDAHO CLEANUP PROJECT.
|  | DEPUTY MANAGER FOR ADMINISTRATIVE SUPPORT, CHIEF FINANCIAL OFFICER.
| LOAN PROGRAMS OFFICE | DIRECTOR, PORTFOLIO MANAGEMENT DIVISION. DIRECTOR, RISK MANAGEMENT.
|  | CHIEF COUNSEL.
| NATIONAL NUCLEAR SECURITY ADMINISTRATION | DEPUTY DIRECTOR, INSTRUMENTATION AND CONTROL DIVISION. ASSOCIATE DEPUTY ADMINISTRATOR FOR SECURE TRANSPORTATION.
|  | CHIEF SCIENTIST.
|  | MANAGER, LIVERMORE FIELD OFFICE.
|  | ASSOCIATE ADMINISTRATOR FOR INFORMATION MANAGEMENT AND CHIEF INFORMATION OFFICER.
|  | DIRECTOR, OFFICE OF POLICY.
|  | MANAGER, SANDIA FIELD OFFICE.
|  | DIRECTOR, OFFICE OF COST ESTIMATING AND PROGRAM EVALUATION.
|  | ASSOCIATE DEPUTY ADMINISTRATOR, OFFICE OF MATERIAL MANAGEMENT AND MINIMIZATION.
|  | ASSOCIATE ASSISTANT DEPUTY ADMINISTRATOR, OFFICE OF GLOBAL MATERIAL SECURITY.
|  | ASSISTANT DEPUTY ADMINISTRATOR, OFFICE OF GLOBAL MATERIAL SECURITY.
|  | ASSISTANT DEPUTY ADMINISTRATOR FOR STRATEGIC PARTNERSHIP PROGRAMS.
|  | FEDERAL PROJECT DIRECTOR, CHEMISTRY AND METALLURGY RESEARCH REPLACEMENT FACILITY.
|  | CHIEF OF STAFF AND ASSOCIATE PRINCIPAL DEPUTY ADMINISTRATOR.
|  | DEPUTY MANAGER, LIVERMORE FIELD OFFICE.
|  | DEPUTY ASSOCIATE ADMINISTRATOR FOR ENTERPRISE STEWARDSHIP.
|  | DIRECTOR, OFFICE OF NUCLEAR INCIDENT RESPONSE.
|  | DEPUTY ASSOCIATE ADMINISTRATOR FOR SAFETY.
|  | DEPUTY GENERAL COUNSEL FOR GENERAL LAW AND LITIGATION.
|  | DIRECTOR, OFFICE OF EMPLOYEE EMPOWERMENT.
| NATIONAL NUCLEAR SECURITY ADMINISTRATION FIELD SITE OFFICES | DIRECTOR, OFFICE OF ADVANCED SIMULATION AND COMPUTING AND INSTITUTIONAL RESEARCH AND DEVELOPMENT PROGRAMS. DEPUTY MANAGER SANDIA FIELD OFFICE.
|  | SENIOR POLICY ADVISOR.
| OAK RIDGE OFFICE | CHIEF COUNSEL. ASSISTANT MANAGER FOR ADMINISTRATION.
|  | CHIEF FINANCIAL OFFICER.
|  | SITE MANAGER, THOMAS JEFFERSON NATIONAL ACCELERATOR FACILITY.
|  | SITE MANAGER, ORNL SITE OFFICE.
| OFFICE OF ENERGY POLICY AND SYSTEMS ANALYSIS | DEPUTY ASSISTANT SECRETARY FOR POLICY ANALYSIS. DEPUTY DIRECTOR FOR ENERGY FINANCE INCENTIVES AND PROGRAM ANALYSIS.
|  | CHIEF OPERATING OFFICER.
| OFFICE OF ENTERPRISE ASSESSMENTS | DIRECTOR, OFFICE OF SECURITY ASSESSMENTS. DIRECTOR, OFFICE OF ENVIRONMENT, SAFETY AND HEALTH EVALUATION.
|  | DEPUTY DIRECTOR, OFFICE OF INDEPENDENT ENTERPRISE ASSESSMENTS.
|  | DEPUTY DIRECTOR, OFFICE OF ENVIRONMENT, SAFETY AND HEALTH ASSESSMENTS.
| OFFICE OF GENERAL COUNSEL | DEPUTY GENERAL COUNSEL. ASSISTANT GENERAL COUNSEL FOR GENERAL LAW.
|  | ASSISTANT GENERAL COUNSEL FOR PROCUREMENT AND FINANCIAL ASSISTANCE.
|  | ASSISTANT GENERAL COUNSEL FOR TECHNOLOGY TRANSFER AND INTELLECTUAL PROPERTY.
|  | ASSISTANT GENERAL COUNSEL FOR ENFORCEMENT.
|  | DEPUTY GENERAL COUNSEL FOR TRANSACTIONS, TECHNOLOGY, AND CONTRACTOR HUMAN RESOURCES.
| OFFICE OF HEARINGS AND APPEALS | DEPUTY DIRECTOR, HEARINGS AND APPEALS (DEPUTY CHIEF ADMINISTRATIVE JUDGE). DIRECTOR, HEARINGS AND APPEALS (CHIEF ADMINISTRATIVE JUDGE).
|  | SENIOR LEGAL ADVISOR/ADMINISTRATIVE JUDGE.
| OFFICE OF INTELLIGENCE AND COUNTERINTELLIGENCE | DIRECTOR OFFICE OF INTELLIGENCE AND COUNTERINTELLIGENCE. PRINCIPAL DEPUTY DIRECTOR, OFFICE OF INTELLIGENCE AND COUNTERINTELLIGENCE.
|  | DEPUTY DIRECTOR FOR COUNTERINTELLIGENCE.
|  | DEPUTY DIRECTOR FOR INTELLIGENCE ANALYSIS.
| OFFICE OF MANAGEMENT | DIRECTOR, OFFICE OF MANAGEMENT. DIRECTOR, OFFICE OF ADMINISTRATION.
|  | DIRECTOR, OFFICE OF POLICY.
|  | DIRECTOR.
|  | DIRECTOR, OFFICE OF HEADQUARTERS PROCUREMENT SERVICES.
| OFFICE OF MANAGEMENT AND BUDGET | DIRECTOR, OFFICE OF HUMAN RESOURCES. ASSOCIATE ADMINISTRATOR FOR MANAGEMENT AND BUDGET.
| OFFICE OF PROJECT MANAGEMENT OVERSIGHT AND ASSESSMENTS | DIRECTOR, OFFICE OF PROJECT MANAGEMENT OVERSIGHT AND ASSESSMENTS. DEPUTY DIRECTOR, OFFICE OF PROJECT MANAGEMENT OVERSIGHT AND ASSESSMENTS.
|  | DIRECTOR, OFFICE OF PROJECT ASSESSMENTS.
| OFFICE OF SCIENCE | SITE OFFICE MANAGER, BROOKHAVEN. SITE OFFICE MANAGER, FERMI.
|  | SITE OFFICE MANAGER, ARGONNE.
|  | DIRECTOR OFFICE OF SCIENTIFIC AND TECHNICAL INFORMATION.
|  | SITE OFFICE MANAGER, PRINCETON.
|  | CHIEF COUNSEL.
|  | DIRECTOR, OFFICE OF WORKFORCE MANAGEMENT.
|  | BERKELEY/SLAC SITE OFFICE MANAGER.
| OFFICE OF THE CHIEF FINANCIAL OFFICER | DIRECTOR, OFFICE OF BUDGET. DEPUTY DIRECTOR, BUDGET OPERATIONS.
|  | DEPUTY DIRECTOR, BUDGET ANALYSIS AND COORDINATION.
|  | DEPUTY CHIEF FINANCIAL OFFICER.
|  | ASSISTANT DEPUTY CHIEF FINANCIAL OFFICER, FINANCIAL SYSTEM INTEGRATION.
|  | DIRECTOR, OFFICE OF CORPORATE INFORMATION SYSTEMS.
|  | DIRECTOR, OFFICE OF FINANCE AND OVERSIGHT.
|  | DEPUTY DIRECTOR, OFFICE OF FINANCE AND ACCOUNTING.
|  | ASSISTANT DIRECTOR, FINANCIAL POLICY AND INTERNAL CONTROLS.
|  | SENIOR ADVISOR.
| OFFICE OF THE CHIEF HUMAN CAPITAL OFFICER | DIRECTOR, OFFICE OF HUMAN CAPITAL MANAGEMENT. DIRECTOR, CORPORATE HUMAN RESOURCES OPERATIONS.
|  | DIRECTOR, OFFICE OF CORPORATE EXECUTIVE MANAGEMENT.
|  | DEPUTY CHIEF, HUMAN CAPITAL OFFICER.
|  | DIRECTOR, OFFICE OF STRATEGY, ANALYSIS, AND PROJECT MANAGEMENT.
|  | DIRECTOR, HUMAN RESOURCES SHARED SERVICE CENTER FOR MANAGEMENT AND PERFORMANCE.
|  | DIRECTOR, HUMAN RESOURCES SHARED SERVICE CENTER, SCIENCE AND ENERGY.
|  | DIRECTOR, HC POLICY AND ACCOUNTABILITY.
| OFFICE OF THE CHIEF INFORMATION OFFICER | DEPUTY CHIEF INFORMATION OFFICER. PRINCIPAL DEPUTY CHIEF INFORMATION OFFICER FOR ENTERPRISE INFORMATION RESOURCES MANAGEMENT.
|  | CHIEF PRIVACY OFFICER.
| OFFICE OF THE GENERAL COUNSEL | GENERAL COUNSEL.
| RICHLAND OPERATIONS OFFICE | MANAGER. CHIEF COUNSEL.
| SAVANNAH RIVER OPERATIONS OFFICE | ASSOCIATE DEPUTY MANAGER.
| SOUTHWESTERN POWER ADMINISTRATION | DEPUTY ADMINISTRATOR, OFFICE OF POWER DELIVERY.
| U.S. ENERGY INFORMATION ADMINISTRATION | DEPUTY ADMINISTRATOR ENERGY INFORMATION ADMINISTRATION. DIRECTOR, OFFICE OF ENERGY CONSUMPTION AND EFFICIENCY STATISTICS.
|  | DIRECTOR, OFFICE OF OIL, GAS AND COAL SUPPLY STATISTICS.
|  | DIRECTOR, OFFICE OF ELECTRICITY, RENEWABLES AND URANIUM STATISTICS.
|  | DIRECTOR, OFFICE OF PETROLEUM AND BIOFUELS STATISTICS.
|  | DIRECTOR, OFFICE OF SURVEY DEVELOPMENT AND STATISTICAL INTEGRATION.
|  | DIRECTOR, OFFICE OF ENERGY CONSUMPTION AND EFFICIENCY ANALYSIS.
|  | DIRECTOR OFFICE OF PETROLEUM GAS AND BIOFUELS ANALYSIS.
|  | DIRECTOR OFFICE OF INTEGRATED AND INTERNATIONAL ENERGY ANALYSIS.
|  | ASSISTANT ADMINISTRATOR FOR COMMUNICATIONS.
|  | DIRECTOR, OFFICE OF ENERGY MARKETS AND FINANCIAL ANALYSIS.
|  | DIRECTOR, OFFICE OF ELECTRICITY, COAL, NUCLEAR AND RENEWABLE.
|  | ASSISTANT ADMINISTRATOR FOR RESOURCES AND TECHNOLOGY MANAGEMENT.
|  | ASSISTANT ADMINISTRATOR FOR ENERGY STATISTICS.
|  | SENIOR ADVISOR.
|  | ASSISTANT ADMINISTRATOR FOR ENERGY ANALYSIS.
|  | SENIOR ADVISOR.
| WESTERN AREA POWER ADMINISTRATION | GENERAL COUNSEL. REGIONAL MANAGER, UPPER GREAT PLAINS REGION.
|  | REGIONAL MANAGER, ROCKY MOUNTAIN REGION.
|  | CHIEF OPERATING OFFICER.
|  | CHIEF INFORMATION OFFICER.
|  | CHIEF FINANCIAL OFFICER.
|  | TRANSMISSION INFRASTRUCTURE PROGRAM MANAGER.
|  | REGIONAL MANAGER, SIERRA NEVADA REGION.
|  | DESERT SOUTHWEST REGIONAL MANAGER.
DEPARTMENT OF ENERGY OFFICE OF THE INSPECTOR GENERAL |  | DEPUTY INSPECTOR GENERAL FOR INVESTIGATIONS. COUNSEL TO THE INSPECTOR GENERAL.
|  | DEPUTY INSPECTOR GENERAL FOR MANAGEMENT AND ADMINISTRATION.
|  | ASSISTANT INSPECTOR GENERAL FOR AUDITS AND INSPECTIONS—EAST.
|  | DEPUTY INSPECTOR GENERAL FOR AUDITS AND INSPECTIONS.
|  | DEPUTY ASSISTANT INSPECTOR GENERAL FOR AUDITS AND INSPECTIONS—WEST.
|  | PRINCIPAL DEPUTY INSPECTOR GENERAL.
|  | ASSISTANT INSPECTOR GENERAL FOR AUDITS AND ADMINISTRATION.
|  | ASSISTANT INSPECTOR GENERAL FOR AUDITS AND INSPECTIONS—WEST.
|  | DEPUTY ASSISTANT INSPECTOR GENERAL FOR AUDITS—CENTRAL.
|  | DEPUTY ASSISTANT INSPECTOR GENERAL FOR AUDITS AND INSPECTIONS—EAST.
|  | ASSISTANT INSPECTOR GENERAL FOR INVESTIGATIONS.
ENVIRONMENTAL PROTECTION AGENCY | AIR POLLUTION PREVENTION AND CONTROL DIVISION | DIRECTOR, AIR POLLUTION PREVENTION AND CONTROL DIVISION.
| ENVIRONMENTAL APPEALS BOARD | ENVIRONMENTAL APPEALS JUDGE (4).
| FEDERAL FACILITIES ENFORCEMENT OFFICE | DIRECTOR, FEDERAL FACILITIES ENFORCEMENT OFFICE.
| GULF ECOLOGY DIVISION | DIRECTOR, GULF ECOLOGY DIVISION.
| MID-CONTINENT ECOLOGY DIVISION | DIRECTOR, MID-CONTINENT ECOLOGY DIVISION.
| NATIONAL CENTER FOR ENVIRONMENTAL ASSESSMENT | DEPUTY DIRECTOR FOR MANAGEMENT.
| NATIONAL CENTER FOR ENVIRONMENTAL ASSESSMENT—CINCINNATI, OHIO | DIRECTOR, NATIONAL CENTER FOR ENVIRONMENTAL ASSESSMENT.
| NATIONAL CENTER FOR ENVIRONMENTAL ASSESSMENT—WASHINGTON, DC | DIRECTOR, NATIONAL CENTER FOR ENVIRONMENTAL ASSESSMENT.
| NATIONAL CENTER FOR ENVIRONMENTAL RESEARCH | DEPUTY DIRECTOR FOR MANAGEMENT.
| NATIONAL EXPOSURE RESEARCH LABORATORY | DIRECTOR, NATIONAL EXPOSURE RESEARCH LABORATORY. DEPUTY DIRECTOR FOR MANAGEMENT.
| NATIONAL HEALTH AND ENVIRONMENTAL EFFECTS RESEARCH LABORATORY | DIRECTOR, NATIONAL HEALTH AND ENVIRONMENTAL EFFECTS RESEARCH LABORATORY. ASSOCIATE DIRECTOR FOR ECOLOGY.
|  | DEPUTY DIRECTOR FOR MANAGEMENT.
| NATIONAL HOMELAND SECURITY RESEARCH CENTER | DIRECTOR, NATIONAL HOMELAND SECURITY RESEARCH CENTER.
| NATIONAL HOMELAND SECURITY RESEARCH CENTER | DEPUTY DIRECTOR FOR MANAGEMENT, NATIONAL HOMELAND SECURITY RESEARCH CENTER.
| NATIONAL RISK MANAGEMENT RESEARCH LABORATORY | DIRECTOR, NATIONAL RISK MANAGEMENT RESEARCH LABORATORY. DEPUTY DIRECTOR FOR MANAGEMENT.
| OFFICE OF ACQUISITION MANAGEMENT | DIRECTOR, OFFICE OF ACQUISITION MANAGEMENT. DEPUTY DIRECTOR, OFFICE OF ACQUISITION MANAGEMENT.
|  | DIRECTOR, OFFICE OF ACQUISITION MANAGEMENT.
| OFFICE OF ADMINISTRATION | DIRECTOR, OFFICE OF ADMINISTRATION.
|  | DEPUTY DIRECTOR, OFFICE OF ADMINISTRATION.
|  | DIRECTOR, FACILITIES MANAGEMENT AND SERVICES DIVISION.
|  | DIRECTOR, SAFETY AND SUSTAINABILITY DIVISION.
| OFFICE OF ADMINISTRATION AND RESOURCES MANAGEMENT—CINCINNATI OHIO | DIRECTOR, OFFICE OF ADMINISTRATION AND RESOURCES MANAGEMENT.
| OFFICE OF ADMINISTRATION AND RESOURCES MANAGEMENT—RESEARCH TRIANGLE PARK, NORTH CAROLINA | DIRECTOR, OFFICE OF ADMINISTRATION AND RESOURCES MANAGEMENT.
| OFFICE OF ADMINISTRATIVE AND EXECUTIVE SERVICES | DIRECTOR, OFFICE OF EXECUTIVE SERVICES.
| OFFICE OF ADMINISTRATIVE AND RESEARCH SUPPORT | DIRECTOR, OFFICE OF ADMINISTRATIVE AND RESEARCH SUPPORT. DEPUTY DIRECTOR, OFFICE OF ADMINISTRATIVE AND RESEARCH SUPPORT.
| OFFICE OF AIR QUALITY PLANNING AND STANDARDS | DIRECTOR, AIR QUALITY ASSESSMENT DIVISION. DIRECTOR, OUTREACH AND INFORMATION DIVISION.
|  | DIRECTOR, AIR QUALITY POLICY DIVISION.
|  | DIRECTOR, HEALTH AND ENVIRONMENTAL IMPACTS DIVISION.
|  | DIRECTOR, SECTOR POLICIES AND PROGRAMS DIVISION.
|  | ASSOCIATE OFFICE DIRECTOR FOR PROGRAM INTEGRATION AND INTERNATIONAL AIR QUALITY ISSUES.
| OFFICE OF ATMOSPHERIC PROGRAMS | DIRECTOR, CLIMATE CHANGE DIVISION. DIRECTOR, CLEAN AIR MARKETS DIVISION.
|  | DIRECTOR, CLIMATE PROTECTION PARTNERSHIP DIVISION.
| OFFICE OF BUDGET | DIRECTOR, OFFICE OF BUDGET.
| OFFICE OF CIVIL ENFORCEMENT | DIRECTOR, OFFICE OF CIVIL ENFORCEMENT. DEPUTY DIRECTOR, OFFICE OF CIVIL ENFORCEMENT.
|  | DIRECTOR, AIR ENFORCEMENT DIVISION.
|  | DIRECTOR, WATER ENFORCEMENT DIVISION.
| OFFICE OF COMPLIANCE | DIRECTOR, OFFICE OF COMPLIANCE. DIRECTOR, ENFORCEMENT TARGETING AND DATA DIVISION.
|  | DIRECTOR, MONITORING ASSISTANCE AND MEDIA PROGRAMS DIVISION.
|  | DEPUTY DIRECTOR, OFFICE OF COMPLIANCE.
|  | DIRECTOR, NATIONAL ENFORCEMENT TRAINING INSTITUTE.
| OFFICE OF CRIMINAL ENFORCEMENT, FORENSICS AND TRAINING | DIRECTOR, OFFICE OF CRIMINAL ENFORCEMENT, FORENSICS AND TRAINING. DIRECTOR, CRIMINAL INVESTIGATION DIVISION.
|  | DEPUTY DIRECTOR, OFFICE OF CRIMINAL ENFORCEMENT, FORENSICS AND TRAINING.
|  | DIRECTOR, NATIONAL ENFORCEMENT INVESTIGATIONS CENTER.
| OFFICE OF DEPUTY GENERAL COUNSEL | DIRECTOR, RESOURCES MANAGEMENT OFFICE.
| OFFICE OF DIVERSITY, ADVISORY COMMITTEE MANAGEMENT AND OUTREACH | DIRECTOR, OFFICE OF DIVERSITY, ADVISORY COMMITTEE MANAGEMENT AND OUTREACH.
| OFFICE OF ENVIRONMENTAL INFORMATION | DIRECTOR AND CHIEF TECHNOLOGY OFFICER.
| OFFICE OF ENVIRONMENTAL JUSTICE | DIRECTOR, OFFICE OF ENVIRONMENTAL JUSTICE.
| OFFICE OF FEDERAL ACTIVITIES | DIRECTOR, INTERNATIONAL COMPLIANCE ASSURANCE DIVISION.
| OFFICE OF FINANCIAL SERVICES | DIRECTOR, OFFICE OF FINANCIAL SERVICES.
| OFFICE OF GRANTS AND DEBARMENT | DIRECTOR, OFFICE OF GRANTS AND DEBARMENT. DEPUTY DIRECTOR, OFFICE OF GRANTS AND DEBARMENT.
| OFFICE OF GROUND WATER AND DRINKING WATER | DIRECTOR, STANDARDS AND RISK MANAGEMENT DIVISION. DIRECTOR, DRINKING WATER PROTECTION DIVISION.
| OFFICE OF HUMAN RESOURCES | DIRECTOR, OFFICE OF HUMAN RESOURCES. DEPUTY DIRECTOR, OFFICE OF HUMAN RESOURCES.
|  | DIRECTOR, EXECUTIVE RESOURCES DIVISION.
| OFFICE OF PESTICIDE PROGRAMS | DIRECTOR, REGISTRATION DIVISION. DIRECTOR, BIOLOGICAL AND ECONOMIC ANALYSIS DIVISION.
|  | DIRECTOR, PESTICIDES RE-EVALUATION DIVISION.
|  | DIRECTOR, ENVIRONMENTAL FATE AND EFFECTS DIVISION.
|  | DIRECTOR, HEALTH EFFECTS DIVISION.
|  | DIRECTOR, ANTIMICROBIALS DIVISION.
|  | DIRECTOR, FIELD AND EXTERNAL AFFAIRS DIVISION.
|  | DIRECTOR, INFORMATION TECHNOLOGY AND RESOURCES MANAGEMENT DIVISION.
|  | DIRECTOR, BIO PESTICIDES AND POLLUTION PREVENTION DIVISION.
| OFFICE OF PLANNING, ANALYSIS AND ACCOUNTABILITY | DIRECTOR, OFFICE OF PLANNING, ANALYSIS AND ACCOUNTABILITY.
| OFFICE OF POLICY AND RESOURCE MANAGEMENT | DIRECTOR, OFFICE OF POLICY AND RESOURCE MANAGEMENT.
| OFFICE OF POLLUTION PREVENTION AND TOXICS | DIRECTOR, CHEMISTRY, ECONOMICS AND SUSTAINABLE STRATEGIES DIVISION. DIRECTOR, CHEMICAL CONTROL DIVISION.
|  | DIRECTOR, INFORMATION MANAGEMENT DIVISION.
|  | DIRECTOR, NATIONAL PROGRAM CHEMICALS DIVISION.
|  | DIRECTOR, RISK ASSESSMENT DIVISION.
|  | DIRECTOR, ENVIRONMENTAL ASSISTANCE DIVISION.
|  | DIRECTOR, TOXICS RELEASE INVENTORY DIVISION.
| OFFICE OF PROGRAM ACCOUNTABILITY AND RESOURCE MANAGEMENT | DIRECTOR, OFFICE OF PROGRAM ACCOUNTABILITY AND RESOURCE MANAGEMENT.
| OFFICE OF PROGRAM MANAGEMENT OPERATIONS | ASSOCIATE ASSISTANT ADMINISTRATOR (MANAGEMENT).
| OFFICE OF RADIATION AND INDOOR AIR | DIRECTOR, INDOOR ENVIRONMENTS DIVISION. DIRECTOR, RADIATION PROTECTION DIVISION.
| OFFICE OF REGIONAL COUNSEL | REGIONAL COUNSEL (10).
| OFFICE OF RESOURCE CONSERVATION AND RECOVERY | DIRECTOR, MATERIALS RECOVERY AND WASTE MANAGEMENT DIVISION. DIRECTOR, PROGRAM IMPLEMENTATION AND INFORMATION DIVISION.
|  | DIRECTOR, RESOURCE CONSERVATION AND SUSTAINABILITY DIVISION.
| OFFICE OF SCIENCE AND TECHNOLOGY | DIRECTOR, STANDARDS AND HEALTH PROTECTION DIVISION. DIRECTOR, HEALTH AND ECOLOGICAL CRITERIA DIVISION.
|  | DIRECTOR, ENGINEERING AND ANALYSIS DIVISION.
| OFFICE OF SITE REMEDIATION ENFORCEMENT | DIRECTOR, OFFICE OF SITE REMEDIATION ENFORCEMENT. DEPUTY DIRECTOR, OFFICE OF SITE REMEDIATION ENFORCEMENT.
| OFFICE OF SUPERFUND REMEDIATION AND TECHNOLOGY INNOVATION | DIRECTOR, TECHNOLOGY INNOVATION AND FIELD SERVICES DIVISION. DIRECTOR, ASSESSMENT AND REMEDIATION DIVISION.
|  | DIRECTOR, RESOURCES MANAGEMENT DIVISION.
| OFFICE OF TECHNOLOGY SOLUTIONS | DIRECTOR, OFFICE OF TECHNOLOGY SOLUTIONS.
| OFFICE OF THE ASSISTANT ADMINISTRATOR FOR ENFORCEMENT AND COMPLIANCE ASSURANCE | SENIOR POLICY DIRECTOR FOR INNOVATION AND NEXT GENERATION COMPLIANCE.
| OFFICE OF THE ASSISTANT ADMINISTRATOR FOR RESEARCH AND DEVELOPMENT | DIRECTOR, OFFICE OF SCIENCE INFORMATION MANAGEMENT. DIRECTOR, ENVIRONMENTAL TECHNOLOGY INNOVATION CLUSTER PROGRAM.
|  | DEPUTY DIRECTOR FOR MANAGEMENT, OFFICE OF SCIENTIFIC INFORMATION MANAGEMENT.
| OFFICE OF THE CHIEF FINANCIAL OFFICER | ASSOCIATE CHIEF FINANCIAL OFFICER. DEPUTY CHIEF FINANCIAL OFFICER.
| OFFICE OF THE CONTROLLER | DIRECTOR, OFFICE OF FINANCIAL MANAGEMENT. CONTROLLER.
|  | DEPUTY CONTROLLER.
| OFFICE OF THE SCIENCE ADVISOR | DIRECTOR, OFFICE OF THE SCIENCE ADVISOR.
| OFFICE OF TRANSPORTATION AND AIR QUALITY | DIRECTOR, TESTING AND ADVANCED TECHNOLOGY DIVISION. DIRECTOR, TRANSPORTATION AND CLIMATE DIVISION.
|  | DIRECTOR, ASSESSMENT AND STANDARDS DIVISION.
|  | DIRECTOR, COMPLIANCE DIVISION.
| OFFICE OF WASTE WATER MANAGEMENT | DIRECTOR, WATER INFRASTRUCTURE DIVISION. DIRECTOR, WATER PERMITS DIVISION.
|  | DIRECTOR, WATER INFRASTRUCTURE DIVISION.
| REGION 1—BOSTON, MASSACHUSETTS | DIRECTOR, OFFICE OF ECOSYSTEM PROTECTION. DIRECTOR, OFFICE OF SITE REMEDIATION RESTORATION.
|  | ASSISTANT REGIONAL ADMINISTRATOR FOR ADMINISTRATION AND RESOURCES MANAGEMENT.
|  | DIRECTOR, OFFICE OF ENVIRONMENTAL STEWARDSHIP.
| REGION 10—SEATTLE, WASHINGTON | ASSISTANT REGIONAL ADMINISTRATOR FOR MANAGEMENT PROGRAMS. DIRECTOR, OFFICE OF WATER AND WATERSHEDS.
|  | DIRECTOR, OFFICE OF ENVIRONMENTAL REVIEW AND ASSESSMENT.
|  | DIRECTOR, OFFICE OF ENVIRONMENTAL CLEANUP.
|  | DIRECTOR, OFFICE OF COMPLIANCE AND ENFORCEMENT.
|  | DIRECTOR, OFFICE OF AIR AND WASTE.
| REGION 2—NEW YORK, NEW YORK | ASSISTANT REGIONAL ADMINISTRATOR FOR POLICY AND MANAGEMENT. DIRECTOR, OFFICE OF EMERGENCY AND REMEDIAL RESPONSE.
|  | DIRECTOR, DIVISION OF ENVIRONMENTAL SCIENCE AND ASSESSMENT.
|  | DIRECTOR, CARIBBEAN ENVIRONMENTAL PROTECTION DIVISION.
|  | DIRECTOR, ENFORCEMENT AND COMPLIANCE ASSISTANCE DIVISION.
|  | DIRECTOR, CLEAN AIR AND SUSTAINABILITY DIVISION.
|  | DIRECTOR, CLEAN WATER DIVISION.
| REGION 3—PHILADELPHIA, PENNSYLVANIA | DIRECTOR, WATER PROTECTION DIVISION. ASSISTANT REGIONAL ADMINISTRATOR FOR POLICY AND MANAGEMENT.
|  | DIRECTOR, CHESAPEAKE BAY PROGRAM OFFICE.
|  | DIRECTOR, AIR PROTECTION DIVISION.
|  | DIRECTOR, HAZARDOUS SITE CLEANUP DIVISION.
|  | DIRECTOR, LAND AND CHEMICALS DIVISION.
|  | DIRECTOR, ENVIRONMENTAL ASSESSMENT AND INNOVATION DIVISION.
| REGION 4—ATLANTA, GEORGIA | DIRECTOR, WATER PROTECTION DIVISION. ASSISTANT REGIONAL ADMINISTRATOR FOR POLICY AND MANAGEMENT.
|  | DIRECTOR, SUPERFUND DIVISION.
|  | DIRECTOR, GULF OF MEXICO PROGRAM.
|  | DIRECTOR, RESOURCE CONSERVATION AND RECOVERY ACT DIVISION.
|  | DIRECTOR, SCIENCE AND ECOSYSTEM SUPPORT DIVISION.
|  | DIRECTOR, AIR, PESTICIDES AND TOXICS MANAGEMENT DIVISION.
| REGION 5—CHICAGO, ILLINOIS | DIRECTOR, AIR AND RADIATION DIVISION. DIRECTOR, WATER DIVISION.
|  | DIRECTOR, LAND AND CHEMICALS DIVISION.
|  | DIRECTOR, GREAT LAKES NATIONAL PROGRAM OFFICE.
|  | DIRECTOR, SUPERFUND DIVISION.
|  | ASSISTANT REGIONAL ADMINISTRATOR FOR RESOURCES MANAGEMENT.
| REGION 6—DALLAS, TEXAS | ASSISTANT REGIONAL ADMINISTRATOR FOR MANAGEMENT. DIRECTOR, COMPLIANCE ASSURANCE AND ENFORCEMENT DIVISION.
|  | DIRECTOR, SUPERFUND DIVISION.
|  | DIRECTOR, WATER QUALITY PROTECTION DIVISION.
|  | DIRECTOR, MULTIMEDIA PLANNING AND PERMITTING DIVISION.
| REGION 7—LENEXA, KANSAS | ASSISTANT REGIONAL ADMINISTRATOR FOR POLICY AND MANAGEMENT. DIRECTOR, SUPERFUND DIVISION.
|  | DIRECTOR, AIR AND WASTE MANAGEMENT DIVISION.
|  | DIRECTOR, WATER, WETLANDS AND PESTICIDES DIVISION.
|  | DIRECTOR, ENVIRONMENTAL SERVICES DIVISION.
| REGION 8—DENVER, COLORADO | ASSISTANT REGIONAL ADMINISTRATOR FOR ECOSYSTEMS PROTECTION AND REMEDIATION. ASSISTANT REGIONAL ADMINISTRATOR FOR PARTNERSHIPS AND REGULATORY ASSISTANCE.
|  | ASSISTANT REGIONAL ADMINISTRATOR FOR TECHNICAL AND MANAGEMENT SERVICES.
|  | ASSISTANT REGIONAL ADMINISTRATOR FOR WATER PROTECTION.
| REGION 9—SAN FRANCISCO, CALIFORNIA | DIRECTOR, WATER DIVISION. DIRECTOR, AIR DIVISION.
|  | ASSISTANT REGIONAL ADMINISTRATOR FOR MANAGEMENT AND TECHNICAL SERVICES.
|  | DIRECTOR, SUPERFUND DIVISION.
|  | DIRECTOR, ENFORCEMENT DIVISION.
|  | DIRECTOR, LAND DIVISION.
| WESTERN ECOLOGY DIVISION | DIRECTOR, WESTERN ECOLOGY DIVISION.
ENVIRONMENTAL PROTECTION AGENCY OFFICE OF THE INSPECTOR GENERAL |  | DEPUTY INSPECTOR GENERAL. COUNSEL TO THE INSPECTOR GENERAL.
|  | ASSISTANT INSPECTOR GENERAL FOR AUDIT.
|  | ASSISTANT INSPECTOR GENERAL FOR INVESTIGATIONS.
|  | ASSISTANT INSPECTOR GENERAL FOR PROGRAM EVALUATION.
|  | ASSISTANT INSPECTOR GENERAL FOR MISSION SYSTEMS.
|  | CHIEF OF STAFF.
EQUAL EMPLOYMENT OPPORTUNITY COMMISSION | FIELD COORDINATION PROGRAMS | DIRECTOR, FIELD COORDINATION PROGRAMS.
| FIELD MANAGEMENT PROGRAMS | DIRECTOR FIELD MANAGEMENT PROGRAMS.
| OFFICE OF FIELD PROGRAMS | DISTRICT DIRECTOR (BALTIMORE). DISTRICT DIRECTOR—(NEW YORK).
|  | DISTRICT DIRECTOR—(ATLANTA).
|  | DISTRICT DIRECTOR—(HOUSTON).
|  | DISTRICT DIRECTOR (DETROIT).
|  | DISTRICT DIRECTOR (SAN FRANCISCO).
|  | DISTRICT DIRECTOR (DALLAS).
|  | DISTRICT DIRECTOR—(CHICAGO).
|  | DISTRICT DIRECTOR—(ST LOUIS).
|  | DISTRICT DIRECTOR (MIAMI).
|  | DISTRICT DIRECTOR—(INDIANAPOLIS).
|  | DISTRICT DIRECTOR (MEMPHIS).
|  | DISTRICT DIRECTOR (LOS ANGELES).
|  | DISTRICT DIRECTOR—(DENVER).
|  | DISTRICT DIRECTOR—(BIRMINGHAM).
|  | DISTRICT DIRECTOR—(NEW ORLEANS).
|  | DISTRICT DIRECTOR—(PHOENIX).
|  | DISTRICT DIRECTOR—(SAN ANTONIO).
|  | DISTRICT DIRECTOR—(CHARLOTTE).
|  | NATIONAL MEDIATION EXECUTIVE ADVISOR.
|  | DISTRICT DIRECTOR (CLEVELAND).
|  | DISTRICT DIRECTOR—(PHILADELPHIA).
|  | DISTRICT DIRECTOR (MILWAUKEE).
|  | PROGRAM MANAGER.
|  | NATIONAL LEGAL/ENFORCEMENT EXECUTIVE ADVISOR.
|  | NATIONAL SYSTEMIC INVESTIGATIONS EXECUTIVE ADVISOR.
| OFFICE OF THE INSPECTOR GENERAL | INSPECTOR GENERAL.
FEDERAL COMMUNICATIONS COMMISSION | MEDIA BUREAU | CHIEF, VIDEO DIVISION, MEDIA BUREAU.
| OFFICE OF INSPECTOR GENERAL | INSPECTOR GENERAL, OFFICE OF THE INSPECTOR GENERAL.
FEDERAL ENERGY REGULATORY COMMISSION | OFFICE OF ADMINISTRATIVE LITIGATION | DIRECTOR, TECHNICAL DIVISION. DIRECTOR, LEGAL DIVISION.
| OFFICE OF ENERGY PROJECTS | DIRECTOR OF DAM SAFETY AND INSPECTION.
| OFFICE OF ENFORCEMENT | CHIEF ACCOUNTANT AND DIRECTOR, DIVISION OF FINANCIAL REGULATIONS.
FEDERAL LABOR RELATIONS AUTHORITY | FEDERAL SERVICE IMPASSES PANEL | EXECUTIVE DIRECTOR, FEDERAL SERVICE IMPASSES PANEL.
| OFFICE OF MEMBER | CHIEF COUNSEL (2).
| OFFICE OF THE CHAIRMAN | SOLICITOR. DIRECTOR, POLICY AND PERFORMANCE MANAGEMENT.
|  | CHIEF COUNSEL.
|  | SENIOR ADVISOR.
| OFFICE OF THE EXECUTIVE DIRECTOR | EXECUTIVE DIRECTOR.
| OFFICE OF THE GENERAL COUNSEL | DEPUTY GENERAL COUNSEL (2).
| OFFICE OF THE INSPECTOR GENERAL | INSPECTOR GENERAL.
| OFFICE OF THE GENERAL COUNSEL REGIONAL OFFICES | REGIONAL DIRECTOR—WASHINGTON, DC. REGIONAL DIRECTOR—BOSTON.
|  | REGIONAL DIRECTOR—ATLANTA.
|  | REGIONAL DIRECTOR—DALLAS.
|  | REGIONAL DIRECTOR, CHICAGO ILLINOIS.
|  | REGIONAL DIRECTOR, SAN FRANCISCO.
|  | REGIONAL DIRECTOR, DENVER.
FEDERAL LABOR RELATIONS AUTHORITY OFFICE OF THE INSPECTOR GENERAL | FEDERAL LABOR RELATIONS AUTHORITY OFFICE OF INSPECTOR GENERAL | INSPECTOR GENERAL.
FEDERAL MARITIME COMMISSION | BUREAU OF CERTIFICATION AND LICENSING | DIRECTOR, BUREAU OF CERTIFICATION AND LICENSING.
| BUREAU OF ENFORCEMENT | DIRECTOR BUREAU OF ENFORCEMENT.
| BUREAU OF TRADE ANALYSIS | DIRECTOR, BUREAU OF TRADE ANALYSIS.
| OFFICE OF CONSUMER AFFAIRS AND DISPUTE RESOLUTION SERVICES | DIRECTOR, OFFICE OF CONSUMER AFFAIRS AND DISPUTE RESOLUTION SERVICES.
| OFFICE OF THE GENERAL COUNSEL | DEPUTY GENERAL COUNSEL FOR REPORTS OPINIONS AND DECISIONS.
| OFFICE OF THE INSPECTOR GENERAL | INSPECTOR GENERAL.
| OFFICE OF THE MANAGING DIRECTOR | DIRECTOR, STRATEGIC PLANNING AND REGULATORY REVIEW. DEPUTY MANAGING DIRECTOR.
| OFFICE OF THE SECRETARY | SECRETARY.
FEDERAL MEDIATION AND CONCILIATION SERVICE | OFFICE OF THE DEPUTY DIRECTOR | DIRECTOR OF FIELD OPERATIONS.
| OFFICE OF THE DIRECTOR | CHIEF OF STAFF. NATIONAL REPRESENTATIVE.
|  | DEPUTY DIRECTOR OF NATIONAL PROGRAMS AND INITIATIVES.
FEDERAL RETIREMENT THRIFT INVESTMENT BOARD | FEDERAL RETIREMENT THRIFT INVESTMENT BOARD | DIRECTOR, OFFICE OF ENTERPRISE PLANNING. DIRECTOR OF ENTERPRISE RISK MANAGEMENT.
|  | CHIEF TECHNOLOGY OFFICER.
|  | DIRECTOR OF COMMUNICATIONS AND EDUCATION.
|  | CHIEF FINANCIAL OFFICER.
|  | DIRECTOR OF PARTICIPANT OPERATIONS AND POLICY.
|  | CHIEF INVESTMENT OFFICER.
|  | DIRECTOR OF RESOURCE MANAGEMENT.
|  | CHIEF OPERATING OFFICER.
|  | DEPUTY CHIEF INVESTMENT OFFICER.
|  | SENIOR ADVISOR FOR UNIFORMED SERVICES.
FEDERAL TRADE COMMISSION | BUREAU OF COMPETITION | DEPUTY DIRECTOR, BUREAU OF COMPETITION.
| BUREAU OF CONSUMER PROTECTION | DEPUTY DIRECTOR, BUREAU OF CONSUMER PROTECTION.
| OFFICE OF EXECUTIVE DIRECTOR | CHIEF INFORMATION OFFICER. DEPUTY EXECUTIVE DIRECTOR.
FEDERAL TRADE COMMISSION | OFFICE OF THE INSPECTOR GENERAL | INSPECTOR GENERAL.
GENERAL SERVICES ADMINISTRATION | FEDERAL ACQUISITION SERVICE | DIRECTOR OF ACQUISITION OPERATIONS. DEPUTY ASSISTANT COMMISSIONER FOR CATEGORY MANAGEMENT.
|  | ASSISTANT COMMISSIONER FOR INFORMATION TECHNOLOGY CATEGORY.
|  | ASSISTANT COMMISSIONER FOR POLICY AND COMPLIANCE.
|  | ASSISTANT COMMISSIONER FOR ASSISTED ACQUISITION SERVICES.
|  | ASSISTANT COMMISSIONER FOR STRATEGY MANAGEMENT.
|  | ASSISTANT COMMISSIONER FOR GENERAL SUPPLIES AND SERVICES CATEGORIES.
|  | ASSISTANT COMMISSIONER FOR TRAVEL, MOTOR VEHICLE AND CARD SERVICES.
|  | ASSISTANT COMMISSIONER FOR CUSTOMER AND STAKEHOLDER ENGAGEMENT.
|  | DEPUTY ASSISTANT COMMISSIONER FOR INFORMATION TECHNOLOGY CATEGORY.
|  | DIRECTOR, TELECOMMUNICATIONS SERVICES.
|  | DIRECTOR OF TRAVEL AND TRANSPORTATION SERVICES.
|  | DEPUTY ASSISTANT COMMISSIONER FOR GENERAL SUPPLIES AND SERVICES.
|  | DIRECTOR OF SUPPLY CHAIN MANAGEMENT.
|  | DIRECTOR OF FLEET MANAGEMENT.
|  | DIRECTOR, INFORMATION TECHNOLOGY SCHEDULE CONTRACT OPERATIONS.
|  | ASSISTANT COMMISSIONER FOR INTEGRATED AWARD ENVIRONMENT.
|  | DIRECTOR, FEDERAL SYSTEMS INTEGRATION AND MANAGEMENT CENTER.
|  | DIRECTOR, INFORMATION TECHNOLOGY SERVICES.
|  | DEPUTY ASSISTANT COMMISSIONER FOR ACQUISITION.
| GREAT LAKES REGION | REGIONAL COMMISSIONER FOR PUBLIC BUILDINGS SERVICE. REGIONAL COMMISSIONER FOR FEDERAL ACQUISITION SERVICE.
| GREATER SOUTHWEST REGION | REGIONAL COMMISSIONER FOR PUBLIC BUILDINGS SERVICE. REGIONAL COMMISSIONER FOR FEDERAL ACQUISITION SERVICE.
| MID-ATLANTIC REGION | REGIONAL COMMISSIONER FOR PUBLIC BUILDINGS SERVICE. REGIONAL COMMISSIONER FOR FEDERAL ACQUISITION SERVICE.
| NATIONAL CAPITAL REGION | REGIONAL COMMISSIONER FOR PUBLIC BUILDINGS SERVICE. DIRECTOR OF PORTFOLIO MANAGEMENT AND LEASING.
|  | DEPUTY DIRECTOR OF PORTFOLIO MANAGEMENT AND LEASING.
|  | DIRECTOR OF LEASING.
|  | DIRECTOR OF PROJECT DELIVERY.
|  | DIRECTOR OF FACILITIES MANAGEMENT AND SERVICES PROGRAMS.
|  | DIRECTOR OF PORTFOLIO MANAGEMENT.
|  | REGIONAL COMMISSIONER FOR FEDERAL ACQUISITION SERVICE.
| NEW ENGLAND REGION | REGIONAL COMMISSIONER FOR PUBLIC BUILDINGS SERVICE.
| NORTHEAST AND CARIBBEAN REGION | REGIONAL COMMISSIONER FOR PUBLIC BUILDINGS SERVICE. PRINCIPAL DEPUTY REGIONAL COMMISSIONER FOR PUBLIC BUILDINGS SERVICE.
|  | REGIONAL COMMISSIONER FOR FEDERAL ACQUISITION SERVICE.
| NORTHWEST/ARCTIC REGION | REGIONAL COMMISSIONER FOR PUBLIC BUILDINGS SERVICE. REGIONAL COMMISSIONER FOR FEDERAL ACQUISITION SERVICE.
| OFFICE OF CITIZEN SERVICES, INNOVATIVE TECHNOLOGIES AND 18F | DIRECTOR FEDERAL CITIZEN INFORMATION CENTER.
| OFFICE OF GOVERNMENTWIDE POLICY | DIRECTOR OF GOVERNMENTWIDE ACQUISITION POLICY. DEPUTY CHIEF ACQUISITION OFFICER AND SENIOR PROCUREMENT EXECUTIVE.
|  | DIRECTOR OF FEDERAL HIGH-PERFORMANCE GREEN BUILDINGS.
|  | DEPUTY ASSOCIATE ADMINISTRATOR FOR ASSET AND TRANSPORTATION MANAGEMENT.
|  | DEPUTY ASSOCIATE ADMINISTRATOR FOR INFORMATION, INTEGRITY AND ACCESS.
|  | DIRECTOR OF GENERAL SERVICES ACQUISITION POLICY, INTEGRITY AND WORKFORCE.
|  | DIRECTOR OF THE FEDERAL ACQUISITION INSTITUTE.
|  | PRINCIPAL DEPUTY FOR ASSET AND TRANSPORTATION MANAGEMENT.
|  | DIRECTOR, UNIFIED SHARED SERVICES MANAGEMENT.
| OFFICE OF GENERAL SERVICES ADMINISTRATION INFORMATION TECHNOLOGY | ASSOCIATE CHIEF INFORMATION OFFICER FOR ENTERPRISE INFRASTRUCTURE. ASSOCIATE CHIEF INFORMATION OFFICER FOR ENTERPRISE PLANNING AND GOVERNANCE.
|  | CHIEF INFORMATION SECURITY OFFICER.
|  | ASSOCIATE CHIEF INFORMATION OFFICER FOR CORPORATE INFORMATION TECHNOLOGY SERVICES.
|  | ASSOCIATE CHIEF INFORMATION OFFICER FOR PUBLIC BUILDINGS INFORMATION TECHNOLOGY SERVICES.
|  | ASSOCIATE CHIEF INFORMATION OFFICER FOR ACQUISITION INFORMATION TECHNOLOGY SERVICES.
|  | ASSOCIATE CHIEF INFORMATION OFFICER FOR GOVERNMENTWIDE AND ENTERPRISE SOLUTIONS.
| OFFICE OF HUMAN RESOURCES MANAGEMENT | CHIEF HUMAN CAPITAL OFFICER. DIRECTOR OF HUMAN CAPITAL MANAGEMENT.
|  | DEPUTY CHIEF HUMAN CAPITAL OFFICER.
| OFFICE OF MISSION ASSURANCE | PRINCIPAL DEPUTY ASSOCIATE ADMINISTRATOR FOR MISSION ASSURANCE. ASSOCIATE ADMINISTRATOR FOR MISSION ASSURANCE.
| OFFICE OF THE ADMINISTRATOR | DIRECTOR, PRESIDENTIAL TRANSITION.
| OFFICE OF THE CHIEF FINANCIAL OFFICER | DIRECTOR OF FINANCIAL MANAGEMENT. DIRECTOR OF BUDGET.
|  | CHIEF FINANCIAL OFFICER.
|  | DEPUTY CHIEF FINANCIAL OFFICER.
|  | DIRECTOR, OFFICE OF ANALYTICS, PLANNING AND PERFORMANCE.
|  | DIRECTOR OF REGIONAL FINANCIAL SERVICES.
| PACIFIC RIM REGION | REGIONAL COMMISSIONER FOR PUBLIC BUILDINGS SERVICE. REGIONAL COMMISSIONER FOR FEDERAL ACQUISITION SERVICE.
| PUBLIC BUILDINGS SERVICE | ASSISTANT COMMISSIONER FOR REAL PROPERTY UTILIZATION AND DISPOSAL. ASSISTANT COMMISSIONER FOR REAL PROPERTY ASSET MANAGEMENT.
|  | ASSISTANT COMMISSIONER FOR CLIENT SOLUTIONS.
|  | ASSISTANT COMMISSIONER FOR PROJECT DELIVERY.
|  | ASSISTANT COMMISSIONER FOR ACQUISITION MANAGEMENT.
|  | ASSISTANT COMMISSIONER FOR LEASING.
|  | ASSISTANT COMMISSIONER FOR FACILITIES MANAGEMENT AND SERVICES PROGRAMS.
|  | DEPUTY ASSISTANT COMMISSIONER FOR REAL PROPERTY ASSET MANAGEMENT.
|  | CHIEF ARCHITECT.
| ROCKY MOUNTAIN REGION | REGIONAL COMMISSIONER FOR PUBLIC BUILDINGS SERVICE. REGIONAL COMMISSIONER FOR FEDERAL ACQUISITION SERVICE.
| SOUTHEAST SUNBELT REGION | REGIONAL COMMISSIONER FOR PUBLIC BUILDINGS SERVICE. REGIONAL COMMISSIONER FOR FEDERAL ACQUISITION SERVICE.
| TECHNOLOGY TRANSFORMATION SERVICE | DIRECTOR, PUBLIC EXPERIENCE PORTFOLIO.
| THE HEARTLAND REGION | REGIONAL COMMISSIONER FOR PUBLIC BUILDINGS SERVICE.
|  | REGIONAL COMMISSIONER FOR FEDERAL ACQUISITION SERVICE.
GENERAL SERVICES ADMINISTRATION | OFFICE OF THE INSPECTOR GENERAL | ASSISTANT INSPECTOR GENERAL FOR AUDITING. DEPUTY INSPECTOR GENERAL.
|  | PRINCIPAL DEPUTY ASSISTANT INSPECTOR GENERAL FOR AUDITING.
|  | DEPUTY ASSISTANT INSPECTOR GENERAL FOR ACQUISITION PROGRAMS AUDITS.
|  | ASSOCIATE INSPECTOR GENERAL.
|  | COUNSEL TO THE INSPECTOR GENERAL.
|  | ASSISTANT INSPECTOR GENERAL FOR INVESTIGATIONS.
|  | DEPUTY ASSISTANT INSPECTOR GENERAL FOR INVESTIGATIONS.
|  | ASSISTANT INSPECTOR GENERAL FOR INSPECTIONS.
|  | ASSISTANT INSPECTOR GENERAL FOR ADMINISTRATION.
GULF COAST ECOSYSTEM RESTORATION COUNCIL |  | DEPUTY EXECUTIVE DIRECTOR AND DIRECTOR OF PROGRAMS.
DEPARTMENT OF HEALTH AND HUMAN SERVICES | AGENCY FOR HEALTHCARE RESEARCH AND QUALITY | EXECUTIVE OFFICER.
| ASSOCIATE GENERAL COUNSEL DIVISIONS | ASSOCIATE GENERAL COUNSEL, GENERAL LAW DIVISION. DEPUTY ASSOCIATE GENERAL COUNSEL FOR CLAIMS AND EMPLOYMENT LAW.
|  | DEPUTY ASSOCIATE GENERAL COUNSEL, BUSINESS AND ADMINISTRATIVE LAW DIVISION.
| CENTER FOR BIOLOGICS EVALUATION AND RESEARCH | DIRECTOR, OFFICE OF COMPLIANCE AND BIOLOGICS QUALITY. ASSOCIATE DIRECTOR FOR COMPLIANCE AND BIOLOGIC QUALITY.
| CENTER FOR DEVICES AND RADIOLOGICAL HEALTH | DIRECTOR, OFFICE OF DEVICE EVALUATION. DIRECTOR OFFICE OF COMPLIANCE.
|  | DIRECTOR OFFICE OF SYSTEM AND MANAGEMENT.
| CENTER FOR DRUG EVALUATION AND RESEARCH | ASSOCIATE DIRECTOR FOR MANAGEMENT. DIRECTOR, OFFICE OF GENERIC DRUGS.
|  | DIRECTOR, OFFICE OF EPIDEMIOLOGY AND BIOSTATISTICS.
|  | DIRECTOR, OFFICE OF COMPLIANCE.
| CENTER FOR FOOD SAFETY AND APPLIED NUTRITION | DIRECTOR, OFFICE OF PLANT AND DAIRY FOODS AND BEVERAGES. DIRECTOR, OFFICE OF REGULATIONS AND POLICY.
| CENTER FOR INFORMATION TECHNOLOGY | DIRECTOR, DIVISION OF COMPUTER SYSTEM SERVICES. DIRECTOR, CENTER FOR INFORMATION TECHNOLOGY AND CHIEF INFORMATION OFFICER.
| CENTER FOR MEDICARE | DIRECTOR, MEDICARE CONTRACTOR MANAGEMENT GROUP.
| CENTER FOR MENTAL HEALTH SERVICES | DIRECTOR CENTER FOR MENTAL HEALTH SERVICES. DIRECTOR DIVISION OF STATE AND COMMUNITY SYSTEMS DEVELOPMENT.
| CENTER FOR VETERINARY MEDICINE | DIRECTOR, OFFICE OF SCIENCE. DIRECTOR, OFFICE OF SURVEILLANCE AND COMPLIANCE.
| CENTERS FOR DISEASE CONTROL AND PREVENTION | DIRECTOR, CENTER FOR GLOBAL HEALTH (2). DIRECTOR, BUILDINGS AND FACILITIES OFFICE.
|  | CHIEF INFORMATION OFFICER.
|  | CHIEF FINANCIAL OFFICER.
|  | CHIEF INFORMATION SECURITY OFFICER.
|  | DIRECTOR, INFORMATION TECHNOLOGY SERVICES OFFICE.
|  | DEPUTY DIRECTOR, CENTER FOR GLOBAL HEALTH.
|  | DIRECTOR, PROCUREMENT AND GRANTS OFFICE.
|  | CHIEF LEARNING OFFICER.
|  | ISSUES ANALYSIS AND COORDINATION OFFICER.
|  | BUDGET OFFICER.
|  | DIRECTOR, OFFICE OF FINANCE AND ACCOUNTING.
|  | CHIEF OPERATING OFFICER.
|  | DIRECTOR, CENTERS FOR DISEASE CONTROL AND PREVENTION, WASHINGTON OFFICE.
|  | DIRECTOR, DIVISION OF EMERGENCY OPERATIONS.
|  | DEPUTY CHIEF FINANCIAL OFFICER.
|  | DIRECTOR OFFICE OF GRANTS SERVICES.
|  | DEPUTY DIRECTOR CENTER FOR GLOBAL HEALTH.
| HEALTH RESOURCES AND SERVICES ADMINISTRATION OFFICE OF THE ADMINISTRATOR | DIRECTOR OFFICE OF BUDGET. DEPUTY ASSOCIATE ADMINISTRATOR, OFFICE OF FEDERAL ASSISTANCE MANAGEMENT.
| HIV/AIDS BUREAU | DIRECTOR, OFFICE OF SCIENCE AND EPIDEMIOLOGY.
| NATIONAL CANCER INSTITUTE | DEPUTY DIRECTOR FOR MANAGEMENT.
| NATIONAL CENTER FOR ADVANCING TRANSLATIONAL SCIENCES | ASSOCIATE DIRECTOR FOR ADMINISTRATION.
| NATIONAL HEART, LUNG AND BLOOD INSTITUTE | ASSOCIATE DIRECTOR FOR ADMINISTRATIVE MANAGEMENT.
| NATIONAL HUMAN GENOME RESEARCH INSTITUTE | ASSOCIATE DIRECTOR FOR MANAGEMENT.
|  | DIRECTOR, OFFICE OF POPULATION GENOMICS.
| NATIONAL INSTITUTE FOR OCCUPATIONAL SAFETY AND HEALTH | DEPUTY DIRECTOR FOR MANAGEMENT.
| NATIONAL INSTITUTE OF ARTHRITIS AND MUSCULOSKELETAL AND SKIN DISEASES | ASSOCIATE DIRECTOR FOR MANAGEMENT AND OPERATIONS.
| NATIONAL INSTITUTE OF DENTAL AND CRANIOFACIAL RESEARCH | ASSOCIATE DIRECTOR FOR MANAGEMENT.
| NATIONAL INSTITUTE OF DIABETES AND DIGESTIVE AND KIDNEY DISEASES | ASSOCIATE DIRECTOR FOR MANAGEMENT.
| NATIONAL INSTITUTE OF MENTAL HEALTH | ASSOCIATE DIRECTOR FOR MANAGEMENT.
| NATIONAL INSTITUTE ON AGING | DIRECTOR OF MANAGEMENT.
| NATIONAL INSTITUTE ON ALCOHOL ABUSE AND ALCOHOLISM | ASSOCIATE DIRECTOR FOR ADMINISTRATION.
| NATIONAL INSTITUTE ON DRUG ABUSE | ASSOCIATE DIRECTOR FOR MANAGEMENT.
| NATIONAL INSTITUTES OF CHILD HEALTH AND HUMAN DEVELOPMENT | ASSOCIATE DIRECTOR FOR ADMINISTRATION.
| NATIONAL INSTITUTES OF HEALTH | ASSOCIATE DIRECTOR FOR MANAGEMENT (3).
|  | DIRECTOR, OFFICE OF ACQUISITION AND LOGISTICS MANAGEMENT.
|  | DIRECTOR, OFFICE OF RESEARCH INFORMATION SYSTEMS.
| NATIONAL INSTITUTES OF HEALTH CLINICAL CENTER | CHIEF FINANCIAL OFFICER. CHIEF OPERATING OFFICER.
| NATIONAL INSTITUTES OF NEUROLOGICAL DISORDERS AND STROKE | DEPUTY DIRECTOR FOR MANAGEMENT.
| NATIONAL INSTITUTES ON DEAFNESS AND OTHER COMMUNICATION DISORDERS | ASSOCIATE DIRECTOR FOR ADMINISTRATION.
| NATIONAL LIBRARY OF MEDICINE | DEPUTY DIRECTOR, NATIONAL LIBRARY OF MEDICINE.
|  | ASSOCIATE DIRECTOR FOR LIBRARY OPERATIONS.
|  | DIRECTOR, INFORMATION SYSTEMS.
|  | ASSOCIATE DIRECTOR FOR ADMINISTRATIVE MANAGEMENT.
|  | ASSOCIATE DIRECTOR FOR EXTRAMURAL PROGRAMS.
| OFFICE OF ACQUISITIONS AND GRANTS MANAGEMENT | DIRECTOR, OFFICE OF ACQUISITIONS AND GRANTS MANAGEMENT.
|  | DEPUTY DIRECTOR, OFFICE OF ACQUISITION AND GRANTS MANAGEMENT.
| OFFICE OF CHIEF COUNSEL | DEPUTY CHIEF COUNSEL FOR PROGRAM REVIEW.
|  | ASSOCIATE DEPUTY CHIEF COUNSEL FOR DRUGS AND BIOLOGICS.
|  | ASSOCIATE DEPUTY CHIEF COUNSEL FOR DEVICES, FOODS AND VETERINARY MEDICINE.
| OFFICE OF FINANCIAL MANAGEMENT | DIRECTOR OFFICE OF FINANCIAL MANAGEMENT.
|  | DEPUTY DIRECTOR OFFICE OF FINANCIAL MANAGEMENT.
|  | DIRECTOR, FINANCIAL SERVICES GROUP.
|  | DIRECTOR, ACCOUNTING MANAGEMENT GROUP.
|  | DIRECTOR, FINANCIAL MANAGEMENT SERVICE.
| OFFICE OF INFORMATION TECHNOLOGY | DIRECTOR, OFFICE OF TECHNOLOGY SOLUTIONS.
|  | DEPUTY DIRECTOR, OFFICE OF TECHNOLOGY SOLUTIONS.
| OFFICE OF MANAGEMENT | DIRECTOR, OFFICE OF ACQUISITIONS AND GRANTS SERVICES.
| OFFICE OF OPERATIONS | DIRECTOR, OFFICE OF BUSINESS AND CUSTOMER ASSURANCE.
|  | DIRECTOR, OFFICE OF TECHNOLOGY AND DELIVERY.
|  | DIRECTOR, OFFICE OF SAFETY, SECURITY AND CRISIS MANAGEMENT.
|  | DIRECTOR, OFFICE OF BUDGET.
|  | DIRECTOR, OFFICE OF FINANCIAL MANAGEMENT/CHIEF FINANCIAL OFFICER.
|  | DIRECTOR, DIVISION OF ETHICS AND INTEGRITY.
|  | DIRECTOR, OFFICE OF HUMAN RESOURCES.
| OFFICE OF POLICY, PLANNING, AND BUDGET | ASSOCIATE ADMINISTRATOR FOR POLICY AND PROGRAMS COORDINATOR.
| OFFICE OF PROGRAM SUPPORT | DIRECTOR OFFICE OF FINANCIAL MANAGEMENT.
OFFICE OF REGULATORY AFFAIRS |  | ASSOCIATE COMMISSIONER FOR REGULATORY AFFAIRS. REGIONAL FOOD AND DRUG DIRECTOR, NORTHEAST REGION.
|  | DIRECTOR OFFICE OF CRIMINAL INVESTIGATIONS.
|  | DEPUTY DIRECTOR FOR INVESTIGATIONS.
| OFFICE OF SECURITY AND STRATEGIC INFORMATION | ASSOCIATE DIRECTOR FOR PERSONNEL AND CLASSIFIED INFORMATION SECURITY. DIRECTOR, INTEL AND COUNTERINTEL.
|  | ASSOCIATE DIRECTOR FOR STRATEGIC INFORMATION.
| OFFICE OF THE ACTUARY | DIRECTOR, OFFICE OF THE ACTUARY (CHIEF ACTUARY). DIRECTOR, MEDICARE AND MEDICAID COST ESTIMATES GROUP.
|  | DIRECTOR, PARTS C AND D ACTUARIAL GROUP.
|  | DIRECTOR, NATIONAL HEALTH STATISTICS GROUP.
| OFFICE OF THE ASSISTANT SECRETARY FOR FINANCIAL RESOURCES | DIRECTOR, OFFICE OF SMALL AND DISADVANTAGED BUSINESS UTILIZATION.
| OFFICE OF THE ASSISTANT SECRETARY FOR HEALTH | DIRECTOR, OFFICE OF RESEARCH INTEGRITY.
| OFFICE OF THE ASSISTANT SECRETARY FOR PLANNING AND EVALUATION | ASSOCIATE DEPUTY ASSISTANT SECRETARY FOR PLANNING AND EVALUATION (HEALTH SERVICES POLICY).
| OFFICE OF THE COMMISSIONER | ASSISTANT COMMISSIONER FOR GLOBAL REGULATORY OPERATIONS.
| OFFICE OF THE DEPUTY ASSISTANT SECRETARY FOR FINANCE | ASSOCIATE DEPUTY ASSISTANT SECRETARY, FINANCE.
| OFFICE OF THE DEPUTY ASSISTANT SECRETARY FOR INFORMATION RESOURCES MANAGEMENT | DEPUTY CHIEF INFORMATION OFFICER.
| OFFICE OF THE DEPUTY INSPECTOR GENERAL FOR AUDIT SERVICES | DEPUTY INSPECTOR GENERAL FOR AUDIT SERVICES. ASSISTANT INSPECTOR GENERAL FOR MEDICARE AND MEDICAID SERVICE AUDITS.
|  | ASSISTANT INSPECTOR GENERAL FOR FINANCIAL MANAGEMENT AND REGIONAL OPERATIONS. ASSISTANT INSPECTOR GENERAL FOR GRANTS AND INTERNAL ACTIVITIES.
|  | ASSISTANT INSPECTOR GENERAL FOR AUDIT MANAGEMENT AND POLICY.
| OFFICE OF THE DEPUTY INSPECTOR GENERAL FOR EVALUATION AND INSPECTIONS | DEPUTY INSPECTOR GENERAL FOR EVALUATION AND INSPECTIONS.
| OFFICE OF THE DEPUTY INSPECTOR GENERAL FOR INVESTIGATIONS | DEPUTY INSPECTOR GENERAL FOR INVESTIGATIONS. ASSISTANT INSPECTOR GENERAL FOR INVESTIGATIVE OPERATIONS.
|  | ASSISTANT INSPECTOR GENERAL FOR INVESTIGATIONS (2).
| OFFICE OF THE DIRECTOR | DIRECTOR, OFFICE OF FINANCIAL MANAGEMENT. DIRECTOR, OFFICE OF POLICY FOR EXTRAMURAL RESEARCH ADMINISTRATION.
|  | DIRECTOR, OFFICE OF RESEARCH FACILITIES DEVELOPMENT AND OPERATIONS.
|  | ELECTRONIC RESEARCH APPLICATION PROGRAM MANAGER.
|  | ASSOCIATE DIRECTOR FOR SECURITY AND EMERGENCY RESPONSE.
|  | SENIOR POLICY OFFICER (ETHICS).
|  | DEPUTY DIRECTOR, DIVISION OF PROGRAM COORDINATION, PLANNING, AND STRATEGIC INITIATIVES.
|  | DIRECTOR, OFFICE OF STRATEGIC PLANNING AND MANAGEMENT OPERATIONS.
| OFFICE OF THE GENERAL COUNSEL | DEPUTY ASSOCIATE GENERAL COUNSEL FOR ETHICS ADVICE & POLICY.
| OFFICE OF THE INSPECTOR GENERAL | PRINCIPAL DEPUTY INSPECTOR GENERAL. DEPUTY INSPECTOR GENERAL FOR MANAGEMENT AND POLICY.
|  | DEPUTY INSPECTOR GENERAL FOR LEGAL AFFAIRS.
| PROGRAM SUPPORT CENTER | DEPUTY ASSISTANT SECRETARY FOR PROGRAM SUPPORT. DIRECTOR, INFORMATION SYSTEMS MANAGEMENT SERVICE.
| SPECIAL PROGRAMS BUREAU | ASSOCIATE ADMINISTRATOR, SPECIAL PROGRAMS BUREAU.
DEPARTMENT OF HEALTH AND HUMAN SERVICES OFFICE OF THE INSPECTOR GENERAL | DEPARTMENT OF HEALTH AND HUMAN SERVICES OFFICE OF THE INSPECTOR GENERAL | CHIEF OF STAFF. PRINCIPAL DEPUTY INSPECTOR GENERAL.
| OFFICE OF AUDIT SERVICES | DEPUTY INSPECTOR GENERAL FOR AUDIT SERVICES. ASSISTANT INSPECTOR GENERAL FOR MEDICARE AND MEDICAID SERVICE AUDITS.
|  | ASSISTANT INSPECTOR GENERAL FOR FINANCIAL MANAGEMENT AND REGIONAL OPERATIONS.
|  | ASSISTANT INSPECTOR GENERAL FOR AUDIT SERVICES.
| OFFICE OF COUNSEL TO THE INSPECTOR GENERAL | ASSISTANT INSPECTOR GENERAL FOR LEGAL AFFAIRS. CHIEF COUNSEL TO THE INSPECTOR GENERAL.
|  | ASSISTANT INSPECTOR GENERAL FOR LEGAL AFFAIRS.
| OFFICE OF EVALUATION AND INSPECTIONS | ASSISTANT INSPECTOR GENERAL FOR EVALUATION AND INSPECTIONS (2). DEPUTY INSPECTOR GENERAL FOR EVALUATION AND INSPECTIONS.
| OFFICE OF INVESTIGATIONS | ASSISTANT INSPECTOR GENERAL FOR INVESTIGATIONS (3).
| OFFICE OF MANAGEMENT AND POLICY | ASSISTANT INSPECTOR GENERAL FOR INFORMATION TECHNOLOGY (CHIEF INFORMATION OFFICER). ASSISTANT INSPECTOR GENERAL (CHIEF DATA OFFICER).
|  | DEPUTY INSPECTOR GENERAL FOR MANAGEMENT AND POLICY.
|  | ASSISTANT INSPECTOR GENERAL FOR MANAGEMENT AND POLICY.
DEPARTMENT OF HOMELAND SECURITY | ASSISTANT SECRETARY FOR HEALTH AFFAIRS AND CHIEF MEDICAL OFFICER | PRINCIPAL DEPUTY ASSISTANT SECRETARY FOR HEALTH AFFAIRS. DEPUTY DIRECTOR, HEALTH THREATS RESILIENCE.
|  | DEPUTY CHIEF MEDICAL OFFICER.
|  | DEPUTY DIRECTOR, WORKFORCE HEALTH AND MEDICAL SUPPORT.
|  | DEPUTY ASSISTANT SECRETARY FOR HEALTH THREATS RESILIENCE.
| DOMESTIC NUCLEAR DETECTION OFFICE | CHIEF OF STAFF. ASSISTANT DIRECTOR, ARCHITECTURE AND PLANS DIRECTORATE.
|  | ASSISTANT DIRECTOR, PRODUCT ACQUISITION AND DEPLOYMENT DIRECTORATE.
|  | ASSISTANT DIRECTOR, NATIONAL TECHNICAL NUCLEAR FORENSICS CENTER.
|  | ASSISTANT DIRECTOR, TRANSFORMATIONAL AND APPLIED RESEARCH DIRECTORATE.
|  | DEPUTY DIRECTOR.
|  | ASSISTANT DIRECTOR, OPERATIONS SUPPORT DIRECTORATE.
|  | ASSISTANT DIRECTOR, ASSESSMENTS DIRECTORATE.
| FEDERAL EMERGENCY MANAGEMENT AGENCY | DEPUTY CHIEF COUNSEL FOR GENERAL LAW. ASSISTANT ADMINISTRATOR FOR RISK MANAGEMENT.
|  | DEPUTY CHIEF COMPONENT HUMAN CAPITAL OFFICER.
|  | PLANNING DIVISION DIRECTOR, OFFICE OF RESPONSE AND RECOVERY.
|  | DEPUTY ASSOCIATE ADMINISTRATOR FOR MISSION SUPPORT.
|  | ASSISTANT ADMINISTRATOR FOR INSURANCE.
|  | EXECUTIVE DIRECTOR, INSURANCE ACQUISITION AND TECHNOLOGY SUPPORT DIVISION.
|  | SENIOR COUNSELOR TO THE ADMINISTRATOR AND INTERNATIONAL RELATIONS OFFICER.
|  | DEPUTY ASSISTANT ADMINISTRATOR FOR MITIGATION.
|  | ASSISTANT ADMINISTRATOR, FIELD OPERATIONS DIRECTORATE.
|  | DEPUTY ASSISTANT ADMINISTRATOR FOR RESPONSE.
|  | DEPUTY CHIEF INFORMATION OFFICER (DISASTER OPERATIONS), MISSION SUPPORT DIRECTORATE.
|  | ASSISTANT ADMINISTRATOR FOR FINANCIAL MANAGEMENT.
|  | EXECUTIVE DIRECTOR FOR READINESS.
|  | DEPUTY DIRECTOR, EXTERNAL AFFAIRS.
|  | SUPERINTENDENT, CENTER FOR DOMESTIC PREPAREDNESS.
|  | DEPUTY CHIEF COUNSEL.
|  | DEPUTY ASSISTANT ADMINISTRATOR, GRANTS PROGRAM.
|  | DIRECTOR, TECHNOLOGICAL HAZARDS DIVISION.
|  | DEPUTY ASSOCIATE ADMINISTRATOR FOR POLICY, PROGRAM ANALYSIS AND INTERNATIONAL AFFAIRS.
|  | CHIEF ADMINISTRATIVE OFFICER.
|  | DIRECTOR, NATIONAL EXERCISE DIVISION.
|  | DEPUTY REGIONAL ADMINISTRATOR (REGION VI, DALLAS).
|  | CHIEF FINANCIAL OFFICER.
|  | CHIEF COMPONENT PROCUREMENT OFFICER.
|  | DEPUTY CHIEF COMPONENT PROCUREMENT OFFICER.
|  | DEPUTY ASSISTANT ADMINISTRATOR, FIELD OPERATIONS DIRECTORATE.
|  | DIRECTOR, NATIONAL PREPAREDNESS ASSESSMENT DIVISION.
|  | CHIEF TECHNOLOGY OFFICER.
|  | CHIEF SECURITY OFFICER.
|  | DIRECTOR, EMERGENCY COMMUNICATION DIVISION.
|  | DEPUTY PRINCIPAL LEGAL ADVISOR FOR MANAGEMENT.
|  | SENIOR ADVISOR FOR FINANCIAL MANAGEMENT OPERATIONS.
|  | DEPUTY ASSISTANT ADMINISTRATOR, NATIONAL PREPAREDNESS DIRECTORATE.
|  | DEPUTY CHIEF FINANCIAL OFFICER.
|  | DEPUTY ASSISTANT ADMINISTRATOR, FEDERAL INSURANCE AND MITIGATION ADMINISTRATION.
|  | DEPUTY REGIONAL ADMINISTRATOR, REGION IV, ATLANTA.
|  | CHIEF LEARNING OFFICER.
|  | DIRECTOR, GRANTS MANAGEMENT DIVISION.
|  | DEPUTY REGIONAL ADMINISTRATOR (REGION 1 BOSTON).
|  | DEPUTY REGIONAL ADMINISTRATOR (REGION II NEW YORK).
|  | DEPUTY REGIONAL ADMINISTRATOR (REGION III PHILADELPHIA).
|  | DEPUTY REGIONAL ADMINISTRATOR (REGION V CHICAGO).
|  | DEPUTY REGIONAL ADMINISTRATOR (REGION VII KANSAS).
|  | DEPUTY REGIONAL ADMINISTRATOR (REGION VIII DENVER).
|  | DEPUTY REGIONAL ADMINISTRATOR (REGION IX SAN FRANCISCO).
|  | DEPUTY REGIONAL ADMINISTRATOR (REGION X SEATTLE).
|  | DEPUTY ASSISTANT ADMINISTRATOR FOR INSURANCE.
|  | DEPUTY ASSISTANT ADMINISTRATOR FOR RISK MANAGEMENT.
|  | ASSISTANT ADMINISTRATOR FOR MITIGATION.
|  | ASSISTANT ADMINISTRATOR, FUND MANAGEMENT.
|  | DEPUTY CHIEF ADMINISTRATIVE OFFICER.
|  | DIRECTOR, NATIONAL TRAINING AND EDUCATION.
| FEDERAL LAW ENFORCEMENT TRAINING CENTER | CHIEF COUNSEL. ASSISTANT DIRECTOR (CHIEF INFORMATION OFFICER DIRECTORATE).
|  | ASSISTANT DIRECTOR (REGIONAL AND INTERNATIONAL TRAINING DIRECTORATE).
|  | ASSISTANT DIRECTOR (WASHINGTON OPERATIONS).
|  | DEPUTY DIRECTOR.
|  | DIRECTOR, FEDERAL LAW ENFORCEMENT TRAINING CENTER.
|  | ASSISTANT DIRECTOR (MISSION AND READINESS SUPPORT DIRECTORATE).
|  | ASSISTANT DIRECTOR (GLYNCO TRAINING DIRECTORATE).
|  | ASSISTANT DIRECTOR (CENTRALIZED TRAINING MANAGEMENT DIRECTORATE).
|  | ASSISTANT DIRECTOR FOR TRAINING RESEARCH AND INNOVATION DIRECTORATE.
|  | ASSISTANT DIRECTOR (CHIEF FINANCIAL OFFICER).
| OFFICE FOR CIVIL RIGHTS AND CIVIL LIBERTIES | DEPUTY CIVIL RIGHTS AND CIVIL LIBERTIES OFFICER, EQUAL EMPLOYMENT OPPORTUNITY AND DIVERSITY DIRECTOR. DIRECTOR CIVIL RIGHTS AND CIVIL LIBERTIES PROGRAMS BRANCH.
|  | DEPUTY CIVIL RIGHTS AND CIVIL LIBERTIES OFFICER, PROGRAMS AND COMPLIANCE.
|  | DIRECTOR, COMPLIANCE BRANCH.
| OFFICE OF OPERATIONS COORDINATION AND PLANNING DIRECTORATE | PRINCIPAL DEPUTY DIRECTOR, TERRORIST SCREENING CENTER.
| OFFICE OF THE ASSISTANT SECRETARY FOR POLICY | DEPUTY ASSISTANT SECRETARY FOR CYBER POLICY. DEPUTY ASSISTANT SECRETARY FOR UNITY OF EFFORT INTEGRATION.
|  | DEPARTMENT OF HOMELAND SECURITY (DHS) ATTACHÉ TO CENTRAL AMERICA.
|  | DEPUTY ASSISTANT SECRETARY FOR IMMIGRATION STATISTICS.
|  | DEPUTY ASSISTANT SECRETARY FOR AMERICAS POLICY.
| OFFICE OF THE CHIEF FINANCIAL OFFICER | DIRECTOR, OFFICE OF BUDGET. DIRECTOR, FINANCIAL MANAGEMENT.
|  | DIRECTOR, RESOURCE MANAGEMENT TRANSFORMATION OFFICE.
|  | DIRECTOR, RISK MANAGEMENT AND ASSURANCE.
|  | DIRECTOR, DEPARTMENTAL GENERAL ACCOUNTING OFFICE/INSPECTOR GENERAL LIAISON OFFICE.
|  | DEPUTY BUDGET DIRECTOR, OFFICE OF BUDGET.
| OFFICE OF THE CHIEF HUMAN CAPITAL OFFICER | EXECUTIVE DIRECTOR, HUMAN CAPITAL POLICY AND PROGRAMS. DEPUTY CHIEF HUMAN CAPITAL OFFICER.
|  | SENIOR ADVISOR, HUMAN CAPITAL BUSINESS SYSTEMS.
|  | EXECUTIVE DIRECTOR, DIVERSITY AND INCLUSION.
|  | EXECUTIVE DIRECTOR, HUMAN RESOURCES MANAGEMENT AND SERVICES.
| OFFICE OF THE CHIEF INFORMATION OFFICER | EXECUTIVE DIRECTOR, INFORMATION SHARING AND SERVICES OFFICE. DEPUTY CHIEF SECURITY OFFICER CYBERSECURITY (CIO).
|  | EXECUTIVE DIRECTOR, OFFICE OF APPLIED TECHNOLOGY (CHIEF TECHNOLOGY OFFICER).
|  | EXECUTIVE DIRECTOR, INFORMATION TECHNOLOGY SERVICES.
|  | EXECUTIVE DIRECTOR, ENTERPRISE BUSINESS MANAGEMENT OFFICE.
|  | EXECUTIVE DIRECTOR, CHIEF INFORMATION SECURITY OFFICER.
|  | DIRECTOR, MISSION SYSTEMS AND SERVICES DIVISION.
|  | DEPUTY CHIEF INFORMATION SECURITY OFFICER (FISMA).
|  | DEPUTY CHIEF INFORMATION OFFICER.
|  | EXECUTIVE DIRECTOR, HEADQUARTER SERVICES.
|  | EXECUTIVE DIRECTOR, PRODUCT AND SERVICE MANAGEMENT.
|  | SENIOR ADVISOR, CHIEF INFORMATION OFFICER.
|  | EXECUTIVE DIRECTOR, STRATEGIC TECHNOLOGY MANAGEMENT.
|  | EXECUTIVE DIRECTOR, ENTERPRISE ARCHITECTURE.
|  | DEPUTY EXECUTIVE DIRECTOR, INFORMATION TECHNOLOGY SERVICES OFFICE.
|  | DEPUTY DIRECTOR INFORMATION SHARING AND SERVICES (CHIEF INFORMATION OFFICER).
| OFFICE OF THE CHIEF PROCUREMENT OFFICER | CHIEF PROCUREMENT OFFICER. DEPUTY CHIEF PROCUREMENT OFFICER.
|  | DEPUTY DIRECTOR, OFFICE OF PROCUREMENT OPERATIONS.
|  | EXECUTIVE DIRECTOR, OFFICE OF PROCUREMENT OPERATIONS.
|  | DIRECTOR, POLICY AND ACQUISITION WORKFORCE.
|  | EXECUTIVE DIRECTOR, OVERSIGHT, SYSTEMS AND SUPPORT DIVISION.
|  | EXECUTIVE DIRECTOR, PROGRAM ACCOUNTABILITY AND RISK MANAGEMENT OFFICE.
|  | EXECUTIVE DIRECTOR, STRATEGIC PROGRAMS DIVISION.
|  | DEPUTY DIRECTOR, PROGRAM ACCOUNTABILITY AND RISK MANAGEMENT.
| OFFICE OF THE CHIEF READINESS SUPPORT OFFICER | EXECUTIVE DIRECTOR, SUSTAINABILITY AND ENVIRONMENTAL PROGRAMS. DEPUTY CHIEF READINESS SUPPORT OFFICER.
|  | DEPUTY CHIEF READINESS SUPPORT OFFICER, FACILITIES AND OPERATIONAL SUPPORT.
|  | DIRECTOR, HEADQUARTERS MANAGEMENT AND DEVELOPMENT.
| OFFICE OF THE CHIEF SECURITY OFFICER | CHIEF SECURITY OFFICER. DEPUTY CHIEF SECURITY OFFICER.
|  | EXECUTIVE DIRECTOR, HEADQUARTERS SUPPORT.
|  | EXECUTIVE DIRECTOR, ENTERPRISE SECURITY OPERATIONS AND SUPPORT.
|  | CHIEF PERSONNEL SECURITY OFFICER.
| OFFICE OF THE EXECUTIVE SECRETARIAT | DEPUTY EXECUTIVE SECRETARY, OPERATIONS AND ADMINISTRATION.
| OFFICE OF THE GENERAL COUNSEL | CHIEF OF STAFF/MANAGING COUNSEL. DEPUTY ASSOCIATE GENERAL COUNSEL FOR GENERAL LAW.
|  | ASSOCIATE GENERAL COUNSEL FOR ETHICS.
|  | DEPUTY ASSOCIATE GENERAL COUNSEL FOR ACQUISITION AND PROCUREMENT.
| OFFICE OF THE SECRETARY | SENIOR DEPARTMENT OF HOMELAND SECURITY ADVISOR TO THE COMMANDER, U.S. NORTHERN COMMAND/NORTH AMERICAN AEROSPACE DEFENSE COMMAND. DEPARTMENT OF HOMELAND SECURITY (DHS) ADVISOR TO THE DEPARTMENT OF DEFENSE.
| OFFICE OF THE UNDER SECRETARY FOR INTELLIGENCE AND ANALYSIS | DIRECTOR, MISSION SUPPORT DIVISION. DEPUTY UNDER SECRETARY FOR MISSION SUPPORT AND CHIEF OF STAFF.
|  | DIRECTOR, HUMAN CAPITAL DIVISION.
|  | DIRECTOR, CYBER DIVISION.
|  | DIRECTOR, BORDER INTELLIGENCE FUSION SECTION.
|  | DIRECTOR, BORDER SECURITY DIVISION.
|  | PRINCIPAL DEPUTY UNDER SECRETARY FOR INTELLIGENCE AND ANALYSIS.
| OFFICE OF THE UNDER SECRETARY FOR MANAGEMENT | CHIEF, PARTNER ENGAGEMENT.
| OFFICE OF THE UNDER SECRETARY FOR NATIONAL PROTECTION AND PROGRAMS DIRECTORATE | DEPUTY DIRECTOR OF MANAGEMENT (BUSINESS SERVICE DELIVERY LEAD). DIRECTOR, NATIONAL INFRASTRUCTURE COORDINATING CENTER.
|  | DIRECTOR, PROTECTIVE SECURITY COORDINATION.
|  | DEPUTY DIRECTOR, OFFICE OF BIOMETRIC IDENTITY MANAGEMENT.
|  | ASSISTANT DIRECTOR PROTECTIVE SECURITY OFFICER OVERSIGHT.
|  | DIRECTOR OF MANAGEMENT.
|  | ASSISTANT DIRECTOR FOR FIELD OPERATIONS (EAST), FEDERAL PROTECTIVE SERVICE.
|  | DEPUTY ASSISTANT SECRETARY FOR CYBERSECURITY AND COMMUNICATION.
|  | DIRECTOR, SECTOR OUTREACH AND PROGRAMS DIVISION.
|  | DIRECTOR, INFRASTRUCTURE SECURITY COMPLIANCE.
|  | CHIEF TECHNOLOGY OFFICER, CYBER SECURITY AND COMMUNICATIONS.
|  | DEPUTY DIRECTOR, FOR OPERATIONS NATIONAL CYBERSECURITY AND COMMUNICATIONS INTEGRATION CENTER.
|  | DIRECTOR, STAKEHOLDER ENGAGEMENT AND CYBER INFRASTRUCTURE RESILIENCE DIVISION.
|  | NATIONAL PROTECTION AND PROGRAMS DIRECTORATE, CHIEF INFORMATION OFFICER.
|  | DEPUTY DIRECTOR, INFRASTRUCTURE SECURITY COMPLIANCE.
|  | DEPUTY DIRECTOR, NATIONAL CYBERSECURITY CENTER.
|  | DIRECTOR, OFFICE OF CYBER AND INFRASTRUCTURE ANALYSIS.
|  | SENIOR COUNSELOR TO THE UNDER SECRETARY FOR NATIONAL PROTECTION AND PROGRAMS DIRECTORATE.
|  | DIRECTOR, OFFICE OF COMPLIANCE AND SECURITY.
|  | DIRECTOR, HUMAN RESOURCES MANAGEMENT.
|  | ASSISTANT DIRECTOR, OFFICE OF RESOURCE MANAGEMENT, FEDERAL PROTECTIVE SERVICE.
|  | ASSISTANT DIRECTOR, OFFICE OF TRAINING AND CAREER DEVELOPMENT, FEDERAL PROTECTIVE SERVICE.
|  | DIRECTOR MISSION INTEGRATION.
|  | DIRECTOR, STRATEGY, POLICY AND PLANS.
|  | DEPUTY ASSISTANT SECRETARY FOR INFRASTRUCTURE PROTECTION.
|  | DEPUTY DIRECTOR, OFFICE OF EMERGENCY COMMUNICATIONS.
|  | DEPUTY DIRECTOR, MISSION SUPPORT, NCCIC, OFFICE OF CYBERSECURITY AND COMMUNICATIONS.
|  | DIRECTOR, NETWORK SECURITY DEPLOYMENT.
|  | DIRECTOR OF OPERATIONS, NATIONAL CYBERSECURITY AND COMMUNICATIONS INTEGRATION CENTER.
|  | COMPONENT ACQUISITION EXECUTIVE.
|  | ASSISTANT DIRECTOR OF FIELD OPERATIONS (WEST), FEDERAL PROTECTIVE SERVICES.
|  | ASSISTANT DIRECTOR OF FIELD OPERATIONS (CENTRAL), FEDERAL PROTECTIVE SERVICES.
|  | CHIEF FINANCIAL OFFICER.
|  | PRINCIPAL DEPUTY DIRECTOR, FEDERAL PROTECTIVE SERVICE.
|  | DIRECTOR, FEDERAL NETWORK RESILIENCE.
|  | DIRECTOR, FEDERAL PROTECTIVE SERVICE.
|  | DIRECTOR, OFFICE OF EMERGENCY COMMUNICATIONS.
|  | ASSISTANT DIRECTOR, FUTURES IDENTITY.
|  | SENIOR ADVISOR, OFFICE OF INFRASTRUCTURE PROTECTION.
|  | DEPUTY DIRECTOR, TECHNOLOGY AND INNOVATION (CHIEF TECHNOLOGY OFFICER).
|  | DIRECTOR OF ADMINISTRATION.
|  | DEPUTY DIRECTOR, OFFICE OF CYBER AND INFRASTRUCTURE ANALYSIS.
|  | ASSISTANT DIRECTOR OF OPERATIONS, FEDERAL PROTECTIVE SERVICES.
|  | DEPUTY DIRECTOR, NETWORK SECURITY DEPLOYMENT.
|  | DEPUTY DIRECTOR CYBER THREAT DETECTION AND ANALYSIS.
| OFFICE OF THE UNDER SECRETARY FOR SCIENCE AND TECHNOLOGY | DIRECTOR, FINANCE AND BUDGET DIVISION/SCIENTIFIC AND TECHNICAL CHIEF FINANCIAL OFFICER. DEPUTY DIRECTOR, HOMELAND SECURITY ADVANCED RESEARCH PROJECTS AGENCY.
|  | DIRECTOR, INFRASTRUCTURE PROTECTION AND DISASTER MANAGEMENT DIVISION.
|  | DIRECTOR, TEST AND EVALUATION.
|  | DIRECTOR, BORDERS AND MARITIME SECURITY DIVISION.
|  | DIRECTOR, CHEMICAL BIOLOGICAL DEFENSE DIVISION.
|  | SENIOR ADVISOR TO THE UNDER SECRETARY FOR SCIENCE AND TECHNOLOGY.
|  | DIRECTOR, OFFICE FOR INTEROPERABILITY AND COMPATIBILITY.
|  | DIRECTOR, CYBER SECURITY DIVISION.
|  | EXECUTIVE DIRECTOR, NATIONAL BIO AND AGRO-DEFENSE FACILITY.
|  | DIRECTOR, EXPLOSIVES DIVISION.
| U.S. CITIZENSHIP AND IMMIGRATION SERVICES | ASSOCIATE DIRECTOR, OFFICE OF MANAGEMENT. DIRECTOR, SERVICE CENTER, LINCOLN, NEBRASKA.
|  | DIRECTOR, SERVICE CENTER, LAGUNA NIGUEL, CALIFORNIA.
|  | DIRECTOR, SERVICE CENTER, DALLAS, TEXAS.
|  | DIRECTOR, VERMONT SERVICE CENTER, SAINT ALBANS, VERMONT.
|  | CENTRAL REGIONAL DIRECTOR (DALLAS, TEXAS).
|  | WESTERN REGIONAL DIRECTOR (LAGUNA NIGUEL, CALIFORNIA).
|  | NORTHEAST REGIONAL DIRECTOR (BURLINGTON, VERMONT).
|  | DIRECTOR, OFFICE OF REFUGEE AFFAIRS.
|  | DEPUTY ASSOCIATE DIRECTOR, CUSTOMER SERVICE AND PUBLIC ENGAGEMENT.
|  | CHIEF, PERFORMANCE AND QUALITY.
|  | CHIEF INFORMATION OFFICER.
|  | CHIEF FINANCIAL OFFICER.
|  | CHIEF, INTAKE AND DOCUMENT PRODUCTION.
|  | ASSOCIATE DIRECTOR, FRAUD DETECTION AND NATIONAL SECURITY.
|  | CHIEF, OFFICE OF ADMINISTRATION.
|  | DIRECTOR, NATIONAL BENEFITS CENTER.
|  | DISTRICT DIRECTOR, FIELD SERVICES, MIAMI, FLORIDA.
|  | DISTRICT DIRECTOR, FIELD SERVICES, LOS ANGELES CALIFORNIA.
|  | DISTRICT DIRECTOR, FIELD SERVICES, SAN FRANCISCO CALIFORNIA.
|  | REGIONAL DIRECTOR, SOUTHEAST REGION.
|  | DISTRICT DIRECTOR, FIELD SERVICES, TAMPA, FLORIDA.
|  | DISTRICT DIRECTOR, FIELD SERVICES, NEWARK, NEW JERSEY.
|  | DISTRICT DIRECTOR, FIELD SERVICES, ATLANTA, GEORGIA.
|  | CHIEF, OFFICE OF SECURITY AND INTEGRITY.
|  | ASSOCIATE DIRECTOR, IMMIGRATION RECORDS AND IDENTITY SERVICES DIVISION.
|  | DEPUTY ASSOCIATE DIRECTOR, REFUGEE, ASYLUM, AND INTERNATIONAL OPERATIONS.
|  | ASSOCIATE DIRECTOR, SERVICE CENTER OPERATIONS.
|  | DEPUTY DIRECTOR, NATIONAL BENEFITS CENTER.
|  | DIRECTOR, NATIONAL RECORDS CENTER.
|  | DEPUTY DIRECTOR, SERVICE CENTER, LAGUNA NIGUEL, CALIFORNIA.
|  | DEPUTY DIRECTOR, SERVICE CENTER, DALLAS, TEXAS.
|  | CHIEF, INTERNATIONAL OPERATIONS.
|  | DEPUTY DIRECTOR, SERVICE CENTER, LINCOLN, NEBRASKA.
|  | DEPUTY ASSOCIATE DIRECTOR, OFFICE OF MANAGEMENT.
|  | DEPUTY DIRECTOR, SERVICE CENTER, SAINT ALBANS, VERMONT.
|  | ASSOCIATE DIRECTOR, FIELD OPERATIONS.
|  | CHIEF, ADMINISTRATIVE APPEALS.
|  | CHIEF, VERIFICATION DIVISION.
|  | DISTRICT DIRECTOR, FIELD SERVICES, BOSTON, MASSACHUSETTS.
|  | DISTRICT DIRECTOR, FIELD SERVICES, CHICAGO, ILLINOIS.
|  | DEPUTY CHIEF, PROGRAMS, INNOVATION, AND INITIATIVES.
|  | DEPUTY CHIEF OFFICE OF SECURITY AND INTEGRITY.
|  | ASSOCIATE DIRECTOR, CUSTOMER SERVICE AND PUBLIC ENGAGEMENT.
|  | DEPUTY CHIEF COUNSEL FOR FIELD MANAGEMENT.
|  | SENIOR ADVISOR, TRANSFORMATIONAL ACTIVITIES.
|  | DIRECTOR, POTOMAC SERVICE CENTER.
|  | DEPUTY DIRECTOR, POTOMAC SERVICE CENTER.
|  | CHIEF, OFFICE OF CONTRACTING.
|  | CHIEF, HUMAN CAPITAL AND TRAINING.
|  | CHIEF, IMMIGRANT INVESTOR PROGRAM.
|  | DEPUTY ASSOCIATE DIRECTOR, FRAUD DETECTION AND NATIONAL SECURITY.
|  | CHIEF, ASYLUM DIVISION.
|  | DEPUTY GENERAL COUNSEL.
|  | DISTRICT DIRECTOR, FIELD SERVICES, NEW YORK CITY, NEW YORK.
|  | DEPUTY CHIEF INFORMATION OFFICER.
|  | ASSOCIATE DIRECTOR, REFUGEE, ASYLUM AND INTERNATIONAL OPERATIONS.
|  | DEPUTY ASSOCIATE DIRECTOR, OFFICE OF FIELD OPERATIONS.
|  | DEPUTY ASSOCIATE DIRECTOR, IMMIGRATION RECORDS AND IDENTITY SERVICES DIVISION.
|  | DEPUTY ASSOCIATE DIRECTOR, SERVICE CENTER OPERATIONS.
|  | CHIEF TECHNOLOGY OFFICER.
|  | DISTRICT DIRECTOR, FIELD SERVICES, DALLAS, TEXAS.
|  | CHIEF DATA OFFICER.
|  | DEPUTY CHIEF FINANCIAL OFFICER.
|  | CHIEF, OFFICE OF LEGISLATIVE AFFAIRS.
|  | DEPUTY CHIEF INFORMATION OFFICE FOR OPERATIONS.
| U.S. CUSTOMS AND BORDER PROTECTION | DEPUTY CHIEF PATROL AGENT, RIO GRANDE VALLEY. ASSISTANT COMMISSIONER, ACQUISITION, CHIEF ACQUISITION OFFICER.
|  | DEPUTY CHIEF PATROL AGENT, EL PASO.
|  | PORT DIRECTOR, JFK AIRPORT.
|  | EXECUTIVE DIRECTOR, PLANNING, PROGRAM ANALYSIS AND EVALUATION.
|  | DEPUTY CHIEF COUNSEL.
|  | DIRECTOR, FIELD OPERATIONS (DETROIT).
|  | DIRECTOR, FIELD OPERATIONS (SEATTLE).
|  | DIRECTOR, FIELD OPERATIONS (BUFFALO).
|  | DEPUTY EXECUTIVE ASSISTANT COMMISSIONER, OFFICE OF TRADE.
|  | EXECUTIVE DIRECTOR, NATIONAL TARGETING CENTER.
|  | PORT DIRECTOR, SAN FRANCISCO.
|  | DIRECTOR, FIELD OPERATIONS (TUCSON).
|  | DIRECTOR, FIELD OPERATIONS (BOSTON).
|  | PORT DIRECTOR, LOS ANGELES AIRPORT.
|  | EXECUTIVE DIRECTOR, AGRICULTURE PROGRAMS AND TRADE LIAISON.
|  | EXECUTIVE DIRECTOR, MISSION SUPPORT.
|  | EXECUTIVE DIRECTOR, CUSTOMS AND BORDER PROTECTION (CBP) BASIC TRAINING.
|  | DIRECTOR, FIELD OPERATIONS (ATLANTA).
|  | CHIEF PATROL AGENT (TUCSON).
|  | PORT DIRECTOR, LOS ANGELES/LONG BEACH SEAPORT.
|  | PORT DIRECTOR (EL PASO).
|  | EXECUTIVE DIRECTOR, ENTERPRISE NETWORKS AND TECHNOLOGY SUPPORT.
|  | EXECUTIVE DIRECTOR, MISSION READINESS OPERATIONS DIRECTORATE.
|  | CHIEF, LAW ENFORCEMENT OPERATIONS, OFFICE OF BORDER PATROL.
|  | CHIEF PATROL AGENT (DEL RIO).
|  | EXECUTIVE DIRECTOR, ADMISSIBILITY AND PASSENGER PROGRAMS.
|  | CHIEF PATROL AGENT, RIO GRANDE VALLEY.
|  | CHIEF PATROL AGENT, YUMA, ARIZONA.
|  | EXECUTIVE DIRECTOR, TARGETING AND ANALYSIS SYSTEMS.
|  | EXECUTIVE DIRECTOR, FIELD SUPPORT.
|  | EXECUTIVE DIRECTOR, CARGO SYSTEMS.
|  | EXECUTIVE DIRECTOR, ENTERPRISE DATA MANAGEMENT AND ENGINEERING.
|  | DEPUTY ASSISTANT COMMISSIONER, OFFICE OF PROFESSIONAL RESPONSIBILITY.
|  | DEPUTY CHIEF, LAW ENFORCEMENT OPERATIONS, OFFICE OF BORDER PATROL.
|  | EXECUTIVE DIRECTOR, TRADE POLICY AND PROGRAMS.
|  | EXECUTIVE DIRECTOR, FINANCIAL OPERATIONS.
|  | CHIEF, STRATEGIC PLANNING AND ANALYSES.
|  | EXECUTIVE ASSISTANT COMMISSIONER, ENTERPRISE SERVICES.
|  | EXECUTIVE DIRECTOR, OPERATIONS, AIR AND MARINE.
|  | DEPUTY ASSISTANT COMMISSIONER, OFFICE OF INTELLIGENCE.
|  | PORT DIRECTOR, LAREDO.
|  | EXECUTIVE DIRECTOR, COMMERCIAL TARGETING AND ENFORCEMENT.
|  | EXECUTIVE DIRECTOR, HUMAN RESOURCES OPERATIONS, PROGRAMS AND POLICY.
|  | EXECUTIVE DIRECTOR, TRAINING, SAFETY AND STANDARDS.
|  | EXECUTIVE DIRECTOR, NATIONAL AIR SECURITY OPERATIONS, AIR AND MARINE.
|  | EXECUTIVE DIRECTOR, PROGRAM MANAGEMENT OFFICE.
|  | EXECUTIVE DIRECTOR, PASSENGER SYSTEMS PROGRAM OFFICE.
|  | DIRECTOR OF OPERATIONS, SOUTHWEST BORDER, ALBUQUERQUE, NEW MEXICO, OFFICE OF CUSTOMS AND BORDER PROTECTION AIR AND MARINE.
|  | DIRECTOR, AIR AND MARINE OPERATIONS CENTER, RIVERSIDE, OFFICE OF CUSTOMS AND BORDER PROTECTION AIR AND MARINE.
|  | DIRECTOR OF OPERATIONS, SOUTHEASTERN REGION, MIAMI, FLORIDA, OFFICE OF CUSTOMS AND BORDER PROTECTION AIR AND MARINE.
|  | DIRECTOR OF OPERATIONS, NORTHERN REGION, WASHINGTON DC, CUSTOMS AND BORDER PROTECTION AIR AND MARINE.
|  | EXECUTIVE DIRECTOR, JOINT OPERATIONS DIRECTORATE.
|  | DEPUTY ASSISTANT COMMISSIONER, OFFICE OF ACQUISITION.
|  | DEPUTY CHIEF PATROL AGENT, SAN DIEGO.
|  | CHIEF PATROL AGENT, EL CENTRO, CALIFORNIA.
|  | DEPUTY CHIEF PATROL AGENT, TUCSON.
|  | PORT DIRECTOR, SAN YSIDRO.
|  | JOINT FIELD COMMANDER, ARIZONA, JOINT OPERATIONS DIRECTORATE.
|  | DEPUTY EXECUTIVE ASSISTANT COMMISSIONER, OPERATIONS SUPPORT.
|  | DEPUTY CHIEF, OPERATIONAL PROGRAMS, OFFICE OF BORDER PATROL.
|  | EXECUTIVE DIRECTOR, MISSION SUPPORT, OFFICE OF CUSTOMS AND BORDER PROTECTION (CBP) AIR AND MARINE.
|  | DEPUTY JOINT FIELD COMMANDER, ARIZONA, JOINT OPERATIONS DIRECTORATE.
|  | DEPUTY DIRECTOR, POLICY AND PLANNING.
|  | DEPUTY ASSISTANT COMMISSIONER, INTERNATIONAL AFFAIRS.
|  | PORT DIRECTOR, BUFFALO.
|  | DIRECTOR, NATIONAL TARGETING CENTER (PASSENGER).
|  | DIRECTOR, FIELD OPERATIONS (PRECLEARANCE).
|  | EXECUTIVE DIRECTOR, AUTOMATED COMMERCIAL ENVIRONMENT (ACE) BUSINESS OFFICE.
|  | EXECUTIVE DIRECTOR, ACQUISITION MANAGEMENT.
|  | ASSISTANT COMMISSIONER, OFFICE OF INTELLIGENCE.
|  | EXECUTIVE DIRECTOR, PRIVACY AND DIVERSITY.
|  | ASSISTANT COMMISSIONER, INTERNATIONAL AFFAIRS.
|  | DEPUTY JOINT FIELD COMMANDER, EAST.
|  | DIRECTOR, FIELD OPERATIONS (BALTIMORE).
|  | DIRECTOR, LEADERSHIP DEVELOPMENT CENTER.
|  | DIRECTOR, NATIONAL TARGETING CENTER (CARGO).
|  | EXECUTIVE DIRECTOR, INTELLIGENCE AND ANALYSIS.
|  | DEPUTY COMMISSIONER.
|  | ASSISTANT COMMISSIONER, OFFICE OF PROFESSIONAL RESPONSIBILITY.
|  | DIRECTOR, FIELD OPERATIONS (SAN JUAN).
|  | ASSOCIATE CHIEF COUNSEL FOR ETHICS, LABOR, AND EMPLOYMENT.
|  | ASSOCIATE CHIEF COUNSEL—SOUTHEAST.
|  | ASSOCIATE CHIEF COUNSEL, CHICAGO.
|  | ASSOCIATE CHIEF COUNSEL—NEW YORK.
|  | EXECUTIVE DIRECTOR, REGULATORY AUDIT.
|  | ASSOCIATE CHIEF COUNSEL—ENFORCEMENT.
|  | ASSOCIATE CHIEF COUNSEL—TRADE AND FINANCE.
|  | ASSOCIATE CHIEF COUNSEL (HOUSTON).
|  | DEPUTY ASSISTANT COMMISSIONER, HUMAN RESOURCES MANAGEMENT.
|  | DEPUTY EXECUTIVE ASSISTANT COMMISSIONER, AIR AND MARINE.
|  | EXECUTIVE DIRECTOR, LABOR AND EMPLOYEE RELATIONS.
|  | EXECUTIVE DIRECTOR, REGULATIONS AND RULINGS.
|  | DIRECTOR, FIELD OPERATIONS (NEW YORK).
|  | PORT DIRECTOR, NEWARK.
|  | EXECUTIVE ASSISTANT COMMISSIONER, FIELD OPERATIONS.
|  | ASSOCIATE CHIEF COUNSEL—LOS ANGELES.
|  | CHIEF ACCOUNTABILITY OFFICER.
|  | ASSISTANT COMMISSIONER, INFORMATION AND TECHNOLOGY.
|  | ASSISTANT COMMISSIONER, FACILITIES AND ASSET MANAGEMENT, CHIEF READINESS SUPPORT OFFICER.
|  | DEPUTY ASSISTANT COMMISSIONER, FINANCE.
|  | PORT DIRECTOR, NOGALES, AZ.
|  | EXECUTIVE DIRECTOR, PROCUREMENT.
|  | EXECUTIVE DIRECTOR, LABORATORIES AND SCIENTIFIC SERVICES.
|  | DEPUTY ASSISTANT COMMISSIONER, OFFICE OF TRAINING AND DEVELOPMENT.
|  | DEPUTY EXECUTIVE ASSISTANT COMMISSIONER, FIELD OPERATIONS.
|  | EXECUTIVE DIRECTOR, OPERATIONS.
|  | DIRECTOR, FIELD OPERATIONS (HOUSTON).
|  | DEPUTY CHIEF (DEPUTY EXECUTIVE ASSISTANT COMMISSIONER), BORDER PATROL.
|  | DIRECTOR, FIELD OPERATIONS (MIAMI).
|  | EXECUTIVE ASSISTANT COMMISSIONER, OPERATIONS SUPPORT.
|  | DIRECTOR, FIELD OPERATIONS (SAN DIEGO).
|  | EXECUTIVE DIRECTOR, BUDGET.
|  | DIRECTOR, FIELD OPERATIONS (CHICAGO).
|  | DIRECTOR, FIELD OPERATIONS (LOS ANGELES).
|  | EXECUTIVE DIRECTOR, CARGO AND CONVEYANCE SECURITY.
|  | DIRECTOR, FIELD OPERATIONS (LAREDO).
|  | SENIOR INTELLIGENCE ADVISOR.
|  | EXECUTIVE ASSISTANT COMMISSIONER, OFFICE OF TRADE.
|  | ASSISTANT COMMISSIONER, HUMAN RESOURCES MANAGEMENT.
|  | PORT DIRECTOR, MIAMI INTERNATIONAL AIRPORT.
|  | ASSISTANT COMMISSIONER, TRAINING AND DEVELOPMENT.
|  | EXECUTIVE ASSISTANT COMMISSIONER, AIR AND MARINE.
|  | CHIEF PATROL AGENT, LAREDO.
|  | DIRECTOR, JOINT TASK FORCE (JTF) WEST COMMANDER (JFC) LAREDO, TX.
|  | CHIEF (EXECUTIVE ASSISTANT COMMISSIONER), UNITED STATES BORDER PATROL.
|  | DIRECTOR, FIELD OPERATIONS (EL PASO).
|  | CHIEF PATROL AGENT, SAN DIEGO.
|  | CHIEF PATROL AGENT (EL PASO).
|  | DIRECTOR, FIELD OPERATIONS (SAN FRANCISCO).
|  | EXECUTIVE DIRECTOR, WIRELESS SYSTEMS PROGRAM.
|  | EXECUTIVE DIRECTOR, CYBERSECURITY OPERATIONS AND POLICY.
|  | SENIOR INTELLIGENCE ADVISOR.
|  | DEPUTY ASSISTANT COMMISSIONER, INFORMATION AND TECHNOLOGY.
|  | ASSISTANT COMMISSIONER, FINANCE, CHIEF FINANCIAL OFFICER.
|  | PORT DIRECTOR, CALEXICO, CA.
|  | EXECUTIVE DIRECTOR, PLANNING, PROGRAM ANALYSIS, AND EVALUATION.
|  | DIRECTOR, COUNTER NETWORK.
|  | EXECUTIVE DIRECTOR, PROGRAMMING.
|  | EXECUTIVE DIRECTOR, INVESTIGATIVE OPERATIONS.
|  | SENIOR INTELLIGENCE ADVISOR.
|  | ASSOCIATE CHIEF COUNSEL (TUCSON).
|  | EXECUTIVE DIRECTOR, BORDER ENFORCEMENT AND MANAGEMENT SYSTEMS.
| U.S. IMMIGRATION AND CUSTOMS ENFORCEMENT | FIELD OFFICE DIRECTOR, OFFICE OF ENFORCEMENT AND REMOVAL, SAN FRANCISCO, CA. FIELD OFFICE DIRECTOR, OFFICE OF ENFORCEMENT AND REMOVAL, DALLAS, TEXAS.
|  | SPECIAL AGENT IN CHARGE, PHOENIX.
|  | SPECIAL AGENT IN CHARGE, EL PASO.
|  | SPECIAL AGENT IN CHARGE (MIAMI).
|  | ASSISTANT DIRECTOR, NATIONAL SECURITY INVESTIGATIONS.
|  | SPECIAL AGENT IN CHARGE (NEW YORK).
|  | DEPUTY DIRECTOR, OFFICE OF HOMELAND SECURITY INVESTIGATIONS.
|  | DEPUTY DIRECTOR, INTERNATIONAL CRIMINAL POLICE ORGANIZATION (INTERPOL).
|  | DEPUTY EXECUTIVE ASSOCIATE DIRECTOR, MANAGEMENT AND ADMINISTRATION.
|  | ASSISTANT DIRECTOR, HUMAN RESOURCES MANAGEMENT.
|  | DEPUTY ASSISTANT SECRETARY FOR IMMIGRATION AND CUSTOMS ENFORCEMENT.
|  | DEPUTY CHIEF HUMAN CAPITAL OFFICER FOR STRATEGY AND SERVICES.
|  | ASSISTANT DIRECTOR, DIVERSITY AND CIVIL RIGHTS.
|  | DEPUTY ASSISTANT DIRECTOR, CRITICAL INFRASTRUCTURE, PROTECTION, AND FRAUD.
|  | ASSISTANT DIRECTOR, ENFORCEMENT AND REMOVAL OPERATIONS, REPATRIATION DIVISION.
|  | DIRECTOR, FINANCIAL MANAGEMENT.
|  | SPECIAL AGENT IN CHARGE, ATLANTA.
|  | EXECUTIVE DIRECTOR, MANAGEMENT AND ADMINISTRATION.
|  | ASSISTANT DIRECTOR, ENFORCEMENT DIVISION, OFFICE OF ENFORCEMENT AND REMOVAL OPERATIONS.
|  | DIRECTOR, OFFICE OF PROCUREMENT.
|  | SPECIAL AGENT IN CHARGE, WASHINGTON, DC.
|  | DIRECTOR, BUDGET AND PROGRAM PERFORMANCE.
|  | CHIEF INFORMATION OFFICER.
|  | ASSISTANT DIRECTOR, INFORMATION GOVERNANCE.
|  | DEPUTY DIRECTOR, INTERNATIONAL AFFAIRS.
|  | DEPUTY CHIEF FINANCIAL OFFICER.
|  | ASSISTANT DIRECTOR, ENFORCEMENT AND REMOVAL OPERATIONS, FIELD OPERATIONS.
|  | DIRECTOR, OFFICE OF TRAINING AND DEVELOPMENT.
|  | FIELD OFFICE DIRECTOR, OFFICE OF ENFORCEMENT AND REMOVAL OPERATIONS, SAN DIEGO, CALIFORNIA.
|  | FIELD OFFICE DIRECTOR, OFFICE OF ENFORCEMENT AND REMOVAL OPERATIONS, SAN ANTONIO, TEXAS.
|  | ASSISTANT DIRECTOR, OPERATIONS SUPPORT, OFFICE OF ENFORCEMENT AND REMOVAL OPERATIONS.
|  | DEPUTY ASSISTANT DIRECTOR, OFFICE OF PROFESSIONAL RESPONSIBILITY.
|  | DIVISION DIRECTOR FOR INVESTIGATIONS, OFFICE OF PROFESSIONAL RESPONSIBILITY.
|  | ASSISTANT DIRECTOR, ENFORCEMENT AND REMOVAL OPERATIONS, CUSTODY OPERATIONS DIVISION.
|  | ASSISTANT DIRECTOR, U.S. IMMIGRATION AND CUSTOMS ENFORCEMENT SERVICES HEALTH CORPS.
|  | CHIEF COUNSEL, NEW YORK
|  | DEPUTY PRINCIPAL LEGAL ADVISOR FOR FIELD OPERATIONS.
|  | DEPUTY PRINCIPAL LEGAL ADVISOR FOR GENERAL AND ADMINISTRATIVE LAW.
|  | DEPUTY DIRECTOR, ENFORCEMENT AND REMOVAL OPERATIONS.
|  | DEPUTY ASSISTANT DIRECTOR, HOMELAND SECURITY INVESTIGATIVE SERVICES.
|  | DEPUTY ASSISTANT DIRECTOR, OFFICE OF ENFORCEMENT AND REMOVAL OPERATIONS, FIELD OPERATIONS.
|  | ASSISTANT DIRECTOR, OFFICE OF INVESTIGATIONS (DOMESTIC OPERATIONS).
|  | DEPUTY CHIEF HUMAN CAPITAL OFFICER FOR OPERATIONS.
|  | EXECUTIVE DIRECTOR, LAW ENFORCEMENT INFORMATION SHARING INITIATIVE.
|  | DEPUTY CHIEF INFORMATION OFFICER.
|  | ASSISTANT DIRECTOR, ENFORCEMENT AND REMOVAL OPERATIONS, LAW ENFORCEMENT SYSTEMS AND ANALYSIS DIVISION.
|  | ASSISTANT DIRECTOR, HOMELAND SECURITY INVESTIGATIONS (INTELLECTUAL PROPERTY RIGHTS CENTER).
|  | FIELD OFFICE DIRECTOR, OFFICE OF ENFORCEMENT AND REMOVAL OPERATIONS, PHOENIX, ARIZONA.
|  | DEPUTY ASSISTANT DIRECTOR, DOMESTIC OPERATIONS.
|  | SPECIAL AGENT IN CHARGE, SAINT PAUL, MINNESOTA.
|  | FIELD OFFICE DIRECTOR, OFFICE OF ENFORCEMENT AND REMOVAL OPERATIONS, NEW YORK.
|  | FIELD OFFICE DIRECTOR, OFFICE OF ENFORCEMENT AND REMOVAL OPERATIONS, LOS ANGELES, CALIFORNIA.
|  | SPECIAL AGENT IN CHARGE, PHILADELPHIA, PENNSYLVANIA.
|  | SPECIAL AGENT IN CHARGE, TAMPA, FLORIDA.
|  | SPECIAL AGENT IN CHARGE, NEWARK, NEW JERSEY.
|  | SPECIAL AGENT IN CHARGE, BOSTON, MASSACHUSETTS.
|  | SPECIAL AGENT IN CHARGE, BUFFALO, NEW YORK.
|  | DIRECTOR, FEDERAL EXPORT ENFORCEMENT COORDINATION CENTER.
|  | CHIEF COUNSEL FOR LOS ANGELES.
|  | SPECIAL AGENT IN CHARGE, DENVER.
|  | SPECIAL AGENT IN CHARGE, DETROIT.
|  | FIELD OFFICE DIRECTOR, OFFICE OF ENFORCEMENT AND REMOVAL OPERATIONS, MIAMI, FLORIDA.
|  | ASSISTANT DIRECTOR, OFFICE OF INVESTIGATIONS.
|  | ASSISTANT DIRECTOR, HOMELAND SECURITY INVESTIGATIVE PROGRAMS.
|  | SPECIAL AGENT IN CHARGE, SAN JUAN, PUERTO RICO.
|  | COMPONENT ACQUISITION EXECUTIVE.
|  | DEPUTY ASSISTANT DIRECTOR, STUDENT AND EXCHANGE VISITOR PROGRAM.
|  | DEPUTY ASSISTANT DIRECTOR, OFFICE OF INVESTIGATIONS (EAST).
|  | DEPUTY ASSISTANT DIRECTOR, OFFICE OF INVESTIGATIONS (WEST).
|  | SENIOR MANAGEMENT COUNSEL, INTERNATIONAL OPERATIONS.
|  | DIRECTOR, FACILITIES AND ASSET ADMINISTRATION.
|  | SPECIAL AGENT IN CHARGE, BALTIMORE.
|  | CHIEF COUNSEL, MIAMI.
|  | SPECIAL AGENT IN CHARGE, LOS ANGELES.
|  | ASSISTANT DIRECTOR, OFFICE OF PROFESSIONAL RESPONSIBILITY.
|  | ASSISTANT DIRECTOR FOR DETENTION OVERSIGHT AND INSPECTIONS.
|  | SPECIAL AGENT IN CHARGE (SEATTLE).
|  | SPECIAL AGENT IN CHARGE, NEW ORLEANS.
|  | DEPUTY ASSISTANT DIRECTOR, INVESTIGATIONS (ILLICIT TRADE, TRAVEL, AND FINANCE).
|  | SPECIAL AGENT IN CHARGE, HOUSTON.
|  | SPECIAL AGENT IN CHARGE, CHICAGO.
|  | SPECIAL AGENT IN CHARGE, SAN DIEGO.
|  | SPECIAL AGENT IN CHARGE, SAN ANTONIO.
|  | SPECIAL AGENT IN CHARGE, DALLAS.
|  | CHIEF FINANCIAL OFFICER.
|  | DEPUTY ASSISTANT DIRECTOR, MISSION SUPPORT.
|  | SPECIAL AGENT IN CHARGE, SAN FRANCISCO.
|  | SENIOR POLICY ADMINISTRATOR (BRUSSELS).
|  | DIRECTOR, OFFICE OF HOMELAND SECURITY INVESTIGATIONS.
|  | DIRECTOR, OFFICE OF ENFORCEMENT AND REMOVAL OPERATIONS.
|  | DIRECTOR OF ENFORCEMENT AND LITIGATION.
|  | FIELD OFFICE DIRECTOR, OFFICE OF ENFORCEMENT AND REMOVAL OPERATIONS, PHILADELPHIA, PENNSYLVANIA.
|  | DEPUTY PRINCIPAL LEGAL ADVISOR.
|  | FIELD OFFICE DIRECTOR, OFFICE OF ENFORCEMENT AND REMOVAL, SEATTLE, WASHINGTON.
|  | DIRECTOR, INTERNATIONAL AFFAIRS.
|  | DIRECTOR, INTELLIGENCE, HOMELAND SECURITY INVESTIGATIONS.
|  | FIELD OFFICE DIRECTOR, OFFICE OF ENFORCEMENT AND REMOVAL, ST. PAUL, MN.
|  | DEPUTY ASSISTANT DIRECTOR, FIELD OPERATIONS (INTERNATIONAL), OFFICE OF ENFORCEMENT AND REMOVAL OPERATIONS.
|  | FIELD OFFICE DIRECTOR, OFFICE OF ENFORCEMENT AND REMOVAL, EL PASO, TEXAS.
|  | FIELD OFFICE DIRECTOR, OFFICE OF ENFORCEMENT AND REMOVAL, ATLANTA, GEORGIA.
|  | FIELD OFFICE DIRECTOR, OFFICE OF ENFORCEMENT AND REMOVAL, CHICAGO, ILLINOIS.
|  | FIELD OFFICE DIRECTOR, OFFICE OF ENFORCEMENT AND REMOVAL, HOUSTON, TEXAS.
|  | FIELD OFFICE DIRECTOR, OFFICE OF ENFORCEMENT AND REMOVAL, NEW ORLEANS, LOUISIANA.
|  | DEPUTY ASSISTANT EXECUTIVE DIRECTOR, LAW ENFORCEMENT INFORMATION SHARING INITIATIVE.
|  | CHIEF COUNSEL, PHOENIX.
|  | CHIEF COUNSEL, CHICAGO.
|  | CHIEF COUNSEL, SAN ANTONIO.
|  | FIELD OFFICE DIRECTOR, OFFICE OF ENFORCEMENT AND REMOVAL, DENVER, CO.
|  | FIELD OFFICE DIRECTOR, OFFICE OF ENFORCEMENT AND REMOVAL, BUFFALO, NY.
|  | FIELD OFFICE DIRECTOR, OFFICE OF ENFORCEMENT AND REMOVAL, BOSTON, MA.
| UNITED STATES COAST GUARD | ASSISTANT JUDGE ADVOCATE GENERAL FOR ACQUISITION AND LITIGATION. DIRECTOR, COAST GUARD INVESTIGATIVE SERVICE.
|  | DIRECTOR, MARINE TRANSPORTATION SYSTEM MANAGEMENT.
|  | HEAD OF CONTRACTING ACTIVITY.
|  | DEPUTY ASSISTANT COMMANDANT FOR ACQUISITION/DIRECTOR OF ACQUISITION SERVICES.
|  | DIRECTOR OF FINANCIAL OPERATIONS/COMPTROLLER.
|  | DIRECTOR, INCIDENT MANAGEMENT AND PREPAREDNESS POLICY.
|  | DEPUTY ASSISTANT COMMANDANT FOR HUMAN RESOURCES.
|  | CHIEF INFORMATION OFFICER AND DEPUTY ASSISTANT COMMANDANT FOR C4IT.
|  | DEPUTY ASSISTANT COMMANDANT FOR RESOURCES AND DEPUTY CHIEF FINANCIAL OFFICER.
|  | DEPUTY ASSISTANT COMMANDANT FOR INTELLIGENCE.
|  | DEPUTY CHIEF INFORMATION OFFICER.
|  | DIRECTOR, NATIONAL POLLUTION FUNDS CENTER.
| UNITED STATES SECRET SERVICE | DEPUTY ASSISTANT DIRECTOR, OFFICE OF INVESTIGATIONS. DEPUTY ASSISTANT DIRECTOR, OFFICE OF PROTECTIVE OPERATIONS.
|  | SPECIAL AGENT IN CHARGE, PROTECTIVE INTELLIGENCE AND ASSESSMENT DIVISION.
|  | COMPONENT ACQUISITION EXECUTIVE.
|  | ASSISTANT DIRECTOR, OFFICE OF STRATEGIC INTELLIGENCE AND INFORMATION.
|  | DEPUTY ASSISTANT DIRECTOR, STRATEGIC INTELLIGENCE AND INFORMATION.
|  | DEPUTY ASSISTANT DIRECTOR, OFFICE OF HUMAN RESOURCES.
|  | EQUITY AND EMPLOYEE SUPPORT SERVICES EXECUTIVE.
|  | SPECIAL AGENT IN CHARGE—CRIMINAL INVESTIGATIVE DIVISION.
|  | SPECIAL AGENT IN CHARGE—ROWLEY TRAINING CENTER.
|  | SPECIAL AGENT IN CHARGE—ROME FIELD OFFICE.
|  | DIRECTOR, UNITED STATES SECRET SERVICE.
|  | DEPUTY DIRECTOR, UNITED STATES SECRET SERVICE.
|  | ASSISTANT DIRECTOR, INVESTIGATIONS.
|  | ASSISTANT DIRECTOR, PROTECTIVE OPERATIONS.
|  | ASSISTANT DIRECTOR, OFFICE OF TECHNICAL DEVELOPMENT AND MISSION SUPPORT.
|  | ASSISTANT DIRECTOR, OFFICE OF PROFESSIONAL RESPONSIBILITY.
|  | DEPUTY ASSISTANT DIRECTOR, OFFICE OF PROTECTIVE OPERATIONS.
|  | SPECIAL AGENT IN CHARGE—PRESIDENTIAL PROTECTIVE DIVISION.
|  | SPECIAL AGENT IN CHARGE—NEW YORK FIELD OFFICE.
|  | SPECIAL AGENT IN CHARGE, CHICAGO FIELD OFFICE.
|  | SPECIAL AGENT IN CHARGE—LOS ANGELES FIELD OFFICE.
|  | ASSISTANT DIRECTOR, OFFICE OF HUMAN RESOURCES.
|  | SPECIAL AGENT IN CHARGE—VICE PRESIDENTIAL PROTECTIVE DIVISION.
|  | SPECIAL AGENT IN CHARGE—TECHNICAL SECURITY DIVISION.
|  | SPECIAL AGENT IN CHARGE—PHILADELPHIA FIELD OFFICE.
|  | ASSISTANT DIRECTOR—OFFICE OF GOVERNMENT AND PUBLIC AFFAIRS.
|  | SPECIAL AGENT IN CHARGE—MIAMI FIELD OFFICE.
|  | CHIEF COUNSEL.
|  | CHIEF FINANCIAL OFFICER.
|  | SPECIAL AGENT IN CHARGE—SAN FRANCISCO FIELD OFFICE.
|  | SPECIAL AGENT IN CHARGE—DALLAS FIELD OFFICE.
|  | DEPUTY CHIEF FINANCIAL OFFICER.
|  | DEPUTY ASSISTANT DIRECTOR, OFFICE OF HUMAN RESOURCES.
|  | DEPUTY CHIEF COUNSEL/PRINCIPAL ETHICS OFFICIAL.
|  | SPECIAL AGENT IN CHARGE (DIGNITARY PROTECTIVE DIVISION).
|  | DEPUTY ASSISTANT DIRECTOR, OFFICE OF INTEGRITY.
|  | DEPUTY CHIEF, OFFICE OF STRATEGIC PLANNING AND POLICY.
|  | SPECIAL AGENT IN CHARGE—WASHINGTON FIELD OFFICE.
|  | DEPUTY SPECIAL AGENT IN CHARGE—PRESIDENTIAL PROTECTIVE DIVISION.
|  | CHIEF, OFFICE OF STRATEGIC PLANNING AND POLICY.
|  | DEPUTY ASSISTANT DIRECTOR, OFFICE OF INVESTIGATIONS.
|  | SPECIAL AGENT IN CHARGE—HOUSTON FIELD OFFICE.
|  | DEPUTY ASSISTANT DIRECTOR, OFFICE OF TRAINING.
|  | DEPUTY ASSISTANT DIRECTOR—OFFICE OF INVESTIGATIONS.
|  | DEPUTY ASSISTANT DIRECTOR, TECHNICAL DEVELOPMENT AND MISSION SUPPORT.
|  | DEPUTY SPECIAL AGENT IN CHARGE (OPERATIONAL).
|  | CHIEF INFORMATION OFFICER.
|  | DEPUTY SPECIAL AGENT IN CHARGE—VICE PRESIDENTIAL PROTECTIVE DIVISION.
|  | SPECIAL AGENT IN CHARGE, PARIS FIELD OFFICE.
|  | SPECIAL AGENT IN CHARGE—ATLANTA FIELD OFFICE.
|  | SPECIAL AGENT IN CHARGE—HONOLULU FIELD OFFICE.
|  | DEPUTY ASSISTANT DIRECTOR, OFFICE OF GOVERNMENT AND PUBLIC AFFAIRS.
|  | DEPUTY SPECIAL AGENT IN CHARGE—NEW YORK FIELD OFFICE.
|  | DEPUTY ASSISTANT DIRECTOR, OFFICE OF PROFESSIONAL RESPONSIBILITY.
|  | TALENT DEVELOPMENT EXECUTIVE.
|  | DEPUTY ASSISTANT DIRECTOR, OFFICE OF INVESTIGATIONS.
|  | DEPUTY ASSISTANT DIRECTOR, OFFICE OF THE CHIEF INFORMATION OFFICER.
|  | DEPUTY ASSISTANT DIRECTOR, OFFICE OF PROTECTIVE OPERATIONS.
|  | ASSISTANT DIRECTOR, OFFICE OF TRAINING.
|  | CHIEF OPERATING OFFICER.
|  | DIRECTOR OF COMMUNICATIONS (MEDIA AFFAIRS).
DEPARTMENT OF HOMELAND SECURITY OFFICE OF THE INSPECTOR GENERAL |  | ASSISTANT INSPECTOR GENERAL FOR MANAGEMENT. ASSISTANT INSPECTOR GENERAL, AUDITS.
|  | COUNSEL TO THE INSPECTOR GENERAL.
|  | ASSISTANT INSPECTOR GENERAL, INVESTIGATIONS.
|  | ASSISTANT INSPECTOR GENERAL, INFORMATION TECHNOLOGY AUDITS.
|  | ASSISTANT INSPECTOR GENERAL, INSPECTIONS AND EVALUATIONS.
|  | ASSISTANT INSPECTOR GENERAL FOR EMERGENCY MANAGEMENT OVERSIGHT.
|  | DEPUTY ASSISTANT INSPECTOR GENERAL, EMERGENCY MANAGEMENT OVERSIGHT.
|  | DEPUTY ASSISTANT INSPECTOR GENERAL, AUDITS.
|  | DEPUTY INSPECTOR GENERAL.
|  | CHIEF OF STAFF.
|  | DEPUTY ASSISTANT INSPECTOR GENERAL, AUDITS.
|  | DEPUTY ASSISTANT INSPECTOR GENERAL FOR INVESTIGATIONS.
|  | DEPUTY ASSISTANT INSPECTOR GENERAL FOR MANAGEMENT.
|  | DEPUTY ASSISTANT INSPECTOR GENERAL FOR INVESTIGATIONS.
|  | WHISTLEBLOWER PROTECTION OMBUDSMAN.
|  | ASSISTANT INSPECTOR GENERAL, INTEGRITY AND QUALITY OVERSIGHT.
DEPARTMENT OF HOUSING AND URBAN DEVELOPMENT | GOVERNMENT NATIONAL MORTGAGE ASSOCIATION | SENIOR VICE PRESIDENT, OFFICE OF ENTERPRISE DATA AND TECHNOLOGY SOLUTIONS. SENIOR VICE PRESIDENT OF ADMINISTRATION AND SENIOR ADVISOR TO THE OFFICE OF THE PRESIDENT.
|  | SENIOR VICE PRESIDENT AND CHIEF FINANCIAL OFFICER.
|  | EXECUTIVE VICE PRESIDENT AND CHIEF OPERATING OFFICER.
|  | SENIOR VICE PRESIDENT OFFICE OF CAPITAL MARKETS.
|  | SENIOR VICE PRESIDENT AND CHIEF RISK OFFICER.
|  | SENIOR VICE PRESIDENT, OFFICE OF PROGRAM OPERATIONS.
|  | SENIOR VICE PRESIDENT FOR MORTGAGE-BACKED SECURITIES.
| OFFICE OF COMMUNITY PLANNING AND DEVELOPMENT | DEPUTY ASSISTANT SECRETARY FOR SPECIAL NEEDS PROGRAMS.
| OFFICE OF DEPARTMENTAL EQUAL EMPLOYMENT OPPORTUNITY | DIRECTOR, OFFICE OF DEPARTMENTAL EQUAL EMPLOYMENT OPPORTUNITY.
| OFFICE OF HOUSING | DEPUTY ASSISTANT SECRETARY FOR HEALTHCARE PROGRAMS. HOUSING FEDERAL HOUSING ADMINISTRATION-COMPTROLLER.
|  | ASSOCIATE DEPUTY ASSISTANT SECRETARY FOR HEALTHCARE PROGRAMS.
|  | DIRECTOR, PROGRAM SYSTEMS MANAGEMENT OFFICE.
|  | DEPUTY ASSISTANT SECRETARY FOR FINANCE AND BUDGET.
|  | HOUSING FEDERAL HOUSING ADMINISTRATION DEPUTY COMPTROLLER.
| OFFICE OF POLICY DEVELOPMENT AND RESEARCH | ASSOCIATE DEPUTY ASSISTANT SECRETARY FOR POLICY DEVELOPMENT.
| OFFICE OF PUBLIC AND INDIAN HOUSING | GENERAL DEPUTY ASSISTANT SECRETARY FOR PUBLIC AND INDIAN HOUSING. SENIOR VICE PRESIDENT OF THE OFFICE OF SECURITIES OPERATIONS.
|  | DEPUTY ASSISTANT SECRETARY FOR THE REAL ESTATE ASSESSMENT CENTER.
|  | DIRECTOR FOR BUDGET AND FINANCIAL MANAGEMENT.
|  | DEPUTY ASSISTANT SECRETARY FOR PUBLIC HOUSING INVESTMENTS.
| OFFICE OF THE ADMINISTRATION | CHIEF DISASTER AND NATIONAL SECURITY OFFICER.
| OFFICE OF THE CHIEF FINANCIAL OFFICER | ASSISTANT CHIEF FINANCIAL OFFICER FOR SYSTEMS. ASSISTANT CHIEF FINANCIAL OFFICER FOR BUDGET.
|  | DEPUTY CHIEF FINANCIAL OFFICER.
|  | ASSISTANT CHIEF FINANCIAL OFFICER FOR FINANCIAL MANAGEMENT.
|  | ASSISTANT CHIEF FINANCIAL OFFICER FOR ACCOUNTING.
|  | DEPUTY ASSISTANT CHIEF FINANCIAL OFFICER FOR BUDGET.
| OFFICE OF THE CHIEF HUMAN CAPITAL OFFICER | CHIEF LEARNING OFFICER. DEPUTY CHIEF HUMAN CAPITAL OFFICER.
|  | DIRECTOR, OFFICE OF HUMAN CAPITAL SERVICES.
|  | DEPUTY ASSISTANT SECRETARY FOR BUSINESS MANAGEMENT AND ADMINISTRATION/CMO.
| OFFICE OF THE CHIEF INFORMATION OFFICER | DEPUTY CHIEF INFORMATION OFFICER FOR INFRASTRUCTURE AND OPERATIONS. PRINCIPAL DEPUTY CHIEF INFORMATION OFFICER.
|  | DEPUTY CHIEF INFORMATION OFFICER FOR BUSINESS AND INFORMATION TECHNOLOGY RESOURCE MANAGEMENT OFFICER.
|  | DEPUTY CHIEF INFORMATION OFFICER—OFFICE OF CUSTOMER RELATIONSHIP AND PERFORMANCE MANAGEMENT.
| OFFICE OF THE GENERAL COUNSEL | DIRECTOR, DEPARTMENTAL ENFORCEMENT CENTER.
|  | ASSOCIATE GENERAL COUNSEL FOR PROGRAM ENFORCEMENT.
DEPARTMENT OF HOUSING AND URBAN DEVELOPMENT OFFICE OF THE INSPECTOR GENERAL | DEPARTMENT OF HOUSING AND URBAN DEVELOPMENT OFFICE OF THE INSPECTOR GENERAL | ASSISTANT INSPECTOR GENERAL FOR INVESTIGATION. ASSISTANT INSPECTOR GENERAL FOR AUDIT.
|  | DEPUTY INSPECTOR GENERAL.
|  | DEPUTY ASSISTANT INSPECTOR GENERAL FOR MANAGEMENT.
|  | DEPUTY ASSISTANT INSPECTOR GENERAL FOR INVESTIGATION (HEADQUARTERS OPERATIONS).
|  | ASSISTANT INSPECTOR GENERAL FOR OFFICE OF EVALUATION.
|  | ASSISTANT INSPECTOR GENERAL FOR OFFICE OF MANAGEMENT AND TECHNOLOGY.
|  | COUNSEL TO THE INSPECTOR GENERAL.
|  | DEPUTY ASSISTANT INSPECTOR GENERAL FOR INFORMATION TECHNOLOGY.
|  | DEPUTY ASSISTANT INSPECTOR GENERAL FOR AUDIT (FIELD OPERATIONS).
|  | DEPUTY ASSISTANT INSPECTOR GENERAL FOR AUDIT—SPECIAL OPERATIONS.
|  | DEPUTY ASSISTANT INSPECTOR GENERAL FOR AUDIT (FIELD OPERATIONS).
DEPARTMENT OF THE INTERIOR | ASSISTANT SECRETARY—INDIAN AFFAIRS | DIRECTOR OF HUMAN CAPITAL MANAGEMENT.
| ASSISTANT SECRETARY—POLICY, MANAGEMENT AND BUDGET | DIRECTOR, OFFICE OF HUMAN RESOURCES.
|  | DEPUTY ASSISTANT SECRETARY—PUBLIC SAFETY, RESOURCE PROTECTION AND EMERGENCY SERVICES.
|  | DEPUTY DIRECTOR, OFFICE OF FINANCIAL MANAGEMENT.
|  | DEPUTY ASSISTANT SECRETARY—BUDGET, FINANCE, PERFORMANCE AND ACQUISITION.
|  | DIRECTOR, OFFICE OF FINANCIAL MANAGEMENT AND DEPUTY CHIEF FINANCIAL OFFICER.
|  | CHIEF DIVISION OF BUDGET AND PROGRAM REVIEW.
|  | DIRECTOR, OFFICE OF LAW ENFORCEMENT AND SECURITY.
|  | DIRECTOR, OFFICE OF EMERGENCY MANAGEMENT.
|  | DEPUTY ASSISTANT SECRETARY—HUMAN CAPITAL AND DIVERSITY.
|  | CHIEF, BUDGET ADMINISTRATION AND DEPARTMENTAL MANAGEMENT.
|  | CHIEF DIVERSITY OFFICER/DIRECTOR, OFFICE OF CIVIL RIGHTS.
|  | DIRECTOR, BUSINESS SERVICES.
| BUREAU OF LAND MANAGEMENT | ASSISTANT DIRECTOR, HUMAN CAPITAL MANAGEMENT.
| BUREAU OF OCEAN ENERGY MANAGEMENT | STRATEGIC RESOURCES CHIEF.
| BUREAU OF RECLAMATION | DIRECTOR, MANAGEMENT SERVICES OFFICE. DIRECTOR, SECURITY, SAFETY AND LAW ENFORCEMENT.
| FIELD OFFICES | PARK MANAGER, YELLOWSTONE NATIONAL PARK. REGIONAL DIRECTOR, APPALACHIAN REGION.
|  | REGIONAL DIRECTOR, MID-CONTINENT REGION.
|  | PARK MANAGER, GRAND CANYON NATIONAL PARK. DIRECTOR, NATIONAL OPERATIONS CENTER.
|  | REGIONAL DIRECTOR—NORTHEAST.
|  | REGIONAL DIRECTOR—SOUTHEAST.
|  | REGIONAL DIRECTOR—MIDWEST.
|  | REGIONAL DIRECTOR—PACIFIC.
|  | REGIONAL DIRECTOR—ALASKA.
|  | REGIONAL DIRECTOR—SOUTHWEST.
|  | REGIONAL DIRECTOR—NORTHWEST.
|  | ASSOCIATE DIRECTOR FOR CLIMATE AND LAND USE CHANGE.
| NATIONAL PARK SERVICE | ASSOCIATE DIRECTOR, INTERPRETATION AND EDUCATION. CHIEF FINANCIAL OFFICER.
|  | COMPTROLLER.
| OFFICE OF HEARINGS AND APPEALS | DIRECTOR, OFFICE OF HEARINGS AND APPEALS.
| OFFICE OF NATURAL RESOURCES REVENUE MANAGEMENT | PROGRAM DIRECTOR FOR COORDINATION, ENFORCEMENT, VALUATION AND APPEALS.
|  | DEPUTY DIRECTOR, OFFICE OF NATURAL RESOURCES REVENUE MANAGEMENT.
|  | PROGRAM DIRECTOR FOR AUDIT AND COMPLIANCE MANAGEMENT.
|  | PROGRAM DIRECTOR FOR FINANCIAL AND PRODUCTION MANAGEMENT.
| OFFICE OF THE SOLICITOR | DESIGNATED AGENCY ETHICS OFFICIAL. ASSOCIATE SOLICITOR FOR ADMINISTRATION.
| UNITED STATES FISH AND WILDLIFE SERVICE | CHIEF, OFFICE OF LAW ENFORCEMENT.
| UNITED STATES GEOLOGICAL SURVEY | DEPUTY DIRECTOR. ASSOCIATE DIRECTOR FOR ADMINISTRATION.
|  | CHIEF SCIENTIST FOR HYDROLOGY.
|  | ASSOCIATE DIRECTOR FOR COMMUNICATIONS AND PUBLISHING.
|  | ASSOCIATE DIRECTOR FOR BUDGET, PLANNING, AND INTEGRATION.
|  | ASSOCIATE DIRECTOR FOR NATURAL HAZARDS.
|  | ASSOCIATE DIRECTOR FOR ENERGY AND MINERALS.
|  | ASSOCIATE DIRECTOR FOR ECOSYSTEMS.
|  | ASSOCIATE DIRECTOR FOR WATER.
|  | DIRECTOR, OFFICE OF SCIENCE QUALITY AND INTEGRITY.
|  | ASSOCIATE DIRECTOR FOR CORE SCIENCE SYSTEMS.
|  | DIRECTOR, EARTH RESOURCES OBSERVATION AND SCIENCE CENTER AND POLICY ADVISOR.
DEPARTMENT OF THE INTERIOR OFFICE OF THE INSPECTOR GENERAL | OFFICE OF AUDITS, INSPECTIONS, AND EVALUATIONS | ASSISTANT INSPECTOR GENERAL FOR AUDITS, INSPECTIONS, AND EVALUATIONS. DEPUTY ASSISTANT INSPECTOR GENERAL FOR COMPLIANCE AND FINANCE.
| OFFICE OF GENERAL COUNSEL | GENERAL COUNSEL.
| OFFICE OF INFORMATION TECHNOLOGY | ASSISTANT INSPECTOR GENERAL FOR INFORMATION TECHNOLOGY.
| OFFICE OF INVESTIGATIONS | ASSISTANT INSPECTOR GENERAL FOR INVESTIGATIONS.
| OFFICE OF MANAGEMENT | ASSISTANT INSPECTOR GENERAL FOR MANAGEMENT. DEPUTY ASSISTANT INSPECTOR GENERAL FOR MANAGEMENT.
| OFFICE OF THE INSPECTOR GENERAL | CHIEF OF STAFF (2). DEPUTY INSPECTOR GENERAL.
|  | ASSOCIATE INSPECTOR GENERAL FOR COMMUNICATION.
|  | SENIOR ADVISOR.
DEPARTMENT OF JUSTICE | ANTITRUST DIVISION | DIRECTOR, ECONOMIC ENFORCEMENT. EXECUTIVE OFFICER.
|  | CHIEF, TELECOMMUNICATIONS AND MEDIA SECTION.
|  | DIRECTOR OF OPERATIONS AND SENIOR COUNSEL.
|  | SENIOR COUNSEL AND DIRECTOR OF RISK MANAGEMENT.
| BUREAU OF ALCOHOL, TOBACCO, FIREARMS AND EXPLOSIVES | DEPUTY DIRECTOR. ASSISTANT DIRECTOR, FIELD OPERATIONS.
|  | DEPUTY ASSISTANT DIRECTOR, FIELD OPERATIONS—CENTRAL.
|  | ASSISTANT DIRECTOR, ENFORCEMENT PROGRAMS AND SERVICES.
|  | DEPUTY ASSISTANT DIRECTOR, ENFORCEMENT PROGRAMS AND SERVICES.
|  | DEPUTY ASSISTANT DIRECTOR, HUMAN RESOURCES AND PROFESSIONAL DEVELOPMENT.
|  | ASSISTANT DIRECTOR, HUMAN RESOURCES AND PROFESSIONAL DEVELOPMENT.
|  | ASSISTANT DIRECTOR, OFFICE OF PROFESSIONAL RESPONSIBILITY AND SECURITY OPERATIONS.
|  | DEPUTY ASSISTANT DIRECTOR, MANAGEMENT AND CHIEF FINANCIAL OFFICER.
|  | ASSISTANT DIRECTOR, MANAGEMENT AND CHIEF FINANCIAL OFFICER.
|  | DEPUTY ASSISTANT DIRECTOR FOR INFORMATION TECHNOLOGY AND DEPUTY CHIEF INFORMATION OFFICER.
|  | ASSISTANT DIRECTOR, SCIENCE AND TECHNOLOGY.
|  | DEPUTY ASSISTANT DIRECTOR, FORENSIC SERVICES.
|  | DEPUTY ASSISTANT DIRECTOR, FIELD OPERATIONS—WEST.
|  | SPECIAL AGENT IN CHARGE, LOS ANGELES.
|  | SPECIAL AGENT IN CHARGE, NEW YORK.
|  | SPECIAL AGENT IN CHARGE, WASHINGTON DC.
|  | SPECIAL AGENT IN CHARGE, HOUSTON.
|  | DEPUTY ASSISTANT DIRECTOR, FIELD OPERATIONS—EAST.
|  | DEPUTY ASSISTANT DIRECTOR, OFFICE OF PROFESSIONAL RESPONSIBILITY AND SECURITY OPERATIONS.
|  | DEPUTY ASSISTANT DIRECTOR, INDUSTRY OPERATIONS.
|  | SPECIAL AGENT IN CHARGE, NASHVILLE.
|  | SPECIAL AGENT IN CHARGE, DALLAS.
|  | ASSISTANT DIRECTOR, OFFICE OF PUBLIC AND GOVERNMENTAL AFFAIRS.
|  | DEPUTY ASSISTANT DIRECTOR, OFFICE OF STRATEGIC INTELLIGENCE AND INFORMATION.
|  | ASSISTANT DIRECTOR, OFFICE OF STRATEGIC INTELLIGENCE AND INFORMATION.
|  | DEPUTY ASSISTANT DIRECTOR, OFFICE OF PUBLIC AND GOVERNMENTAL AFFAIRS.
|  | SPECIAL AGENT IN CHARGE, ATLANTA.
|  | SPECIAL AGENT IN CHARGE, BOSTON.
|  | SPECIAL AGENT IN CHARGE, CHICAGO.
|  | SPECIAL AGENT IN CHARGE, KANSAS CITY.
|  | SPECIAL AGENT IN CHARGE, PHILADELPHIA.
|  | SPECIAL AGENT IN CHARGE, PHOENIX.
|  | SPECIAL AGENT IN CHARGE, SAN FRANCISCO.
|  | SPECIAL AGENT IN CHARGE, MIAMI.
|  | SPECIAL AGENT IN CHARGE, CHARLOTTE.
|  | SPECIAL AGENT IN CHARGE, DETROIT.
|  | SPECIAL AGENT IN CHARGE, LOUISVILLE.
|  | SPECIAL AGENT IN CHARGE, SEATTLE.
|  | SPECIAL AGENT IN CHARGE, TAMPA.
|  | SPECIAL AGENT IN CHARGE, SAINT PAUL.
|  | SPECIAL AGENT IN CHARGE, NEW ORLEANS.
|  | SPECIAL AGENT IN CHARGE, COLUMBUS.
|  | SPECIAL AGENT IN CHARGE, BALTIMORE.
|  | SPECIAL AGENT IN CHARGE, NEWARK.
|  | SPECIAL AGENT IN CHARGE, DENVER.
|  | CHIEF, SPECIAL OPERATIONS DIVISION.
|  | DEPUTY ASSISTANT DIRECTOR, INDUSTRY OPERATIONS.
|  | DEPUTY ASSISTANT DIRECTOR, FIELD OPERATIONS (PROGRAMS).
|  | EXECUTIVE ASSISTANT TO THE DIRECTOR.
|  | DEPUTY ASSISTANT DIRECTOR HUMAN RESOURCES.
|  | SPECIAL AGENT IN CHARGE, NATIONAL CENTER FOR EXPLOSIVES TRAINING AND RESEARCH.
|  | DEPUTY DIRECTOR, TERRORIST EXPLOSIVE DEVICE ANALYTICAL CENTER.
|  | SPECIAL ASSISTANT TO THE DIRECTOR.
|  | SPECIAL AGENT IN CHARGE, NATIONAL CENTER FOR EXPLOSIVES TRAINING AND RESEARCH.
| CIVIL DIVISION | DIRECTOR, CONSUMER LITIGATION BRANCH, FOREIGN LITIGATION SECTION.
|  | SPECIAL LITIGATION COUNSEL, AVIATION AND ADMIRALTY SECTION.
|  | DEPUTY DIRECTOR APPELLATE BRANCH.
|  | DEPUTY DIRECTOR, COMMERCIAL LITIGATION BRANCH.
|  | DEPUTY BRANCH DIRECTOR, FEDERAL PROGRAMS.
|  | DIRECTOR, OFFICE OF MANAGEMENT PROGRAMS.
|  | DEPUTY DIRECTOR, COMMERCIAL LITIGATION BRANCH.
|  | DEPUTY BRANCH DIRECTOR, FEDERAL PROGRAMS.
|  | DIRECTOR, CONSUMER PROTECTION BRANCH.
|  | DEPUTY DIRECTOR, COMMERCIAL LITIGATION BRANCH.
|  | DEPUTY BRANCH DIRECTOR, FEDERAL PROGRAMS.
|  | APPELLATE LITIGATION COUNSEL.
|  | DEPUTY BRANCH DIRECTOR.
|  | DEPUTY DIRECTOR, APPELLATE STAFF.
|  | DEPUTY DIRECTOR, OFFICE OF IMMIGRATION LITIGATION, APPELLATE SECTION.
|  | SPECIAL COUNSEL TO THE ASSISTANT ATTORNEY GENERAL.
|  | DEPUTY DIRECTOR CONSUMER PROTECTION BRANCH.
|  | DEPUTY DIRECTOR, CONSTITUTIONAL AND SPECIALIZED TORT LITIGATION.
|  | DEPUTY DIRECTOR, OFFICE OF IMMIGRATION LITIGATION, APPELLATE SECTION.
|  | DEPUTY DIRECTOR, COMMERCIAL LITIGATION, FRAUD SECTION.
|  | DEPUTY DIRECTOR (OPERATIONS), OFFICE OF IMMIGRATION LITIGATION, DISTRICT COURT SECTION.
| CIVIL RIGHTS DIVISION | DEPUTY ASSISTANT ATTORNEY GENERAL (2). CHIEF, EMPLOYMENT LITIGATION SECTION.
|  | CHIEF APPELLATE SECTION.
|  | CHIEF CRIMINAL SECTION.
|  | CHIEF, HOUSING AND CIVIL ENFORCEMENT SECTION.
|  | CHIEF, VOTING SECTION.
|  | CHIEF, EDUCATIONAL OPPORTUNITIES SECTION.
|  | CHIEF-SPECIAL LITIGATION SECTION.
|  | CHIEF FEDERAL COORDINATION AND COMPLIANCE SECTION.
|  | EXECUTIVE OFFICER.
|  | CHIEF, DISABILITY RIGHTS SECTION.
|  | DEPUTY SPECIAL COUNSEL FOR IMMIGRATION-RELATED UNFAIR EMPLOYMENT PRACTICES.
|  | PRINCIPAL DEPUTY CHIEF, VOTING SECTION.
|  | CHIEF, POLICY STRATEGY SECTION.
|  | COUNSEL TO THE ASSISTANT ATTORNEY GENERAL.
|  | PRINCIPAL DEPUTY CHIEF, SPECIAL LITIGATION SECTION.
|  | PRINCIPAL DEPUTY CHIEF, EMPLOYMENT LITIGATION SECTION.
|  | PRINCIPAL DEPUTY CHIEF, HOUSING AND CIVIL ENFORCEMENT SECTION.
| CRIMINAL DIVISION | CHIEF, ORGANIZED CRIME AND GANG SECTION. CHIEF, APPELLATE SECTION.
|  | CHIEF FRAUD SECTION.
|  | CHIEF PUBLIC INTEGRITY SECTION.
|  | CHIEF NARCOTIC AND DANGEROUS DRUG SECTION.
|  | DEPUTY CHIEF, FRAUD SECTION.
|  | CHIEF, ASSET FORFEITURE AND MONEY LAUNDERING SECTION.
|  | DEPUTY CHIEF PUBLIC INTEGRITY SECTION.
|  | DEPUTY CHIEF, ASSET FORFEITURE AND MONEY LAUNDERING SECTION.
|  | DEPUTY CHIEF, APPELLATE SECTION.
|  | EXECUTIVE OFFICER.
|  | DEPUTY CHIEF FOR ORGANIZED CRIME AND GANG SECTION.
|  | COUNSELOR FOR TRANSNATIONAL ORGANIZED CRIME AND INTERNATIONAL AFFAIRS.
|  | CHIEF, CHILD EXPLOITATION AND OBSCENITY SECTION.
|  | DEPUTY CHIEF, COMPUTER CRIME AND INTELLECTUAL PROPERTY SECTION.
|  | DIRECTOR, INTERNATIONAL CRIMINAL INVESTIGATIVE TRAINING ASSISTANCE PROGRAM.
|  | SENIOR COUNSEL FOR CYBERCRIME.
|  | DEPUTY CHIEF, NARCOTIC AND DANGEROUS DRUG SECTION.
|  | DIRECTOR, OFFICE OF OVERSEAS PROSECUTORIAL DEVELOPMENT, ASSISTANCE, AND TRAINING.
|  | CHIEF, COMPUTER CRIME AND INTELLECTUAL PROPERTY SECTION.
|  | CHIEF, HUMAN RIGHTS AND SPECIAL PROSECUTIONS SECTION.
|  | DEPUTY CHIEF, CHILD EXPLOITATION AND OBSCENITY SECTION.
|  | DEPUTY SECTION CHIEF, NATURAL RESOURCES SECTION.
|  | CHIEF, NATURAL RESOURCES SECTION.
|  | CHIEF, LAND ACQUISITION SECTION.
|  | CHIEF-APPELLATE SECTION.
|  | CHIEF, INDIAN RESOURCES SECTION.
|  | CHIEF, ENVIRONMENTAL DEFENSE SECTION.
|  | DEPUTY CHIEF ENVIRONMENTAL ENFORCEMENT SECTION.
|  | CHIEF, WILDLIFE AND MARINE RESOURCES SECTION.
| ENVIRONMENT AND NATURAL RESOURCES DIVISION | DEPUTY CHIEF, ENVIRONMENTAL ENFORCEMENT SECTION. CHIEF ENVIRONMENTAL CRIMES SECTION.
|  | CHIEF ENVIRONMENTAL ENFORCEMENT SECTION.
|  | SENIOR LITIGATION COUNSEL.
|  | EXECUTIVE OFFICER.
|  | DEPUTY CHIEF, ENVIRONMENTAL ENFORCEMENT SECTION.
|  | DEPUTY CHIEF, APPELLATE SECTION.
|  | DEPUTY CHIEF, NATURAL RESOURCES SECTION.
|  | DEPUTY CHIEF, ENVIRONMENTAL DEFENSE SECTION.
|  | DEPUTY CHIEF, ENVIRONMENTAL CRIMES SECTION.
| EXECUTIVE OFFICE FOR IMMIGRATION REVIEW | CHIEF IMMIGRATION JUDGE. VICE CHAIRMAN, BOARD OF IMMIGRATION APPEALS.
|  | DEPUTY CHIEF IMMIGRATION JUDGE.
|  | CHAIRMAN, BOARD OF IMMIGRATION APPEALS.
|  | GENERAL COUNSEL.
|  | ASSISTANT DIRECTOR FOR ADMINISTRATION.
|  | CHIEF ADMINISTRATIVE HEARING OFFICER.
| EXECUTIVE OFFICE FOR ORGANIZED CRIME DRUG ENFORCEMENT TASK FORCES | DIRECTOR, ORGANIZED CRIME DRUG ENFORCEMENT TASK FORCES.
| EXECUTIVE OFFICE FOR UNITED STATES ATTORNEYS | DEPUTY DIRECTOR FOR ADMINISTRATION AND MANAGEMENT. ASSOCIATE DIRECTOR, OFFICE OF LEGAL EDUCATION.
|  | CHIEF FINANCIAL OFFICER.
|  | CHIEF, INFORMATION OFFICER.
|  | CHIEF HUMAN RESOURCES OFFICER.
|  | DEPUTY DIRECTOR.
|  | GENERAL COUNSEL.
|  | COUNSEL, LEGAL PROGRAMS AND POLICY.
| FEDERAL BUREAU OF PRISONS | ASSISTANT DIRECTOR FOR ADMINISTRATION. ASSISTANT DIRECTOR CORRECTIONAL PROGRAMS DIVISION.
|  | ASSISTANT DIRECTOR, OFFICE OF GENERAL COUNSEL.
|  | REGIONAL DIRECTOR, NORTHEAST REGION.
|  | REGIONAL DIRECTOR, SOUTHEAST REGION.
|  | REGIONAL DIRECTOR, NORTH CENTRAL REGION.
|  | REGIONAL DIRECTOR, WESTERN REGION.
|  | REGIONAL DIRECTOR, SOUTH CENTRAL REGION.
|  | WARDEN, UNITED STATES PENITENTIARY, ATLANTA, GEORGIA.
|  | WARDEN, UNITED STATES PENITENTIARY, LEAVENWORTH, KANSAS.
|  | WARDEN, UNITED STATES PENITENTIARY, LEWISBURG, PENNSYLVANIA.
|  | WARDEN, FEDERAL CORRECTIONAL COMPLEX, LOMPOC, CALIFORNIA.
|  | WARDEN, UNITED STATES MEDICAL CENTER FEDERAL PRISONERS, SPRINGFIELD, MISSOURI.
|  | WARDEN, FEDERAL MEDICAL CENTER, LEXINGTON, KENTUCKY.
|  | WARDEN, UNITED STATES PENITENTIARY, MARION ILLINOIS.
|  | ASSISTANT DIRECTOR, INDUSTRIES, EDUCATION, AND VOCATIONAL TRAINING DIVISION.
|  | SENIOR DEPUTY ASSISTANT DIRECTOR, REENTRY SERVICES.
|  | WARDEN FEDERAL CORRECTIONAL COMPLEX, TERRE HAUTE, INDIANA.
|  | WARDEN FEDERAL CORRECTIONAL COMPLEX, BUTNER, NORTH CAROLINA.
|  | WARDEN, FEDERAL CORRECTIONAL INSTITUTION, MARIANNA, FLORIDA.
|  | ASSISTANT DIRECTOR HUMAN RESOURCES MANAGEMENT DIVISION.
|  | CHIEF EDUCATION ADMINISTRATOR.
|  | SENIOR DEPUTY ASSISTANT DIRECTOR, CORRECTIONAL PROGRAMS DIVISION.
|  | WARDEN, FEDERAL CORRECTIONAL INSTITUTION, PHOENIX, ARIZONA.
|  | SENIOR DEPUTY ASSISTANT DIRECTOR, HEALTH SERVICES DIVISION.
|  | WARDEN, FEDERAL MEDICAL CENTER, ROCHESTER, MINNESOTA.
|  | REGIONAL DIRECTOR MIDDLE ATLANTIC REGION.
|  | DEPUTY DIRECTOR.
|  | WARDEN, FEDERAL CORRECTIONAL INSTITUTION, TALLADEGA, ALABAMA.
|  | WARDEN, FEDERAL CORRECTIONAL INSTITUTION, FORT DIX, NEW JERSEY.
|  | WARDEN, FEDERAL CORRECTIONAL COMPLEX, FLORENCE, COLORADO.
|  | WARDEN, UNITED STATES PENITENTIARY-HIGH, FLORENCE, COLORADO.
|  | WARDEN, FEDERAL CORRECTIONAL COMPLEX, OAKDALE, LOUISIANA.
|  | WARDEN, FEDERAL MEDICAL CENTER, CARSWELL, TEXAS.
|  | WARDEN, FEDERAL CORRECTIONAL COMPLEX, ALLENWOOD, PENNSYLVANIA.
|  | WARDEN, FEDERAL TRANSFER CENTER, OKLAHOMA CITY, OKLAHOMA.
|  | SENIOR DEPUTY ASSISTANT DIRECTOR, HUMAN RESOURCES MANAGEMENT DIVISION.
|  | WARDEN, FEDERAL CORRECTIONAL INSTITUTION, EL RENO, OKLAHOMA.
|  | WARDEN, FEDERAL DETENTION CENTER, MIAMI, FLORIDA.
|  | WARDEN, FEDERAL CORRECTIONAL INSTITUTION, FAIRTON, NEW JERSEY.
|  | ASSISTANT DIRECTOR, PROGRAM REVIEW DIVISION.
|  | SENIOR DEPUTY ASSISTANT DIRECTOR, PROGRAM REVIEW DIVISION.
|  | WARDEN, FEDERAL CORRECTIONAL INSTITUTION, EDGEFIELD, SOUTH CAROLINA.
|  | WARDEN, FEDERAL MEDICAL CENTER, DEVENS, MASSACHUSETTS.
|  | WARDEN, METROPOLITAN DETENTION CENTER, LOS ANGELES, CALIFORNIA.
|  | WARDEN, FEDERAL CORRECTIONAL COMPLEX, BEAUMONT, TEXAS.
|  | SENIOR DEPUTY ASSISTANT DIRECTOR, INFORMATION, POLICY, AND PUBLIC AFFAIRS DIVISION.
|  | SENIOR DEPUTY ASSISTANT DIRECTOR ADMINISTRATION DIVISION.
|  | WARDEN, METROPOLITAN DETENTION CENTER, BROOKLYN, NEW YORK.
|  | SENIOR DEPUTY GENERAL COUNSEL, OFFICE OF THE GENERAL COUNSEL.
|  | WARDEN, UNITED STATES PENITENTIARY, POLLOCK, LOUISIANA.
|  | WARDEN, FEDERAL CORRECTIONAL INSTITUTION, BECKLEY, WEST VIRGINIA.
|  | WARDEN, FEDERAL CORRECTIONAL INSTITUTION, JESUP, GEORGIA.
|  | WARDEN, FEDERAL CORRECTIONAL INSTITUTION, OTISVILLE, NEW YORK.
|  | WARDEN, METROPOLITAN CORRECTIONAL CENTER, NEW YORK, NEW YORK.
|  | WARDEN, UNITED STATES PENITENTIARY, ATWATER, CALIFORNIA.
|  | WARDEN, FEDERAL CORRECTIONAL COMPLEX, COLEMAN, FLORIDA.
|  | WARDEN, UNITED STATES PENITENTIARY, LEE, VIRGINIA.
|  | SENIOR COUNSEL, OFFICE OF GENERAL COUNSEL.
|  | COMPLEX WARDEN, FEDERAL CORRECTION COMPLEX, PETERSBURG, VIRGINIA.
|  | WARDEN, UNITED STATES PENITENTIARY, BIG SANDY, KENTUCKY.
|  | COMPLEX WARDEN, FEDERAL CORRECTIONAL COMPLEX, VICTORVILLE, CALIFORNIA.
|  | WARDEN, UNITED STATES PENITENTIARY, MCCREARY, KENTUCKY.
|  | WARDEN, UNITED STATES PENITENTIARY, HAZELTON, WEST VIRGINIA.
|  | COMPLEX WARDEN, FEDERAL CORRECTIONAL COMPLEX, YAZOO CITY, MISSISSIPPI.
|  | WARDEN, UNITED STATES PENITENTIARY, CANAAN, PENNSYLVANIA.
|  | WARDEN, FEDERAL CORRECTIONAL COMPLEX, FORREST CITY, ARKANSAS.
|  | SENIOR DEPUTY ASSISTANT DIRECTOR RE-ENTRY SERVICES DIVISION.
|  | WARDEN, UNITED STATES PENITENTIARY COLEMAN-I, COLEMAN, FLORIDA.
|  | COMPLEX WARDEN, UNITED STATES PENITENTIARY, TUCSON, ARIZONA.
|  | WARDEN, FEDERAL CORRECTIONAL INSTITUTION, CUMBERLAND, MARYLAND.
|  | WARDEN, FEDERAL CORRECTIONAL INSTITUTION, GREENVILLE, ILLINOIS.
|  | WARDEN, FEDERAL CORRECTIONAL INSTITUTION, MCKEAN, PENNSYLVANIA.
|  | WARDEN, FEDERAL CORRECTIONAL INSTITUTION, PEKIN, ILLINOIS.
|  | WARDEN, FEDERAL CORRECTIONAL INSTITUTION, SCHUYLKILL, PENNSYLVANIA.
|  | WARDEN, FEDERAL CORRECTIONAL INSTITUTION, THREE RIVERS, TEXAS.
|  | WARDEN, METROPOLITAN DETENTION CENTER, GUAYNABO, PUERTO RICO.
|  | WARDEN, FEDERAL CORRECTIONAL INSTITUTION, MEMPHIS, TENNESSEE.
|  | WARDEN, FEDERAL CORRECTIONAL INSTITUTION, SHERIDAN, OREGON.
|  | WARDEN, FEDERAL CORRECTIONAL INSTITUTION, GILMER, WEST VIRGINIA.
|  | WARDEN, FEDERAL CORRECTIONAL INSTITUTION, MANCHESTER, KENTUCKY.
|  | WARDEN, FEDERAL CORRECTIONAL INSTITUTION, BENNETTSVILLE, SOUTH CAROLINA.
|  | WARDEN, FEDERAL CORRECTIONAL INSTITUTION, WILLIAMSBURG, SOUTH CAROLINA.
|  | SENIOR DEPUTY GENERAL COUNSEL, OFFICE OF GENERAL COUNSEL.
|  | ASSISTANT DIRECTOR, INFORMATION, POLICY AND PUBLIC AFFAIRS.
|  | WARDEN, FEDERAL CORRECTION INSTITUTE, MENDOTA, CALIFORNIA.
|  | ASSISTANT DIRECTOR, REENTRY SERVICES DIVISION.
|  | WARDEN FCI FORT WORTH TEXAS.
|  | WARDEN FCI, THOMSON, ILLINOIS.
|  | SENIOR DEPUTY ASSISTANT DIRECTOR, ADMINISTRATION DIVISION.
|  | SENIOR DEPUTY ASSISTANT DIRECTOR, INDUSTRIES, EDUCATION, AND VOCATIONAL TRAINING DIVISION.
|  | ASSISTANT DIRECTOR, HEALTH SERVICES DIVISION.
|  | SENIOR DEPUTY ASSISTANT DIRECTOR, INFORMATION, POLICY, AND PUBLIC AFFAIRS DIVISION.
|  | CHIEF, OFFICE OF PUBLIC AFFAIRS.
|  | SENIOR DEPUTY ASSISTANT DIRECTOR, PROGRAM REVIEW DIVISION.
| JUSTICE MANAGEMENT DIVISION | ASSISTANT ATTORNEY GENERAL FOR ADMINISTRATION. DEPUTY ASSISTANT ATTORNEY GENERAL, POLICY, MANAGEMENT, AND PLANNING.
|  | DIRECTOR, HUMAN RESOURCES.
|  | DIRECTOR, SECURITY AND EMERGENCY PLANNING STAFF.
|  | DIRECTOR FINANCE STAFF.
|  | DEPUTY ASSISTANT ATTORNEY GENERAL (CONTROLLER).
|  | DEPUTY ASSISTANT ATTORNEY GENERAL FOR HUMAN RESOURCES AND ADMINISTRATION.
|  | DIRECTOR LIBRARY STAFF.
|  | DIRECTOR, FACILITIES AND ADMINISTRATIVE SERVICES STAFF.
|  | DIRECTOR, ASSET FORFEITURE MANAGEMENT STAFF.
|  | DIRECTOR, OFFICE OF ATTORNEY RECRUITMENT AND MANAGEMENT.
|  | DEPUTY DIRECTOR, CYBERSECURITY STAFF/DEPUTY CHIEF INFORMATION SECURITY OFFICER.
|  | DIRECTOR, CYBERSECURITY SERVICES STAFF.
|  | DIRECTOR, SERVICE DELIVERY STAFF.
|  | DEPUTY DIRECTOR, SERVICE DELIVERY STAFF.
|  | DIRECTOR, ENTERPRISE SOLUTIONS STAFF.
|  | DIRECTOR, OPERATIONS SERVICES STAFF.
|  | DIRECTOR, INFORMATION TECHNOLOGY POLICY AND PLANNING STAFF.
|  | DEPUTY CHIEF INFORMATION OFFICER.
|  | CHIEF TECHNOLOGY OFFICER.
|  | DIRECTOR, BUDGET STAFF.
|  | DIRECTOR, DEBT COLLECTION MANAGEMENT STAFF.
|  | DEPUTY ASSISTANT ATTORNEY GENERAL FOR INFORMATION RESOURCES MANAGEMENT/CHIEF INFORMATION OFFICER.
|  | DIRECTOR PROCUREMENT SERVICES STAFF.
|  | GENERAL COUNSEL.
|  | DIRECTOR, EQUAL EMPLOYMENT OPPORTUNITY STAFF.
|  | DIRECTOR, DEPARTMENTAL ETHICS OFFICE.
|  | DEPUTY DIRECTOR, BUDGET STAFF, OPERATIONS AND FUNDS CONTROL.
|  | DEPUTY DIRECTOR, BUDGET STAFF, PROGRAMS AND PERFORMANCE.
|  | DEPUTY DIRECTOR, AUDITING, FINANCE STAFF.
|  | DEPUTY DIRECTOR, HUMAN RESOURCES.
|  | SENIOR ADVISOR.
|  | DIRECTOR, SERVICE ENGINEERING STAFF.
| NATIONAL INSTITUTE OF JUSTICE | DEPUTY DIRECTOR, NATIONAL INSTITUTE OF JUSTICE, OFFICE OF SCIENCE AND TECHNOLOGY.
| NATIONAL SECURITY DIVISION | SPECIAL COUNSEL FOR NATIONAL SECURITY. EXECUTIVE OFFICER.
|  | DEPUTY ASSISTANT ATTORNEY GENERAL, FISA OPERATIONS AND INTELLIGENCE OVERSIGHT.
|  | CHIEF, FOREIGN INVESTMENT REVIEW STAFF.
|  | DIRECTOR OF RISK MANAGEMENT AND SENIOR COUNSEL.
|  | CHIEF, OVERSIGHT SECTION.
|  | CHIEF, OPERATIONS SECTION.
|  | CHIEF, APPELLATE UNIT.
|  | DIRECTOR, FOIA AND DECLASSIFICATION PROGRAM.
|  | DEPUTY CHIEF, COUNTERTERRORISM SECTION.
| OFFICE OF JUSTICE PROGRAMS | DIRECTOR, OFFICE OF ADMINISTRATION. CHIEF FINANCIAL OFFICER.
|  | DIRECTOR OF COMMUNICATIONS.
|  | DEPUTY CHIEF FINANCIAL OFFICER.
|  | DEPUTY DIRECTOR, OFFICE FOR VICTIMS OF CRIME.
|  | DIRECTOR, OFFICE OF AUDIT, ASSESSMENT AND MANAGEMENT.
| OFFICE OF PROFESSIONAL RESPONSIBILITY | COUNSEL ON PROFESSIONAL RESPONSIBILITY. DEPUTY COUNSEL ON PROFESSIONAL RESPONSIBILITY.
| OFFICE OF THE DEPUTY ATTORNEY GENERAL | DIRECTOR, OFFICE OF PRIVACY AND CIVIL LIBERTIES. CHIEF, PROFESSIONAL MISCONDUCT REVIEW UNIT.
| OFFICE OF THE LEGAL COUNSEL | SPECIAL COUNSEL (2).
| OFFICE OF TRIBAL JUSTICE | DIRECTOR.
| PROFESSIONAL RESPONSIBILITY ADVISORY OFFICE | DIRECTOR, PROFESSIONAL RESPONSIBILITY ADVISORY OFFICE.
| TAX DIVISION | CHIEF, CRIMINAL ENFORCEMENT SECTION, SOUTH REGION. CHIEF, CRIMINAL ENFORCEMENT SECTION, NORTH REGION.
|  | CHIEF, APPELLATE SECTION.
|  | CHIEF, COURT OF FEDERAL CLAIMS SECTION.
|  | CHIEF, CIVIL TRIAL SECTION, CENTRAL REGION.
|  | CHIEF CIVIL TRIAL SECTION NORTHERN.
|  | CHIEF CIVIL TRIAL SECTION (SOUTHERN REGION).
|  | CHIEF CIVIL TRIAL SECTION, WESTERN REGION.
|  | SPECIAL LITIGATION COUNSEL.
|  | SENIOR LITIGATION COUNSEL.
|  | DEPUTY ASSISTANT ATTORNEY GENERAL.
|  | CHIEF, CRIMINAL ENFORCEMENT SECTION, WESTERN REGION.
|  | CHIEF OFFICE OF REVIEW.
|  | CHIEF CIVIL TRIAL SECTION SOUTHWESTERN REGION.
|  | CHIEF CIVIL TRIAL SECTION EASTERN REGION.
|  | EXECUTIVE OFFICER.
|  | CHIEF, CRIMINAL APPEALS AND TAX ENFORCEMENT POLICY SECTION.
| UNITED STATES MARSHALS SERVICE | DEPUTY DIRECTOR. ASSOCIATE DIRECTOR, OPERATIONS.
|  | ASSOCIATE DIRECTOR, ADMINISTRATION.
|  | ASSISTANT DIRECTOR, JUSTICE PRISONER & ALIEN TRANSPORTATION SYSTEM.
|  | ASSISTANT DIRECTOR, HUMAN RESOURCES.
|  | ASSISTANT DIRECTOR, FINANCIAL SERVICES.
|  | ASSISTANT DIRECTOR, WITNESS SECURITY.
|  | ASSISTANT DIRECTOR, MANAGEMENT SUPPORT.
|  | ASSISTANT DIRECTOR, ASSET FORFEITURE.
|  | ASSISTANT DIRECTOR, TACTICAL OPERATIONS.
|  | ASSISTANT DIRECTOR OFFICE OF INSPECTION.
|  | ASSISTANT DIRECTOR JUDICIAL SECURITY.
|  | DEPUTY ASSISTANT DIRECTOR ACQUISITION AND PROCUREMENT.
|  | PRINCIPAL DEPUTY GENERAL COUNSEL.
|  | ASSISTANT DIRECTOR FOR PRISONER OPERATIONS.
|  | ASSISTANT DIRECTOR, TRAINING.
|  | ASSISTANT DIRECTOR, INVESTIGATIVE OPERATIONS.
|  | ASSISTANT DIRECTOR, INFORMATION TECHNOLOGY.
DEPARTMENT OF JUSTICE OFFICE OF THE INSPECTOR GENERAL | AUDIT DIVISION | ASSISTANT INSPECTOR GENERAL, AUDIT DIVISION. DEPUTY ASSISTANT INSPECTOR GENERAL, AUDIT DIVISION.
| EVALUATION AND INSPECTIONS DIVISION | ASSISTANT INSPECTOR GENERAL, EVALUATION AND INSPECTIONS DIVISION.
| FRONT OFFICE | DEPUTY INSPECTOR GENERAL. GENERAL COUNSEL.
| INVESTIGATIONS DIVISION | ASSISTANT INSPECTOR GENERAL, INVESTIGATIONS DIVISION. DEPUTY ASSISTANT INSPECTOR GENERAL, INVESTIGATIONS DIVISION.
| MANAGEMENT AND PLANNING DIVISION | ASSISTANT INSPECTOR GENERAL, MANAGEMENT AND PLANNING DIVISION. DEPUTY ASSISTANT INSPECTOR GENERAL, MANAGEMENT AND PLANNING.
| OVERSIGHT AND REVIEW DIVISION | ASSISTANT INSPECTOR GENERAL, OVERSIGHT AND REVIEW DIVISION. DEPUTY ASSISTANT INSPECTOR GENERAL, OVERSIGHT AND REVIEW DIVISION.
DEPARTMENT OF LABOR | BUREAU OF INTERNATIONAL LABOR AFFAIRS | DIRECTOR, OFFICE OF TRADE AND LABOR AFFAIRS. DIRECTOR, OFFICE OF CHILD LABOR, FORCED LABOR HUMAN TRAFFICKING.
| BUREAU OF LABOR STATISTICS | ASSOCIATE COMMISSIONER FOR FIELD OPERATIONS. ASSOCIATE COMMISSIONER FOR ADMINISTRATION.
|  | ASSOCIATE COMMISSIONER FOR PRICES AND LIVING CONDITIONS.
|  | ASSOCIATE COMMISSIONER PRODUCTIVITY AND TECHNOLOGY.
|  | DEPUTY COMMISSIONER FOR LABOR STATISTICS.
|  | ASSOCIATE COMMISSIONER FOR SURVEY METHODS RESEARCH.
|  | ASSOCIATE COMMISSIONER FOR EMPLOYMENT AND UNEMPLOYMENT STATISTICS.
|  | ASSISTANT COMMISSIONER FOR INDUSTRY EMPLOYMENT STATISTICS.
|  | DIRECTOR OF SURVEY PROCESSING.
|  | DIRECTOR OF TECHNOLOGY AND COMPUTING SERVICES.
|  | ASSISTANT COMMISSIONER FOR CURRENT EMPLOYMENT ANALYSIS.
|  | ASSOCIATE COMMISSIONER FOR TECHNOLOGY AND SURVEY PROCESSING.
|  | ASSISTANT COMMISSIONER FOR COMPENSATION LEVELS AND TRENDS.
|  | ASSISTANT COMMISSIONER FOR SAFETY, HEALTH AND WORKING CONDITIONS.
|  | ASSOCIATE COMMISSIONER FOR COMPENSATION AND WORKING CONDITIONS.
|  | ASSISTANT COMMISSIONER FOR INTERNATIONAL PRICES.
|  | ASSOCIATE COMMISSIONER FOR PUBLICATIONS AND SPECIAL STUDIES.
|  | ASSISTANT COMMISSIONER FOR INDUSTRIAL PRICES AND PRICE INDEXES.
|  | ASSISTANT COMMISSIONER FOR CONSUMER PRICES AND PRICES INDEXES.
|  | ASSISTANT COMMISSIONER FOR OCCUPATIONAL STATISTICS AND EMPLOYMENT PROJECTIONS.
|  | ASSISTANT COMMISSIONER FOR REGIONAL OPERATIONS (3).
| EMPLOYEE BENEFITS SECURITY ADMINISTRATION | DIRECTOR OF REGULATIONS AND INTERPRETATIONS. DEPUTY ASSISTANT SECRETARY FOR PROGRAM OPERATIONS.
|  | DIRECTOR OF EXEMPTION DETERMINATIONS.
|  | REGIONAL DIRECTOR—BOSTON.
|  | REGIONAL DIRECTOR—ATLANTA.
|  | REGIONAL DIRECTOR—NEW YORK.
|  | REGIONAL DIRECTOR—KANSAS CITY.
|  | REGIONAL DIRECTOR—SAN FRANCISCO.
|  | DIRECTOR OF ENFORCEMENT.
|  | CHIEF ECONOMIST AND DIRECTOR OF POLICY AND RESEARCH.
|  | DIRECTOR OF HEALTH PLAN STANDARDS COMPLIANCE AND ASSISTANCE.
|  | DIRECTOR, OFFICE OF OUTREACH EDUCATION AND ASSISTANCE.
|  | DIRECTOR OF INFORMATION MANAGEMENT.
|  | CHIEF ACCOUNTANT.
|  | REGIONAL DIRECTOR—PHILADELPHIA.
|  | REGIONAL DIRECTOR—CHICAGO.
|  | REGIONAL DIRECTOR (2).
| EMPLOYMENT AND TRAINING ADMINISTRATION | REGIONAL ADMINISTRATOR (5). ADMINISTRATOR, OFFICE OF JOB CORPS.
|  | REGIONAL ADMINISTRATOR.
|  | ADMINISTRATOR, APPRENTICESHIP AND TRAINING, EMPLOYEE AND LABOR SERVICES.
|  | ADMINISTRATOR, OFFICE OF WORKFORCE SECURITY.
|  | ADMINISTRATOR, OFFICE OF FOREIGN LABOR CERTIFICATION.
|  | DEPUTY ASSISTANT SECRETARY (OPERATIONS AND MANAGEMENT).
|  | ADMINISTRATOR, OFFICE OF CONTRACT MANAGEMENT.
|  | ASSOCIATE ADMINISTRATOR.
|  | COMPTROLLER.
|  | DEPUTY ADMINISTRATOR JOB CORP.
|  | ADMINISTRATOR, OFFICE OF POLICY DEVELOPMENT AND RESEARCH
|  | DEPUTY ADMINISTRATOR.
|  | ADMINISTRATOR, OFFICE OF TRADE ADJUSTMENT ASSISTANCE.
|  | ADMINISTRATOR, OFFICE OF GRANTS MANAGEMENT.
|  | ADMINISTRATOR, OFFICE OF INFORMATION SYSTEMS & TECHNOLOGY.
| MINE SAFETY AND HEALTH ADMINISTRATION | ADMINISTRATOR FOR COAL MINE SAFETY AND HEALTH. DIRECTOR OF ADMINISTRATION AND MANAGEMENT.
|  | DIRECTOR, OFFICE OF ASSESSMENTS, ACCOUNTABILITY, SPECIAL ENFORCEMENT, AND INVESTIGATIONS.
|  | ADMINISTRATOR FOR METAL AND NONMETAL.
|  | DIRECTOR OF TECHNICAL SUPPORT.
|  | DEPUTY ADMINISTRATOR FOR COAL MINE SAFETY AND HEALTH.
|  | DIRECTOR OF PROGRAM EVALUATION AND INFORMATION RESOURCES.
|  | DIRECTOR, EDUCATIONAL POLICY AND DEVELOPMENT.
|  | DEPUTY ASSISTANT SECRETARY.
| OCCUPATIONAL SAFETY AND HEALTH ADMINISTRATION | REGIONAL ADMINISTRATOR—NEW YORK. REGIONAL ADMINISTRATOR—SAN FRANCISCO.
|  | DIRECTOR, OFFICE OF TRAINING AND EDUCATION.
|  | REGIONAL ADMINISTRATOR—SEATTLE.
|  | REGIONAL ADMINISTRATOR—PHILADELPHIA.
|  | REGIONAL ADMINISTRATOR—DALLAS.
|  | DIRECTOR, DIRECTORATE OF COOPERATIVE AND STATE PROGRAMS.
|  | REGIONAL ADMINISTRATOR—ATLANTA.
|  | SAFETY AND HEALTH ADMINISTRATOR—CHICAGO.
|  | DIRECTOR, ADMINISTRATIVE PROGRAMS.
|  | REGIONAL ADMINISTRATOR—BOSTON.
|  | REGIONAL ADMINISTRATOR—DENVER.
|  | DIRECTOR, DIRECTORATE OF ENFORCEMENT PROGRAMS.
|  | DIRECTOR OF CONSTRUCTION.
|  | DEPUTY ASSISTANT SECRETARY.
|  | DIRECTOR, DIRECTORATE OF STANDARDS AND GUIDANCE.
|  | DIRECTOR OF TECHNICAL SUPPORT AND EMERGENCY MANAGEMENT.
| OFFICE OF CHIEF FINANCIAL OFFICER | DEPUTY CHIEF FINANCIAL OFFICER. ASSOCIATE DEPUTY CHIEF FINANCIAL OFFICER FOR FINANCIAL SYSTEMS.
| OFFICE OF DISABILITY EMPLOYMENT POLICY | DEPUTY ASSISTANT SECRETARY FOR OFFICE OF DISABILITY EMPLOYMENT POLICY.
| OFFICE OF FEDERAL CONTRACT COMPLIANCE PROGRAMS | REGIONAL DIRECTOR FOR OFFICE OF FEDERAL CONTRACT COMPLIANCE PROGRAMS (6). ADMINISTRATIVE OFFICER.
| OFFICE OF LABOR—MANAGEMENT STANDARDS | DEPUTY DIRECTOR, OFFICE OF LABOR MANAGEMENT STANDARDS. DIRECTOR, OFFICE OF ENFORCEMENT AND INTERNATIONAL UNION AUDITS.
|  | SENIOR ADVISOR AND DIRECTOR OF REPORTS AND DISCLOSURES.
| OFFICE OF PUBLIC AFFAIRS | SENIOR MANAGING DIRECTOR.
| OFFICE OF THE ASSISTANT SECRETARY FOR ADMINISTRATION AND MANAGEMENT | DIRECTOR, NATIONAL CAPITAL SERVICE CENTER. DEPUTY DIRECTOR OF HUMAN RESOURCES.
|  | DIRECTOR OFFICE OF BUDGET.
|  | DIRECTOR BUSINESS OPERATIONS CENTER.
|  | DIRECTOR OF CIVIL RIGHTS.
|  | DEPUTY ASSISTANT SECRETARY FOR OPERATIONS.
|  | DIRECTOR, PROGRAM PLANNING AND RESULTS CENTER.
|  | DIRECTOR, CUSTOMER SERVICE.
|  | DIRECTOR OF ENTERPRISE SERVICES.
|  | CHIEF PROCUREMENT OFFICER.
|  | CHIEF CYBER SECURITY OFFICER.
| OFFICE OF THE ASSISTANT SECRETARY FOR POLICY | DIRECTOR, OFFICE OF REGULATORY AND PROGRAMMATIC POLICY. DEPUTY ASSISTANT SECRETARY FOR POLICY.
| OFFICE OF THE SOLICITOR | ASSOCIATE SOLICITOR FOR PLAN BENEFITS SECURITY. REGIONAL SOLICITOR—CHICAGO.
|  | ASSOCIATE SOLICITOR FOR OCCUPATIONAL SAFETY AND HEALTH.
|  | ASSOCIATE SOLICITOR FOR MINE SAFETY AND HEALTH.
|  | ASSOCIATE SOLICITOR FOR FAIR LABOR STANDARDS.
|  | REGIONAL SOLICITOR—ATLANTA.
|  | ASSOCIATE SOLICITOR FOR FEDERAL EMPLOYEES' AND ENERGY WORKERS' COMPENSATION.
|  | REGIONAL SOLICITOR—BOSTON.
|  | REGIONAL SOLICITOR—NEW YORK.
|  | REGIONAL SOLICITOR—PHILADELPHIA.
|  | REGIONAL SOLICITOR—DALLAS.
|  | REGIONAL SOLICITOR—SAN FRANCISCO.
|  | DEPUTY SOLICITOR (REGIONAL OPERATIONS).
|  | DEPUTY SOLICITOR (NATIONAL OPERATIONS).
|  | ASSOCIATE SOLICITOR, MANAGEMENT AND ADMINISTRATIVE LEGAL SERVICES DIVISION.
|  | ASSOCIATE SOLICITOR FOR CIVIL RIGHTS AND LABOR MANAGEMENT.
|  | ASSOCIATE SOLICITOR FOR LEGISLATION AND LEGAL COUNSEL.
|  | ASSOCIATE SOLICITOR FOR BLACK LUNG AND LONGSHORE LEGAL SERVICES.
| OFFICE OF WORKERS COMPENSATION PROGRAMS | DIRECTOR FOR FEDERAL EMPLOYEES' COMPENSATION. DEPUTY DIRECTOR FOR OFFICE OF WORKERS' COMPENSATION PROGRAMS.
|  | DIRECTOR, ENERGY EMPLOYEES' OCCUPATIONAL ILLNESS COMPENSATION.
|  | REGIONAL DIRECTOR.
|  | COMPTROLLER.
|  | ADMINISTRATIVE OFFICER.
|  | REGIONAL DIRECTOR—DALLAS.
|  | REGIONAL DIRECTOR (NORTHEAST REGION).
|  | REGIONAL DIRECTOR.
| VETERANS EMPLOYMENT AND TRAINING SERVICE | DEPUTY ASSISTANT SECRETARY FOR OPERATIONS AND MANAGEMENT. DIRECTOR, OFFICE OF FIELD OPERATIONS.
|  | DEPUTY DIRECTOR, OFFICE OF FIELD OPERATIONS.
|  | DIRECTOR OF NATIONAL PROGRAMS.
| WAGE AND HOUR DIVISION | REGIONAL ADMINISTRATOR FOR WAGE AND HOUR (2). ASSISTANT ADMINISTRATOR, OPERATIONS.
|  | ASSISTANT ADMINISTRATOR, OFFICE OF GOVERNMENT CONTRACTS.
|  | DEPUTY ADMINISTRATOR FOR PROGRAM OPERATIONS.
| WOMEN'S BUREAU | DEPUTY DIRECTOR, WOMEN'S BUREAU.
DEPARTMENT OF LABOR OFFICE OF INSPECTOR GENERAL | DEPARTMENT OF LABOR OFFICE OF INSPECTOR GENERAL | DEPUTY INSPECTOR GENERAL ASSISTANT INSPECTOR GENERAL FOR INVESTIGATIONS—LABOR RACKETEERING.
|  | ASSISTANT INSPECTOR GENERAL FOR AUDIT.
|  | COUNSEL TO THE INSPECTOR GENERAL.
|  | ASSISTANT INSPECTOR GENERAL FOR MANAGEMENT AND POLICY.
|  | DEPUTY ASSISTANT INSPECTOR GENERAL FOR AUDIT.
|  | DEPUTY ASSISTANT INSPECTOR GENERAL FOR INVESTIGATIONS—LABOR RACKETEERING.
|  | ASSISTANT INSPECTOR GENERAL FOR INSPECTIONS AND SPECIAL INVESTIGATIONS.
|  | DEPUTY INSPECTOR GENERAL FOR OPERATIONS.
|  | CHIEF PERFORMANCE AND RISK MANAGEMENT OFFICER.
|  | DEPUTY ASSISTANT INSPECTOR GENERAL FOR MANAGEMENT AND POLICY.
|  | DEPUTY ASSISTANT INSPECTOR GENERAL FOR INFORMATION TECHNOLOGY AUDITS.
MERIT SYSTEMS PROTECTION BOARD | ATLANTA REGIONAL OFFICE CENTRAL REGION, CHICAGO REGIONAL OFFICE | REGIONAL DIRECTOR, ATLANTA. REGIONAL DIRECTOR, CHICAGO.
| DALLAS REGIONAL OFFICE | REGIONAL DIRECTOR, DALLAS.
| NORTHEAST REGION, PHILADELPHIA REGIONAL OFFICE | REGIONAL DIRECTOR, PHILADELPHIA.
| OFFICE OF FINANCIAL AND ADMINISTRATIVE MANAGEMENT | DIRECTOR, FINANCIAL AND ADMINISTRATIVE MANAGEMENT.
| OFFICE OF INFORMATION RESOURCES MANAGEMENT | DIRECTOR, INFORMATION RESOURCES MANAGEMENT.
| OFFICE OF POLICY AND EVALUATION | DIRECTOR, OFFICE OF POLICY AND EVALUATION.
| OFFICE OF REGIONAL OPERATIONS | DIRECTOR, OFFICE OF REGIONAL OPERATIONS.
| OFFICE OF THE CLERK OF THE BOARD | CLERK OF THE BOARD.
| WASHINGTON, DC REGION, WASHINGTON REGIONAL OFFICE | REGIONAL DIRECTOR, WASHINGTON, DC.
| WESTERN REGION, SAN FRANCISCO REGIONAL OFFICE | REGIONAL DIRECTOR, SAN FRANCISCO.
NATIONAL AERONAUTICS AND SPACE ADMINISTRATION | AERONAUTICS DIRECTORATE AERONAUTICS RESEARCH MISSION DIRECTORATE | DIRECTOR, AERONAUTICS DIRECTORATE. DIRECTOR OF AIRSPACE OPERATIONS AND SAFETY PROGRAM OFFICE.
|  | DIRECTOR OF TRANSFORMATIVE AERONAUTICS CONCEPTS PROGRAM OFFICE.
|  | DIRECTOR OF ADVANCED AIR VEHICLES PROGRAM OFFICE.
|  | DIRECTOR FOR INTEGRATED AVIATION SYSTEMS PROGRAM.
|  | DIRECTOR, PORTFOLIO ANALYSIS AND MANAGEMENT OFFICE.
|  | DEPUTY ASSOCIATE ADMINISTRATOR FOR STRATEGY.
| AMES RESEARCH CENTER | DEPUTY DIRECTOR AMES RESEARCH CENTER. DIRECTOR OF AERONAUTICS.
|  | DIRECTOR OF SAFETY AND MISSION ASSURANCE.
|  | DEPUTY DIRECTOR OF AERONAUTICS.
|  | CHIEF INFORMATION OFFICER.
|  | DIRECTOR, PARTNERSHIPS.
|  | DIRECTOR OF ENGINEERING.
|  | DIRECTOR, PROGRAMS AND PROJECTS.
|  | PROCUREMENT OFFICER.
|  | DEPUTY DIRECTOR, EXPLORATION TECHNOLOGY.
|  | DIRECTOR, SOLAR SYSTEM EXPLORATION RESEARCH VIRTUAL INSTITUTE.
|  | ASSOCIATE DIRECTOR FOR MISSION SUPPORT.
|  | CHIEF FINANCIAL OFFICER.
|  | DIRECTOR OF CENTER OPERATIONS.
|  | DIRECTOR, EXPLORATION TECHNOLOGY DIRECTORATE.
|  | ASSOCIATE DIRECTOR FOR RESEARCH AND TECHNOLOGY.
|  | HUMAN CAPITAL DIRECTOR.
|  | DIRECTOR, NASA AERONAUTICS AND RESEARCH INSTITUTE.
|  | DIRECTOR, NASA RESEARCH PARK.
|  | PROGRAM MANAGER FOR STRATOSPHERIC OBSERVATORY FOR INFRARED ASTRONOMY.
|  | CHIEF, COMPUTATIONAL SCIENCES DIVISION.
| APPLIED ENGINEERING AND TECHNOLOGY DIRECTORATE | CHIEF, MECHANICAL SYSTEMS DIVISION. DIRECTOR OF APPLIED ENGINEERING AND TECHNOLOGY.
|  | DEPUTY DIRECTOR OF APPLIED ENGINEERING AND TECHNOLOGY.
|  | CHIEF, SOFTWARE ENGINEERING DIVISION.
|  | CHIEF, ELECTRICAL SYSTEMS DIVISION.
|  | DEPUTY DIRECTOR OF APPLIED ENGINEERING AND TECHNOLOGY FOR PLANNING AND BUSINESS MANAGEMENT.
|  | CHIEF, INSTRUMENT SYSTEMS AND TECHNOLOGY DIVISION.
|  | CHIEF, MISSION ENGINEERING AND SYSTEMS ANALYSIS DIVISION.
|  | DEPUTY DIRECTOR FOR TECHNICAL MANAGEMENT.
| ARMSTRONG FLIGHT RESEARCH CENTER | DEPUTY DIRECTOR, ARMSTRONG FLIGHT RESEARCH CENTER. DIRECTOR FOR MISSION SUPPORT.
|  | DIRECTOR FOR RESEARCH AND ENGINEERING.
|  | CHIEF FINANCIAL OFFICER (FINANCIAL MANAGER).
|  | DIRECTOR FOR FLIGHT OPERATIONS.
|  | DIRECTOR FOR SAFETY AND MISSION ASSURANCE.
|  | DIRECTOR FOR PROGRAMS.
|  | DIRECTOR FOR MISSION INFORMATION AND TEST SYSTEMS.
|  | ASSOCIATE CENTER DIRECTOR.
|  | ASSISTANT DIRECTOR FOR STRATEGIC IMPLEMENTATION.
| ASTROBIOLOGY AND SPACE RESEARCH | DIRECTOR OF SCIENCE.
| ASTROPHYSICS DIVISION | DIRECTOR, ASTROPHYSICS DIVISION. DEPUTY, DIRECTOR, ASTROPHYSICS DIVISION.
| CENTER OPERATIONS | DIRECTOR, CENTER OPERATIONS.
| CHIEF OF STAFF | ASSOCIATE ADMINISTRATOR, STRATEGY AND PLANS. DEPUTY CHIEF OF STAFF.
| COMMUNICATIONS AND INTELLIGENT SYSTEMS DIVISION | CHIEF, COMMUNICATIONS AND INTELLIGENT SYSTEMS DIVISION.
| COMPTROLLER | CHIEF FINANCIAL OFFICER/COMPTROLLER. DEPUTY CHIEF FINANCIAL OFFICER.
| DEPUTY DIRECTOR, FACILITIES, TEST AND MANUFACTURING DIRECTORATE | DEPUTY DIRECTOR OF FACILITIES, TEST AND MANUFACTURING DIRECTORATE.
| EARTH SCIENCE DIVISION | DEPUTY DIRECTOR, EARTH SCIENCE. DIRECTOR, EARTH SCIENCE DIVISION.
|  | PROGRAM DIRECTOR FOR FLIGHT PROGRAMS.
|  | PROGRAM DIRECTOR RESEARCH AND ANALYSIS PROGRAM.
| ENGINEERING | DEPUTY DIRECTOR, ENGINEERING. CHIEF, SOFTWARE, ROBOTICS AND SIMULATION DIVISION.
|  | DIRECTOR, ENGINEERING.
|  | CHIEF, PROPULSION AND POWER DIVISION.
|  | ASSOCIATE DIRECTOR FOR COMMERCIAL SPACEFLIGHT.
|  | CHIEF, AEROSCIENCE AND FLIGHT MECHANICS DIVISION.
| EXPLORATION INTEGRATION AND SCIENCE | ASSOCIATE DIRECTOR, EXPLORATION, INTEGRATION AND SCIENCE. DIRECTOR, PERFORMANCE MANAGEMENT INTEGRATION OFFICE.
|  | DIRECTOR, STRATEGIC OPPORTUNITIES AND PARTNERSHIP DEVELOPMENT.
|  | CHIEF, PARTNERSHIPS DEVELOPMENT OFFICE.
|  | DEPUTY DIRECTOR, EXPLORATION INTEGRATION AND SCIENCE.
|  | DIRECTOR, EXPLORATION INTEGRATION AND SCIENCE.
|  | MANAGER, EXTRA VEHICULAR ACTIVITY MANAGEMENT OFFICE.
| FACILITIES, TEST AND MANUFACTURING DIRECTORATE | DIRECTOR, FACILITIES, TEST AND MANUFACTURING DIRECTORATE.
| FLIGHT ASSURANCE | DIRECTOR OF SYSTEMS SAFETY AND MISSION ASSURANCE. DEPUTY DIRECTOR OF SAFETY AND MISSION ASSURANCE.
| FLIGHT OPERATIONS | CHIEF, AIRCRAFT OPERATIONS DIVISION. DIRECTOR, FLIGHT OPERATIONS.
|  | DEPUTY DIRECTOR, FLIGHT OPERATIONS.
|  | STRATEGIC ASSISTANT TO THE DIRECTOR, FLIGHT OPERATIONS.
|  | CHIEF, FLIGHT DIRECTOR OFFICE.
| FLIGHT PROGRAMS AND PARTNERSHIPS OFFICE | MANAGER.
| FLIGHT PROJECTS | DEPUTY DIRECTOR OF FLIGHT PROJECTS. DIRECTOR OF FLIGHT PROJECTS.
|  | ASSOCIATE DIRECTOR FOR ASTROPHYSICS PROJECTS DIVISION.
|  | ASSOCIATE DIRECTOR FOR EXPLORERS AND HELIOPHYSICS PROJECTS DIVISION.
|  | DEPUTY DIRECTOR FOR PLANNING AND BUSINESS MANAGEMENT.
|  | ASSOCIATE DIRECTOR FOR EXPLORATION AND SPACE COMMUNICATIONS PROJECTS DIVISION.
|  | ASSOCIATE DIRECTOR FOR EARTH SCIENCE PROJECTS DIVISION.
|  | ASSOCIATE DIRECTOR FOR EARTH SCIENCE TECHNOLOGY OFFICE.
|  | ASSOCIATE DIRECTOR FOR JOINT POLAR SATELLITE SYSTEM PROGRAM.
|  | ASSOCIATE DIRECTOR FOR SPACE SERVICING CAPABILITIES PROJECT.
|  | DEPUTY ASSOCIATE DIRECTOR OF FLIGHT PROJECTS FOR JOINT POLAR SATELLITE SYSTEM (JPSS) FLIGHT.
|  | ASSOCIATE DIRECTOR OF FLIGHT PROJECTS FOR JAMES WEBB SPACE TELESCOPE (JWST).
|  | ASSOCIATE DIRECTOR OF FLIGHT PROJECTS FOR JAMES WEBB SPACE TELESCOPE.
|  | ASSOCIATE DIRECTOR OF FLIGHT PROJECTS FOR THE INSTRUMENT PROJECTS DIVISION.
| GLENN RESEARCH CENTER | DIRECTOR, SPACE FLIGHT SYSTEMS DIRECTORATE. DIRECTOR, VENTURE AND PARTNERSHIPS.
|  | ASSOCIATE DIRECTOR FOR STRATEGY.
|  | DIRECTOR, SAFETY AND MISSION ASSURANCE DIRECTORATE.
|  | DIRECTOR, OFFICE OF HUMAN CAPITAL MANAGEMENT.
|  | MANAGER, EUROPEAN SERVICE MODULE INTEGRATION OFFICE.
|  | DEPUTY CHIEF, COMMUNICATIONS AND INTELLIGENT SYSTEMS DIVISION.
|  | ASSOCIATE DIRECTOR.
|  | DIRECTOR OF CENTER OPERATIONS.
|  | CHIEF, OFFICE OF ACQUISITION.
|  | PLUM BROOK STATION MANAGER.
|  | DIRECTOR, OFFICE OF TECHNOLOGY INCUBATION AND INNOVATION.
|  | CHIEF FINANCIAL OFFICER.
|  | DEPUTY DIRECTOR, OFFICE OF TECHNOLOGY INCUBATION AND INNOVATION.
| GODDARD SPACE FLIGHT CENTER | DEPUTY DIRECTOR, NATIONAL AERONAUTICS AND SPACE ADMINISTRATION GODDARD SPACE FLIGHT CENTER. ASSOCIATE DIRECTOR.
|  | DEPUTY DIRECTOR FOR TECHNOLOGY AND RESEARCH INVESTMENTS.
|  | ASSISTANT DIRECTOR FOR ADVANCED CONCEPTS.
| HELIOPHYSICS DIVISION | DIRECTOR, HELIOPHYSICS DIVISION. DEPUTY, DIRECTOR, HELIOPHYISCS DIVISION.
| HUMAN EXPLORATION AND OPERATIONS MISSION DIRECTORATE | DIRECTOR, INTERNATIONAL SPACE STATION. DEPUTY ASSOCIATE ADMINISTRATOR FOR SPACE COMMUNICATIONS AND NAVIGATION.
|  | ASSISTANT DEPUTY ASSOCIATE ADMINISTRATOR FOR SPACE COMMUNICATIONS AND NAVIGATION.
|  | DIRECTOR, RESOURCES MANAGEMENT OFFICE.
|  | DIRECTOR, COMMERCIAL SPACEFLIGHT DEVELOPMENT DIVISION.
|  | ASSISTANT ASSOCIATE ADMINISTRATOR FOR HUMAN EXPLORATION CAPABILITY.
|  | DEPUTY ASSOCIATE ADMINISTRATOR FOR POLICY AND PLANS.
|  | DEPUTY ASSOCIATE ADMINISTRATOR FOR EXPLORATION SYSTEMS DEVELOPMENT.
|  | ASSISTANT DEPUTY ASSOCIATE ADMINISTRATOR FOR EXPLORATION SYSTEMS DEVELOPMENT.
|  | DIRECTOR, HUMAN SPACEFLIGHT CAPABILITIES DIVISION.
|  | DIRECTOR, ADVANCED EXPLORATION SYSTEMS.
|  | DIRECTOR, PROGRAM AND STRATEGIC INTEGRATION OFFICE.
|  | DEPUTY ASSOCIATE ADMINISTRATOR FOR HUMAN EXPLORATION AND OPERATIONS.
|  | DIRECTOR, STRATEGIC INTEGRATION AND MANAGEMENT DIVISION.
|  | DIRECTOR, NETWORK SERVICES.
|  | DIRECTOR, HUMAN RESEARCH PROGRAM.
|  | DIRECTOR, LAUNCH SERVICES OFFICE.
|  | MANAGER, ROCKET PROPULSION TEST PROGRAM OFFICE.
|  | DIRECTOR, SPACE LIFE AND PHYSICAL SCIENCES RESEARCH AND APPLICATIONS.
| HUMAN HEALTH AND PERFORMANCE | DIRECTOR, HUMAN HEALTH AND PERFORMANCE. DEPUTY DIRECTOR, HUMAN HEALTH AND PERFORMANCE.
| HUMAN RESOURCES | DIRECTOR OF HUMAN CAPITAL MANAGEMENT.
| INFORMATION RESOURCES | DIRECTOR, INFORMATION RESOURCES.
| INFORMATION TECHNOLOGY | CHIEF INFORMATION OFFICER.
| INFORMATION TECHNOLOGY AND COMMUNICATIONS SERVICES | DIRECTOR, INFORMATION TECHNOLOGY AND COMMUNICATIONS SERVICES.
| JAMES WEBB SPACE TELESCOPE PROGRAM OFFICE | DIRECTOR JAMES WEBB SPACE TELESCOPE PROGRAM.
| JOHNSON SPACE CENTER | SPECIAL ASSISTANT TO THE CENTER DIRECTOR FOR ORGANIZATIONAL CHANGE. CHIEF FINANCIAL OFFICER.
|  | DIRECTOR OF HUMAN RESOURCES.
|  | MANAGER, PROGRAM PLANNING AND CONTROL, MULTI-PURPOSE CREW VEHICLE.
|  | DEPUTY MANAGER, FLIGHT DEVELOPMENT & OPERATIONS, COMMERCIAL CREW PROGRAM.
|  | ASSOCIATE DIRECTOR, JOHNSON SPACE CENTER.
|  | DIRECTOR, EXTERNAL RELATIONS.
|  | DEPUTY DIRECTOR, JOHNSON SPACE CENTER.
| JOINT AGENCY SATELLITE DIVISION | DEPUTY DIRECTOR JOINT AGENCY SATELLITE DIVISION. DIRECTOR, JOINT AGENCY SATELLITE DIVISION.
| KENNEDY SPACE CENTER | DEPUTY DIRECTOR, JOHN F. KENNEDY SPACE CENTER. CHIEF FINANCIAL OFFICER.
|  | DIRECTOR, PROCUREMENT OFFICE.
|  | DEPUTY MANAGER, LAUNCH SERVICES PROGRAM.
|  | ASSOCIATE DIRECTOR, JOHN F, KENNEDY SPACE CENTER.
|  | MANAGER, GROUND SYSTEMS DEVELOPMENT AND OPERATIONS PROGRAM.
|  | DEPUTY MANAGER, GROUND PROCESSING DEVELOPMENT AND OPERATIONS PROGRAM.
|  | DEPUTY DIRECTOR, ENGINEERING.
|  | EXPLORATION SYSTEMS MANAGER, GROUND SYSTEMS DEVELOPMENT AND OPERATIONS PROGRAM.
|  | ASSOCIATE DIRECTOR, ENGINEERING.
|  | DIRECTOR, ENGINEERING.
|  | MANAGER, COMMERCIAL CREW PROGRAM.
|  | KENNEDY SPACE CENTER ASSOCIATE MANAGER, COMMERCIAL CREW PROGRAM.
|  | CHIEF, TECHNICAL PERFORMANCE AND INTEGRATION DIVISION, ENGINEERING.
|  | CHIEF, MECHANICAL DIVISION, ENGINEERING.
|  | CHIEF, LABORATORIES AND TEST FACILITIES DIVISION, ENGINEERING.
|  | CHIEF, ELECTRICAL DIVISION, ENGINEERING.
|  | DEPUTY DIRECTOR, SAFETY AND MISSION ASSURANCE.
| LANGLEY RESEARCH CENTER | DEPUTY DIRECTOR, LANGLEY RESEARCH CENTER. CHIEF FINANCIAL OFFICER.
|  | DIRECTOR, ENGINEERING DIRECTORATE.
|  | DEPUTY DIRECTOR, ENGINEERING DIRECTORATE.
|  | DIRECTOR, RESEARCH DIRECTORATE.
|  | DEPUTY DIRECTOR, RESEARCH DIRECTORATE.
|  | DIRECTOR, CENTER OPERATIONS DIRECTORATE.
|  | DIRECTOR, AERONAUTICS RESEARCH DIRECTORATE.
|  | DIRECTOR, SCIENCE DIRECTORATE.
|  | DIRECTOR, SYSTEMS ANALYSIS AND ADVANCED CONCEPTS DIRECTORATE.
|  | DIRECTOR, RESEARCH SERVICES DIRECTORATE.
|  | DIRECTOR, SAFETY AND MISSION ASSURANCE OFFICE.
|  | DIRECTOR, OFFICE OF PROCUREMENT.
|  | MANAGER, NESC INTEGRATION OFFICE.
|  | SPECIAL ASSISTANT TO THE CENTER DIRECTOR FOR REGIONAL ECONOMIC DEVELOPMENT.
|  | DIRECTOR, NATIONAL AERONAUTICS AND SPACE ADMINISTRATION ENGINEERING AND SAFETY CENTER.
|  | DEPUTY DIRECTOR, NATIONAL AERONAUTICS AND SPACE ADMINISTRATION ENGINEERING AND SAFETY CENTER.
|  | MANAGER, MANAGEMENT AND TECHNICAL SUPPORT OFFICE.
|  | DIRECTOR, OFFICE OF HUMAN CAPITAL MANAGEMENT.
|  | DEPUTY DIRECTOR FOR INTELLIGENT FLIGHT SYSTEMS.
|  | CHIEF INFORMATION OFFICER.
|  | ASSOCIATE DIRECTOR, LANGLEY RESEARCH CENTER.
|  | DIRECTOR, OFFICE OF STRATEGIC ANALYSIS, COMMUNICATIONS, AND BUSINESS DEVELOPMENT.
|  | SENIOR ADVISOR FOR TECHNOLOGY AND STRATEGY.
|  | DEPUTY DIRECTOR FOR TECHNICAL CAPABILITIES.
|  | DIRECTOR, FLIGHT PROJECTS DIRECTORATE.
|  | DIRECTOR, SPACE TECHNOLOGY AND EXPLORATION DIRECTORATE.
|  | DIRECTOR, EARTH SYSTEM SCIENCE PATHFINDER PROGRAM OFFICE.
|  | DEPUTY DIRECTOR FOR SAFETY.
|  | SENIOR ADVISOR FOR ENGINEERING DEVELOPMENT.
|  | DEPUTY DIRECTOR FOR AEROSCIENCES.
|  | DIRECTOR, OFFICE OF STRATEGIC ANALYSIS, COMMUNICATIONS, AND BUSINESS DEVELOPMENT.
| LAUNCH SERVICES PROGRAM | MANAGER, LAUNCH SERVICES PROGRAM.
| MANAGEMENT OPERATIONS | DIRECTOR OF MANAGEMENT OPERATIONS. DEPUTY DIRECTOR OF MANAGEMENT OPERATIONS.
|  | ASSOCIATE DIRECTOR FOR ACQUISITION.
| MARSHALL SPACE FLIGHT CENTER | DIRECTOR, OFFICE OF PROCUREMENT. DIRECTOR, SAFETY & MISSION ASSURANCE DIRECTORATE.
|  | ASSOCIATE CENTER DIRECTOR.
|  | DEPUTY DIRECTOR, OFFICE OF CENTER OPERATIONS.
|  | DIRECTOR, ENGINEERING DIRECTORATE.
|  | DEPUTY DIRECTOR, SAFETY & MISSION ASSURANCE DIRECTORATE.
|  | DIRECTOR, OFFICE OF HUMAN CAPITAL.
|  | DIRECTOR, OFFICE OF THE CHIEF INFORMATION OFFICER.
|  | DEPUTY DIRECTOR, ENGINEERING DIRECTORATE.
|  | DIRECTOR, SPACECRAFT & VEHICLE SYSTEMS DEPT, ENGINEERING DIRECTORATE.
|  | DIRECTOR, TEST LABORATORY, ENGINEERING DIRECTORATE.
|  | DEPUTY DIRECTOR, SPACECRAFT & VEHICLE SYSTEMS DEPT, ENGINEERING DIRECTORATE.
|  | DIRECTOR, MATERIALS & PROCESSES LAB, ENGINEERING DIRECTORATE.
|  | DIRECTOR, PROPULSION SYSTEMS DEPT, ENGINEERING DIRECTORATE.
|  | DIRECTOR, SPACE SYSTEMS DEPT, ENGINEERING DIRECTORATE.
|  | SPECIAL ASSISTANT TO THE DIRECTOR, OFFICE OF HUMAN CAPITAL.
|  | DEPUTY DIRECTOR, SPACE SYSTEMS DEPT, ENGINEERING DIRECTORATE.
|  | DEPUTY DIRECTOR, PROPULSION SYSTEMS DEPT, ENGINEERING DIRECTORATE.
|  | DIRECTOR, OFFICE OF CENTER OPERATIONS.
|  | DIRECTOR, OFFICE OF STRATEGIC ANALYSIS & COMMUNICATIONS.
|  | DEPUTY MANAGER, CHIEF ENGINEERS OFFICE, ENGINEERING DIRECTORATE.
|  | DIRECTOR, MICHOUD ASSEMBLY FACILITY.
|  | ASSOCIATE DIRECTOR FOR OPERATIONS, ENGINEERING DIRECTORATE.
|  | ASSOCIATE DIRECTOR FOR TECHNICAL OPERATIONS, ENGINEERING DIRECTORATE.
|  | ASSOCIATE CENTER DIRECTOR, TECHNICAL.
|  | SR EXECUTIVE FOR TECHNOLOGY & INTEGRATION, OFFICE OF THE DEPUTY CENTER DIRECTOR.
|  | DEPUTY CENTER DIRECTOR.
|  | DEPUTY DIRECTOR, MICHOUD ASSEMBLY FACILITY.
|  | SPACE LAUNCH SYSTEM CHIEF SAFETY OFFICER, SAFETY & MISSION ASSURANCE DIRECTORATE.
|  | DEPUTY CHIEF ENGINEER, SPACE LAUNCH SYSTEM, ENGINEERING DIRECTORATE.
|  | MANAGER, ENGINES OFFICE, SPACE LAUNCH SYSTEM PROGRAM OFFICE.
|  | MANAGER, STAGES OFFICE, SPACE LAUNCH SYSTEM PROGRAM OFFICE.
|  | CHIEF ENGINEER, SPACE LAUNCH SYSTEM, ENGINEERING DIRECTORATE.
|  | MANAGER, SPACE LAUNCH SYSTEM PROGRAM OFFICE.
|  | MANAGER, BOOSTERS OFFICE, SPACE LAUNCH SYSTEM PROGRAM OFFICE.
|  | DEPUTY MANAGER, SPACE LAUNCH SYSTEM PROGRAM OFFICE.
|  | ASSOCIATE PROGRAM MANAGER, SPACE LAUNCH SYSTEM PROGRAM OFFICE.
|  | MANAGER, PROGRAM PLANNING & CONTROL OFFICE, SPACE LAUNCH SYSTEM PROGRAM OFFICE.
|  | MANAGER, OFFICE OF THE CHIEF FINANCIAL OFFICER.
|  | MANAGER, CHIEF ENGINEER&#39;S OFFICE, ENGINEERING DIRECTORATE.
|  | CHIEF ENGINEER, EXPLORATION SYSTEMS DEVELOPMENT, OFFICE OF THE CENTER DEPUTY DIRECTOR.
|  | DEPUTY DIRECTOR, ENTERPRISE INTEGRATION OFFICE, OFFICE OF THE CHIEF INFORMATION OFFICER.
|  | MANAGER, AGENCY APPLICATIONS OFFICE, OFFICE OF THE CHIEF INFORMATION OFFICER.
|  | CENTER DIRECTOR.
| MATERIALS AND STRUCTURES DIVISION | CHIEF, MATERIALS AND STRUCTURES DIVISION.
| MISSION SUPPORT DIRECTORATE | DEPUTY ASSOCIATE ADMINISTRATOR FOR MISSION SUPPORT. ASSISTANT ASSOCIATE ADMINISTRATOR FOR RESOURCES AND PERFORMANCE.
|  | BUSINESS SERVICES ASSESSMENT (BSA) IMPLEMENTATION MANAGER.
| NASA MANAGEMENT OFFICE | DIRECTOR NASA MANAGEMENT OFFICE.
| NASA SAFETY CENTER | DIRECTOR, TECHNICAL EXCELLENCE. DIRECTOR, AUDITS AND ASSESSMENTS.
| NASA SHARED SERVICES CENTER | DIRECTOR, BUSINESS AND ADMINISTRATION. DIRECTOR, SUPPORT OPERATIONS DIRECTORATE.
|  | EXECUTIVE DIRECTOR OF NASA SHARED SERVICES CENTER.
| NATIONAL AERONAUTICS AND SPACE ADMINISTRATION | DIRECTOR, PARTNERSHIPS. DEPUTY DIRECTOR FOR SCIENCE.
|  | DIRECTOR, SPACEPORT INTEGRATION AND SERVICES.
|  | DIRECTOR, EXPLORATION RESEARCH AND TECHNOLOGY PROGRAMS.
|  | DIRECTOR, COMMUNICATION AND PUBLIC ENGAGEMENT.
|  | DIRECTOR, HUMAN RESOURCES.
| OFFICE INTERNATIONAL AND INTERAGENCY RELATIONS | DIRECTOR, AERONAUTICS AND CROSS AGENCY SUPPORT DIVISION.
| OFFICE INTERNATIONAL AND INTERAGENCY RELATIONS | DEPUTY DIRECTOR, EXPORT CONTROL AND INTERAGENCY LIAISON DIVISION. DIRECTOR, EXPORT CONTROL AND INTERAGENCY LIAISON DIVISION.
|  | DIRECTOR, ADVISORY COMMITTEE MANAGEMENT DIVISION.
|  | DEPUTY ASSOCIATE ADMINISTRATOR FOR INTERNATIONAL AND INTERAGENCY RELATIONS.
|  | DIRECTOR, HUMAN EXPLORATION AND OPERATIONS DIVISION.
| OFFICE OF CHIEF HEALTH AND MEDICAL OFFICER | CHIEF HEALTH AND MEDICAL OFFICER. DEPUTY CHIEF HEALTH AND MEDICAL OFFICER.
| OFFICE OF DIVERSITY AND EQUAL OPPORTUNITY | DIRECTOR, PROGRAMS, PLANNING AND EVALUATION DIVISION. DIRECTOR, COMPLAINTS MANAGEMENT DIVISION.
| OFFICE OF EDUCATION | DEPUTY ASSOCIATE ADMINISTRATOR FOR EDUCATION. INFORMATION TECHNOLOGY MANAGER.
| OFFICE OF EVALUATION | DIRECTOR, COST ANALYSIS DIVISION.
| OFFICE OF HEADQUARTERS OPERATIONS | DIRECTOR, HUMAN RESOURCE MANAGEMENT DIVISION. DIRECTOR, HEADQUARTERS INFORMATION TECHNOLOGY AND COMMUNICATIONS DIVISION.
|  | DIRECTOR, BUDGET MANAGEMENT AND SYSTEMS SUPPORT.
|  | EXECUTIVE DIRECTOR, HEADQUARTERS OPERATIONS.
| OFFICE OF HUMAN CAPITAL MANAGEMENT | ASSISTANT ADMINISTRATOR FOR HUMAN CAPITAL MANAGEMENT. DIRECTOR, WORKFORCE STRATEGY DIVISION.
|  | DEPUTY ASSISTANT ADMINISTRATOR FOR HUMAN CAPITAL MANAGEMENT.
|  | DIRECTOR, WORKFORCE MANAGEMENT AND DEVELOPMENT DIVISION.
|  | SPECIAL ASSISTANT TO THE CHIEF HUMAN CAPITAL OFFICER.
| OFFICE OF LEGISLATIVE AND INTERGOVERNMENTAL AFFAIRS | DEPUTY ASSOCIATE ADMINISTRATOR FOR LEGISLATIVE AND INTERGOVERNMENTAL AFFAIRS.
| OFFICE OF PROCUREMENT | DIRECTOR, CONTRACT MANAGEMENT DIVISION. DIRECTOR, ANALYSIS DIVISION.
|  | ASSISTANT ADMINISTRATOR FOR PROCUREMENT.
|  | DIRECTOR, OFFICE OF PROCUREMENT.
| OFFICE OF PROGRAM ANALYSIS AND EVALUATION | DIRECTOR, INDEPENDENT PROGRAM ASSESSMENT OFFICE.
| OFFICE OF PROTECTIVE SERVICES | ASSISTANT ADMINISTRATOR FOR PROTECTIVE SERVICES. DEPUTY ASSISTANT ADMINISTRATOR FOR PROTECTIVE SERVICES.
|  | DIRECTOR OF COUNTERINTELLIGENCE/COUNTERTERRORISM FOR PROTECTIVE SERVICES.
| OFFICE OF SAFETY AND MISSION ASSURANCE | CHIEF SAFETY AND MISSION ASSURANCE OFFICER. DEPUTY CHIEF SAFETY AND MISSION ASSURANCE OFFICER.
|  | DIRECTOR, NASA SAFETY CENTER.
|  | DIRECTOR, MISSION SUPPORT DIVISION.
|  | DIRECTOR, INDEPENDENT VERIFICATION AND VALIDATION PROGRAM.
|  | DIRECTOR, SAFETY AND ASSURANCE REQUIREMENTS DIVISION.
| OFFICE OF STRATEGIC INFRASTRUCTURE | DEPUTY ASSISTANT ADMINISTRATOR FOR POLICY. ASSISTANT ADMINISTRATOR FOR INFRASTRUCTURE AND ADMINISTRATION.
|  | DIRECTOR, FACILITIES AND REAL ESTATE.
|  | DEPUTY ASSISTANT ADMINISTRATOR FOR STRATEGIC INFRASTRUCTURE.
|  | DIRECTOR, SPACE ENVIRONMENTS TESTING MANAGEMENT OFFICE (SETMO).
| OFFICE OF THE ADMINISTRATOR | ASSOCIATE ADMINISTRATOR. DEPUTY ASSOCIATE ADMINISTRATOR.
|  | ASTEROID REDIRECT MISSION, PROGRAM DIRECTOR.
| OFFICE OF THE CHIEF ENGINEER | DEPUTY FOR MANAGEMENT. DEPUTY CHIEF ENGINEER.
|  | CHIEF ENGINEER.
|  | HUMAN EXPLORATION AND OPERATIONS MISSION DIRECTORATE CHIEF ENGINEER.
|  | DEPUTY CHIEF ENGINEER FOR ENGINEERING INTEGRATION.
| OFFICE OF THE CHIEF FINANCIAL OFFICER/COMPTROLLER | DEPUTY CHIEF FINANCIAL OFFICER (FINANCE). DIRECTOR, BUDGET DIVISION.
|  | DIRECTOR, STRATEGIC INVESTMENT DIVISION.
|  | DIRECTOR, FINANCIAL MANAGEMENT DIVISION.
|  | DIRECTOR, QUALITY ASSURANCE.
|  | DIRECTOR, FINANCIAL AND BUDGET SYSTEMS MANAGEMENT DIVISION.
|  | DIRECTOR, POLICY DIVISION.
|  | DEPUTY CHIEF FINANCIAL OFFICER (STRATEGY AND PERFORMANCE).
|  | ASSOCIATE DEPUTY CHIEF FINANCIAL OFFICER (FINANCE).
|  | DEPUTY CHIEF FINANCIAL OFFICER (APPROPRIATIONS).
|  | DEPUTY CHIEF FINANCIAL OFFICER FOR INTEGRATION.
| OFFICE OF THE CHIEF INFORMATION OFFICER | CHIEF INFORMATION OFFICER. DEPUTY CIO FOR IT SECURITY.
|  | DEPUTY CHIEF INFORMATION OFFICER.
|  | ASSOCIATE CHIEF INFORMATION OFFICER FOR TECHNOLOGY AND INNOVATION, CHIEF TECHNOLOGY OFFICER.
|  | ASSOCIATE CHIEF INFORMATION OFFICER FOR ENTERPRISE SERVICE AND INTEGRATION DIVISION.
|  | ASSOCIATE CHIEF INFORMATION OFFICER FOR CAPITAL PLANNING AND GOVERNANCE.
| OFFICE OF THE CHIEF SCIENTIST | ASSOCIATE CHIEF SCIENTIST FOR LIFE AND MICROGRAVITY SCIENCES. DEPUTY CHIEF SCIENTIST.
|  | CHIEF SCIENTIST.
| OFFICE OF THE CHIEF TECHNOLOGIST | DEPUTY CHIEF TECHNOLOGIST.
| ORION PROGRAM | MANAGER, ORION PROGRAM. DEPUTY MANAGER, ORION PROGRAM.
|  | MANAGER, VEHICLE INTEGRATION OFFICE.
|  | MANAGER, AVIONICS, POWER AND SOFTWARE OFFICE.
|  | MANAGER, CREW AND SERVICE MODULE OFFICE.
| PLANETARY SCIENCE DIVISION | MARS EXPLORATION PROGRAM DIRECTOR. DEPUTY DIRECTOR, PLANETARY SCIENCE DIVISION.
|  | DIRECTOR, PLANETARY SCIENCE DIVISION.
| PROPULSION DIVISION | CHIEF, PROPULSION DIVISION. DEPUTY CHIEF, PROPULSION DIVISION.
| RESEARCH AND ENGINEERING DIRECTORATE | DEPUTY CHIEF, POWER DIVISION. CHIEF, POWER DIVISION.
|  | DIRECTOR, RESEARCH AND ENGINEERING DIRECTORATE.
|  | DEPUTY DIRECTOR, RESEARCH AND ENGINEERING DIRECTORATE.
|  | CHIEF, CHIEF ENGINEER OFFICE.
| RESOURCES MANAGEMENT DIVISION | DIRECTOR, RESOURCES MANAGEMENT DIVISION. DEPUTY ASSOCIATE ADMINISTRATOR FOR MANAGEMENT.
| SAFETY AND MISSION ASSURANCE | DIRECTOR, SAFETY AND MISSION ASSURANCE. ASSISTANT TO THE DIRECTOR, SAFETY AND MISSION ASSURANCE.
|  | DEPUTY DIRECTOR, SAFETY AND MISSION ASSURANCE.
|  | DIRECTOR, SAFETY AND MISSION ASSURANCE.
| SCIENCE MISSION DIRECTORATE | DEPUTY DIRECTOR, FOR PROGRAMS, EARTH SCIENCE DIVISION. DIRECTOR, SCIENCE ENGAGEMENT AND PARTNERSHIPS.
|  | DEPUTY DIRECTOR, EARTH SCIENCE DIVISION.
|  | SPECIAL ASSISTANT.
|  | DEPUTY ASSOCIATE ADMINISTRATOR FOR MANAGEMENT.
|  | DEPUTY ASSOCIATE ADMINISTRATOR FOR THE SCIENCE MISSION DIRECTORATE.
|  | DEPUTY ASSOCIATE ADMINISTRATOR FOR RESEARCH.
|  | DEPUTY ASSISTANT ADMINISTRATOR FOR RESEARCH.
|  | DEPUTY ASSOCIATE ADMINISTRATOR FOR PROGRAMS.
| SCIENCES AND EXPLORATION | DIRECTOR, SOLAR SYSTEM EXPLORATION DIVISION. DIRECTOR OF SCIENCES AND EXPLORATION.
|  | CHIEF, GODDARD INSTITUTE FOR SPACE STUDIES.
|  | DIRECTOR, ASTROPHYSICS SCIENCE DIVISION.
|  | DEPUTY DIRECTOR OF SCIENCES AND EXPLORATION.
|  | DIRECTOR, EARTH SCIENCES DIVISION.
|  | DIRECTOR, HELIOPHYSICS SCIENCE DIVISION.
|  | DEPUTY DIRECTOR FOR INSTITUTIONS, PROGRAMS, AND BUSINESS MANAGEMENT.
| SPACE FLIGHT SYSTEMS DIRECTORATE | DEPUTY DIRECTOR, SPACE FLIGHT SYSTEMS.
| SPACE LAUNCH SYSTEM PROGRAM OFFICE | MANAGER, SPACECRAFT/PAYLOAD INTEGRATION AND EVOLUTION OFFICE.
| SPACE STATION PROGRAM OFFICE | MANAGER, VEHICLE OFFICE. MANAGER, OPERATIONS INTEGRATION.
|  | MANAGER, PROGRAM PROJECTS INTEGRATION.
|  | DEPUTY MANAGER FOR UTILIZATION.
|  | MANAGER, INTERNATIONAL SPACE STATION TRANSPORTATION INTEGRATION.
|  | MANAGER, PROGRAM PLANNING AND CONTROL OFFICE, INTERNATIONAL SPACE STATION.
|  | MANAGER, INTERNATIONAL SPACE STATION PROGRAM.
|  | DEPUTY MANAGER, INTERNATIONAL SPACE STATION PROGRAM.
|  | MANAGER, AVIONICS AND SOFTWARE OFFICE.
|  | MANAGER, INTERNATIONAL SPACE STATION RESEARCH INTEGRATION OFFICE.
| SPACE TECHNOLOGY MISSION DIRECTORATE | DEPUTY ASSOCIATE ADMINISTRATOR FOR PROGRAMS. DEPUTY ASSOCIATE ADMINISTRATOR FOR MANAGEMENT.
|  | DEPUTY ASSOCIATE ADMINISTRATOR.
| STENNIS SPACE CENTER | CHIEF FINANCIAL OFFICER. DIRECTOR, CENTER OPERATIONS DIRECTORATE.
|  | DEPUTY DIRECTOR, STENNIS SPACE CENTER.
|  | ASSOCIATE DIRECTOR.
|  | DIRECTOR, ENGINEERING AND SCIENCE DIRECTORATE.
|  | DIRECTOR, OFFICE OF SAFETY AND MISSION ASSURANCE.
|  | DEPUTY DIRECTOR, ENGINEERING AND TEST DIRECTORATE.
| STRATEGIC INTEGRATION AND MANAGEMENT DIVISION | DIRECTOR, STRATEGIC INTEGRATION AND MANAGEMENT DIVISION.
| SUBORBITAL PROJECTS AND OPERATIONS | DIRECTOR OF WALLOPS FLIGHT FACILITY. SPECIAL ASSISTANT FOR PROJECT MANAGEMENT TRAINING.
| SYSTEMS ENGINEERING AND ARCHITECTURE DIVISION | CHIEF, SYSTEMS ENGINEERING AND ARCHITECTURE DIVISION.
|  | DEPUTY CHIEF, SYSTEMS ENGINEERING AND ARCHITECTURE DIVISION.
| WHITE SANDS TEST FACILITY | MANAGER, WHITE SANDS TEST FACILITY.
NATIONAL AERONAUTICS AND SPACE ADMINISTRATION OFFICE OF THE INSPECTOR GENERAL |  | DEPUTY INSPECTOR GENERAL. ASSISTANT INSPECTOR GENERAL FOR INVESTIGATIONS. ASSISTANT INSPECTOR GENERAL FOR AUDITING.
|  | ASSISTANT INSPECTOR GENERAL FOR MANAGEMENT AND PLANNING.
|  | COUNSEL TO THE INSPECTOR GENERAL.
NATIONAL ARCHIVES AND RECORDS ADMINISTRATION | AGENCY SERVICES | DIRECTOR, INFORMATION SECURITY OVERSIGHT OFFICE. DIRECTOR, RECORDS CENTER PROGRAMS.
|  | DIRECTOR, OFFICE OF GOVERNMENT INFORMATION SERVICES.
|  | DIRECTOR, NATIONAL DECLASSIFICATION CENTER.
|  | AGENCY SERVICES EXECUTIVE.
|  | CHIEF RECORDS OFFICER.
|  | DIRECTOR, NATIONAL PERSONNEL RECORDS CENTER.
| ARCHIVIST OF UNITED STATES AND DEPUTY ARCHIVIST OF THE UNITED STATES | DEPUTY ARCHIVIST OF THE UNITED STATES.
| BUSINESS SUPPORT SERVICES | CHIEF FINANCIAL OFFICER. BUSINESS SUPPORT SERVICES EXECUTIVE.
| CONGRESSIONAL AFFAIRS STAFF | DIRECTOR, CONGRESSIONAL AND LEGISLATIVE AFFAIRS.
| GENERAL COUNSEL | GENERAL COUNSEL.
| INFORMATION SERVICES | INFORMATION SERVICES EXECUTIVE/CHIEF INFORMATION OFFICER. CHIEF TECHNOLOGY OFFICER.
| LEGISLATIVE ARCHIVES, PRESIDENTIAL LIBRARIES AND MUSEUM SERVICES | LEGISLATIVE ARCHIVES, PRESIDENTIAL LIBRARIES AND MUSEUM SERVICES EXECUTIVE.
| OFFICE OF HUMAN CAPITAL | CHIEF HUMAN CAPITAL OFFICER.
| OFFICE OF INNOVATION | CHIEF INNOVATION OFFICER.
| OFFICE OF PRESIDENTIAL LIBRARIES | DEPUTY FOR PRESIDENTIAL LIBRARIES.
| OFFICE OF THE CHIEF OF MANAGEMENT AND ADMINISTRATION | CHIEF ACQUISITION OFFICER.
|  | CHIEF OF MANAGEMENT AND ADMINISTRATION.
| OFFICE OF THE CHIEF OF STAFF | CHIEF OF STAFF.
| OFFICE OF THE CHIEF OPERATING OFFICER | CHIEF OPERATING OFFICER.
| OFFICE OF THE FEDERAL REGISTER | DIRECTOR OF THE FEDERAL REGISTER.
| RESEARCH SERVICES | DIRECTOR, PRESERVATION PROGRAMS.
|  | RESEARCH SERVICES EXECUTIVE.
NATIONAL ARCHIVES AND RECORDS ADMINISTRATION OFFICE OF THE INSPECTOR GENERAL |  | INSPECTOR GENERAL. ASSISTANT INSPECTOR GENERAL FOR AUDITING. ASSISTANT INSPECTOR GENERAL FOR INVESTIGATIONS.
NATIONAL CAPITAL PLANNING COMMISSION | NATIONAL CAPITAL PLANNING COMMISSION STAFF | EXECUTIVE DIRECTOR. GENERAL COUNSEL.
|  | CHIEF OPERATING OFFICER.
|  | DEPUTY EXECUTIVE DIRECTOR.
NATIONAL ENDOWMENT FOR THE ARTS |  | DEPUTY CHAIRMAN FOR MANAGEMENT AND BUDGET. DIRECTOR, RESEARCH AND ANALYSIS.
|  | DEPUTY CHAIRMAN FOR PROGRAMS AND PARTNERSHIPS.
|  | CHIEF INFORMATION OFFICER.
NATIONAL ENDOWMENT FOR THE ARTS OFFICE OF THE INSPECTOR GENERAL |  | INSPECTOR GENERAL.
NATIONAL ENDOWMENT FOR THE HUMANITIES |  | ASSISTANT CHAIRMAN FOR PLANNING AND OPERATIONS.
NATIONAL LABOR RELATIONS BOARD | DIVISION OF ADMINISTRATION | DIRECTOR, DIVISION OF ADMINISTRATION. DIRECTOR OF ADMINISTRATION.
| DIVISION OF ADVICE | ASSOCIATE GENERAL COUNSEL, DIVISION OF LEGAL COUNSEL. DEPUTY ASSOCIATE GENERAL COUNSEL, DIVISION OF ADVICE.
| DIVISION OF ENFORCEMENT LITIGATION | DEPUTY ASSOCIATE GENERAL COUNSEL, APPELLATE COURT BRANCH. DIRECTOR, OFFICE OF APPEALS.
| DIVISION OF OPERATIONS MANAGEMENT | ASSOCIATE GENERAL COUNSEL, DIVISION OF OPERATION-MANAGEMENT. DEPUTY ASSOCIATE GENERAL COUNSEL, DIVISION OF OPERATIONS-MANAGEMENT.
|  | ASSISTANT TO GENERAL COUNSEL (2).
|  | ASSISTANT GENERAL COUNSEL (2).
| NATIONAL LABOR RELATIONS BOARD | DEPUTY ASSOCIATE GENERAL COUNSEL, DIVISION OF ENFORCEMENT LITIGATION.
| OFFICE OF THE BOARD MEMBERS | EXECUTIVE SECRETARY. DEPUTY EXECUTIVE SECRETARY.
|  | REGIONAL DIRECTOR, REGION 12, TAMPA, FLORIDA.
|  | INSPECTOR GENERAL.
|  | CHIEF INFORMATION OFFICER.
| OFFICE OF THE GENERAL COUNSEL | ASSOCIATE GENERAL COUNSEL, DESIGNATED AGENCY ETHICS OFFICIAL.
| REGIONAL OFFICES | REGIONAL DIRECTOR, REGION 27, DENVER, COLORADO. REGIONAL DIRECTOR REGION 2, NEW YORK.
|  | REGIONAL DIRECTOR, REGION 3, BUFFALO, NEW YORK.
|  | REGIONAL DIRECTOR, REGION 4, PHILADELPHIA, PENNSYLVANIA.
|  | REGIONAL DIRECTOR, REGION 5, BALTIMORE, MARYLAND.
|  | REGIONAL DIRECTOR, REGION 6, PITTSBURGH, PENNSYLVANIA.
|  | REGIONAL DIRECTOR, REGION 7, DETROIT, MICHIGAN.
|  | REGIONAL DIRECTOR, REGION 8, CLEVELAND, OHIO.
|  | REGIONAL DIRECTOR, REGION 9, CINCINNATI, OHIO.
|  | REGIONAL DIRECTOR, REGION 10, ATLANTA, GEORGIA.
|  | REGIONAL DIRECTOR, REGION 11, WINSTON SALEM, NORTH CAROLINA.
|  | REGIONAL DIRECTOR, REGION 13, CHICAGO, ILLINOIS.
|  | REGIONAL DIRECTOR, REGION 14, SAINT LOUIS, MISSOURI.
|  | REGIONAL DIRECTOR, REGION 15, NEW ORLEANS, LOUISIANA.
|  | REGIONAL DIRECTOR, REGION 16, FORT WORTH, TEXAS.
|  | REGIONAL DIRECTOR, REGION 17, KANSAS CITY, KANSAS.
|  | REGIONAL DIRECTOR, REGION 18, MINNEAPOLIS, MINNESOTA.
|  | REGIONAL DIRECTOR, REGION 19, SEATTLE, WASHINGTON.
|  | REGIONAL DIRECTOR, REGION 20, SAN FRANCISCO, CALIFORNIA.
|  | REGIONAL DIRECTOR, REGION 21, LOS ANGELES, CALIFORNIA.
|  | REGIONAL DIRECTOR, REGION 22, NEWARK, NEW JERSEY.
|  | REGIONAL DIRECTOR, REGION 24, HATO REY, PUERTO RICO.
|  | REGIONAL DIRECTOR, REGION 25, INDIANAPOLIS, INDIANA.
|  | REGIONAL DIRECTOR, REGION 26, MEMPHIS, TENNESSEE.
|  | REGIONAL DIRECTOR, REGION 1, BOSTON, MASSACHUSETTS.
|  | REGIONAL DIRECTOR, REGION 28, PHOENIX, ARIZONA.
|  | REGIONAL DIRECTOR, REGION 29, BROOKLYN, NEW YORK.
|  | REGIONAL DIRECTOR, REGION 30, MILWAUKEE, WISCONSIN.
|  | REGIONAL DIRECTOR, REGION 32, OAKLAND, CALIFORNIA.
|  | REGIONAL DIRECTOR, REGION 31, LOS ANGELES, CALIFORNIA.
|  | REGIONAL DIRECTOR, REGION 34, HARTFORD, CONNECTICUT.
NATIONAL SCIENCE FOUNDATION | BUDGET DIVISION | DIVISION DIRECTOR. DEPUTY DIRECTOR.
| DIRECTORATE FOR BIOLOGICAL SCIENCES | DEPUTY ASSISTANT DIRECTOR.
| DIRECTORATE FOR COMPUTER AND INFORMATION SCIENCE AND ENGINEERING | DEPUTY ASSISTANT DIRECTOR (2).
| DIRECTORATE FOR GEOSCIENCES | DEPUTY ASSISTANT DIRECTOR. SENIOR ADVISOR.
| DIRECTORATE FOR MATHEMATICAL AND PHYSICAL SCIENCES | DEPUTY ASSISTANT DIRECTOR (2).
| DIRECTORATE FOR SOCIAL, BEHAVIORAL AND ECONOMIC SCIENCES | DEPUTY ASSISTANT DIRECTOR.
| DIVISION OF ACQUISITION AND COOPERATIVE SUPPORT | DIVISION DIRECTOR.
| DIVISION OF ADMINISTRATIVE SERVICES | DIVISION DIRECTOR. DEPUTY DIVISION DIRECTOR.
|  | DIVISION DIRECTOR.
| DIVISION OF ASTRONOMICAL SCIENCES | DEPUTY DIVISION DIRECTOR.
| DIVISION OF ATMOSPHERIC AND GEOSPACE SCIENCES | SECTION HEAD NCAR/FACILITIES SECTION.
| DIVISION OF EARTH SCIENCES | SECTION HEAD, INTEGRATED ACTIVITIES SECTION.
| DIVISION OF ENGINEERING EDUCATION AND CENTERS | DEPUTY DIVISION DIRECTOR.
| DIVISION OF FINANCIAL MANAGEMENT | DIVISION DIRECTOR AND DEPUTY CHIEF FINANCIAL OFFICER. DEPUTY DIVISION DIRECTOR, DIVISION OF FINANCIAL MANAGEMENT.
|  | DEPUTY CHIEF FINANCIAL OFFICER AND DIVISION DIRECTOR.
|  | CONTROLLER AND DEPUTY DIVISION DIRECTOR.
| DIVISION OF GRANTS AND AGREEMENTS | DIVISION DIRECTOR (2).
| DIVISION OF HUMAN RESOURCE MANAGEMENT | DIVISION DIRECTOR (2).
| DIVISION OF INDUSTRIAL INNOVATION AND PARTNERSHIPS | DEPUTY DIVISION DIRECTOR.
| DIVISION OF INFORMATION SYSTEMS | DEPUTY DIVISION DIRECTOR (2).
| DIVISION OF INSTITUTIONAL AND AWARD SUPPORT | DIVISION DIRECTOR.
| DIVISION OF INSTITUTIONAL AND AWARD SUPPORT | DEPUTY DIVISION DIRECTOR.
| DIVISION OF MATERIALS RESEARCH | DEPUTY DIVISION DIRECTOR.
| DIVISION OF OCEAN SCIENCES | SECTION HEAD, INTEGRATIVE PROGRAMS SECTION.
| NATIONAL CENTER FOR SCIENCE AND ENGINEERING STATISTICS | DIVISION DIRECTOR.
| OFFICE OF BUDGET, FINANCE AND AWARD MANAGEMENT | CHIEF FINANCIAL OFFICER AND HEAD, OFFICE OF BUDGET, FINANCE AND AWARD MANAGEMENT. DEPUTY OFFICE HEAD.
| OFFICE OF DIVERSITY AND INCLUSION | OFFICE HEAD.
| OFFICE OF INFORMATION AND RESOURCE MANAGEMENT | HEAD, OFFICE OF INFORMATION AND RESOURCE MANAGEMENT AND CHIEF HUMAN CAPITAL OFFICER. DEPUTY OFFICE HEAD.
| OFFICE OF POLAR PROGRAMS | HEAD, SECTION FOR ANTARCTIC INFRASTRUCTURE AND LOGISTIC.
| OFFICE OF THE DIRECTOR | CHIEF TECHNOLOGY OFFICER.
| OFFICE OF THE GENERAL COUNSEL | DEPUTY GENERAL COUNSEL.
NATIONAL SCIENCE FOUNDATION OFFICE OF THE INSPECTOR GENERAL |  | INSPECTOR GENERAL. DEPUTY INSPECTOR GENERAL. ASSISTANT INSPECTOR GENERAL FOR MANAGEMENT, LEGAL AND EXTERNAL AFFAIRS.
|  | ASSISTANT INSPECTOR GENERAL FOR AUDIT/CHIEF INFORMATION OFFICER TO OFFICE OF INSPECTOR GENERAL.
|  | ASSISTANT INSPECTOR GENERAL FOR AUDIT.
NATIONAL TRANSPORTATION SAFETY BOARD | OFFICE OF ADMINISTRATION | DIRECTOR, OFFICE OF ADMINISTRATION.
| OFFICE OF AVIATION SAFETY | DIRECTOR BUREAU OF ACCIDENT INVESTIGATION. DEPUTY DIRECTOR, OFFICE OF AVIATION SAFETY.
|  | DEPUTY DIRECTOR, REGIONAL OPERATIONS.
| OFFICE OF CHIEF FINANCIAL OFFICER | CHIEF FINANCIAL OFFICER.
| OFFICE OF CHIEF INFORMATION OFFICER | CHIEF INFORMATION OFFICER.
| OFFICE OF HIGHWAY SAFETY | DIRECTOR, OFFICE OF HIGHWAY SAFETY.
| OFFICE OF MARINE SAFETY | DIRECTOR, OFFICE OF MARINE SAFETY.
| OFFICE OF RAILROAD, PIPELINE AND HAZARDOUS MATERIALS INVESTIGATIONS | DIRECTOR, OFFICE OF RAILROAD, PIPELINE AND HAZARDOUS MATERIALS INVESTIGATIONS. DEPUTY DIRECTOR, OFFICE OF RAILROAD, PIPELINE AND HAZARDOUS MATERIALS SAFETY.
| OFFICE OF RESEARCH AND ENGINEERING | DIRECTOR OFFICE OF RESEARCH AND ENGINEERING. DEPUTY DIRECTOR OFFICE OF RESEARCH AND ENGINEERING.
| OFFICE OF SAFETY RECOMMENDATIONS AND COMMUNICATIONS | DEPUTY DIRECTOR, OFFICE OF SAFETY RECOMMENDATIONS AND COMMUNICATIONS.
| OFFICE OF THE MANAGING DIRECTOR | DEPUTY MANAGING DIRECTOR (2).
NUCLEAR REGULATORY COMMISSION | CYBER SECURITY DIRECTORATE | DIRECTOR, CYBER SECURITY DIRECTORATE.
| DIVISION OF LICENSE RENEWAL | DIRECTOR, DIVISION OF LICENSE RENEWAL.
| DIVISION OF POLICY AND RULEMAKING | DEPUTY DIRECTOR, DIVISION OF POLICY AND RULEMAKING.
| DIVISION OF SITE SAFETY AND ENVIRONMENTAL ANALYSIS | DEPUTY DIRECTOR, DIVISION OF SITE SAFETY AND ENVIRONMENTAL ANALYSIS.
| DIVISION OF SPENT FUEL MANAGEMENT | DIRECTOR, DIVISION OF SPENT FUEL MANAGEMENT.
| OFFICE OF ADMINISTRATION | DIRECTOR, ACQUISITION MANAGEMENT DIVISION. DIRECTOR, DIVISION OF ADMINISTRATIVE SERVICES.
|  | DIRECTOR, DIVISION OF FACILITIES AND SECURITY.
|  | DEPUTY DIRECTOR, OFFICE OF ADMINISTRATION.
|  | ASSOCIATE DIRECTOR FOR SPACE PLANNING AND CONSOLIDATION.
| OFFICE OF COMMISSION APPELLATE ADJUDICATION | DIRECTOR, OFFICE OF COMMISSION APPELLATE ADJUDICATION.
| OFFICE OF NEW REACTORS | DEPUTY DIRECTOR, OFFICE OF NEW REACTORS. DIRECTOR, DIVISION OF NEW REACTOR LICENSING.
|  | DIRECTOR, DIVISION OF SITE SAFETY AND ENVIRONMENTAL ANALYSIS.
|  | DEPUTY DIRECTOR, DIVISION OF SITE SAFETY AND ENVIRONMENTAL ANALYSIS.
|  | DIRECTOR, DIVISION OF SAFETY SYSTEMS AND RISK ASSESSMENT.
|  | DEPUTY DIRECTOR, DIVISION OF SAFETY SYSTEMS AND RISK ASSESSMENT.
|  | DEPUTY DIRECTOR, DIVISION OF ENGINEERING, INFRASTRUCTURE, AND ADVANCED REACTORS.
|  | DIRECTOR, DIVISION OF CONSTRUCTION INSPECTION AND OPERATIONAL PROGRAMS.
|  | DEPUTY DIRECTOR, DIVISION OF CONSTRUCTION INSPECTION AND OPERATIONAL PROGRAMS.
|  | DIRECTOR, DIVISION OF ENGINEERING, INFRASTRUCTURE, AND ADVANCED REACTORS.
|  | DEPUTY DIRECTOR, DIVISION OF NEW REACTOR LICENSING.
|  | DEPUTY DIRECTOR, DIVISION OF ENGINEERING, INFRASTRUCTURE, AND ADVANCED REACTORS.
| OFFICE OF NUCLEAR MATERIAL SAFETY AND SAFEGUARDS | DIRECTOR, DIVISION OF DECOMMISSIONING, URANIUM RECOVERY, AND WASTE PROGRAMS. DEPUTY DIRECTOR, DIVISION OF DECOMMISSIONING, URANIUM RECOVERY, AND WASTE PROGRAMS.
|  | DEPUTY DIRECTOR, DIVISION OF MATERIALS SAFETY, STATE, TRIBAL, AND RULEMAKING PROGRAMS.
|  | DIRECTOR, DIVISION OF FUEL CYCLE SAFETY, SAFEGUARDS, AND ENVIRONMENTAL REVIEW.
|  | DIRECTOR, DIVISION OF MATERIALS SAFETY, STATE, TRIBAL, AND RULEMAKING PROGRAMS.
|  | DEPUTY DIRECTOR, DIVISION OF FUEL CYCLE SAFETY, SAFEGUARDS, AND ENVIRONMENTAL REVIEW.
|  | DEPUTY DIRECTOR, DIVISION OF SPENT FUEL MANAGEMENT.
| OFFICE OF NUCLEAR REACTOR REGULATION | DIRECTOR, DIVISION OF SAFETY SYSTEMS. DEPUTY DIRECTOR, DIVISION OF SAFETY SYSTEMS.
|  | DEPUTY DIRECTOR, DIVISION OF ENGINEERING.
|  | DEPUTY DIRECTOR, DIVISION OF LICENSE RENEWAL.
|  | DIRECTOR, DIVISION OF OPERATING REACTOR LICENSING.
|  | DEPUTY DIRECTOR, DIVISION OF OPERATING REACTOR LICENSING (2).
|  | DIRECTOR, DIVISION OF INSPECTION AND REGIONAL SUPPORT.
|  | DIRECTOR, DIVISION OF RISK ASSESSMENT.
|  | DIRECTOR, DIVISION OF POLICY AND RULEMAKING.
|  | DIRECTOR, DIVISION OF ENGINEERING.
|  | DEPUTY DIRECTOR FOR ENGINEERING.
|  | DEPUTY DIRECTOR, DIVISION OF RISK ASSESSMENT.
|  | DIRECTOR, JAPAN LESSONS LEARNED DIVISION.
|  | DEPUTY DIRECTOR, DIVISION OF INSPECTION AND REGIONAL SUPPORT.
|  | DEPUTY DIRECTOR FOR REACTOR SAFETY PROGRAMS AND MISSION SUPPORT.
| OFFICE OF NUCLEAR REGULATORY RESEARCH | DEPUTY DIRECTOR, DIVISION OF ENGINEERING. DIRECTOR, DIVISION OF ENGINEERING.
|  | DIRECTOR, DIVISION OF SYSTEMS ANALYSIS.
|  | DEPUTY DIRECTOR, DIVISION OF SYSTEMS ANALYSIS.
|  | DIRECTOR, DIVISION OF RISK ANALYSIS.
|  | DEPUTY DIRECTOR, DIVISION OF RISK ANALYSIS.
| OFFICE OF NUCLEAR SECURITY AND INCIDENT RESPONSE | DIRECTOR, DIVISION OF PREPAREDNESS AND RESPONSE. DIRECTOR, DIVISION OF SECURITY OPERATIONS.
|  | DEPUTY DIRECTOR, OFFICE OF NUCLEAR SECURITY AND INCIDENT RESPONSE.
|  | DIRECTOR, DIVISION OF SECURITY POLICY.
|  | DEPUTY DIRECTOR, DIVISION OF SECURITY POLICY.
|  | DEPUTY DIRECTOR, DIVISION OF SECURITY OPERATIONS.
|  | DEPUTY DIRECTOR, DIVISION OF PREPAREDNESS AND RESPONSE.
| OFFICE OF SMALL BUSINESS AND CIVIL RIGHTS | DIRECTOR, OFFICE OF SMALL BUSINESS AND CIVIL RIGHTS.
| OFFICE OF THE CHIEF FINANCIAL OFFICER | BUDGET DIRECTOR. DEPUTY CHIEF FINANCIAL OFFICER.
|  | CONTROLLER.
| OFFICE OF THE CHIEF INFORMATION OFFICER | DIRECTOR OF INTEGRATION STRATEGIES. DIRECTOR, IT SERVICES DEVELOPMENT AND OPERATIONS DIVISION.
|  | DIRECTOR, CUSTOMER SERVICE DIVISION.
|  | DIRECTOR, GOVERNANCE AND ENTERPRISE MANAGEMENT SERVICES DIVISION.
|  | SPECIAL ASSISTANT.
|  | DIRECTOR FOR TRANSFORMATIONAL ORGANIZATION.
| OFFICE OF THE EXECUTIVE DIRECTOR FOR OPERATIONS | DIRECTOR FOR ORGANIZATIONAL TRANSFORMATION.
| REGION I | DEPUTY REGIONAL ADMINISTRATOR. DIRECTOR, DIVISION OF NUCLEAR MATERIALS SAFETY.
|  | DEPUTY DIRECTOR, DIVISION OF REACTOR SAFETY.
|  | DIRECTOR DIVISION OF REACTOR SAFETY.
|  | DIRECTOR, DIVISION OF REACTOR PROJECTS.
|  | DEPUTY DIRECTOR, DIVISION OF REACTOR PROJECTS.
| REGION II | DEPUTY REGIONAL ADMINISTRATOR FOR OPERATIONS. DIRECTOR, DIVISION OF FUEL FACILITY INSPECTION.
|  | DEPUTY DIRECTOR, DIVISION OF REACTOR PROJECTS.
|  | DIRECTOR, DIVISION OF REACTOR PROJECTS.
|  | DIRECTOR, DIVISION OF REACTOR SAFETY.
|  | DEPUTY REGIONAL ADMINISTRATOR FOR CONSTRUCTION.
|  | DIRECTOR, DIVISION OF CONSTRUCTION OVERSIGHT.
|  | DEPUTY DIRECTOR, DIVISION OF CONSTRUCTION OVERSIGHT.
|  | DIRECTOR, DIVISION OF CONSTRUCTION INSPECTION.
|  | DEPUTY DIRECTOR, DIVISION OF CONSTRUCTION INSPECTION.
|  | DEPUTY DIRECTOR, DIVISION OF FUEL FACILITY INSPECTION.
|  | DEPUTY DIRECTOR, DIVISION OF REACTOR SAFETY.
| REGION III | DIRECTOR, DIVISION OF REACTOR SAFETY. DIRECTOR, DIVISION OF REACTOR PROJECTS.
|  | DEPUTY REGIONAL ADMINISTRATOR.
|  | DEPUTY DIRECTOR, DIVISION OF REACTOR PROJECTS.
|  | DEPUTY DIRECTOR, DIVISION OF REACTOR SAFETY.
|  | DIRECTOR, DIVISION OF NUCLEAR MATERIALS SAFETY.
| REGION IV | DEPUTY REGIONAL ADMINISTRATOR. DIRECTOR DIVISION OF REACTOR PROJECTS.
|  | DIRECTOR, DIVISION OF NUCLEAR MATERIALS SAFETY.
|  | DIRECTOR, DIVISION OF REACTOR SAFETY.
|  | DEPUTY DIRECTOR, DIVISION OF REACTOR SAFETY.
|  | DEPUTY DIRECTOR, DIVISION OF REACTOR PROJECTS.
NUCLEAR REGULATORY COMMISSION OFFICE OF THE INSPECTOR GENERAL | ASSISTANT INSPECTOR GENERAL FOR AUDITS | ASSISTANT INSPECTOR GENERAL FOR AUDITS.
| ASSISTANT INSPECTOR GENERAL FOR INVESTIGATIONS | ASSISTANT INSPECTOR GENERAL FOR INVESTIGATIONS.
| NUCLEAR REGULATORY COMMISSION OFFICE OF THE INSPECTOR GENERAL | DEPUTY INSPECTOR GENERAL.
OCCUPATIONAL SAFETY AND HEALTH REVIEW COMMISSION | OFFICE OF THE EXECUTIVE DIRECTOR | EXECUTIVE DIRECTOR.
OFFICE OF GOVERNMENT ETHICS | OFFICE OF GOVERNMENT ETHICS | DEPUTY DIRECTOR FOR INTERNAL OPERATIONS DIVISION. DEPUTY DIRECTOR FOR COMPLIANCE.
|  | DEPUTY GENERAL COUNSEL.
|  | CHIEF OF STAFF AND PROGRAM COUNSEL.
OFFICE OF MANAGEMENT AND BUDGET | BUDGET REVIEW | DEPUTY ASSISTANT DIRECTOR FOR BUDGET REVIEW. DEPUTY CHIEF BUDGET ANALYSIS BRANCH.
|  | CHIEF BUDGET ANALYSIS BRANCH.
|  | ASSISTANT DIRECTOR FOR BUDGET REVIEW.
|  | CHIEF, BUDGET CONCEPTS BRANCH.
|  | CHIEF, BUDGET SYSTEMS BRANCH.
|  | CHIEF, BUDGET REVIEW BRANCH.
|  | DEPUTY CHIEF, BUDGET REVIEW BRANCH.
| EDUCATION, INCOME MAINTENANCE AND LABOR PROGRAMS | CHIEF, LABOR BRANCH. CHIEF, EDUCATION BRANCH.
|  | DEPUTY ASSOCIATE DIRECTOR FOR EDUCATION, INCOME MAINTENANCE AND LABOR.
|  | CHIEF, INCOME MAINTENANCE BRANCH.
| ENERGY, SCIENCE AND WATER DIVISION | CHIEF, WATER AND POWER BRANCH. CHIEF SCIENCE AND SPACE PROGRAMS BRANCH.
|  | CHIEF, ENERGY BRANCH.
|  | DEPUTY ASSOCIATE DIRECTOR FOR ENERGY, SCIENCE, AND WATER DIVISION.
| HEALTH DIVISION | DEPUTY ASSOCIATE DIRECTOR FOR HEALTH. CHIEF, HEALTH AND HUMAN SERVICES BRANCH.
|  | CHIEF, PUBLIC HEALTH BRANCH.
|  | CHIEF, HEALTH INSURANCE AND DATA ANALYSIS BRANCH.
|  | CHIEF, MEDICARE BRANCH (2).
| HOUSING, TREASURY AND COMMERCE DIVISION | CHIEF, COMMERCE BRANCH. DEPUTY ASSOCIATE DIRECTOR FOR HOUSING, TREASURY AND COMMERCE.
|  | CHIEF, TREASURY BRANCH.
|  | CHIEF, HOUSING BRANCH.
| INTERNATIONAL AFFAIRS DIVISION | CHIEF, STATE/UNITED STATES INFORMATION AGENCY BRANCH. CHIEF, ECONOMIC AFFAIRS BRANCH.
|  | DEPUTY ASSOCIATE DIRECTOR FOR INTERNATIONAL AFFAIRS.
| LEGISLATIVE REFERENCE DIVISION | ASSISTANT DIRECTOR LEGISLATIVE REFERENCE. CHIEF, ECONOMICS, SCIENCE AND GOVERNMENT BRANCH.
|  | CHIEF, RESOURCES—DEFENSE—INTERNATIONAL BRANCH.
|  | CHIEF, HEALTH, EDUCATION, VETERANS, AND SOCIAL PROGRAMS BRANCH.
| NATIONAL SECURITY DIVISION | CHIEF, COMMAND, CONTROL, COMMUNICATION, COMPUTERS, AND INTELLIGENCE BRANCH. CHIEF, FORCE STRUCTURE AND INVESTMENT BRANCH.
|  | DEPUTY ASSOCIATE DIRECTOR FOR NATIONAL SECURITY.
|  | CHIEF OPERATIONS AND SUPPORT BRANCH.
|  | CHIEF, VETERANS AFFAIRS AND DEFENSE HEALTH BRANCH.
| NATURAL RESOURCES DIVISION | DEPUTY ASSOCIATE DIRECTOR FOR NATURAL RESOURCES. CHIEF, AGRICULTURAL BRANCH.
|  | CHIEF, ENVIRONMENT BRANCH.
|  | CHIEF INTERIOR BRANCH.
| OFFICE OF E-GOVERNMENT AND INFORMATION TECHNOLOGY | CHIEF ARCHITECT. DEPUTY ADMINISTRATOR FOR E-GOVERNMENT AND INFORMATION TECHNOLOGY.
| OFFICE OF FEDERAL FINANCIAL MANAGEMENT | CHIEF, FINANCIAL INTEGRITY AND RISK MANAGEMENT BRANCH.
| OFFICE OF FEDERAL PROCUREMENT POLICY | ASSOCIATE ADMINISTRATOR. DEPUTY ADMINISTRATOR FOR FEDERAL PROCUREMENT POLICY.
| OFFICE OF INFORMATION AND REGULATORY AFFAIRS | CHIEF, INFORMATION POLICY BRANCH. CHIEF STATISTICAL AND SCIENCE POLICY BRANCH.
|  | CHIEF, NATURAL RESOURCES AND ENVIRONMENT BRANCH.
|  | CHIEF, FOOD, HEALTH AND LABOR BRANCH.
| STAFF OFFICES | DEPUTY ASSISTANT DIRECTOR FOR MANAGEMENT. DEPUTY ASSOCIATE DIRECTOR FOR ECONOMIC POLICY.
|  | ASSISTANT DIRECTOR FOR MANAGEMENT AND OPERATIONS.
|  | ASSOCIATE DIRECTOR FOR MANAGEMENT AND OPERATIONS.
| TRANSPORTATION, HOMELAND, JUSTICE AND SERVICES DIVISION | CHIEF TRANSPORTATION BRANCH. DEPUTY ASSOCIATE DIRECTOR, TRANSPORTATION, HOMELAND, JUSTICE AND SERVICES.
|  | CHIEF, TRANSPORTATION/GENERAL SERVICES ADMINISTRATION BRANCH.
|  | CHIEF, JUSTICE BRANCH.
|  | CHIEF, HOMELAND SECURITY BRANCH.
OFFICE OF NATIONAL DRUG CONTROL POLICY | OFFICE OF SUPPLY REDUCTION | ASSISTANT DEPUTY DIRECTOR OF SUPPLY REDUCTION. ASSOCIATE DIRECTOR FOR INTELLIGENCE.
OFFICE OF PERSONNEL MANAGEMENT | FACILITIES, SECURITY AND EMERGENCY MANAGEMENT | DIRECTOR, FACILITIES, SECURITY AND EMERGENCY MANAGEMENT.
| HEALTHCARE AND INSURANCE | ASSISTANT DIRECTOR, FEDERAL EMPLOYEE INSURANCE OPERATIONS.
| MERIT SYSTEM ACCOUNTABILITY AND COMPLIANCE | DEPUTY ASSOCIATE DIRECTOR, MERIT SYSTEM AUDIT AND COMPLIANCE.
| NATIONAL BACKGROUND INVESTIGATION BUREAU | DEPUTY ASSISTANT DIRECTOR, OPERATIONS. DEPUTY ASSISTANT DIRECTOR, STRATEGIC SOURCING.
| OFFICE OF PROCUREMENT OPERATIONS | DIRECTOR, OFFICE OF PROCUREMENT OPERATIONS.
| OFFICE OF THE CHIEF INFORMATION OFFICER | CHIEF INFORMATION OFFICER.
| OFFICE OF THE CHIEF FINANCIAL OFFICER | DEPUTY CHIEF FINANCIAL OFFICER. ASSOCIATE CHIEF FINANCIAL OFFICER, FINANCIAL SERVICES.
|  | CHIEF FINANCIAL OFFICER.
|  | ASSOCIATE CHIEF FINANCIAL OFFICER FINANCIAL SERVICES.
| PLANNING AND POLICY ANALYSIS | DEPUTY DIRECTOR, ACTUARY.
| RETIREMENT SERVICES | DEPUTY ASSOCIATE DIRECTOR, RETIREMENT SERVICES. DEPUTY ASSOCIATE DIRECTOR, RETIREMENT OPERATIONS.
|  | ASSOCIATE DIRECTOR, RETIREMENT SERVICES.
OFFICE OF PERSONNEL MANAGEMENT OFFICE OF THE INSPECTOR GENERAL | OFFICE OF AUDITS | ASSISTANT INSPECTOR GENERAL FOR AUDITS. DEPUTY ASSISTANT INSPECTOR GENERAL FOR AUDITS (2).
| OFFICE OF INVESTIGATIONS | ASSISTANT INSPECTOR GENERAL FOR INVESTIGATIONS.
|  | DEPUTY ASSISTANT INSPECTOR GENERAL FOR INVESTIGATIONS.
| OFFICE OF LEGAL AFFAIRS | ASSISTANT INSPECTOR GENERAL FOR LEGAL AFFAIRS.
| OFFICE OF POLICY, RESOURCES MANAGEMENT, AND OVERSIGHT | ASSISTANT INSPECTOR GENERAL FOR MANAGEMENT. DEPUTY ASSISTANT INSPECTOR GENERAL FOR MANAGEMENT.
|  | CHIEF INFORMATION TECHNOLOGY OFFICER.
|  | ASSISTANT INSPECTOR GENERAL FOR MANAGEMENT.
| OFFICE OF THE INSPECTOR GENERAL | DEPUTY INSPECTOR GENERAL.
OFFICE OF SPECIAL COUNSEL | HEADQUARTERS, OFFICE OF SPECIAL COUNSEL | ASSOCIATE SPECIAL COUNSEL FOR INVESTIGATION AND PROSECUTION (3). SENIOR ASSOCIATE SPECIAL COUNSEL FOR INVESTIGATION AND PROSECUTION.
|  | DIRECTOR OF MANAGEMENT AND BUDGET.
|  | ASSOCIATE SPECIAL COUNSEL PLANNING AND OVERSIGHT.
|  | ASSOCIATE SPECIAL COUNSEL FOR LEGAL COUNSEL AND POLICY.
|  | DIRECTOR, OFFICE OF PLANNING AND ANALYSIS.
|  | CHIEF FINANCIAL OFFICER AND DIRECTOR OF ADMINISTRATIVE SERVICES.
|  | ASSOCIATE SPECIAL COUNSEL FOR INVESTIGATION AND PROSECUTION (HEADQUARTERS).
|  | ASSOCIATE SPECIAL COUNSEL FOR GENERAL LAW DIVISION.
|  | CHIEF OPERATING OFFICER.
|  | DIRECTOR OF MANAGEMENT AND BUDGET.
| OFFICE OF SPECIAL COUNSEL | ASSOCIATE SPECIAL COUNSEL FOR INVESTIGATION AND PROSECUTION (FIELD OFFICES).
OFFICE OF THE UNITED STATES TRADE REPRESENTATIVE | INDUSTRY, MARKET ACCESS AND TELECOMMUNICATIONS | ASSISTANT UNITED STATES TRADE REPRESENTATIVE FOR INDUSTRY, MARKET ACCESS AND TELECOMMUNICATIONS.
| LABOR | ASSISTANT UNITED STATES TRADE REPRESENTATIVE FOR LABOR.
| MONITORING AND ENFORCEMENT | DIRECTOR OF INTERAGENCY CENTER FOR TRADE IMPLEMENTATION, MONITORING, AND ENFORCEMENT.
| SOUTH ASIAN AFFAIRS | ASSISTANT UNITED STATES TRADE REPRESENTATIVE FOR SOUTH ASIAN AFFAIRS.
RAILROAD RETIREMENT BOARD | BOARD STAFF | CHIEF OF TECHNOLOGY SERVICE. DIRECTOR OF HEARINGS AND APPEALS.
|  | CHIEF ACTUARY.
|  | DIRECTOR OF FIELD SERVICE.
|  | DIRECTOR OF ADMINISTRATION.
|  | DEPUTY GENERAL COUNSEL.
|  | CHIEF FINANCIAL OFFICER.
|  | GENERAL COUNSEL.
|  | DIRECTOR OF PROGRAMS.
|  | CHIEF INFORMATION OFFICER.
|  | DIRECTOR OF OPERATIONS.
|  | DIRECTOR OF POLICY AND SYSTEMS.
|  | DIRECTOR OF FISCAL OPERATIONS.
| OFFICE OF INSPECTOR GENERAL | ASSISTANT INSPECTOR GENERAL FOR INVESTIGATIONS. ASSISTANT INSPECTOR GENERAL FOR AUDIT.
SELECTIVE SERVICE SYSTEM | OFFICE OF THE DIRECTOR | SENIOR ADVISOR TO THE DIRECTOR. ASSOCIATE DIRECTOR FOR OPERATIONS.
| SELECTIVE SERVICE SYSTEM | ASSOCIATE DIRECTOR FOR OPERATIONS.
SMALL BUSINESS ADMINISTRATION | OFFICE OF CAPITAL ACCESS | DIRECTOR FOR SURETY GUARANTEES. DIRECTOR OF ECONOMIC OPPORTUNITY.
| OFFICE OF ENTREPRENEURIAL DEVELOPMENT | ASSOCIATE ADMINISTRATOR FOR SMALL BUSINESS DEVELOPMENT CENTERS. DEPUTY ASSOCIATE ADMINISTRATOR FOR ENTREPRENEURIAL DEVELOPMENT.
| OFFICE OF FIELD OPERATIONS | DISTRICT DIRECTOR (4). DISTRICT DIRECTOR WASHINGTON METRO AREA DISTRICT OFFICE.
|  | DISTRICT DIRECTOR NEW YORK.
| OFFICE OF GOVERNMENT CONTRACTING AND BUSINESS DEVELOPMENT | DEPUTY ASSOCIATE ADMINISTRATOR FOR GOVERNMENT CONTRACTING AND BUSINESS DEVELOPMENT. DIRECTOR OF HUBZONE.
|  | DIRECTOR FOR POLICY PLANNING AND LIAISON.
| OFFICE OF HEARINGS AND APPEALS | ASSISTANT ADMINISTRATOR FOR HEARINGS AND APPEALS.
| OFFICE OF INVESTMENT AND INNOVATION | DEPUTY AA FOR INVESTMENT AND INNOVATION.
| OFFICE OF THE CHIEF FINANCIAL OFFICER | DEPUTY CHIEF FINANCIAL OFFICER. CHIEF FINANCIAL OFFICER.
|  | CHIEF HUMAN CAPITAL OFFICER.
|  | DEPUTY CHIEF INFORMATION OFFICER.
|  | DEPUTY CHIEF HUMAN CAPITAL OFFICER.
| OFFICE OF THE GENERAL COUNSEL | ASSOCIATE GENERAL COUNSEL FOR GENERAL LAW. ASSOCIATE GENERAL COUNSEL LITIGATION.
|  | ASSOCIATE GENERAL COUNSEL FOR PROCUREMENT LAW.
|  | ASSOCIATE GENERAL COUNSEL FOR FINANCIAL LAW AND LENDER OVERSIGHT.
SMALL BUSINESS ADMINISTRATION OFFICE OF THE INSPECTOR GENERAL |  | COUNSEL TO THE INSPECTOR GENERAL. DEPUTY INSPECTOR GENERAL.
|  | ASSISTANT INSPECTOR GENERAL FOR MANAGEMENT AND POLICY.
|  | ASSISTANT INSPECTOR GENERAL FOR AUDITING DIVISION.
|  | ASSISTANT INSPECTOR GENERAL FOR INVESTIGATIONS.
SOCIAL SECURITY ADMINISTRATION | OFFICE OF ACQUISITION AND GRANTS | ASSOCIATE COMMISSIONER FOR ACQUISITION AND GRANTS. DEPUTY ASSOCIATE COMMISSIONER FOR ACQUISITION AND GRANTS.
| OFFICE OF ANTI-FRAUD PROGRAMS | ASSOCIATE COMMISSIONER FOR ANTI-FRAUD PROGRAMS.
| OFFICE OF APPELLATE OPERATIONS | EXECUTIVE DIRECTOR, OFFICE OF APPELLATE OPERATIONS. DEPUTY EXECUTIVE DIRECTOR, OFFICE OF APPELLATE OPERATIONS.
| OFFICE OF BUDGET | ASSOCIATE COMMISSIONER FOR BUDGET.
|  | DEPUTY ASSOCIATE COMMISSIONER FOR BUDGET.
| OFFICE OF BUDGET, FINANCE, QUALITY AND MANAGEMENT | ASSISTANT DEPUTY COMMISSIONER FOR BUDGET, FINANCE, QUALITY, AND MANAGEMENT.
| OFFICE OF CIVIL RIGHTS AND EQUAL OPPORTUNITY | ASSOCIATE COMMISSIONER FOR CIVIL RIGHTS AND EQUAL OPPORTUNITY. DEPUTY ASSOCIATE COMMISSIONER FOR CIVIL RIGHTS AND EQUAL OPPORTUNITY.
| OFFICE OF DISABILITY ADJUDICATION AND REVIEW | DEPUTY COMMISSIONER FOR DISABILITY ADJUDICATION AND REVIEW. ASSISTANT DEPUTY COMMISSIONER FOR DISABILITY ADJUDICATION AND REVIEW.
| OFFICE OF DISABILITY DETERMINATIONS | ASSOCIATE COMMISSIONER FOR DISABILITY DETERMINATIONS.
| OFFICE OF FINANCIAL POLICY AND OPERATIONS | ASSOCIATE COMMISSIONER, OFFICE OF FINANCE POLICY AND OPERATIONS.
|  | DEPUTY ASSOCIATE COMMISSIONER FINANCIAL POLICY AND OPERATIONS.
| OFFICE OF GENERAL LAW | ASSOCIATE GENERAL COUNSEL FOR GENERAL LAW. DEPUTY ASSOCIATE GENERAL COUNSEL FOR GENERAL LAW.
| OFFICE OF INFORMATION SECURITY | ASSOCIATE COMMISSIONER FOR INFORMATION SECURITY.
| OFFICE OF LABOR-MANAGEMENT AND EMPLOYEE RELATIONS | ASSOCIATE COMMISSIONER FOR LABOR-MANAGEMENT AND EMPLOYEE RELATIONS. DEPUTY ASSOCIATE COMMISSIONER FOR LABOR-MANAGEMENT AND EMPLOYEE RELATIONS.
| OFFICE OF PERSONNEL | ASSOCIATE COMMISSIONER FOR PERSONNEL. DEPUTY ASSOCIATE COMMISSIONER FOR PERSONNEL.
| OFFICE OF PRIVACY AND DISCLOSURE | EXECUTIVE DIRECTOR FOR PRIVACY AND DISCLOSURE.
| OFFICE OF PROGRAM LAW | DEPUTY ASSOCIATE GENERAL COUNSEL FOR PROGRAM LAW.
| OFFICE OF SYSTEMS | ASSISTANT DEPUTY COMMISSIONER FOR SYSTEMS (IT BUSINESS SUPPORT).
| OFFICE OF TELECOMMUNICATIONS AND SYSTEMS OPERATIONS | ASSOCIATE COMMISSIONER FOR TELECOMMUNICATIONS AND SYSTEMS OPERATIONS. DEPUTY ASSOCIATE COMMISSIONER FOR TELECOMMUNICATIONS AND SYSTEMS OPERATIONS (TELECOMMUNICATIONS).
|  | DEPUTY ASSOCIATE COMMISSIONER FOR TELECOMMUNICATIONS AND SYSTEMS OPERATIONS.
|  | ASSISTANT ASSOCIATE COMMISSIONER FOR ENTERPRISE INFORMATION TECHNOLOGY SERVICES MANAGEMENT.
|  | DEPUTY ASSOCIATE COMMISSIONER FOR HARDWARE ENGINEERING.
| OFFICE OF THE CHIEF ACTUARY | CHIEF ACTUARY. DEPUTY CHIEF ACTUARY (LONG-RANGE).
|  | DEPUTY CHIEF ACTUARY (SHORT-RANGE).
| OFFICE OF THE CHIEF STRATEGIC OFFICER | CHIEF STRATEGIC OFFICER.
SOCIAL SECURITY ADMINISTRATION OFFICE OF THE INSPECTOR GENERAL | IMMEDIATE OFFICE OF THE INSPECTOR GENERAL | DEPUTY INSPECTOR GENERAL. CHIEF OF STAFF.
| OFFICE OF AUDIT | ASSISTANT INSPECTOR GENERAL FOR AUDIT. DEPUTY ASSISTANT INSPECTOR GENERAL FOR AUDIT (FINANCIAL SYSTEMS AND OPERATIONS AUDITS).
|  | DEPUTY ASSISTANT INSPECTOR GENERAL FOR AUDIT (PROGRAM AUDIT AND EVALUATIONS).
| OFFICE OF COMMUNICATIONS AND RESOURCE MANAGEMENT | ASSISTANT INSPECTOR GENERAL FOR COMMUNICATIONS AND RESOURCE MANAGEMENT. DEPUTY ASSISTANT INSPECTOR GENERAL FOR COMMUNICATIONS AND RESOURCE MANAGEMENT.
| OFFICE OF COUNSEL TO THE INSPECTOR GENERAL | COUNSEL TO THE INSPECTOR GENERAL.
| OFFICE OF EXTERNAL RELATIONS | ASSISTANT INSPECTOR GENERAL FOR EXTERNAL RELATIONS. ASSISTANT INSPECTOR GENERAL FOR EXTERNAL RELATIONS.
| OFFICE OF INVESTIGATIONS | ASSISTANT INSPECTOR GENERAL FOR INVESTIGATIONS. DEPUTY ASSISTANT INSPECTOR GENERAL FOR INVESTIGATIONS (EASTERN FIELD OPERATIONS).
| OFFICE OF INVESTIGATIONS | DEPUTY ASSISTANT INSPECTOR GENERAL FOR INVESTIGATIONS (WESTERN FIELD OPERATIONS).
DEPARTMENT OF STATE | BUREAU OF ADMINISTRATION | DIRECTOR, OFFICE OF ACQUISITIONS. PROCUREMENT EXECUTIVE.
| BUREAU OF ARMS CONTROL, VERIFICATION, AND COMPLIANCE | DIRECTOR, OFFICE OF STRATEGIC NEGOTIATIONS AND IMPLEMENTATION.
| BUREAU OF HUMAN RESOURCES | HUMAN RESOURCES OFFICER. PRINCIPAL DEPUTY ASSISTANT SECRETARY.
| BUREAU OF INTERNATIONAL SECURITY AND NONPROLIFERATION | OFFICE DIRECTOR (2).
| OFFICE OF CIVIL RIGHTS | DEPUTY DIRECTOR.
| OFFICE OF THE UNDER SECRETARY FOR MANAGEMENT | OMBUDSMAN.
DEPARTMENT OF STATE OFFICE OF THE INSPECTOR GENERAL | OFFICE OF INSPECTOR GENERAL | ASSISTANT INSPECTOR GENERAL FOR AUDITS. ASSISTANT INSPECTOR GENERAL FOR INVESTIGATIONS.
|  | GENERAL COUNSEL TO THE INSPECTOR GENERAL.
|  | DEPUTY ASSISTANT INSPECTOR GENERAL FOR AUDITS.
|  | DEPUTY ASSISTANT INSPECTOR GENERAL FOR INVESTIGATIONS.
|  | DEPUTY ASSISTANT INSPECTOR GENERAL FOR MIDDLE EAST REGIONAL OFFICE.
|  | DEPUTY INSPECTOR GENERAL.
|  | ASSISTANT INSPECTOR GENERAL FOR MANAGEMENT.
|  | DEPUTY GENERAL COUNSEL.
|  | DEPUTY ASSISTANT INSPECTOR GENERAL FOR INSPECTIONS.
|  | ASSISTANT INSPECTOR GENERAL FOR EVALUATIONS AND SPECIAL PROJECTS.
|  | DEPUTY ASSISTANT INSPECTOR GENERAL FOR MANAGEMENT.
|  | ASSISTANT INSPECTOR GENERAL FOR INSPECTIONS.
|  | DEPUTY ASSISTANT INSPECTOR GENERAL FOR INSPECTIONS (2).
TRADE AND DEVELOPMENT AGENCY | OFFICE OF THE DIRECTOR | DEPUTY DIRECTOR. ASSISTANT DIRECTOR FOR POLICY AND PROGRAMS.
| OFFICE OF THE GENERAL COUNSEL | GENERAL COUNSEL.
DEPARTMENT OF TRANSPORTATION | ADMINISTRATOR | ASSISTANT ADMINISTRATOR/CHIEF SAFETY OFFICER. CHIEF FINANCIAL OFFICER.
|  | EXECUTIVE DIRECTOR.
|  | DIRECTOR OF INNOVATIVE PROGRAM DELIVERY.
|  | CHIEF FINANCIAL OFFICER.
|  | EXECUTIVE DIRECTOR (2).
|  | EXECUTIVE SECRETARY, COMMITTEE ON MARINE TRANSPORTATION SYSTEMS.
|  | EXECUTIVE DIRECTOR.
| ASSISTANT SECRETARY FOR ADMINISTRATION | DEPUTY ASSISTANT SECRETARY FOR ADMINISTRATION.
| ASSISTANT SECRETARY FOR BUDGET AND PROGRAMS | DEPUTY ASSISTANT SECRETARY FOR BUDGET AND PROGRAMS. DEPUTY CHIEF FINANCIAL OFFICER.
|  | CHIEF FINANCIAL OFFICER.
| ASSOCIATE ADMINISTRATOR FOR ENFORCEMENT | ASSOCIATE ADMINISTRATOR FOR ENFORCEMENT. DIRECTOR, OFFICE OF DEFECTS INVESTIGATION.
|  | DIRECTOR, OFFICE OF VEHICLE SAFETY COMPLIANCE.
| ASSOCIATE ADMINISTRATOR FOR ENVIRONMENT AND COMPLIANCE | ASSOCIATE ADMINISTRATOR FOR ENVIRONMENT AND COMPLIANCE. DEPUTY ASSOCIATE ADMINISTRATOR FOR ENVIRONMENT AND COMPLIANCE.
| ASSOCIATE ADMINISTRATOR FOR FIELD OPERATIONS | REGIONAL FIELD ADMINISTRATOR, SOUTHERN REGION. REGIONAL FIELD ADMINISTRATOR, MIDWEST REGION.
| ASSOCIATE ADMINISTRATOR FOR INJURY CONTROL OPERATIONS AND RESOURCES | ASSOCIATE ADMINISTRATOR FOR INJURY CONTROL OPERATIONS AND RESOURCES.
| ASSOCIATE ADMINISTRATOR FOR RAILROAD SAFETY | ASSOCIATE ADMINISTRATOR FOR RAILROAD SAFETY/CHIEF SAFETY OFFICER.
| ASSOCIATE ADMINISTRATOR FOR SAFETY | ASSOCIATE ADMINISTRATOR FOR SAFETY.
| ASSOCIATE ADMINISTRATOR FOR STRATEGIC SEALIFT | DEPUTY ASSOCIATE ADMINISTRATOR FOR FEDERAL SEALIFT. DEPUTY ASSOCIATE ADMINISTRATOR FOR MARITIME EDUCATION AND TRAINING.
| CHIEF COUNSEL | DEPUTY CHIEF COUNSEL.
| CHIEF INFORMATION OFFICER | DEPUTY CHIEF INFORMATION OFFICER. CHIEF TECHNOLOGY OFFICER.
|  | CHIEF INFORMATION SECURITY OFFICER.
| IMMEDIATE OFFICE OF THE ADMINISTRATOR | STAFF DIRECTOR.
| OFFICE OF BUDGET AND PROGRAM PERFORMANCE | DIRECTOR OF BUDGET AND PROGRAM PERFORMANCE.
| OFFICE OF BUS AND TRUCK STANDARDS AND OPERATIONS | DIRECTOR, OFFICE OF BUS AND TRUCK STANDARDS AND OPERATIONS.
| OFFICE OF CHIEF SAFETY OFFICER | ASSISTANT ADMINISTRATOR AND CHIEF SAFETY OFFICER.
| OFFICE OF ENFORCEMENT AND COMPLIANCE | DIRECTOR, OFFICE OF ENFORCEMENT AND COMPLIANCE.
| OFFICE OF HAZARDOUS MATERIALS SAFETY | ASSOCIATE ADMINISTRATOR FOR HAZARDOUS MATERIALS SAFETY.
| OFFICE OF INTELLIGENCE, SECURITY AND EMERGENCY RESPONSE | DIRECTOR, OFFICE OF INTELLIGENCE, SECURITY AND EMERGENCY RESPONSE.
|  | DEPUTY DIRECTOR.
| OFFICE OF LICENSING AND SAFETY INFORMATION | DIRECTOR, OFFICE FOR LICENSING AND SAFETY INFORMATION.
| OFFICE OF PIPELINE SAFETY | ASSOCIATE ADMINISTRATOR FOR PIPELINE SAFETY. DEPUTY ASSOCIATE ADMINISTRATOR FOR FIELD OPERATIONS.
|  | DEPUTY ASSOCIATE ADMINISTRATOR FOR POLICY AND PROGRAMS.
| OFFICE OF REAL ESTATE SERVICES | DIRECTOR, OFFICE OF REAL ESTATE SERVICES.
| OFFICE OF SAFETY RESEARCH AND DEVELOPMENT | DIRECTOR, OFFICE OF SAFETY RESEARCH, DEVELOPMENT AND TECHNOLOGY.
| OFFICE OF SAFETY, ENERGY AND ENVIRONMENT | DIRECTOR.
| OFFICE OF THE CHIEF FINANCIAL OFFICER | CHIEF FINANCIAL OFFICER. DIRECTOR, OFFICE OF ACQUISITION MANAGEMENT.
|  | DEPUTY CHIEF FINANCIAL OFFICER AND CHIEF BUDGET OFFICER.
| OFFICE OF THE MANAGING DIRECTOR | MANAGING DIRECTOR.
| OFFICE OF THE SENIOR PROCUREMENT EXECUTIVE | SENIOR PROCUREMENT EXECUTIVE.
| PROCEEDINGS | DEPUTY DIRECTOR—LEGAL ANALYSIS.
| PUBLIC AFFAIRS | SENIOR ADVISOR FOR STRATEGIC COMMUNICATIONS.
| SECRETARY | EXECUTIVE DIRECTOR FOR THE OFFICE OF THE UNDER SECRETARY OF TRANSPORTATION FOR POLICY.
DEPARTMENT OF TRANSPORTATION OFFICE OF THE INSPECTOR GENERAL | OFFICE OF ASSISTANT INSPECTOR GENERAL FOR ACQUISITION AND PROCUREMENT AUDITS | ASSISTANT INSPECTOR GENERAL FOR ACQUISITION AND PROCUREMENT AUDITS.
| OFFICE OF ASSISTANT INSPECTOR GENERAL FOR ADMINISTRATION AND MANAGEMENT | ASSISTANT INSPECTOR GENERAL FOR ADMINISTRATION.
| OFFICE OF ASSISTANT INSPECTOR GENERAL FOR AVIATION AUDITS | ASSISTANT INSPECTOR GENERAL FOR AUDIT OPERATIONS AND SPECIAL REVIEWS. ASSISTANT INSPECTOR GENERAL FOR AVIATION AUDITS.
| OFFICE OF ASSISTANT INSPECTOR GENERAL FOR FINANCIAL AND INFORMATION TECHNOLOGY AUDITS | ASSISTANT INSPECTOR GENERAL FOR FINANCIAL AND INFORMATION TECHNOLOGY AUDITS.
| OFFICE OF ASSISTANT INSPECTOR GENERAL FOR LEGAL, LEGISLATIVE AND EXTERNAL AFFAIRS | ASSISTANT INSPECTOR GENERAL FOR LEGAL, LEGISLATIVE AND EXTERNAL AFFAIRS.
| OFFICE OF ASSISTANT INSPECTOR GENERAL FOR SURFACE TRANSPORTATION AUDITS | ASSISTANT INSPECTOR GENERAL FOR SURFACE TRANSPORTATION AUDITS.
| OFFICE OF AVIATION AUDITS | ASSISTANT INSPECTOR GENERAL FOR AVIATION AUDITS.
| OFFICE OF DEPUTY ASSISTANT INSPECTOR GENERAL FOR AVIATION AUDITS | DEPUTY ASSISTANT INSPECTOR GENERAL FOR AVIATION AUDITS.
| OFFICE OF DEPUTY ASSISTANT INSPECTOR GENERAL FOR INVESTIGATIONS | DEPUTY ASSISTANT INSPECTOR GENERAL FOR INVESTIGATIONS.
| OFFICE OF DEPUTY ASSISTANT INSPECTOR GENERAL FOR SURFACE TRANSPORTATION AUDITS | DEPUTY ASSISTANT INSPECTOR GENERAL FOR SURFACE TRANSPORTATION AUDITS. ASSISTANT INSPECTOR GENERAL FOR SURFACE TRANSPORTATION AUDITS.
| OFFICE OF DEPUTY INSPECTOR GENERAL | DEPUTY INSPECTOR GENERAL.
| OFFICE OF PRINCIPAL ASSISTANT INSPECTOR GENERAL FOR AUDITING AND EVALUATION | PRINCIPAL ASSISTANT INSPECTOR GENERAL FOR AUDITING AND EVALUATION (2). DEPUTY PRINCIPAL AIG FOR AUDITING AND EVALUATING.
| OFFICE OF PRINCIPAL ASSISTANT INSPECTOR GENERAL FOR INVESTIGATIONS | PRINCIPAL ASSISTANT INSPECTOR GENERAL FOR INVESTIGATIONS.
DEPARTMENT OF THE TREASURY | ALCOHOL AND TOBACCO TAX AND TRADE BUREAU | ADMINISTRATOR, ALCOHOL AND TOBACCO TAX AND TRADE BUREAU. DEPUTY ADMINISTRATOR, ALCOHOL AND TOBACCO TAX AND TRADE BUREAU.
|  | ASSISTANT ADMINISTRATOR INFORMATION RESOURCES/CHIEF INFORMATION OFFICER.
|  | ASSISTANT ADMINISTRATOR, HEADQUARTER OPERATIONS.
|  | ASSISTANT ADMINISTRATOR, MANAGEMENT/CHIEF FINANCIAL OFFICER.
|  | ASSISTANT ADMINISTRATOR, FIELD OPERATIONS.
|  | ASSISTANT ADMINISTRATOR, EXTERNAL AFFAIRS/CHIEF OF STAFF.
| ASSISTANT SECRETARY (TAX POLICY) | DIRECTOR, ECONOMIC MODELING AND COMPUTER APPLICATIONS.
| ASSISTANT SECRETARY FOR FINANCIAL INSTITUTIONS | DIRECTOR, FEDERAL INSURANCE OFFICE. DEPUTY DIRECTOR, FEDERAL INSURANCE OFFICE.
| ASSISTANT SECRETARY FOR FINANCIAL MARKETS | DIRECTOR, CAPITAL MARKETS.
| ASSISTANT SECRETARY FOR INTELLIGENCE AND ANALYSIS | DEPUTY ASSISTANT SECRETARY FOR SECURITY.
| ASSISTANT SECRETARY FOR MANAGEMENT | DIRECTOR OFFICE OF MINORITY AND WOMEN INCLUSION. DEPUTY CHIEF FINANCIAL OFFICER.
|  | DIRECTOR, OFFICE OF PROCUREMENT.
| ASSISTANT SECRETARY FOR TERRORIST FINANCING | DIRECTOR, EXECUTIVE OFFICE FOR ASSET FORFEITURE.
| BUREAU OF THE FISCAL SERVICE | ASSISTANT COMMISSIONER (FINANCING). EXECUTIVE DIRECTOR (ADMINISTRATIVE RESOURCE CENTER).
|  | EXECUTIVE DIRECTOR, GOVERNMENT SECURITIES REGULATIONS.
|  | DIRECTOR, REGIONAL FINANCIAL CENTER (SAN FRANCISCO).
|  | ASSISTANT COMMISSIONER, GOVERNMENTWIDE ACCOUNTING.
|  | DIRECTOR, REGIONAL FINANCIAL CENTER (PHILADELPHIA).
|  | DIRECTOR, REGIONAL FINANCIAL CENTER (KANSAS CITY).
|  | DEPUTY ASSISTANT COMMISSIONER FOR INFRASTRUCTURE AND OPERATIONS (OFFICE OF INFORMATION AND SECURITY SERVICES).
|  | ASSISTANT COMMISSIONER, FEDERAL FINANCE.
|  | DEPUTY COMMISSIONER, ACCOUNTING AND SHARED SERVICES.
|  | DEPUTY COMMISSIONER, FINANCE AND ADMINISTRATION.
|  | DIRECTOR, DEBT MANAGEMENT SERVICES OPERATIONS, WEST.
|  | DIRECTOR, REVENUE COLLECTION GROUP.
|  | DEPUTY ASSISTANT COMMISSIONER (DEBT MANAGEMENT SERVICES).
|  | DEPUTY ASSISTANT COMMISSIONER (SHARED SERVICES).
|  | COMMISSIONER, BUREAU OF THE FISCAL SERVICE.
|  | DEPUTY ASSISTANT COMMISSIONER (FISCAL ACCOUNTING OPERATIONS).
|  | ASSISTANT COMMISSIONER, MANAGEMENT (CHIEF FINANCIAL OFFICER).
|  | DEPUTY COMMISSIONER, FINANCIAL SERVICES AND OPERATIONS.
|  | DIRECTOR, DEBT MANAGEMENT SERVICES OPERATIONS, EAST.
|  | ASSISTANT COMMISSIONER, PAYMENT MANAGEMENT.
|  | EXECUTIVE DIRECTOR (MYRA).
|  | DEPUTY ASSISTANT COMMISSIONER FOR INFORMATION SERVICES.
|  | DEPUTY ASSISTANT COMMISSIONER, GOVERNMENTWIDE ACCOUNTING.
|  | ASSISTANT COMMISSIONER, INFORMATION AND SECURITY SERVICES (CHIEF INFORMATION OFFICER).
|  | ASSISTANT COMMISSIONER (OFFICE OF MANAGEMENT SERVICES).
|  | DIRECTOR, COMPLIANCE AND REPORTING GROUP.
|  | DEPUTY ASSISTANT COMMISSIONER FOR SECURITIES MANAGEMENT (TREASURY SECURITIES SERVICES).
|  | DEPUTY ASSISTANT COMMISSIONER, PAYMENT MANAGEMENT.
|  | EXECUTIVE DIRECTOR (DO NOT PAY BUSINESS CENTER STAFF).
|  | DEPUTY CHIEF INFORMATION OFFICER.
|  | DEPUTY ASSISTANT COMMISSIONER, COMPLIANCE AND REPORTING GROUP.
|  | ASSISTANT COMMISSIONER, DEBT MANAGEMENT SERVICES.
|  | ASSISTANT COMMISSIONER (PUBLIC DEBT ACCOUNTING).
|  | DEPUTY ASSISTANT COMMISSIONER FOR PROGRAM SOLUTIONS AND SUPPORT (TREASURY SECURITIES SERVICES).
| FINANCIAL CRIMES ENFORCEMENT NETWORK | DIRECTOR, FINANCIAL CRIMES ENFORCEMENT NETWORK. ASSOCIATE DIRECTOR, MANAGEMENT PROGRAMS DIVISION.
|  | CHIEF COUNSEL, FINANCIAL CRIMES ENFORCEMENT NETWORK.
|  | DEPUTY DIRECTOR.
|  | EXECUTIVE ADVISOR.
|  | ASSOCIATE DIRECTOR, POLICY DIVISION.
|  | ASSOCIATE DIRECTOR, LIAISON DIVISION.
|  | ASSOCIATE DIRECTOR, TECHNOLOGY SOLUTIONS AND SERVICES DIVISION/CHIEF INFORMATION OFFICER.
|  | ASSOCIATE DIRECTOR, INTELLIGENCE DIVISION.
|  | ASSOCIATE DIRECTOR, ENFORCEMENT DIVISION.
| FISCAL ASSISTANT SECRETARY | FISCAL ASSISTANT SECRETARY. DEPUTY ASSISTANT SECRETARY FOR FISCAL OPERATIONS AND POLICY.
|  | DEPUTY ASSISTANT SECRETARY (ACCOUNTING POLICY).
| GENERAL COUNSEL | SPECIAL COUNSEL ASSET FORFEITURE.
| INTERNAL REVENUE SERVICE | EXECUTIVE DIRECTOR, OFFICE OF EQUITY, DIVERSITY, AND INCLUSION. DIRECTOR OF RESEARCH.
|  | DIRECTOR OF COMPLIANCE, ATLANTA—WAGE AND INVESTMENT.
|  | DIRECTOR, HUMAN RESOURCES—SMALL BUSINESS AND SELF EMPLOYED.
|  | COMMISSIONER, TAX EXEMPT AND GOVERNMENT ENTITIES DIVISION.
|  | DEPUTY COMMISSIONER, LARGE AND MID-SIZE BUSINESS.
|  | DIRECTOR, GOVERNMENT ENTITIES.
|  | SPECIAL AGENT IN CHARGE, LOS ANGELES.
|  | CHIEF, APPEALS.
|  | DIRECTOR, FILING AND PREMIUM TAX CREDIT.
|  | DIRECTOR, INTERNATIONAL INDIVIDUAL COMPLIANCE.
|  | DIRECTOR, BUSINESS PLANNING AND RISK MANAGEMENT.
|  | DIRECTOR, PROGRAM STRATEGY AND INTEGRATION.
|  | DIRECTOR, DATA DELIVERY SERVICES.
|  | DIRECTOR, INTERNATIONAL DATA MANAGEMENT.
|  | DEPUTY CHIEF FINANCIAL OFFICER.
|  | COUNSELOR.
|  | DIRECTOR OF FIELD OPERATIONS.
|  | DIRECTOR, COMPLIANCE CAMPUS OPERATIONS.
|  | CHIEF FINANCIAL OFFICER, INTERNAL REVENUE SERVICE.
|  | SPECIAL AGENT IN CHARGE.
|  | DIRECTOR, HUMAN CAPITAL.
|  | AREA DIRECTOR, STAKEHOLDER, PARTNERSHIP, EDUCATION, AND COMMUNICATION.
|  | DIRECTOR, OFFICE OF PRIVACY, INFORMATION PROTECTION AND DATA SECURITY.
|  | DIRECTOR, COMMUNICATIONS AND STAKEHOLDER OUTREACH.
|  | DIRECTOR, EMPLOYEE PLANS.
|  | DIRECTOR, EMPLOYEE SUPPORT SERVICES.
|  | DEPUTY DIRECTOR, PROCUREMENT.
|  | DEPUTY NATIONAL TAXPAYER ADVOCATE.
|  | DIRECTOR, STATISTICS OF INCOME.
|  | DIRECTOR, COMPLIANCE STRATEGY AND POLICY.
|  | DIRECTOR, FIELD ASSISTANCE—WAGE AND INVESTMENT.
|  | DIRECTOR, SUBMISSION PROCESSING (CINCINNATI)—WAGE AND INVESTMENT.
|  | ACCOUNTS MANAGEMENT FIELD DIRECTOR, AUSTIN—WAGE AND INVESTMENT.
|  | COMMISSIONER, LARGE AND MID-SIZED BUSINESS DIVISION.
|  | DIRECTOR, CUSTOMER RELATIONSHIP AND INTEGRATION.
|  | DEPUTY CHIEF, CRIMINAL INVESTIGATION.
|  | DIRECTOR, FIELD OPERATIONS, COMMUNICATIONS, TECHNOLOGY AND MEDIA—NORTHWEST.
|  | DIRECTOR, OPERATIONS SERVICE SUPPORT.
|  | DIRECTOR, FIELD OPERATIONS, INTERNATIONAL BUSINESS COMPLIANCE.
|  | DEPUTY DIRECTOR, FACILITIES MANAGEMENT AND SECURITY SERVICES.
|  | DIRECTOR, DATA MANAGEMENT.
|  | DIRECTOR, STAKEHOLDER, PARTNERSHIP, EDUCATION AND COMMUNICATIONS.
|  | DEPUTY ASSOCIATE CHIEF INFORMATION OFFICER, ENTERPRISE OPERATIONS.
|  | DEPUTY CHIEF HUMAN CAPITAL OFFICER, INTERNAL REVENUE SERVICE.
|  | DIRECTOR, SPECIALTY PROGRAMS.
|  | DIRECTOR, COLLECTION.
|  | ACCOUNTS MANAGEMENT FIELD DIRECTOR.
|  | DIRECTOR, DATA MANAGEMENT.
|  | PROJECT DIRECTOR.
|  | DIRECTOR, ADVANCE PRICING AND MUTUAL AGREEMENT.
|  | DEPUTY COMMISSIONER, OPERATIONS SUPPORT.
|  | DEPUTY ASSOCIATE CHIEF INFORMATION OFFICER FOR ENTERPRISE SERVICES.
|  | DIRECTOR, CAMPUS COLLECTION FRESNO.
|  | DEPUTY ASSOCIATE CHIEF FINANCIAL OFFICER FOR FINANCIAL MANAGEMENT.
|  | CHIEF, CRIMINAL INVESTIGATION.
|  | DIRECTOR, NETWORK ENGINEERING.
|  | ACCOUNTS MANAGEMENT FIELD DIRECTOR.
|  | DIRECTOR, CAMPUS COMPLIANCE OPERATIONS.
|  | DIRECTOR, DEMAND MANAGEMENT AND PROJECT GOVERNANCE.
|  | FIELD DIRECTOR, COMPLIANCE SERVICES.
|  | DIRECTOR, ADVISORY, INSOLVENCY AND QUALITY.
|  | DIRECTOR, EXAMINATION MIDWEST AREA.
|  | DIRECTOR, BUSINESS SERVICES AND MANAGEMENT.
|  | ACCOUNTS MANAGEMENT FIELD DIRECTOR—ANDOVER.
|  | CHIEF, AGENCY-WIDE SHARED SERVICES.
|  | DIRECTOR, SERVICE DELIVERY MANAGEMENT.
|  | DIRECTOR, PORTAL PROGRAM MANAGEMENT.
|  | DIRECTOR, BUSINESS SYSTEMS PLANNING—LARGE AND MID-SIZE BUSINESS.
|  | DIRECTOR, COMMUNICATION, ASSISTANCE, RESEARCH AND EDUCATION.
|  | DIRECTOR, OPERATIONS POLICY AND SUPPORT.
|  | DIRECTOR, TAX EXEMPT BONDS.
|  | DIRECTOR, HUMAN RESOURCES—WAGE AND INVESTMENT.
|  | DIRECTOR, STRATEGY AND FINANCE—WAGE AND INVESTMENT.
|  | DIRECTOR, COLLECTION AREA.
|  | DEPUTY DIVISION COMMISSIONER, TAX EXEMPT AND GOVERNMENT ENTITIES.
|  | DIRECTOR, EXEMPT ORGANIZATIONS.
|  | DIRECTOR, TRANSFER PRICING OPERATIONS.
|  | DIRECTOR, DATA SOLUTIONS.
|  | DEPUTY DIRECTOR, SUBMISSION PROCESSING.
|  | DEPUTY DIVISION COUNSEL #2 (OPERATIONS)/SMALL BUSINESS AND SELF EMPLOYED.
|  | DIRECTOR OF FIELD OPERATIONS.
|  | DEPUTY CHIEF, APPEALS.
|  | DEPUTY COMMISSIONER, LARGE AND MID-SIZE BUSINESS, INTERNATIONAL.
|  | DEPUTY DIRECTOR, RETURN INTEGRITY AND CORRESPONDENCE SERVICES.
|  | DIRECTOR, ENTERPRISE COLLECTION STRATEGY.
|  | DIRECTOR, EXAMINATION—SPECIALTY TAX.
|  | DIRECTOR, BUSINESS MODERNIZATION.
|  | DIRECTOR, EXAMINATION—CENTRAL.
|  | DIRECTOR, OPERATIONS SUPPORT.
|  | DIRECTOR, STRATEGY AND FINANCE.
|  | DIRECTOR, BUSINESS PERFORMANCE SOLUTIONS.
|  | CHIEF, COMMUNICATIONS AND LIAISON.
|  | DIRECTOR, RESEARCH, APPLIED ANALYTICS AND STATISTICS.
|  | DIRECTOR, INTERNATIONAL OPERATIONS.
|  | DIRECTOR, OPERATIONS.
|  | AREA DIRECTOR, FIELD ASSISTANCE (AREA 2).
|  | ASSISTANT DEPUTY COMMISSIONER COMPLIANCE INTEGRATION.
|  | DIRECTOR, CAMPUS COLLECTION COMPLIANCE.
|  | DIRECTOR, ACCOUNTS MANAGEMENT, WAGE AND INVESTMENT.
|  | DIRECTOR, E-FILE SERVICES.
|  | DIRECTOR, IMPLEMENTATION AND TESTING.
|  | DIRECTOR, EXAMINATION—OGDEN.
|  | FIELD DIRECTOR, SUBMISSION PROCESSING.
|  | DIRECTOR, CAMPUS REPORTING COMPLIANCE.
|  | DIRECTOR, REFUNDABLE CREDITS EXAMINATION OPERATIONS.
|  | EXECUTIVE DIRECTOR, INVESTIGATIVE AND ENFORCEMENT SERVICES.
|  | DIRECTOR, CUSTOMER SERVICE.
|  | EXECUTIVE DIRECTOR, SYSTEMS ADVOCACY.
|  | DIRECTOR, BUSINESS REENGINEERING.
|  | FIELD DIRECTOR, ACCOUNTS MANAGEMENT.
|  | DIRECTOR, SERVICE PLANNING AND IMPROVEMENT.
|  | SUBMISSION PROCESSING FIELD DIRECTOR.
|  | DIRECTOR, HUMAN RESOURCES CUSTOMER SERVICE.
|  | DIRECTOR, RETAIL, FOOD, PHARMACEUTICAL, AND HEALTH CARE.
|  | DIRECTOR, COLLECTION AREA—CALIFORNIA.
|  | DIRECTOR, COLLECTION AREA.
|  | DEPUTY COMMISSIONER, SMALL BUSINESS/SELF-EMPLOYED.
|  | CHIEF, MANAGEMENT AND FINANCE—LARGE AND MID SIZE BUSINESS.
|  | CHIEF HUMAN CAPITAL OFFICER, INTERNAL REVENUE SERVICE.
|  | DIRECTOR, REAL ESTATE AND FACILITIES MANAGEMENT.
|  | DIRECTOR, CUSTOMER SERVICE SUPPORT.
|  | DIRECTOR, EXEMPT ORGANIZATIONS, RULINGS AND AGREEMENTS.
|  | COMMISSIONER, SMALL BUSINESS AND SELF EMPLOYED.
|  | DIRECTOR, PROCUREMENT.
|  | DIRECTOR, EVENT DRIVEN ARCHITECTURE.
|  | ASSOCIATE CHIEF FINANCIAL OFFICER FOR INTERNAL FINANCIAL MANAGEMENT—NATIONAL HEADQUARTERS.
|  | DIRECTOR, PRE-FILING AND TECHNICAL GUIDANCE.
|  | DIRECTOR, COLLECTION—FIELD.
|  | DIRECTOR, COLLECTION—CAMPUS.
|  | DIRECTOR, COLLECTION AREA.
|  | ASSOCIATE CHIEF INFORMATION OFFICER, END USER EQUIPMENT AND SERVICES.
|  | ASSOCIATE CHIEF FINANCIAL OFFICER, CORPORATE PLANNING AND INTERNAL CONTROL.
|  | DIRECTOR, BUSINESS RELATIONSHIP AND SERVICE DELIVERY.
|  | ASSOCIATE CHIEF INFORMATION OFFICER, ENTERPRISE INFORMATION TECHNOLOGY PROGRAM MANAGEMENT.
|  | COMMISSIONER, WAGE AND INVESTMENT.
|  | ASSISTANT DEPUTY COMMISSIONER FOR SERVICES AND ENFORCEMENT.
|  | DIRECTOR, EXAMINATION POLICY.
|  | DIRECTOR, OFFICE OF INFORMATION TECHNOLOGY ACQUISITION.
|  | DIRECTOR, COMMUNICATIONS, TECHNOLOGY AND MEDIA INDUSTRY—LARGE AND MID SIZE BUSINESS.
|  | DIRECTOR, TECHNICAL SERVICES.
|  | ASSOCIATE CHIEF INFORMATION OFFICER FOR ENTERPRISE OPERATIONS.
|  | DEPUTY DIRECTOR, ENTERPRISE OPERATIONS SERVICES.
|  | DIRECTOR, CUSTOMER SERVICE AND STAKEHOLDERS.
|  | PROJECT DIRECTOR, ENTERPRISE PROGRAM MANAGEMENT.
|  | DIRECTOR, MEDIA AND PUBLICATIONS.
|  | DIRECTOR, ENTERPRISE SYSTEMS TESTING.
|  | DIRECTOR, COLLECTION.
|  | PROJECT DIRECTOR.
|  | DIRECTOR, CAMPUS COMPLIANCE SERVICES.
|  | DIRECTOR, REAL ESTATE AND FACILITIES OPERATIONS.
|  | DIRECTOR, FIELD OPERATIONS.
|  | DIRECTOR, COLLECTION—QUALITY AND TECHNICAL SUPPORT.
|  | FIELD DIRECTOR, SUBMISSION PROCESSING—FRESNO.
|  | DIRECTOR, SOLUTION ENGINEERING.
|  | DIRECTOR, INTERNAL MANAGEMENT.
|  | DIRECTOR, CUSTOMER ACCOUNT SERVICES—WAGE AND INVESTMENT.
|  | DIRECTOR, COLLECTION AREA.
|  | DIRECTOR, TECHNICAL SERVICES.
|  | DIRECTOR, ONLINE SERVICES.
|  | DIRECTOR, COLLECTION—CENTRAL.
|  | INDUSTRY DIRECTOR, NATURAL RESOURCES AND CONSTRUCTION.
|  | DIRECTOR, WORKFORCE PROGRESSION AND MANAGEMENT.
|  | DIRECTOR, SHARED SUPPORT.
|  | DIRECTOR, FACILITIES MANAGEMENT AND SEC SERVICES.
|  | DIRECTOR, EXAMINATION AREA.
|  | FIELD DIRECTOR, COMPLIANCE SERVICES (ATLANTA).
|  | ACCOUNTS MANAGEMENT FIELD DIRECTOR.
|  | DEPUTY CHIEF INFORMATION OFFICER FOR OPERATIONS.
|  | DEPUTY ASSOCIATE CHIEF INFORMATION OFFICER FOR APPLICATIONS.
|  | DIRECTOR, EXAMINATION AREA (2).
|  | DIRECTOR, AFFORDABLE CARE ACT.
|  | DIRECTOR, REPORTING COMPLIANCE.
|  | EXECUTIVE DIRECTOR, CASE ADVOCACY INTAKE AND TECHNICAL SUPPORT.
|  | DIRECTOR, BUSINESS SYSTEMS PLANNING.
|  | DIRECTOR, EQUAL EMPLOYMENT OPPORTUNITY AND DIVERSITY.
|  | ASSISTANT DEPUTY COMMISSIONER FOR SERVICES AND ENFORCEMENT.
|  | NATIONAL DIRECTOR LEGISLATIVE AFFAIRS.
|  | DIRECTOR, INTERNET DEVELOPMENT SERVICES.
|  | DIRECTOR, EXAMINATION AREA.
|  | DIRECTOR, PASS THROUGH ENTITIES.
|  | DIRECTOR, CASE AND OPERATIONS SUPPORT.
|  | ASSOCIATE CHIEF INFORMATION OFFICER, CYBERSECURITY.
|  | DEPUTY DIRECTOR, SUBMISSION PROCESSING (2).
|  | DIRECTOR, FIELD OPERATIONS, RETAILERS, FOOD, TRANSPORTATION AND HEALTHCARE—EAST.
|  | AREA DIRECTOR, FIELD ASSISTANCE.
|  | DIRECTOR, EXAMINATION AREA.
|  | DIRECTOR, CAMPUS OPERATIONS.
|  | DIRECTOR, EXAMINATION AREA MIDWEST.
|  | DIRECTOR, WHISTLEBLOWER OFFICE.
|  | DIRECTOR, LARGE SYSTEMS AND STORAGE INFRASTRUCTURE DIVISION.
|  | DIRECTOR, RETURN PREPARER OFFICE.
|  | DIRECTOR, EXAMINATION—CAMPUS.
|  | DIRECTOR, RETURN INTEGRITY AND COMPLIANCE SERVICES.
|  | DIRECTOR, CAMPUS COMPLIANCE OPERATIONS.
|  | DIRECTOR, IMPLEMENTATION OVERSIGHT.
|  | DIRECTOR, TECHNOLOGY SOLUTIONS.
|  | DIRECTOR, TAX FORMS AND PUBLICATIONS.
|  | DEPUTY COMMISSIONER (DOMESTIC), LARGE BUSINESS AND INTERNATIONAL.
|  | DIRECTOR, GLOBAL HIGH WEALTH INDUSTRY.
|  | DIRECTOR, FILING AND PAYMENT COMPLIANCE.
|  | DIRECTOR, SPECIALIZED EXAMINATION PROGRAMS AND REFERRALS.
|  | DIRECTOR, ABUSIVE TRANSACTIONS AND TECHNICAL ISSUES.
|  | DIRECTOR, CONTACT CENTER SUPPORT DIVISION.
|  | DEPUTY DIRECTOR, ACCOUNTS MANAGEMENT.
|  | DIRECTOR, ENTERPRISE ACTIVITIES.
|  | DIRECTOR, EXAMINATION PLANNING AND DELIVERY.
|  | DIRECTOR, JOINT OPERATIONS CENTER.
|  | DIRECTOR, COLLECTION AREA.
|  | DIRECTOR, EMPLOYEE PLANS, RULINGS, AND AGREEMENTS.
|  | DIRECTOR, EXAMINATION FIELD.
|  | DIRECTOR, COLLECTION—ATLANTA.
|  | ACCOUNTS MANAGEMENT FIELD DIRECTOR.
|  | DIRECTOR, KNOWLEDGE DEVELOPMENT AND APPLICATION.
|  | DIRECTOR, MAINFRAME SUPPORT AND SERVICES.
|  | DIRECTOR, STRATEGY AND FINANCE, APPEALS.
|  | DIRECTOR, INTERNATIONAL BUSINESS COMPLIANCE.
|  | CHIEF RISK OFFICER AND SENIOR ADVISOR.
|  | DIRECTOR, FIELD OPERATIONS, NATURAL RESOURCES AND CONSTRUCTION—WEST.
|  | DIRECTOR, E-FILE SERVICES.
|  | DEPUTY ASSOCIATE CHIEF INFORMATION OFFICER FOR APPLICATIONS DEVELOPMENT.
|  | DIRECTOR, EXAMINATION—GULF STATES.
|  | DIRECTOR, PRIVACY AND INFORMATION PROTECTION.
|  | DIRECTOR OF FIELD OPERATIONS, HEAVY MANUFACTURING AND PHARMACEUTICALS, SOUTHEAST.
|  | DIRECTOR, EXAMINATION AREA.
|  | DIRECTOR, DATA STRATEGY IMPLEMENTATION.
|  | DIRECTOR, CYBERSECURITY POLICY AND PROGRAMS.
|  | DEPUTY COMMISSIONER, WAGE AND INVESTMENTS.
|  | DIRECTOR, REFUNDABLE CREDITS POLICY AND PROGRAM MANAGEMENT.
|  | DIRECTOR, CAMPUS COMPLIANCE OPERATIONS.
|  | PROJECT DIRECTOR (2).
|  | DIRECTOR, MODERNIZATION, DEVELOPMENT AND DELIVERY.
|  | EXECUTIVE DIRECTOR, BUSINESS MODERNIZATION.
|  | DIRECTOR, FIELD OPERATIONS, ENGINEERING.
|  | DIRECTOR, SUBMISSION PROCESSING.
|  | DIRECTOR, CORPORATE DATA.
|  | DIRECTOR, INFORMATION TECHNOLOGY SECURITY ENGINEERING.
|  | DIRECTOR, SERVER SUPPORT & SERVICES.
|  | DIRECTOR, PORTFOLIO CONTROL AND PERFORMANCE.
|  | INDUSTRY DIRECTOR—FINANCIAL SERVICES—LARGE AND MID SIZE BUSINESS.
|  | DEPUTY DIRECTOR, RESEARCH, ANALYSIS, AND STATISTICS.
|  | BUSINESS MODERNIZATION EXECUTIVE.
|  | DEPUTY CHIEF OF STAFF.
|  | SPECIAL ASSISTANT TO THE CHIEF, APPEALS.
|  | DEPUTY CHIEF PROCUREMENT OFFICER.
|  | DIRECTOR, COLLECTION STRATEGY AND ORGANIZATION.
|  | AREA DIRECTOR, STAKEHOLDER PARTNERSHIP, EDUCATION, AND COMMUNICATION.
|  | DEPUTY DIRECTOR (CONTENT DEVELOPMENT), PRE-FILING & TECHNICAL GUIDANCE.
|  | DIRECTOR, FILING AND PAYMENT COMPLIANCE.
|  | DIRECTOR, EXAMINATION HEADQUARTERS.
|  | DIRECTOR, COLLECTION—HEADQUARTERS.
|  | DIRECTOR, IDENTITY THEFT VICTIM ASSISTANCE.
|  | DIRECTOR, FIELD OPERATIONS, RETAIL FOOD, PHARMACEUTICALS, AND HEALTHCARE—WEST.
|  | DIRECTOR, STRATEGY AND FINANCE.
|  | SPECIAL AGENT IN CHARGE.
|  | SPECIAL AGENT IN CHARGE—CRIMINAL INVESTIGATION.
|  | DIRECTOR OF FIELD OPERATIONS, NORTH CENTRAL.
|  | ACCOUNTS MANAGEMENT FIELD DIRECTOR.
|  | DEPUTY DIRECTOR, RETURN PREPARER OFFICE.
|  | CHIEF INFORMATION OFFICER.
|  | DIRECTOR, DATA MANAGEMENT SERVICES AND SUPPORT.
|  | DIRECTOR, EXAMINATION LEGISLATIVE PROGRAM.
|  | EXECUTIVE DIRECTOR, INVESTIGATIVE AND ENFORCEMENT OPERATIONS.
|  | DIRECTOR, MICROSOFT INITIATIVES PROGRAM.
|  | DIRECTOR, REPORTING COMPLIANCE.
|  | DEPUTY DIRECTOR, RESEARCH, ANALYSIS AND STATS.
|  | PROJECT DIRECTOR.
|  | AREA DIRECTOR, FIELD ASSISTANCE.
|  | ASSOCIATE CHIEF INFORMATION OFFICER, STRATEGY AND PLANNING.
|  | AREA DIRECTOR, FIELD ASSISTANCE—ATLANTA.
|  | DIRECTOR, CORPORATE ISSUES AND CREDITS.
|  | DIRECTOR, EMERGENCY MANAGEMENT PROGRAMS.
|  | IRS IDENTITY ASSURANCE EXECUTIVE.
|  | DIRECTOR, OPERATIONS SUPPORT.
|  | PROJECT DIRECTOR.
|  | DIRECTOR, PRODUCT MANAGEMENT.
|  | SPECIAL ASSISTANT.
|  | DIRECTOR, INFRASTRUCTURE SERVICES.
|  | DIRECTOR, COLLECTION POLICY.
|  | COMPLIANCE SERVICES FIELD DIRECTOR.
|  | DIRECTOR, STRATEGY, RESEARCH AND PROGRAM PLANNING.
|  | DIRECTOR, RESEARCH.
|  | DEPUTY ASSOCIATE CHIEF INFORMATION OFFICER FOR ENTERPRISE NETWORKS.
|  | DEPUTY DIRECTOR, OFFICE OF PROFESSIONAL RESPONSIBILITY OPERATIONS.
|  | DIRECTOR, FIELD OPERATIONS EAST.
|  | DIRECTOR, ADVANCED PRICING AND MUTUAL AGREEMENT.
|  | DIRECTOR, FOREIGN ACCOUNT TAX COMPLIANCE ACT—PROGRAM MANAGEMENT OFFICE.
|  | SUBMISSION PROCESSING FIELD DIRECTOR.
|  | DIRECTOR, FIELD OPERATIONS EAST.
|  | PROJECT DIRECTOR.
|  | DIRECTOR, ENTERPRISE NETWORKS OPERATIONS.
|  | DIRECTOR, OFFICE OF COMMUNICATIONS.
|  | DIRECTOR, ENTERPRISE NETWORKS OPERATIONS.
|  | DIRECTOR, MANAGEMENT SERVICES.
|  | DIRECTOR, REFUND CRIMES.
|  | DIRECTOR, COLLECTION AREA, GULF STATES.
|  | DEPUTY CHIEF INFORMATION OFFICER FOR STRATEGY/MODERNIZATION.
|  | ASSISTANT DEPUTY COMMISSIONER (INTERNATIONAL).
|  | DIRECTOR, EXAMINATION AREA—NORTH ATLANTIC.
|  | DIRECTOR, EMERGING PROGRAMS AND INITIATIVES.
|  | SENIOR DIRECTOR FOR OPERATIONS, AFFORDABLE CARE ACT.
|  | PROJECT DIRECTOR, CUSTOMER ACCOUNT DATA ENGINE.
|  | DEPUTY ASSOCIATE CHIEF INFORMATION OFFICER FOR CYBERSECURITY.
|  | DIRECTOR, STRATEGIC SUPPLIER MANAGEMENT.
|  | AREA DIRECTOR, STAKEHOLDER PARTNERSHIP, EDUCATION, AND COMMUNICATION.
|  | DIRECTOR, RESEARCH AND ORGANIZATIONAL.
|  | DIRECTOR, ENTERPRISE TECHNOLOGY IMPLEMENTATION.
|  | ASSOCIATE CHIEF INFORMATION OFFICER FOR USER AND NETWORK SERVICES.
|  | DIRECTOR, OFFICE OF PROFESSIONAL RESPONSIBILITY.
|  | DIRECTOR, FILING SEASON INTEGRATION.
|  | CHIEF OF STAFF.
|  | DIRECTOR, EXEMPT ORGANIZATIONS EXAMINATION.
|  | DEPUTY DIRECTOR, SUBMISSION PROCESSING.
|  | DIRECTOR, COLLECTION AREA—GULF STATE.
|  | ASSISTANT CHIEF INFORMATION OFFICER, AFFORDABLE CARE ACT PROGRAM MANAGEMENT OFFICE.
|  | DIRECTOR, APPEALS POLICY AND VALUATION.
|  | CHIEF, AGENCY-WIDE SHARED SERVICES.
|  | DIRECTOR, DETROIT PROGRAM MANAGEMENT OFFICE.
|  | ASSOCIATE CHIEF INFORMATION OFFICER FOR APPLICATIONS DEVELOPMENT.
|  | PROGRAM MANAGER.
|  | DIRECTOR, EXAMINATION SOUTHWEST AREA.
|  | DIRECTOR, COLLECTION—ANDOVER.
|  | DEPUTY DIRECTOR, STRATEGY AND FINANCE.
|  | DEPUTY DIRECTOR, ENTERPRISE COMPUTING CENTER.
|  | DIRECTOR, COLLECTION APPEALS.
|  | DIRECTOR, FINANCIAL MANAGEMENT SERVICES.
|  | DIRECTOR, UNIFIED COMMUNICATIONS.
|  | ASSISTANT DEPUTY COMMISSIONER GOVERNMENT ENTITIES AND SHARED SERVICES.
|  | DIRECTOR, SERVICEWIDE OPERATIONS.
| INTERNAL REVENUE SERVICE CHIEF COUNSEL | ASSISTANT CHIEF COUNSEL (INTERNATIONAL) (LITIGATION). DEPUTY ASSOCIATE CHIEF COUNSEL (PROCEDURE AND ADMINISTRATION).
|  | DIVISION COUNSEL (WAGE AND INVESTMENT).
|  | DEPUTY DIVISION COUNSEL/DEPUTY ASSISTANT CHIEF COUNSEL (CRIMINAL TAX).
|  | DEPUTY ASSOCIATE CHIEF COUNSEL (GENERAL LEGAL SERVICES).
|  | ASSISTANT CHIEF COUNSEL (DISCLOSURE AND PRIVACY LAW).
|  | AREA COUNSEL (SMALL BUSINESS AND SELF EMPLOYED) (AREA 7).
|  | AREA COUNSEL (SMALL BUSINESS AND SELF EMPLOYED)—LOS ANGELES.
|  | DEPUTY ASSOCIATE CHIEF COUNSEL (GENERAL LEGAL SERVICES) (LABOR AND PERSONNEL LAW).
|  | AREA COUNSEL (SMALL BUSINESS AND SELF EMPLOYED)—PHILADELPHIA.
|  | SPECIAL COUNSEL TO THE CHIEF COUNSEL.
|  | AREA COUNSEL (SMALL BUSINESS AND SELF EMPLOYED)—CHICAGO.
|  | AREA COUNSEL (SMALL BUSINESS AND SELF EMPLOYED)—NEW YORK.
|  | DEPUTY DIVISION COUNSEL (SMALL BUSINESS AND SELF EMPLOYED).
|  | DIVISION COUNSEL (LARGE AND MID-SIZE BUSINESS).
|  | DIVISION COUNSEL (SMALL BUSINESS AND SELF EMPLOYED).
|  | DEPUTY ASSOCIATE CHIEF COUNSEL (INTERNATIONAL FIELD SERVICE AND LITIGATION).
|  | DEPUTY ASSOCIATE CHIEF COUNSEL (CORPORATE).
|  | ASSOCIATE CHIEF COUNSEL (FINANCIAL INSTITUTIONS AND PRODUCTS).
|  | AREA COUNSEL (LARGE BUSINESS AND INTERNATIONAL) (AREA 1).
|  | DEPUTY ASSOCIATE CHIEF COUNSEL (PASSTHROUGHS AND SPECIAL INDUSTRIES).
|  | DEPUTY TO THE SPECIAL COUNSEL TO THE CHIEF COUNSEL.
|  | ASSOCIATE CHIEF COUNSEL (PROCEDURE AND ADMINISTRATION).
|  | ASSOCIATE CHIEF COUNSEL (PASSTHROUGHS AND SPECIAL INDUSTRIES).
|  | ASSOCIATE CHIEF COUNSEL (CORPORATE).
|  | DEPUTY ASSOCIATE CHIEF COUNSEL (FINANCE AND MANAGEMENT).
|  | AREA COUNSEL (LARGE AND MID SIZE BUSINESS) (AREA 2) (HEAVY MANUFACTURING, CONSTRUCTION AND TRANSPORTATION).
|  | SPECIAL COUNSEL TO THE NATIONAL TAXPAYER ADVOCATE.
|  | DEPUTY ASSOCIATE CHIEF COUNSEL (INTERNATIONAL TECHNICAL).
|  | ASSOCIATE CHIEF COUNSEL (GENERAL LEGAL SERVICES).
|  | AREA COUNSEL (LARGE BUSINESS AND INTERNATIONAL).
|  | AREA COUNSEL (SMALL BUSINESS AND SELF EMPLOYED)—JACKSONVILLE.
|  | DEPUTY DIVISION COUNSEL/DEPUTY ASSOCIATE CHIEF COUNSEL (TAX EXEMPT AND GOVERNMENT ENTITIES).
|  | DEPUTY ASSOCIATE CHIEF COUNSEL (PROCEDURE AND ADMINISTRATION).
|  | DEPUTY DIVISION COUNSEL (LARGE AND MID-SIZE BUSINESS).
|  | DEPUTY CHIEF COUNSEL (TECHNICAL).
|  | AREA COUNSEL (SMALL BUSINESS AND SELF EMPLOYED).
|  | DEPUTY ASSOCIATE CHIEF COUNSEL (INCOME TAX AND ACCOUNTING).
|  | DEPUTY DIVISION COUNSEL AND DEPUTY ASSOCIATE CHIEF COUNSEL (TAX EXEMPT AND GOVERNMENT ENTITIES).
|  | AREA COUNSEL, LARGE AND MID SIZE BUSINESS (AREA 3) (FOOD, MASS RETAILERS, AND PHARMACEUTICALS).
|  | ASSOCIATE CHIEF COUNSEL (INTERNATIONAL).
|  | DIVISION COUNSEL (TAX EXEMPT AND GOVERNMENT ENTITIES) DC.
|  | ASSOCIATE CHIEF COUNSEL (FINANCE AND MANAGEMENT).
|  | HEALTHCARE COUNSEL (OFFICE OF HEALTHCARE).
|  | DEPUTY ASSOCIATE CHIEF COUNSEL (FINANCIAL INSTITUTIONS AND PRODUCTS).
|  | DIVISION COUNSEL/ASSOCIATE CHIEF COUNSEL (TAX EXEMPT AND GOVERNMENT ENTITIES).
|  | DEPUTY ASSOCIATE CHIEF COUNSEL, TRANSFER PRICING AND INTERNATIONAL PROGRAMS.
|  | DEPUTY CHIEF COUNSEL (OPERATIONS).
|  | DEPUTY DIVISION COUNSEL/DEPUTY ASSOCIATE CHIEF COUNSEL.
|  | ASSOCIATE CHIEF COUNSEL (INCOME TAX AND ACCOUNTING).
|  | DEPUTY DIVISION COUNSEL (TECHNICAL), LARGE BUSINESS AND INTERNATIONAL.
|  | ASSOCIATE CHIEF COUNSEL (TAX EXEMPT AND GOVERNMENT ENTITIES).
|  | AREA COUNSEL (LARGE AND MID SIZE BUSINESS)(AREA 4)(NATURAL RESOURCES).
|  | AREA COUNSEL (SMALL BUSINESS AND SELF EMPLOYED)—DENVER.
|  | AREA COUNSEL, SMALL BUSINESS AND SELF EMPLOYED, AREA 9.
|  | DIVISION COUNSEL/ASSOCIATE CHIEF COUNSEL (CRIMINAL TAX).
| SECRETARY OF THE TREASURY | DIRECTOR, OFFICE OF SMALL AND DISADVANTAGED BUSINESS UTILIZATION.
| UNDER SECRETARY FOR DOMESTIC FINANCE | DIRECTOR OF POLICY.
| UNITED STATES MINT | ASSOCIATE DIRECTOR FOR INFORMATION TECHNOLOGY (CHIEF INFORMATION OFFICER). PLANT MANAGER.
|  | PLANT MANAGER, PHILADELPHIA.
|  | ASSOCIATE DIRECTOR FOR MANUFACTURING.
|  | ASSOCIATE DIRECTOR, ENVIRONMENT, SAFETY AND HEALTH.
|  | ASSOCIATE DIRECTOR FOR WORKFORCE SOLUTIONS.
|  | ASSOCIATE DIRECTOR FOR NUMISMATICS.
|  | DEPUTY DIRECTOR FOR MANAGEMENT.
|  | ASSOCIATE DIRECTOR FOR FINANCIAL MANAGEMENT/CHIEF FINANCIAL OFFICER.
|  | DIRECTOR, OFFICE OF COIN STUDIES.
DEPARTMENT OF THE TREASURY OFFICE OF THE INSPECTOR GENERAL | IMMEDIATE OFFICE | DEPUTY INSPECTOR GENERAL. SPECIAL DEPUTY INSPECTOR GENERAL FOR SMALL BUSINESS LENDING FUND.
| OFFICE OF AUDIT | DEPUTY ASSISTANT INSPECTOR GENERAL FOR AUDIT (FINANCIAL MANAGEMENT). ASSISTANT INSPECTOR GENERAL FOR AUDIT.
|  | DEPUTY ASSISTANT INSPECTOR GENERAL FOR AUDIT (PROGRAM AUDITS).
|  | DEPUTY ASSISTANT INSPECTOR GENERAL FOR AUDIT (FINANCIAL SECTOR AUDITS).
|  | ASSISTANT INSPECTOR GENERAL FOR AUDIT.
|  | DEPUTY ASSISTANT INSPECTOR GENERAL FOR AUDIT (FIN MGMT & TRANSPARENCY AUDIT.
| OFFICE OF COUNSEL | COUNSEL TO THE INSPECTOR GENERAL.
| OFFICE OF INVESTIGATIONS | DEPUTY ASSISTANT INSPECTOR GENERAL FOR INVESTIGATIONS. ASSISTANT INSPECTOR GENERAL FOR INVESTIGATIONS.
|  | DEPUTY ASSISTANT INSPECTOR GENERAL FOR INVESTIGATIONS.
| OFFICE OF MANAGEMENT | ASSISTANT INSPECTOR GENERAL FOR MANAGEMENT.
DEPARTMENT OF THE TREASURY SPECIAL INSPECTOR GENERAL FOR THE TROUBLED ASSET RELIEF PROGRAM |  | DEPUTY SPECIAL INSPECTOR GENERAL, INVESTIGATIONS.
|  | DEPUTY SPECIAL INSPECTOR GENERAL AUDIT. DEPUTY SPECIAL INSPECTOR GENERAL OPERATIONS. GENERAL COUNSEL FOR SIGTARP. ASSISTANT DEPUTY SPECIAL INSPECTOR GENERAL FOR AUDIT AND EVALUATION.
|  | ASSISTANT DEPUTY SPECIAL INSPECTOR GENERAL FOR INVESTIGATIONS.
|  | CHIEF INVESTIGATIVE COUNSEL.
DEPARTMENT OF THE TREASURY TAX ADMINISTRATION OFFICE OF THE INSPECTOR GENERAL | DEPARTMENT OF THE TREASURY TAX ADMINISTRATION OFFICE OF THE INSPECTOR GENERAL | DEPUTY INSPECTOR GENERAL FOR AUDIT. ASSISTANT INSPECTOR GENERAL FOR AUDIT, MANAGEMENT SERVICES AND EXEMPT ORGANIZATIONS.
|  | ASSISTANT INSPECTOR GENERAL FOR AUDIT, SECURITY AND INFORMATION TECHNOLOGY SERVICES.
|  | ASSISTANT INSPECTOR GENERAL FOR AUDIT (MANAGEMENT, PLANNING & WORKFORCE DEVELOPMENT).
|  | ASSISTANT INSPECTOR GENERAL FOR AUDIT, RETURNS PROCESSING AND ACCOUNTING SERVICES.
|  | DEPUTY INSPECTOR GENERAL FOR INVESTIGATIONS.
|  | CHIEF COUNSEL.
|  | DEPUTY INSPECTOR GENERAL FOR MISSION SUPPORT.
|  | PRINCIPAL DEPUTY INSPECTOR GENERAL.
|  | DEPUTY INSPECTOR GENERAL FOR INSPECTIONS AND EVALUATIONS.
|  | ASSISTANT INSPECTOR GENERAL FOR INVESTIGATIONS—FIELD.
|  | ASSISTANT INSPECTOR GENERAL FOR INVESTIGATIONS—HEADQUARTERS.
|  | ASSISTANT INSPECTOR GENERAL FOR AUDIT, COMPLIANCE AND ENFORCEMENT OPERATIONS.
|  | CHIEF INFORMATION OFFICER.
|  | DEPUTY ASSISTANT INSPECTOR GENERAL FOR INVESTIGATIONS—FIELD.
|  | DEPUTY COUNSEL TO THE INSPECTOR GENERAL.
|  | ASSISTANT INSPECTOR GENERAL FOR INVESTIGATIONS—HEADQUARTERS.
UNITED STATES AGENCY FOR INTERNATIONAL DEVELOPMENT | BUREAU FOR DEMOCRACY, CONFLICT, AND HUMANITARIAN ASSISTANCE | DEPUTY DIRECTOR, OFFICE OF FOREIGN DISASTER ASSISTANCE.
| BUREAU FOR ECONOMIC GROWTH, EDUCATION AND ENVIRONMENT | DIRECTOR.
| BUREAU FOR MANAGEMENT | DEPUTY ASSISTANT ADMINISTRATOR. DIRECTOR, OFFICE OF MANAGEMENT, POLICY, BUDGET AND PERFORMANCE.
|  | DEPUTY DIRECTOR, ACCOUNTABILITY, COMPLIANCE, TRANSPARENCY AND SYSTEM SUPPORT.
|  | CHIEF INFORMATION OFFICER.
|  | CHIEF FINANCIAL OFFICER.
|  | DEPUTY CHIEF FINANCIAL OFFICER.
|  | DEPUTY DIRECTOR, OFFICE OF ADMINISTRATIVE ASSISTANT OPERATIONS.
|  | DEPUTY ASSISTANT ADMINISTRATOR.
| HUMAN CAPITAL TALENT MANAGEMENT | CHIEF HUMAN CAPITAL OFFICER. DEPUTY CHIEF HUMAN CAPITAL OFFICER.
| OFFICE OF BUDGET AND RESOURCE MANAGEMENT | DIRECTOR, BUDGET AND RESOURCE MANAGEMENT.
| OFFICE OF SECURITY | DIRECTOR, OFFICE OF SECURITY.
| OFFICE OF SMALL AND DISADVANTAGED BUSINESS UTILIZATION | DIRECTOR, OFFICE OF SMALL AND DISADVANTAGE BUSINESS UTILIZATION.
| OFFICE OF THE GENERAL COUNSEL | DEPUTY GENERAL COUNSEL.
|  | ASSISTANT GENERAL COUNSEL, CHIEF INNOVATION COUNSEL.
|  | ASSISTANT GENERAL COUNSEL, ETHICS AND ADMINISTRATION.
UNITED STATES AGENCY FOR INTERNATIONAL DEVELOPMENT OFFICE OF THE INSPECTOR GENERAL |  | DEPUTY INSPECTOR GENERAL. COUNSELOR TO THE INSPECTOR GENERAL. DEPUTY ASSISTANT INSPECTOR GENERAL FOR AUDIT (2). ASSISTANT INSPECTOR GENERAL FOR MANAGEMENT.
|  | ASSISTANT INSPECTOR GENERAL FOR INVESTIGATIONS.
|  | DEPUTY ASSISTANT INSPECTOR GENERAL FOR INVESTIGATIONS.
|  | ASSISTANT INSPECTOR GENERAL FOR AUDIT.
|  | DEPUTY ASSISTANT INSPECTOR GENERAL FOR MANAGEMENT.
UNITED STATES INTERNATIONAL TRADE COMMISSION | OFFICE OF EXTERNAL RELATIONS | DIRECTOR, OFFICE OF EXTERNAL RELATIONS.
| OFFICE OF INDUSTRIES | DIRECTOR OF OFFICE OF INDUSTRIES
| OFFICE OF INVESTIGATIONS | DIRECTOR, OFFICE OF INVESTIGATIONS.
| OFFICE OF THE INSPECTOR GENERAL | INSPECTOR GENERAL.
DEPARTMENT OF VETERANS AFFAIRS | BOARD OF VETERANS' APPEALS | VICE CHAIRMAN. PRINCIPAL DEPUTY VICE CHAIRMAN.
|  | DIRECTOR, MANAGEMENT, PLANNING AND ANALYSIS.
|  | DEPUTY VICE CHAIRMAN (2).
| MEDICAL CENTER DIRECTORS | MEDICAL CENTER DIRECTOR (ADVISORY).
| NATIONAL CEMETERY ADMINISTRATION | DEPUTY UNDER SECRETARY FOR FINANCE AND PLANNING/CHIEF FINANCIAL OFFICER.
| OFFICE OF ACQUISITION AND MATERIEL MANAGEMENT | DEPUTY ASSISTANT SECRETARY FOR ACQUISITION AND MATERIEL MANAGEMENT. EXECUTIVE DIRECTOR, OFFICE OF ACQUISITION OPERATIONS.
|  | ASSOCIATE DEPUTY ASSISTANT SECRETARY FOR ACQUISITION PROGRAM SUPPORT.
|  | EXECUTIVE DIRECTOR NATIONAL ACQUISITION CENTER.
|  | EXECUTIVE DIRECTOR, CENTER FOR ACQUISITION INNOVATION.
| OFFICE OF ACQUISITIONS, LOGISTICS AND CONSTRUCTION | ASSOCIATE CHIEF FACILITIES MANAGEMENT OFFICER FOR STRATEGIC MANAGEMENT. ASSOCIATE EXECUTIVE DIRECTOR, OFFICE OF OPERATIONS.
|  | ASSOCIATE CHIEF FACILITIES MANAGEMENT OFFICER FOR RESOURCE MANAGEMENT.
|  | EXECUTIVE DIRECTOR, CONSTRUCTION AND FACILITIES MANAGEMENT.
|  | EXECUTIVE DIRECTOR (2).
|  | DIRECTOR, FACILITIES ACQUISITION SUPPORT.
|  | DIRECTOR, FACILITIES, PROGRAMS, AND PLANS.
|  | ASSOCIATE EXECUTIVE DIRECTOR, STRATEGIC ACQUISITION CENTER.
| OFFICE OF ASSET ENTERPRISE MANAGEMENT | DEPUTY DIRECTOR, ASSET ENTERPRISE MANAGEMENT.
| OFFICE OF BUSINESS OVERSIGHT | DIRECTOR, OFFICE OF BUSINESS OVERSIGHT.
| OFFICE OF CORPORATE SENIOR EXECUTIVE MANAGEMENT | EXECUTIVE DIRECTOR.
| OFFICE OF EMERGENCY MANAGEMENT | DEPUTY ASSISTANT SECRETARY FOR EMERGENCY MANAGEMENT.
| OFFICE OF FINANCE | DEPUTY ASSISTANT SECRETARY FOR FINANCE. ASSOCIATE DEPUTY ASSISTANT SECRETARY FOR FINANCIAL BUSINESS OPERATIONS.
|  | DIRECTOR, FINANCIAL SERVICES CENTER.
|  | DIRECTOR, DEBT MANAGEMENT CENTER.
|  | ASSOCIATE DEPUTY ASSISTANT SECRETARY FOR FINANCE.
| OFFICE OF HUMAN RESOURCES MANAGEMENT | ASSOCIATE DEPUTY ASSISTANT SECRETARY FOR HUMAN RESOURCES MANAGEMENT POLICY.
| OFFICE OF OPERATIONS, SECURITY AND PREPAREDNESS | DIRECTOR FOR SECURITY AND LAW ENFORCEMENT.
| OFFICE OF THE ASSISTANT SECRETARY FOR INFORMATION AND TECHNOLOGY | EXECUTIVE DIRECTOR (ENTERPRISE OPERATIONS). ASSOCIATE DEPUTY ASSISTANT SECRETARY FOR SECURITY OPERATIONS.
|  | EXECUTIVE DIRECTOR, BUDGET AND FINANCE.
|  | DEPUTY CHIEF INFORMATION OFFICER FOR INFORMATION SECURITY.
|  | EXECUTIVE DIRECTOR, PRIVACY.
|  | CHIEF FINANCIAL OFFICER.
|  | EXECUTIVE DIRECTOR FOR QUALITY AND PERFORMANCE.
|  | EXECUTIVE DIRECTOR, IT ACQUISITION STRATEGY, VENDOR RELATIONSHIP AND FACILITIES MANAGEMENT.
|  | EXECUTIVE DIRECTOR, FIELD SECURITY SERVICE.
| OFFICE OF THE ASSISTANT SECRETARY FOR MANAGEMENT | PRINCIPAL DEPUTY ASSISTANT SECRETARY FOR MANAGEMENT.
| OFFICE OF THE GENERAL COUNSEL | REGIONAL COUNSEL (19). DEPUTY GENERAL COUNSEL, LEGAL POLICY.
|  | DEPUTY GENERAL COUNSEL, LEGAL OPERATIONS.
|  | EXECUTIVE DIRECTOR, MANAGEMENT PLANNING AND ANALYSIS.
|  | SENIOR ADVISOR (STRATEGIC PLANNING).
|  | COUNSELOR TO THE GENERAL COUNSEL/DIRECTOR OFFICE OF ACCOUNTABILITY REVIEW.
|  | CHIEF COUNSEL, PERSONNEL LAW GROUP.
|  | EXECUTIVE DIRECTOR, OFFICE OF ACCOUNTABILITY REVIEW.
|  | CHIEF COUNSEL.
|  | DEPUTY GENERAL COUNSEL LEGAL OPERATIONS AND ACCOUNTABILITY.
|  | CHIEF COUNSEL (8).
|  | CHIEF COUNSEL REAL PROPERTY LAW GROUP.
|  | CHIEF COUNSEL COLLECTIONS NATIONAL PRACTICE GROUP.
|  | CHIEF COUNSEL, INFORMATION LAW GROUP.
| OFFICE OF THE SECRETARY AND DEPUTY | DIRECTOR, OFFICE OF EMPLOYMENT DISCRIMINATION COMPLAINT ADJUDICATION. EXECUTIVE DIRECTOR.
| VETERANS BENEFITS ADMINISTRATION | DEPUTY CHIEF FINANCIAL OFFICER. DEPUTY DIRECTOR FOR POLICY AND PROCEDURES.
|  | CHIEF FINANCIAL OFFICER.
|  | DEPUTY DIRECTOR FOR OPERATIONS.
|  | EXECUTIVE DIRECTOR VETERANS CANTEEN SERVICE.
|  | CHIEF FINANCIAL OFFICER.
|  | CHIEF COMPLIANCE AND BUSINESS INTEGRITY OFFICER.
|  | DEPUTY CHIEF FINANCIAL OFFICER.
|  | CHIEF OPERATING OFFICER VETERANS CANTEEN SERVICE.
|  | ASSOCIATE CHIEF FINANCIAL OFFICER.
|  | CHIEF PROCUREMENT AND LOGISTICS OFFICER.
|  | ASSOCIATE CHIEF FINANCIAL OFFICER FOR MANAGERIAL COST ACCOUNTING.
|  | DEPUTY CHIEF PROCUREMENT OFFICER.
|  | DIRECTOR, SERVICE AREA OFFICE (EAST).
|  | DIRECTOR SERVICE AREA OFFICE (CENTRAL).
|  | DIRECTOR, SERVICE AREA OFFICE (WEST).
|  | ASSOCIATE CHIEF FINANCIAL OFFICER, FINANCIAL MANAGEMENT AND ACCOUNTING SYSTEMS.
DEPARTMENT OF VETERANS AFFAIRS OFFICE OF THE INSPECTOR GENERAL | IMMEDIATE OFFICE OF THE INSPECTOR GENERAL | DEPUTY INSPECTOR GENERAL. COUNSELOR TO THE INSPECTOR GENERAL.
|  | CHIEF OF STAFF FOR HEALTHCARE OVERSIGHT INTEGRATION.
|  | DEPUTY COUNSELOR TO THE INSPECTOR GENERAL.
| OFFICE OF THE ASSISTANT INSPECTOR GENERAL FOR AUDITS AND EVALUATIONS | ASSISTANT INSPECTOR GENERAL FOR AUDITS AND EVALUATIONS. DEPUTY ASSISTANT INSPECTOR GENERAL FOR AUDITS AND EVALUATIONS (FIELD OPERATIONS) (2).
|  | DEPUTY ASSISTANT INSPECTOR GENERAL FOR AUDITS AND EVALUATIONS (HEADQUARTERS MANAGEMENT AND INSPECTIONS).
| OFFICE OF THE ASSISTANT INSPECTOR GENERAL FOR HEALTHCARE INSPECTIONS | ASSISTANT INSPECTOR GENERAL FOR HEALTHCARE INSPECTIONS.
|  | DEPUTY ASSISTANT INSPECTOR GENERAL FOR HEALTHCARE INSPECTIONS.
|  | DEPUTY ASSISTANT INSPECTOR GENERAL FOR HEALTHCARE INSPECTIONS (CLINICAL CONSULTATION).
| OFFICE OF THE ASSISTANT INSPECTOR GENERAL FOR INVESTIGATIONS | ASSISTANT INSPECTOR GENERAL FOR INVESTIGATIONS. DEPUTY INSPECTOR GENERAL FOR INVESTIGATIONS (FIELD OPERATIONS).
|  | DEPUTY ASSISTANT INSPECTOR GENERAL FOR INVESTIGATIONS (HEADQUARTERS OPERATIONS).
| OFFICE OF THE ASSISTANT INSPECTOR GENERAL FOR MANAGEMENT AND ADMINISTRATION | ASSISTANT INSPECTOR GENERAL FOR MANAGEMENT AND ADMINISTRATION. DEPUTY ASSISTANT INSPECTOR GENERAL FOR MANAGEMENT AND ADMINISTRATION.

Authority: 5 U.S.C. 3132.

U.S. Office of Personnel Management.
Kathleen M. McGettigan,
Acting Director.

[FR Doc. 2017-24852 Filed 11-17-17; 8:45 am]

BILLING CODE 6325-39-P